DEPARTMENT OF LABOR

Office of the Secretary

Privacy Act of 1974; Publication in Full of All Notices of Systems of Records, Including Several New Systems, Substantive Amendments to Existing Systems, Decommissioning of Obsolete Legacy Systems, and Publication of Proposed Routines Uses

AGENCY: Office of the Secretary, Labor.

ACTION: Notice: Publication In Full of All Notices of Systems of Records, including several new systems; substantive amendments to systems; decommissioning of obsolete legacy systems; and publication of new universal routine uses for all system of records.

SUMMARY: This notice provides a complete publication of all Department of Labor Systems of Records. This notice proposes two new universal routine uses to the systems. This notice will update our last complete publication in full which appeared in the Federal Register on April 8, 2002. In addition to the 21 new systems which are being published for the first time, the notice proposes substantive and nonsubstantive amendments to 108 other systems that have been previously published. The notice also deletes 43 systems. Changes to the systems are summarized in the introductory portion of the Supplementary Information section.

DATES: Persons wishing to comment on the changes set out in this notice may do so on or before June 8, 2016.

Effective Date: Unless there is a further notice in the Federal Register, these proposed 21 new systems of records and 108 amended systems of records and decommissioned 43 existing systems of records, as well as the two new routine uses, will become effective on June 23, 2016.

FOR FURTHER INFORMATION CONTACT: Written comments may be sent to Joseph J. Plick, Counsel for FOIA and Information Law, Office of the Solicitor, Department of Labor, 200 Constitution Avenue NW., Room N-2420, Washington, DC 20210, telephone (202) 693-5527, or by email to plick.joseph@dol.gov.

SUPPLEMENTARY INFORMATION:

1. Background

Pursuant to the Privacy Act of 1974 (5 U.S.C. 552a(e)(4)), hereinafter referred to as the Act, on April 8, 2002, in Volume 67 at Page 16816 of the Federal Register, the Department published a notice of 147 systems of records maintained under the Act. In February 2003, a new system of records was published on behalf of the Office of the 21st Century Workforce, entitled DOL/21st CENTURY-1, Correspondents with the Office of the 21st Century Workforce, which appeared at 68 FR 6185 (February 6, 2003). Additionally, in September 2003, the Department amended two existing systems of records, which appear at 68 FR 54012 (September 15, 2003).

On January 11, 2012, the Department published five new and five amended systems of records, which appears at 77 FR 1728 (January 11, 2012). In 2014 the Department published a notice of the addition of five new SORNs, amendment of nine existing SORNs and decommissioning of five SORNs, which appears at 79 FR 8489 (February 12, 2014). The Notice became effective on April 8, 2014. Finally on July 6, 2015 the Department published a SORN for DOL/VETS-5, Veterans' Data Exchange Initiative (VDEI). This system contains records related to Exiting Service Members (ESMs) participating in the United States Department of Defense (DOD) Pre-separation Counseling of the Transition Assistance Program. The Notice became effective on August 31, 2015.

2. The Current Action

Pursuant to section three of the Privacy Act of 1974 (5 U.S.C. 552a(e)(4), the Department hereby publishes an updated consolidated publication in full for all 129 systems of records, including 21 new systems; 108 amended systems; and 43 decommissioned systems. A chart listing all of the actions the Department has taken with regards to its systems of records is attached as Appendix A to this notice. This notice also proposes two new universal routine uses to be added to the Department's current list of 12 universal routine uses, making a total of 14 universal routine uses. These universal routine uses apply across the board to all of the Department's system of records.

A. New Universal Routine Uses

1. The first proposed new Universal Routine Use to the General Prefatory Statement (new Universal Routine Use #13) permits the Department to disclose information to a State or local government that has legal authority to make decisions about the issuance, retention and revocation of licenses, certifications or registrations of law practitioners and health care professionals.

2. The second proposed new Universal Routine Use to the General Prefatory Statement (new Universal Routine Use #14) permits the Department to disclose information to the United States Department of Justice (DOJ) and the Federal Bureau of Investigation (FBI) that will be included in the National Instant Criminal Background Check System (NICS).

B. Proposed Decommissioned Systems

The Department proposes to decommission 43 legacy systems of records. The decommissioned systems are listed in the Notice of Decommissioned Systems of Records, Section E below. Notably, the Department proposes to decommission a group of legacy systems entitled Employment Standards Administration (ESA), because that agency no longer exists due to a Departmental reorganization. The ESA legacy systems will be renamed as a system that relates to each of the constituent parts of the former ESA agency namely, The Office of Workers' Compensation Programs (OWCP), The Wage and Hour Division (WHD), The Office of Federal Contract Compliance Programs (OFCCP), and The Office of Labor-Management Standards (OLMS). Additionally, the Department proses to decommission a second group of legacy systems entitled Pension and Welfare Benefits Administration (PWBA). Several of the former PWBA systems will be renamed as an Employee Benefits Security Administration (EBSA) system.

C. Proposed New Systems

1. The first proposed new system is entitled DOL/CENTRAL-7, DOL Employee Conduct Investigation Files. This system contains information related to records of employee(s) misconduct or violations of law such as, investigative report(s), sworn affidavits, written statements, time and attendance records, earnings and leave statements, applications for leave.

2. The second proposed new system is entitled DOL/EBSA-1, The Employment Retirement Income Security Act of 1974 (ERISA), Filing and Acceptance System 2-One Participant Plans Filing a Form 5500SF. This system contains records related to information contained on all fields of the Form 5500SF form.

3. The third proposed new system is entitled DOL/EBSA-11, ERISA Filing and Acceptance System Internet Registration Database (IREG). This system contains records of personally identifiable information of individual filers.

4. The fourth proposed new system is entitled DOL/EBSA-12, Delinquent Filer Voluntary Compliance Program (DFVC) Tracking System; Delinquent Filer Voluntary Compliance Program 99. This system contains records of the plan name, plan administrator's name, service provider's name, and trustee's name involved in the DFVC programs, among other things.

5. The fifth proposed new system is entitled DOL/EBSA-13, OCA Case Tracking System. This system contains paper and electronic records of individuals involved in investigations and enforcement actions.

6. The sixth proposed new system is entitled DOL/EBSA-14, Office of Health Plans Standards and Compliance Assistance (OHPSCA) Case Tracking System. This system contains records of personally identifiable information of requestors.

7. The seventh proposed new system is entitled DOL/EBSA-15, Fee Disclosure Failure Notice Database. This system contains records of plan name, fiduciary's name, and service provider's name relating to contracts and arrangements between plans and service providers.

8. The eighth proposed new system is entitled DOL/ETA-30, DOL Employment and Training Administration (ETA) Evaluation, Research, Pilot or Demonstration Contractors' Project Files. This system contains records related to Workforce Investment Act and Workforce Innovation and Opportunities Act participants' personally identifiable information, characteristics of program participants, description of program activities, and services received by participants, among other things, obtained after the completion of the program.

9. The ninth proposed new system is entitled DOL/ETA-31, The Enterprise Business Support System (EBSS). This system contains records related to initial requests under the Workforce Investment Act and its successor statutes, responses, and related documents.

10. The tenth proposed new system is entitled DOL/ETA-32, Contract Officer Files. This system contains records of the names, job title, qualifications and other human resource information relating to contracting officers or other contracting personnel.

11. The eleventh proposed new system is entitled DOL/OASAM-37, Personal Identity Verification Credential. This system contains records related to personally identifiable information such as names, birth date, and social security numbers of federal employees, contractors, students and other individuals who require ongoing access to Federal facilities, information technology systems of information classified in the interest of national security.

12. The twelfth proposed new system is entitled DOL/OIG-6, Hotline and Complaints Analysis Files. This system contains records of complaints and allegations of waste, fraud, abuse and violations of the law or other authorities.

13. The thirteenth proposed new system is entitled OIG-7, Correspondence Tracking System. This system contains records of correspondence to and from the OIG.

14. The fourteenth proposed new system is entitled DOL/OIG-8, Office of Inspector General (OIG) Employee Credential System. This system contains personally identifiable information related to the credentials of all DOL personnel.

15. The fifteenth proposed new system is entitled DOL/OIG-9, OIG Property Tracking Systems. This system contains records related to OIG owned and leased property, and the employees that are assigned such property.

16. The sixteenth proposed new system is entitled DOL/OIG-10, Office of Inspector General (OIG) Pre-employment Checks and Inquiries (PECI) System. This system contains records related to pre-employment clearance forms and reports filed individuals, and federal and other law enforcement records related to background checks.

17. The seventeenth proposed new system is entitled DOL/OIG-11, Investigative Files Case Tracking System, Case Development and Intelligence Records, USDOL/OIG. This system contains records related to individuals associated with OIG investigative operations and activities.

18. The eighteenth proposed new system is entitled DOL/SOL-18, Matter Management System. This system contains records related to pending and active litigation, opinion and advice, and regulation review legal services provided to support DOL and its component agencies.

19. The nineteenth proposed new system is entitled DOL/SOL-19, Evidence Management System. This system contains individuals, government or organizations records related to pleadings, court records, witness statements or other documents that may be filed with or obtained by DOL.

20. The twentieth proposed new system is entitled DOL/VETS-5, Veterans' Data Exchange Initiative (VDEI). This system contains records related to Exiting Service Members (ESMs) participating in the United States Department of Defense (DOD) Pre-separation Counseling of the Transition Assistance Program.

21. The twenty-first proposed new system is entitled DOL/VETS-6, Veterans' Case Management System (VCMS). This system contains records related to USERRA, VP, and the TAP Employment Workshop.

D. Proposed Amended Systems

22. The first proposed amended system of records is entitled DOL/GOVT-1, Office of Workers' Compensation Programs, Federal Employees' Compensation Act File. The Department proposes to amend this system to update the System Location, Categories of Records in the System, and the Routine Uses of Records Maintained in the System.

23. The second proposed amended system of records is entitled DOL/GOVT-2, Job Corps Students Records. The Department proposes to amend this system to amend one routine use and to update the Policies and Practices for Storing, Retrieving, Accessing, Retaining and Disposing of Records, Notification Procedures, and Records Access, and several other categories.

24. The third proposed amended system of records is entitled DOL/CENTRAL-1, Correspondents with the Department of Labor. The Department proposes to amend this system to refine several of the categories.

25. The fourth proposed amended system of records is entitled DOL/CENTRAL-2, Registrants for Department of Labor Events and Activities. The Department proposes to amend this system to update the Retention and Disposal section, and several other categories.

26. The fifth proposed amended system of records is entitled DOL/CENTRAL-3, Internal Investigations of Harassing Conduct. The Department proposes to amend this system to update the System Name, Security Classification, Categories of Individuals Covered by the System, and several other categories.

27. The sixth proposed amended system of records is entitled DOL/CENTRAL-4, Department of Labor Advisory Committee Members Files. The Department proposes to amend this system to update the Notification Procedure, Record Access Procedure, Contesting Record Procedure, and several other categories.

28. The seventh proposed amended system of records is DOL/CENTRAL-5, Privacy Act/Freedom of Information Act Request Files. The Department proposes to amend this system to update the System Number, Routine Uses of Records Maintained in the System, Policies and Practices for Storing, Retrieving, Accessing, Retaining and Disposing of Records, Notification Procedures, and several other categories.

29. The eighth proposed amended system of records is DOL/CENTRAL-6, Supervisor's/Team Leader's Records of Employees. The Department proposes to amend this system to update the System Number, Policies and Practices for Storing, Retrieving, Accessing, Retaining and Disposing of Records, Notification Procedures, and several other categories.

30. The ninth proposed amended system of records is entitled DOL/ADJBDS-1, DOL Appeals Management System (AMS). The Department proposes to amend this system to update the Authority for Maintenance of the System section.

31. The tenth proposed amended system of records is entitled DOL/BLS-3, Staff Time Utilization System. The Department proposes to amend this system to update the System Name, System Location, Categories of Individuals Covered by the System, Purposes, and several other categories.

32. The eleventh proposed amended system of records is entitled DOL/BLS-8, Automated Training Request Application (ATRA). The Department proposes to amend this system to update the Categories of Records in the System, Purposes, System Manager(s) and Address, and several other categories.

33. The twelfth proposed amended system of records is entitled DOL/BLS-9, Routine Administrative Files. The Department proposes to amend this system to update the Categories of Records in the System, Purposes, Policies and Practices for Storing, Retrieving, Accessing, Retaining, and Disposing, and several other categories.

34. The thirteenth proposed amended system of records is entitled DOL/BLS-10, Commissioner's Correspondence Control System. The Department proposes to amend this system to update the System Location, Categories of Individuals Covered by the System, Authority for Maintenance of the System, and several other categories.

35. The fourteenth proposed amended system of records is entitled DOL/BLS-11, Mainframe User ID Database. The Department proposes to amend this system to update the System Location, Purpose, and Policies and Practices for Storing, Retrieving, Accessing, Retaining, and Disposing of Records in the System, and several other categories.

36. The fifteenth proposed amended system of records is entitled DOL/BLS-13, National Longitudinal Survey of Youth 1979 (NLSY79) Database. The Department proposes to amend this system to update the System Location, Categories of Individuals Covered by the System, Categories of Records in the System, and several other categories.

37. The sixteenth proposed amended system of records is entitled DOL/BLS-14, BLS Behavioral Science Research Laboratory Project Files. The Department proposes to amend this system to update the System Location, Policies and Practices for Storing, Retrieving Accessing, Retaining, and Disposing of the Records in the System, and several other categories.

38. The seventeenth proposed amended system of records is entitled DOL/BLS-17, National Longitudinal Survey of Youth 1997 (NLSY97) Database. The Department proposes to amend this system to update the System Location, Categories of Records in the System, Retention and Disposal and several other categories.

39. The eighteenth proposed amended system of records is entitled DOL/BLS-18, Postal Square Building Parking Management Records. The Department proposes to amend this system to update the System Location, Purposes, Routine Uses of records in the System, and several other categories.

40. The nineteenth proposed amended system of records is entitled DOL/BLS-19, Customer Information Files. The Department proposes to amend this system to update the Categories of Individuals Covered by the System, Purposes, and Policies and Practices for storing, Retrieving, Accessing, Retaining, and Disposing of Records in the System, along with several other categories.

41. The twentieth proposed amended system of records is entitled DOL/BLS-20, Fellowship Applicants and Recipients Files. The Department proposes to amend this to update the Retrievability, Safeguards, Retention and Disposal, and several other categories.

42. The twenty-first proposed amended system of records is entitled DOL/EBSA-2, EBSA Correspondence. The Department proposes to amend this to update the Authority for Maintenance of the System, Retention and Disposal, Notification Procedure, and several other categories.

43. The twenty-second proposed amended system is entitled DOL/EBSA-3, Technical Assistance and Inquiries System. The Department proposes to amend this to update the System Number, Authority for Maintenance of the System, Retention and Disposal, Notification Procedure, and several other categories.

44. The twenty-third proposed amended system is entitled DOL/EBSA-4, Public Disclosure Request Tracking System. The Department proposes to amend this to update the System Number, System Location, Authority for the Maintenance of the System, Purposes, and several other categories.

45. The twenty-fourth proposed amended system is entitled DOL/EBSA-5, EBSA Debt Management System. The Department proposes to amend this to update the System Number, Security Classification, System Location, and Policies and Practices for Storing, Retrieving, Accessing, Retaining and Disposing of Records categories.

46. The twenty-fifth proposed amended system is entitled DOL/EBSA-6, EBSA Consolidated Training Record. The Department proposes to amend this to update the System Number, Policies and Practices for Storing, Retrieving, Accessing, Retaining and Disposing of Records, Notification Procedures category.

47. The twenty-sixth proposed amended system is entitled DOL/EBSA-7, Office of Enforcement Correspondence Tracking System DFO CTS. The Department proposes to amend this to update the System Number, Authority for the Maintenance of the System, Policies and Practices for Storing, Retrieving, Accessing, Retaining and Disposing of Records, Notification Procedures, and several other categories.

48. The twenty-seventh proposed amended system is entitled DOL/EBSA-8, EBSA Enforcement Management System (electronic); EBSA Civil Litigation Case Tracking System (paper); EBSA Criminal Case Information System (paper). The Department proposes to amend this to update the System Number, Security Classification, Authority for the Maintenance of the System, Policies and Practices for Storing, Retrieving, Accessing, Retaining and Disposing of Records, Routine Uses, Notification Procedures, and several other categories.

49. The twenty-eighth proposed amended system is entitled DOL/EBSA-9, Office of Exemption Determinations (OED) ERISA Section 502(1) Files; OED Case Tracking System. The Department proposes to amend this to update the System Number, Security Classification, Authority for the Maintenance of the System, and Policies and Practices for Storing, Retrieving, Accessing, Retaining and Disposing of Records, and Notification Procedures categories.

50. The twenty-ninth proposed amended system is entitled DOL/EBSA-10, Form 5500EZ Filings. The Department proposes to amend this to update the System Number, Authority for the Maintenance of the System, Purposes, and Policies and Practices for Storing, Retrieving, Accessing, Retaining and Disposing of Records, and Notification Procedures categories.

51. The thirtieth proposed amended system of records is entitled DOL/EBSA-11, ERISA Filing and Acceptance System 2 Internet Registration Database (IREG). The Department proposes to amend this to update the System Number, Authority for the Maintenance of the System, Purposes, and Policies and Practices for Storing, Retrieving, Accessing, Retaining and Disposing of Records, Routine Uses, Notification Procedures, and several other categories.

52. The thirty-first proposed amended system of records is entitled DOL/EBSA-12, Delinquent Filer Voluntary Compliance Program (DFVC) Tracking System; Delinquent Filer Voluntary Compliance Program 99. The Department proposes to amend this to update the Authority for Maintenance of the System, Retention and Disposal, Notification Procedure, and several other categories.

53. The thirty-second proposed amended system of records is entitled DOL/EBSA-13, OCA Case Tracking System. The Department proposes to amend this to update the Authority for Maintenance of the System, Retention and Disposal, Notification Procedure, and several other categories.

54. The thirty-third proposed amended system of records is entitled DOL/EBSA-14, Office of Health Plans Standards and Compliance Assistance (OHPSCA) Case Tracking System. The Department proposes to amend this to update the Authority for Maintenance of the System, Retention and Disposal, Notification Procedure, and several other categories.

55. The thirty-fourth proposed amended system of records is entitled DOL/EBSA-15, Fee Disclosure Failure Notice Database. The Department proposes to amend this to update the Authority for Maintenance of the System, Retention and Disposal, Notification Procedure, and several other categories.

56. The thirty-fifth proposed amended system of records is entitled DOL/OMBUDSMAN-1, Office of the Ombudsman for the Energy Employees Occupational Illness Compensation Program Act (EEOICPA) File. The Department proposes to amend this system to update the Routine Uses of Records Maintained in the System category.

57. The thirty-sixth proposed amended system of records is entitled DOL/ETA-1, Office of Apprenticeship, Budget and Position Control Files. The Department proposes to amend this system to update the System Name, System Location, and several other categories.

58. The thirty-seventh proposed amended system of records is entitled DOL/ETA-4, Registered Apprenticeship Partners Information Data System (RAPIDS). The Department proposes to amend this system to update the System Name, System Location, Routine Uses, and several other categories.

59. The thirty-eighth proposed amended system of records is entitled DOL/ETA-7, Employer Labor Certification System and Employer Application Case Files. The Department proposes to amend this system to update the System Name, System Location, Categories of Individuals Covered by the System, Categories of Records in the System, Routine Uses, and several other categories.

60. The thirty-ninth proposed amended system of records is entitled DOL/ETA-8, Job Corps Student Pay, Allotment and Management Information System (SPAMIS). The Department proposes to amend this system to update the System Location, Routine Uses, and several other categories.

61. The fortieth proposed amended system of records is entitled DOL/ETA-16, Employment and Training Administration Investigation File. The Department proposes to amend this system to update the System Location, Categories of Individuals covered by the System, and several other categories.

62. The forty-first proposed amended system of records is entitled DOL/ETA-20, Federal Bonding Program, Bondees Certification Files. The Department proposes to amend this system to update the System Location, Categories of Individuals Covered by the System, Authority for Maintenance of the System, and several other categories.

63. The forty-second proposed amended system of records is entitled DOL/ETA-24, Grant Officer Files. The Department proposes to amend this system to update the System Name, System Location, Categories of Individuals Covered by the System, and several other categories.

64. The forty-third proposed amended system of records is entitled DOL/ETA-29, National Agricultural Workers Survey (NAWS) Research Files. The Department proposes to amend this system to update the Security Classification, Authority for Maintenance of the System, Policies and Practices for Storing, Retrieving, Accessing, Retaining and Disposing of Records, Notification Procedures, and several other categories.

65. The forty-fourth proposed amended system of records is entitled DOL/MSHA-1, Mine Safety and Health Administration Standard Information System (MSIS). The Department proposes to amend this system by renaming the system and migrating eight other systems of records to this system. MSIS is an umbrella information system in which some but not all records are covered under the Privacy Act. MSIS provides centralized access to records already covered by nine current systems of records: DOL/MSHA-1, MSHA-3, MSHA-10, MSHA-13, MSHA-15, MSHA-18, MSHA-20, MSHA-21, and MSHA-24. This notice consolidates these nine systems under a single SORN. This SORN describes the records within MSIS that are covered under the Privacy Act. The Department also proposes to amend this system notice to update the System Location and Categories of Records in the System, among other amendments specific to particular categories of MSIS records.

66. The forty-fifth proposed amended system of records is entitled DOL/MSHA-22, Educational Policy and Development; National Mine Health and Safety Academy Permanent Record Card or Student Information System. The Department proposes to amend this system to update the System Name, Security Classification, Policies and Practices for Storing, Retrieving, Accessing, Retaining and Disposing Section, Notification Procedure, and several other categories.

67. The forty-sixth proposed amended system of records is entitled DOL/MSHA-23, Educational Policy and Development Activity Reporting System. The Department proposes to amend this system to update the System Name, System Location, Categories of Records in the System, and several other categories.

68. The forty-seventh proposed amended system of records is entitled DOL/OALJ-1, Office of Administrative Law Judges Case Tracking System. The Department proposes to amend this system to update the System Name, Authority for Maintenance of the System, and several other categories.

69. The forty-eighth proposed amended system of records is entitled DOL/OALJ-2, Office of the Administrative Law Judges Case Files. The Department proposes to amend this system to update the Authority for Maintenance of the System, Retention and Disposal, and several other categories.

70. The forty-ninth proposed amended system of records is entitled DOL/OASAM-4, Safety and Health Information Management System (SHIMS). The Department proposes to amend this system to update the System Name, System Location, Categories of Individuals Covered by the System, Authority for Maintenance of the System, and several other categories.

71. The fiftieth proposed amended system of records is entitled DOL/OASAM-5, Employee Assistance Program (EAP) Records. The Department proposes to amend this system to update the System Name, System Location, Categories of Records in the System, Authority for Maintenance of the System, and several other categories.

72. The fifty-first proposed amended system of records is entitled DOL/OASAM-7, Employee Medical File System Records (Not Job Related). The Department proposes to amend this system to update the System Name and Routine Uses sections.

73. The fifty-second proposed amended system of records entitled DOL/OASAM-12, Administrative Grievance Records. The Department proposes to amend this system to update the System Location and Categories of Individuals Covered by the System sections.

74. The fifty-third proposed amended system of records entitled DOL/OASAM-19, Negotiated Grievance Procedure and Unfair Labor Practice Files. The Department proposes to amend this system to update the Categories of Individuals Covered by the System and Categories of Records in the System sections.

75. The fifty-fourth proposed amended system of records is entitled DOL/OASAM-20, Personnel Investigation Records. The Department proposes to amend this system to update the System Location, Retrievability and Safeguards Sections, Disclosure to Consumer Reporting Agencies, and several other categories.

76. The fifty-fifth proposed amended system of records is entitled DOL/OASAM-22, Civil Rights Center Discrimination Complaint Case Files. The Department proposes to amend this system to update the System Name, Categories of Individuals Covered by the System, Purpose(s), Routine Uses of Records Maintained in the System sections, Authority for Maintenance of the System, and several other categories.

77. The fifty-sixth proposed amended system of records is entitled DOL/OASAM-25, Intergovernmental Personnel Act Assignment Records. The Department proposes to amend this system to update the Categories of Individuals Covered by the System, Disclosure to Consumer Reporting Agencies, Policies and Practices for Storing, Retrieving, Accessing, Retaining and Disposing of Records in the System, and several other categories.

78. The fifty-seventh proposed amended system of records is entitled DOL/OASAM-26, Frances Perkins Building Parking Management System. The Department proposes to amend this system to update the Policies and Practices for Storing, Retrieving, Accessing, Retaining and Disposing of Records in the System Section.

79. The fifty-eighth proposed amended system of records is entitled DOL/OASAM-27, Employee/Contractor/Visitor Identification System. The Department proposes to amend this system to update the System Name, System Location, Categories of Individuals, Categories of Records in the System, the System Manager, and several other categories.

80. The fifty-ninth proposed amended system of records is entitled DOL/OASAM-28, Incident Report/Restriction Notice. The Department proposes to amend this system to update the System Location, Categories of Individuals and Policies and Practices for Storing, Retrieving, Accessing, Retaining and Disposing of Records. In addition, the System Manager, and several other categories are proposed to be refined.

81. The sixtieth proposed amended system of records is entitled DOL/OASAM-29, OASAM Employee Administrative Investigation File. The Department proposes to amend this system to update the System Location, Categories of Individuals, Policies and Practices for Storing, Retrieving, Accessing, Retaining and Disposing of Records, the System Manager, and several other categories.

82. The sixty-first proposed amended system of records is entitled DOL/OASAM-30, Injury Compensation System (ICS). The Department proposes to amend this system to update the System Location, Authority for Maintenance of the System, and several other categories.

83. The sixty-second proposed amended system of records is entitled DOL/OASAM-31, DOL Flexible Workplace Programs Evaluation and Files. The Department proposes to amend this system to update the System Name, Categories of Individuals Covered by the System.

84. The sixty-third proposed amended system of records is entitled DOL/OASAM-32, Transit Subsidy Management System. The Department proposes to amend this system to update the Policies and Practices for Storing, Retrieving, Accessing, Retaining and Disposing of Records section.

85. The sixty-fourth proposed amended system of records is entitled DOL/OASAM-34, DOL Fitness Association (DOLFA) Membership Files. The Department proposes to amend this system to update the Policies and Practices for Storing, Retrieving, Accessing, Retaining and Disposing of Records in the System, Notification Procedures, Record Access Procedure, and other categories.

86. The sixty-fifth proposed amended system of records is entitled DOL/OASAM-35, DOL Childcare Subsidy Programs Records. The Department proposes to amend this system to update the System Manager's Name and Address, and Policies and Practices for Storing, Retrieving, Accessing, Retaining and Disposing of Records sections.

87. The sixty-sixth proposed amended system of records is entitled DOL/OCFO-2, New Core Financial Management System (NCFMS). The Department proposes to amend this system to update the Categories of Individuals Covered by the System, Categories of Records in the System, Authority for Maintenance of the System, and several other categories.

88. The sixty-seventh proposed amended system of records is entitled DOL/OCFO-3, Travel and Transportation System. The Department proposes to amend this system to update Policies and Practices for Storing, Retrieving, Accessing, Retaining, and Disposing of Records in the System, Notification Procedure, Records Access Procedure, Contesting Record Procedure, and several other categories.

89. The sixty-eighth proposed amended system of records is entitled DOL/ODEP-1, Job Accommodation Network (JAN) Files. The Department proposes to amend this system to update the Policies and Practices for Storing, Retrieving, Accessing, Retaining, and Disposing of Records in the System category.

90. The sixty-ninth proposed amended system is entitled DOL/OFCCP-1, Office of Federal Contract Compliance Programs, Executive Management Information System (OFCCP/EIS) which includes the Case Management System (CMS), and the Time Reporting Information System (TRIS). The Department proposes to amend this system to update the System Number, Security Classification, Categories of Individuals Covered by the System, and Policies and Practices for Storing, Retrieving, Accessing, Retaining, and Disposing of Records categories.

91. The seventieth proposed amended system is entitled DOL/OFCCP-2, Office of Federal Contract Compliance Programs Complaint Case Files. The Department proposes to amend this system to update the System Number, Security Classification, Routine Uses of records Maintained in the System, and Policies and Practices for Storing, Retrieving, Accessing, Retaining, and Disposing of Records, and several other categories.

92. The seventy-first proposed amended system of records is entitled DOL/OIG-2, Freedom of Information/Privacy Acts Records. The Department proposes to amend this system to update the System Number and refine several categories.

93. The seventy-second proposed amended system of records is entitled DOL/OIG-5, Audit Information Reporting Team Tech Tracking Systems. The Department proposes to amend this system to update the System Number, Security Classification, and Policies and Practices for Storing, Retrieving, Accessing, Retaining, and Disposing of Records categories.

94. The seventy-third proposed amended system is entitled DOL/OLMS-1, Investigative Files of the Office of Labor-Management Standards. The Department proposes to amend this system to update the System Number, Routine Uses of Records Maintained in the System, Policies and Practices for Storing, Retrieving, Accessing, Retaining, and Disposing of Records, and several other categories.

95. The seventy-fourth proposed amended system is entitled DOL/OLMS-2, OLMS Public Disclosure Request Tracking System. The Department proposes to amend this system to update the System Number, System Location, Policies and Practices for Storing, Retrieving, Accessing, Retaining, and Disposing of Records, and several other categories.

96. The seventy-fifth proposed amended system of records is entitled DOL/OSHA-1, Retaliation Complaint Files. The Department proposes to amend this system to update the System Name, Categories of Individuals Covered by the System, Authority for Maintenance of the System, System Location, and several other categories.

97. The seventy-sixth proposed amended system of records is entitled DOL/OSHA-9, OSHA Compliance Safety and Health Officer Training Records. The Department proposes to amend this system to update the Policies and Practices for Storage, Retrieving, Accessing, Retaining and Disposing of Records in the System, System Manager, Notification Procedure, and several other categories.

98. The seventy-seventh proposed amended system of records is entitled DOL/OSHA-10, OSHA Outreach Training Program. The Department proposes to amend this system to update the System Name, Categories of Records in the System, Policies and Practices for Storage, Retrieving, Accessing, Retaining and Disposing of Records in the System, and several other categories.

99. The seventy-eighth proposed amended system of records is entitled DOL/OSHA-14, Directorate of Training and Education Computer-based Acquisition/Financial Records System. The Department proposes to amend this system to update the Retention and Disposal section.

100. The seventy-ninth proposed amended system of records is entitled DOL/OSHA-15, Directorate of Training and Education Resource Center Loan Program. The Department proposes to amend this system to update the System Name, Policies and Practices for Storage, Retrieving, Accessing, Retaining and Disposing of Records in the System category.

101. The eightieth proposed amended system is entitled DOL/OWCP-1, Office of Workers' Compensation Programs, Black Lung Antidiscrimination Files. The Department proposes to amend this system to update the System Number, Categories of Individuals in the System, Authority for Maintenance of the System, Routine Uses of Records Maintained in the System, and several other categories.

102. The eighty-first proposed amended system is entitled DOL/OWCP-2, Office of Workers' Compensation, Black Lung Benefits Claim Files. The Department proposes to amend this system to update the System Number, Security Classification, Authority for Maintenance of the System, Routine Uses of Records Maintained in the System, and several other categories.

103. The eighty-second proposed amended system is entitled DOL/OWCP-3, Office of Workers' Compensation, Longshore and Harbor Workers' Compensation Act Case File. The Department proposes to amend this system to update the System Number, Categories of Individuals Covered by the System, Categories of Records in the System, Security Classification, Authority for Maintenance of the System, Policies and Practices for Storage, Retrieving, Accessing, Retaining and Disposing of Records in the System, and several other categories.

104. The eighty-third proposed amended system is entitled DOL/OWCP-4, Office of Workers' Compensation Programs, Longshore and Harbor Workers' Compensation Act Special Fund System. The Department proposes to amend this system to update the System Number, Categories of Individuals Covered by the System, Routine Uses of Records Maintained in the System, Policies and Practices for Storage, Retrieving, Accessing, Retaining and Disposing of Records in the System, and several other categories.

105. The eighty-fourth proposed amended system is entitled DOL/OWCP-5, Office of Workers' Compensation Programs, Longshore and Harbor Workers' Compensation Act Investigation Files. The Department proposes to amend this system to update the System Number, Categories of Individuals Covered by the System, Policies and Practices for Storage, Retrieving, Accessing, Retaining and Disposing of Records in the System, and several other categories.

106. The eighty-fifth proposed amended system is entitled DOL/OWCP-6, Office of Workers' Compensation Programs, Longshore and Harbor Workers' Compensation Act Claimant Representatives. The Department proposes to amend this system to update the System Number, Categories of Individuals Covered by the System, Policies and Practices for Storage, Retrieving, Accessing, Retaining and Disposing of Records in the System, and several other categories.

107. The eighty-sixth proposed amended system is entitled DOL/OWCP-7, Office of Workers' Compensation Programs, Physicians and Health Care Providers Excluded under the Longshore Act. The Department proposes to amend this system to update the System Number, Categories of Individuals Covered by the System, Policies and Practices for Storage, Retrieving, Accessing, Retaining and Disposing of Records in the System, and several other categories.

108. The eighty-seventh proposed amended system is entitled DOL/OWCP-8, Office of Workers' Compensation Programs, Physicians and Health Care Providers Excluded under the Federal Employees' Compensation Act. The Department proposes to amend this system to update the System Number and Policies and Practices for Storage, Retrieving, Accessing, Retaining and Disposing of Records in the System.

109. The eighty-eighth proposed new system is entitled DOL/OWCP-9, Office of Workers' Compensation Programs, Black Lung Automated Support Package. The Department proposes to amend this system to update the System Number, Security Classification, Authority for Maintenance of the System, and several other categories.

110. The eighty-ninth proposed amended system is entitled DOL/OWCP-10, Office of Workers' Compensation Programs, Federal Employees' Compensation Act (FEC) and Longshore and Harbor Workers' Compensation Act Rehabilitation Counselor Case Assignment, Contract Management and Performance Files and FEC Field Nurse. The Department proposes to amend this system to update the System Number, Categories of Individuals Covered By the System, Categories of records in the System, Authority for Maintenance of the System, and several other categories.

111. The ninetieth proposed amended system is entitled DOL/OWCP-11, Office of Workers' Compensation Programs, Energy Employees Occupational Illness Compensation Program Act File. The Department proposes to amend this system to update the System Number, Categories of Individuals Covered by the System, Policies and Practices for Storage, Retrieving, Accessing, Retaining and Disposing of Records in the System, and several other categories.

112. The ninety-first proposed amended system is entitled DOL/OWCP-12, Office of Workers' Compensation Programs, Physicians and Health Care Providers Excluded under the Energy Employees Occupational Illness Compensation Program Act. The Department proposes to amend this system to update the System Number, System Location, Categories of Individuals Covered by the System, Routine Uses of Records Maintained in the System, and several other categories.

113. The ninety-second proposed amended system of records is entitled DOL/SOL-3, Tort Claim Files. The Department proposes to amend this system to update the Security Classification, System Location, Authority for Maintenance of the System, and several other categories.

114. The ninety-third proposed amended system of records is entitled DOL/SOL-5, Workforce Investment Act Tort Claim Files. The Department proposes to amend this system to update the Security Classification, Authority for Maintenance of the System, Policies and Practices for Storage, Retrieving, Accessing, Retaining and Disposing of Records in the System, and several other categories.

115. The ninety-fourth proposed amended system of records is entitled DOL/SOL-6, Military Personnel and Civilian Employees' Claims. The Department proposes to amend this system to update the Security Classification, Authority for Maintenance of the System, Policies and Practices for Storage, Retrieving, Accessing, Retaining and Disposing of Records in the System, and several other categories.

116. The ninety-fifth proposed amended system of records is entitled DOL/SOL-9, Freedom of Information Act Privacy Act Appeals Files. The Department proposes to amend this system to update the Policies and Practices for Storage, Retrieving, Accessing, Retaining and Disposing of Records in the System, Notification Procedure, Contesting Record Procedures, and several other categories.

117. The ninety-sixth proposed amended system of records is entitled DOL/SOL-15, Solicitor's Office Litigation Files. The Department proposes to amend this system to update the Retention and Disposal section.

118. The ninety-seventh proposed amended system of records is entitled DOL/VETS-1, Uniformed Services Employment and Re-employment Rights Act (USERRA) Complaint File. The Department proposes to amend this system to update the Policies and Practices for Storage, Retrieving, Accessing, Retaining and Disposing of Records in the System, Notification Procedure, and Contesting Record Procedures.

119. The ninety-eighth proposed amended system of records is entitled DOL/VETS-2, Veterans' Preference Complaint File under the Veterans Equal Opportunities Act of 1998 (VEOA). The Department proposes to amend this system to update the Policies and Practices for Storage, Retrieving, Accessing, Retaining and Disposing of Records in the System, Notification Procedure, and Contesting Record Procedures.

120.

121. The ninety-ninth proposed amended system is entitled DOL/WHD-1, “Time Report” Component of the Wage and Hour Investigative Support and Reporting Database (WHISARD). The Department proposes to amend this system to update the System Number, Categories of Records in the System, Policies and Practices for Storage, Retrieving, Accessing, Retaining and Disposing of Records in the System, Notification Procedure, and several other categories.

122. The one hundredth proposed new system is entitled DOL/WHD-2, MSPA Civil Money Penalties in the Wage Hour Investigative Support and Report Database (WHISARD). The Department proposes to amend this system to update the System Number, Categories of Records in the System, Policies and Practices for Storage, Retrieving, Accessing, Retaining and Disposing of Records in the System, Notification Procedure, and several other categories.

123. The one hundred and first proposed amended system is entitled DOL/WHD-3, MSPA Public Central Registry Records File. The Department proposes to amend this system to update the System Number, System Location, Routine Uses of Records Maintained in the System, Disclosure of Consumer Report Agencies, and several other categories.

124. The one hundred and second proposed amended system is entitled DOL/WHD-4, Wage and Hour Clearance List—MSPA Registration. The Department proposes to amend this system to update the System Number, System Name, Policies and Practices for Storage, Retrieving, Accessing, Retaining and Disposing of Records in the System, and several other categories.

125. The one hundred and third proposed amended system is entitled DOL/WHD-5, MPSA Certificate Action Record Files. The Department proposes to amend this system to update the System Number, Disclosure to Consumer Reporting Agencies, Policies and Practices for Storage, Retrieving, Accessing, Retaining and Disposing of Records in the System, and several other categories.

126. The one hundred and fourth proposed amended system is entitled DOL/WHD-6, Case Registration/Investigator Assignment Form; in the Wage and Hour Investigative Support and Reporting Database (WHISARD). The Department proposes to amend this system to update the System Number, System Name, Policies and Practices for Storage, Retrieving, Accessing, Retaining and Disposing of Records in the System, Notification Procedures, and several other categories.

127. The one hundred and fifth proposed amended system is entitled DOL/WHD-7, Migrant and Seasonal Agricultural Worker Protection Act (MPSA) Ineligible Farm Labor Contractors. The Department proposes to amend this system to update the System Number, Security Classification, System Location, Policies and Practices for Storage, Retrieving, Accessing, Retaining and Disposing of Records in the System, Policies and Practices for Storage, Retrieving, Accessing, Retaining and Disposing of Records in the System, and several other categories.

128. The one hundred and sixth proposed amended system is entitled DOL/WHD-8, “Customer Service Component” of the Wage and Hour Investigative Support and Reporting Database (WHISARD). The Department proposes to amend this system to update the System Number, Categories of Records in the System, Policies and Practices for Storage, Retrieving, Accessing, Retaining and Disposing of Records in the System, and several other categories.

129. The hundred and seventh proposed amended system is entitled DOL/WHD-9, Farm Labor Contractor Registration File. The Department proposes to amend this system to update the System Number, Routine Uses of records Maintained in the System, Policies and Practices for Storage, Retrieving, Accessing, Retaining and Disposing of Records in the System, and several other categories.

130. The hundred and eighth proposed amended system is entitled DOL/WHD-10, Farm Labor Contractor Employee Registration File. The Department proposes to amend this system to update the System Number, Routine Uses of Records Maintained in the System, Policies and Practices for Storage, Retrieving, Accessing, Retaining and Disposing of Records in the System, and several other categories.

Signed at Washington, DC, this 13th day of January, 2016.
Thomas E. Perez,
Secretary of Labor.

Table of Contents

General Prefatory Statement

A. Universal Routine Uses of the Records

B. System Location-Flexiplace Programs

C. Government-Wide Records

D. Text of the Department of Labor's Systems of Records

Government-Wide Records

• DOL/GOVT-1, Office of Workers' Compensation Programs, Federal Employees' Compensation Act File

• DOL/GOVT-2, Job Corps Student Records

Central—DOL Central Systems of Records

• DOL/CENTRAL-1, Correspondents with the Department of Labor

• DOL/CENTRAL-2, Registrants for Department of Labor Events and Activities

• DOL/CENTRAL-3, Internal Investigations of Harassing Conduct

• DOL/CENTRAL-4, Department of Labor Advisory Committee Members Files

• DOL/CENTRAL-5, Privacy Act/Freedom of Information Act Request File System

• DOL/CENTRAL-6, Supervisor's/Team Leader's Records of Employees

• DOL/CENTRAL-7, DOL Employee Conduct Investigations

ADJBDS—DOL Adjudicatory Boards Systems of Records

• DOL/ABJBDS-1, DOL Appeals Management Systems (AMS)

BLS—DOL Bureau of Labor Statistics Systems of Records

• DOL/BLS-3, Staff Time Utilization System

• DOL/BLS-8, Automated Training Request Application (ATRA)

• DOL/BLS-9, Routine Administrative Files

• DOL/BLS-10, Commissioner's Correspondence Control System

• DOL/BLS-11, Mainframe User ID Database

• DOL/BLS-13, National Longitudinal Survey of Youth 1979 (NLSY79) Database

• DOL/BLS-14, BLS Behavioral Science Research Laboratory Project Files

• DOL/BLS-17, National Longitudinal Survey of Youth 1997 (NLSY97) Database

• DOL/BLS-18, Postal Square Building Parking Management Records

• DOL/BLS-19, Customer Information Files

• DOL/BLS-20, Fellowship Applicants and Recipients Files

• DOL/BLS-21, Data Sharing Agreements Database (DSA)

EBSA—DOL Employees Benefits Security Administration Systems of Records

• DOL/EBSA-1, The Employee Retirement Income Security Act of 1974 (ERISA) Filing and Acceptance System 2—One Participant Plans Filing a Form 5500SF

• DOL/EBSA-2, EBSA Correspondence Files

• DOL/EBSA-3, Technical Assistance and Inquiries System

• DOL/EBSA-4, Public Disclosure Request Tracking System

• DOL/EBSA-5, EBSA Debt Management System

• DOL/EBSA-6, EBSA Consolidated Training Record

• DOL/EBSA-7, Office of Enforcement Correspondence Tracking System, DFO CTS

• DOL/EBSA-8, EBSA Enforcement Management System (electronic); EBSA Civil Litigation Case Tracking System (paper; EBSA Criminal Case Information System (paper)

• DOL/EBSA-9, Office of Exemption Determination (OED) ERISA Section 502(1) Files; OED Case Tracking System

• DOL/EBSA-10, Form 5500EZ Filings

• DOL/EBSA-11, ERISA Filing and Acceptance System 2 Internet Registration Database (IREG)

• DOL/EBSA-12, Delinquent Filer Voluntary Compliance Program (DFVC) Tracking System; Delinquent Filer Voluntary Compliance Program 99

• DOL/EBSA-13, OCA Case Tracking System

• DOL/EBSA-14, Office of Health Plans Standards and Compliance Assistance (OHPSCA) Case Tracking System

• DOL/EBSA-15, Fee Disclosure Failure Notice Database

EEOICP—DOL Ombudsman for the Energy Employees Occupational Illness Compensation Program Systems of Records

• DOL/OMBUDSMAN-1, Office of the Ombudsman for the Energy Employees Occupational Illness Compensation Program Act (EEOICPA) File

ETA—DOL Employment and Training Administration Systems of Records

• DOL/ETA-1, Office of Apprenticeship, Budget and Position Control File

• DOL/ETA-4, Registered Apprenticeship Partners Information Data System (RAPIDS)

• DOL/ETA-7, Foreign Labor Certification System and Employer Application Case Files

• DOL/ETA-8, Job Corps Student Pay, Allotment and Management Information System (SPAMIS)

• DOL/ETA-16, Employment and Training Administration Investigatory File

• DOL/ETA-20, Federal Bonding Program, Bondee Certification Files

• DOL/ETA-24, Grant Officer Files

• DOL/ETA-29, National Agricultural Workers Survey (NAWS) Research File

• DOL/ETA-30, DOL Employment and Training Administration (ETA) Evaluation, Research, Pilot or Demonstration Contractors' Project Files

• DOL/ETA-31, The Enterprise Business Support System (EBSS)

• DOL/ETA-32, Contract Files

MSHA—DOL Mine Safety and Health Administration Systems of Records

• DOL/MSHA-1, Mine Safety and Health Administration Standardized Information System (MSIS)

• DOL.MSHA-22, Educational Policy and Development; National Mine Health and Safety Academy Permanent Record Card or Student Information System

• DOL/MSHA-23, Educational Policy and Development Activity Reporting System

OALJ—DOL Office of Administrative Law Judges Systems of Records

• DOL/OALJ-1, Office of Administrative Law Judges Case Tracking System (CTS)

• DOL/OALJ-2, Office of Administrative Law Judges Case Files

OASAM—DOL Office of the Assistant Secretary for Administration and Management Systems of Records

• DOL/OASAM-4, Safety and Health Information Management System (SHIMS)

• DOL/OASAM-5, Employee Assistance Program (EAP) Records

• DOL/OASAM-7, Employee Medical File System Records (Not Job Related)

• DOL/OASAM-12, Administrative Grievance Records

• DOL/OASAM-17, Equal Employment Opportunity Complaint Files

• DOL/OASAM-19, Negotiated Grievance Procedure and Unfair Labor Practice Files

• DOL/OASAM-20, Personnel Investigation Records

• DOL/OASAM-22, Civil Rights Center Discrimination Complaint Case Files

• DOL/OASAM-25, Intergovernmental Personnel Act (IPA) Assignment Records

• DOL/OASAM-26, Francis Perkins Building Parking Management System

• DOL/OASAM-27, Employee/Contractor/Visitor Identification System

• DOL/OASAM-28, Incident Report/Restriction Notice

• DOL/OASAM-29, OASAM Employee Administrative Investigation File

• DOL/OASAM-30 Injury Compensation System (ICS)

• DOL/OASAM-31, DOL Flexible Workplace Programs Evaluation and Files

• DOL/OASAM-32, Transit Subsidy Management System

• DOL/OASAM-34, DOL Fitness Association (DOLFA) Membership Files

• DOL/OASAM-35, DOL Child Care Subsidy Program Records

• DOL/OASAM-37, Personal Identity Verification Credential

OCFO—DOL Office of the Chief Financial Officer Systems of Records

• DOL/OCFO-2, New Core Financial Management System (NCFMS)

• DOL/OCFO-3, Travel and Transportation System

ODEP—DOL Office of Disability Employment Policy Systems of Records

• DOL/ODEP-1, Job Accommodation Network (JAN) Files

• DOL/ODEP-2, Workforce Recruitment Program for College Students with Disabilities (WRP) Database

OFCCP—DOL Office of Federal Contract Compliance Programs Systems of Records

• DOL/OFCCP-1, Office of Federal Contract Compliance Programs, Executive Management Information System (OFCCP/EIS) which includes the Case Management System (CMS), and Time Reporting Information System (TRIS)

• DOL/OFCCP-2, Office of Federal Contract Compliance Programs/Complaint Case Files

OIG—DOL Office of Inspector General Systems of Records

• DOL/OIG-2, Freedom of Information Act/Privacy Act Records

• DOL/OIG-5, Audit Information Reporting Team Tech Tracking System

• DOL/OIG-6, Hotline and Complaints Analysis Files

• DOL/OIG-7, Correspondence Tracking System

• DOL/OIG-8, Office of Inspector General (OIG) Employee Credential System

• DOL/OIG-9, OIG Property Tracking Systems

• DOL/OIG-10, Office of Inspector General (OIG) Pre-employment Checks and Inquiries (PECI) System

• DOL/OIG-11, Investigative Case Files and Tracking System, Case Development and Intelligence Records, USDOL/OIG

OLMS—DOL Office of Labor-Management Standards Systems of Records

• DOL/OLMS-1, Investigative Files of the Office of Labor-Management Standards

• DOL/OLMS-2, OLMS Public Disclosure Request Tracking System

OSHA—DOL Occupational Safety and Health Administration Systems of Records

• DOL/OSHA-1, Retaliation Complaint File

• DOL/OSHA-6, Program Activity File

• DOL/OSHA-9, OSHA Compliance Safety and Health Officer Training Records

• DOL/OSHA-10, OSHA Outreach Training Program

• DOL/OSHA-14, Directorate of Training and Education Computer-Based Acquisition/Financial Records System

• DOL/OSHA-15, Directorate of Training and Education Resource Center Loan Program

OWCP—DOL Office of Workers' Compensation Programs Systems of Records

• DOL/OWCP-1, Office of Workers' Compensation Programs, Black Lung Antidiscrimination Files

• DOL/OWCP-2, Office of Workers' Compensation, Black Lung Benefits Claim File

• DOL/OWCP-3, Office of Workers' Compensation Programs, Longshore and Harbor Workers' Compensation Act Case Files

• DOL/OWCP-4, Office of Workers' Compensation Programs, Longshore and Harbor Workers' Compensation Act Special Fund System

• DOL/OWCP-5, Office of Workers' Compensation Programs, Longshore and Harbor Workers' Compensation Act Investigation Files

• DOL/OWCP-6, Office of Workers' Compensation Programs, Longshore and Harbor Workers' Compensation Act Claimant Representatives

• DOL/OWCP-7, Office of Workers' Compensation Programs, Physicians and Health Care Providers Excluded under the Longshore Act

• DOL/OWCP-8, Office of Workers' Compensation Programs, Physicians and Health Care Providers Excluded under the Federal Employees' Compensation Act

• DOL/OWCP-9, Office of Workers' Compensation Programs, Black Lung Automated Support Package

• DOL/OWCP-10, Office of Workers' Compensation Programs, Federal Employees' Compensation Act (FEC) and Longshore and Harbor Workers' Compensation Act Rehabilitation Counselor Case Assignment, Contract Management and Performance Files and FEC Field Nurses

• DOL/OWCP-11, Office of Workers' Compensation Programs, Energy Employees Occupational Illness Compensation Program Act File

• DOL/OWCP-12, Office of Workers' Compensation Programs, Physicians and Health Care Providers Excluded under the Energy Employees Occupational Illness Compensation Program Act

SOL—DOL Office of the Solicitor Systems of Records

• DOL/SOL-3, Tort Claims Files

• DOL/SOL-5, Workforce Investment Act Tort Claims Files

• DOL/SOL-6, Military Personnel and Civilian Employees' Claims

• DOL/SOL-9, Freedom of Information Act and Privacy Act Appeals Files

• DOL/SOL-15, Solicitor's Office Litigation Files

• DOL/SOL-18, Matter Management System (MMS)

• DOL/SOL-19, Evidence Management System (EMS)

VETS—DOL Veterans' Employment and Training Service Systems of Records

• DOL/VETS-1, Uniformed Services Employment and Reemployment Rights Act (USERRA) Complaint File

• DOL/VETS-2, Veterans' Preference Complaint File under the Veterans Equal Opportunities Act of 1998 (VEOA)

• DOL/VETS-3, Veterans' Transition Assistance Program (TAP) Registration System

• DOL/VETS-5, Veterans' Data Exchange Initiative (VDEI)

• DOL/VETS-6, Veterans'Case Management System (VCMS)

WHD—DOL Wage and Hour Division Systems of Records

• DOL/WHD-1, “Time Report” Component of the Wage and Hour Investigative Support and Reporting Database (WHISARD)

• DOL/WHD-2, MSPA Civil Money Penalties in the Wage Hour Investigative Support and Reporting Database (WHISARD)

• DOL/WHD-3, MSPA Public Central Registry Records File

• DOL/WHD-4, Wage and Hour Clearance List—MSPA Registration

• DOL/WHD-5, MSPA Certificate Action Record Files

• DOL/WHD-6, Case Registration/Investigator Assignment Form in the Wage and Hour Investigative Support and Reporting Database (WHISARD)

• DOL/WHD-7, Migrant and Seasonal Agricultural Worker Protection Act (MSPA) Ineligible Farm Labor Contractors

• DOL/WHD-8, “Customer Service component” of the Wage Hour Investigative Support and reporting Database (WHISARD)

• DOL/WHD-9, Farm Labor Contractor Registration File

• DOL/WHD-10, Farm Labor Contractor Employee Registration File

General Prefatory Statement

In its April 8, 2002, publication, the Department gave notice of 12 routine uses that apply to all of its systems of records, except for DOL/OASAM-5, DOL/OASAM-7, and DOL/CENTRAL-3. These 12 routine uses were presented in the General Prefatory Statement for that document, and appeared at Page 16825 of Volume 67 of the Federal Register. As a convenience to the reader of this document, we are republishing this General Prefatory Statement. This republication shall include the statement, also contained in the 2002 and 2011 publications, that pursuant to the Flexiplace Program (also known as “telework” consistent with the Telework Enhancement Act), the system location for all systems of records may be temporarily located at alternate worksites, including remote locations, employees' homes, or at geographically convenient satellite offices at some times.

At this time, the Department proposes two new routine uses that will apply to all of its systems of records. The first proposed routine use governs the Department's ability to disclose information to a State or local government agency in charge of issuing licenses to attorneys and health care professionals. The second proposed routine use governs the Department's ability to disclose information to the United States Department of Justice and/or the Federal Bureau of Investigation that will be included in the National Instant Criminal Background Check System (NICS). The new routine uses are described in paragraphs 13 and 14 below.

A. Universal Routine Uses of the Records

The following routine uses of the records apply to and are incorporated by reference into each system of records published below unless the text of a particular notice of a system of records indicates otherwise. These routine uses do not apply to DOL/OASAM-5, Rehabilitation and Counseling File; DOL/OASAM-7, Employee Medical Records, and DOL/CENTRAL-3, Internal Investigations of Harassing Conduct.

1. To disclose the records to the Department of Justice when: (a) The agency or any component thereof; or (b) any employee of the agency in his or her official capacity; or (c) the United States Government, is a party to litigation or has an interest in such litigation, and by careful review, the agency determines that the records are both relevant and necessary to the litigation, and the use of such records by the Department of Justice is for a purpose that is compatible with the purpose for which the agency collected the records.

2. To disclose the records in a proceeding before a court or adjudicative body, when: (a) The agency or any component thereof; or (b) any employee of the agency in his or her official capacity; or (c) any employee of the agency in his or her individual capacity; or (d) the United States Government, is a party to litigation or has an interest in such litigation, and by careful review, the agency determines that the records are both relevant and necessary to the litigation, and that the use of such records is for a purpose that is compatible with the purpose for which the agency collected the records.

3. When a record on its face, or in conjunction with other information, indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the agency determines by careful review that the records or information are both relevant and necessary to any enforcement, regulatory, investigative or prosecutive responsibility of the receiving entity, and that the use of such records or information is for a purpose that is compatible with the purposes for which the agency collected the records.

4. To a Member of Congress or to a Congressional staff member in response to an inquiry of the Congressional office made at the written request of the constituent about whom the record is maintained.

5. To the National Archives and Records Administration or to the General Services Administration for records management inspections conducted pursuant to 44 U.S.C. 2904 and 2906.

6. To disclose to contractors, employees of contractors, consultants, grantees, and volunteers who have been engaged to assist the agency in the performance of or working on a contract, service, grant, cooperative agreement or other activity or service for the Federal Government.

Note: Recipients shall be required to comply with the requirements of the Privacy Act of 1974, as amended, 5 U.S.C. 552a; see also 5 U.S.C. 552a(m).

7. To the parent locator service of the Department of Health and Human Services or to other authorized persons defined by Public Law 93-647 (42 U.S.C. 653(c)) the name and current address of an individual for the purpose of locating a parent who is not paying required child support.

8. To any source from which information is requested in the course of a law enforcement or grievance investigation, or in the course of an investigation concerning retention of an employee or other personnel action, the retention of a security clearance, the letting of a contract, the retention of a grant, or the retention of any other benefit, to the extent necessary to identify the individual, inform the source of the purpose(s) of the request, and identify the type of information requested.

9. To a Federal, State, local, foreign, tribal, or other public authority of the fact that this system of records contains information relevant to the hiring or retention of an employee, the granting or retention of a security clearance, the letting of a contract, a suspension or debarment determination or the issuance or retention of a license, grant, or other benefit.

10. To the Office of Management and Budget during the coordination and clearance process in connection with legislative matters.

11. To the Department of the Treasury, and a debt collection agency with which the United States has contracted for collection services, to recover debts owed to the United States.

12. To the news media and the public when (1) the matter under investigation has become public knowledge, (2) the Solicitor of Labor determines that disclosure is necessary to preserve confidence in the integrity of the Department or is necessary to demonstrate the accountability of the Department's officers, employees, or individuals covered by this system, or (3) the Solicitor of Labor determines that there exists a legitimate public interest in the disclosure of the information, provided the Solicitor of Labor determines in any of these situations that the public interest in disclosure of specific information in the context of a particular case outweighs the resulting invasion of personal privacy.

13. To disclose information to a State or local government entity which has the legal authority to make decisions concerning the issuance, retention or revocation of licenses, certifications or registrations required to practice law or a health care profession, when requested in writing by an investigator or supervisory official of the licensing entity for the purpose of making a decision concerning the issuance, retention or revocation of the license, certification or registration of a named attorney or health care professional.

14. To disclose information to the United States Department of Justice and/or the Federal Bureau of Investigation for inclusion in the National Instant Criminal Background Check System (NICS), pursuant to the reporting requirements of the Brady Handgun Violence Prevention Act, as amended by the NICS Improvement Amendments Act of 2007.

B. System Location—Flexiplace Programs

The following paragraph applies to and is incorporated by reference into all of the Department's systems of records under the Privacy Act, within the category entitled, SYSTEM LOCATION:

Pursuant to the Department of Labor's Flexiplace Programs (also known as “telework” pursuant to the Telework Enhancement Act), copies of records may be temporarily located at alternative worksites, including employees' homes or at geographically convenient satellite offices for periods of time. All appropriate safeguards will be taken at these sites.

C. Government-Wide Records

Two systems of records are reported by the Department of Labor for all federal agencies since this Department has overall responsibility for the administration of the programs in connection with which these systems of records have been compiled. It is presumed that most, if not all, federal agencies maintain systems of records comprising a portion of the government-wide systems of records. In order to avoid duplication in reporting, the Department is reporting these systems on behalf of all agencies. The Department has control over these systems to the same extent as the Office of Personnel Management has control over systems of records containing federal employee personnel records.

1. Federal Employees' Compensation Act Files—DOL/GOVT-1: All records relating to injury or death of civilian employees or other persons entitled to benefits under the Federal Employees' Compensation Act are the records of the Office of Workers' Compensation Programs (OWCP of the Department of Labor). OWCP asserts control of these records under the provisions of 5 U.S.C. 8149 and Department regulations at 20 CFR 10.10. This system applies to copies of claim forms and other documents relating to a compensation claim maintained by the employing agency. This system, however, does not apply to other medical or related files not created pursuant to the Federal Employees' Compensation Act which may be in the possession of an agency. This system is entitled DOL/GOVT-1, Office of Workers' Compensation Programs, Federal Employees' Compensation File.

Initial determinations on requests for access, amendment or correction of records maintained in this system of records shall be made by the OWCP district office having jurisdiction over the particular claim. In addition, requests for access to copies of records maintained by the employing agency may be directed to that agency. Administrative appeals from initial determinations denying access, amendment or correction, shall be addressed to the Solicitor of Labor, U.S. Department of Labor, 200 Constitution Avenue NW., Washington, DC 20210, as required by 20 CFR 10.12.

2. Job Corps Student Records—DOL/GOVT-2: All records which contain information about students during their stay in Job Corps, from entrance to placement and/or termination, are records which must be maintained by the Job Corps Center at which the student is enrolled. The Employment and Training Administration asserts control of these records under 29 U.S.C. 2881 et seq. This system is entitled DOL/GOVT-2, Job Corps Student Records.

Initial determinations concerning access, amendment or correction of this government-wide system of records shall be made by screening contractors, Job Corps Center Directors, Job Corps National or Regional Offices. Administrative appeals shall be referred to the Solicitor of Labor, U.S. Department of Labor, 200 Constitution Avenue NW., Washington, DC 20210.

In addition, the following government agencies also have Government-wide Systems of Records:

Government-Wide Systems

EEOC/GOVT-1—Equal Employment Opportunity Complaint Records and Appeal Records

FEMA/GOVT-1—National Defense Executive Reserve System

GSA/GOVT-2—Employment Under Commercial Activities Contracts

GSA/GOVT-3—Travel Charge Card Program

GSA/GOVT-4—Contracted Travel Services Programs

MSPB/GOVT-1—Appeal and Case Records

OGE/GOVT-1—Executive Branch Public Financial Disclosure Reports and Other Ethics Program Records

OGE/GOVT-2—Confidential Statements of Employment and Financial Interests

OPM/GOVT-1—General Personnel Records

OPM/GOVT-2—Employee Performance File System Records

OPM/GOVT-3—Adverse Actions and Actions Based on Unacceptable Performance

OPM/GOVT-4—[Reserved]

OPM/GOVT-5—Recruiting, Examining and Placement Records

OPM/GOVT-6—Personnel Research and Test Validation Records

OPM/GOVT-7—Applicant—Race, Sex, National Origin and Disability Status Records

OPM/GOVT-8—[Reserved]

OPM/GOVT-9—Position Classification Appeals, Job Grading Appeals, and Retained Grade or Pay

OPM/GOVT-10—Employee Medical File System Records

D. Text of the Department of Labor's System of Records Government-Wide Systems by the U.S. Department of Labor

DOL/GOVT-1

SYSTEM NAME:

Office of Workers' Compensation Programs, Federal Employees' Compensation Act File.

SECURITY CLASSIFICATION:

Most files and data are unclassified. Files and data in certain cases have Top Secret classification, but the rules concerning their maintenance and disclosure are determined by the agency that has given the information the security classification of Top Secret.

SYSTEM LOCATION:

The central database for DOL/GOVT-1 is located at the DOL National office and the offices of OWCP's contractor. Paper claim files are located at the various OWCP district offices; claim files of employees of the Central Intelligence Agency are located at that agency. Copies of claim forms and other documents arising out of a job-related injury that resulted in the filing of a claim under the Federal Employees' Compensation Act (FECA) may also be maintained by the employing agency (and where the forms were transmitted to OWCP electronically, the original forms are maintained by the employing agency). In addition, records relating to third-party claims of FECA beneficiaries are maintained in the Division of Federal Employees' and Energy Workers' Compensation, Office of the Solicitor, United States Department of Labor, 200 Constitution Avenue NW., Washington, DC 20210.

CATEGORIES OF INDIVIDUALS COVERED BY THE SYSTEM:

Individuals and/or their survivors who file claims seeking benefits under FECA by reason of injuries sustained while in the performance of duty. FECA applies to all civilian Federal employees, including various classes of persons who provide or have provided personal service to the Government of the United States, and to other persons as defined by law such as State or local law enforcement officers, and their survivors, who were injured or killed while assisting in the enforcement of Federal law. In addition, FECA covers employees of the Civil Air Patrol, Peace Corps Volunteers, Job Corps students, Volunteers in Service to America, members of the National Teacher Corps, certain student employees, members of the Reserve Officers Training Corps, certain former prisoners of war, and employees of particular commissions and other agencies.

CATEGORIES OF RECORDS IN THE SYSTEM:

This system may contain the following kinds of records: Reports of injury by the employee and/or employing agency; claim forms filed by or on behalf of injured Federal employees or their survivors seeking benefits under FECA; forms authorizing medical care and treatment; other medical records and reports; bills and other payment records; compensation payment records; formal orders for or against the payment of benefits; transcripts of hearings conducted; and any other medical, employment, or personal information submitted or gathered in connection with the claim. The system may also contain information relating to dates of birth, marriage, divorce, and death; notes of telephone conversations conducted in connection with the claim; information relating to vocational and/or medical rehabilitation plans and progress reports; records relating to court proceedings, insurance, banking and employment; articles from newspapers and other publications; information relating to other benefits (financial and otherwise) the claimant may be entitled to; and information received from various investigative agencies concerning possible violations of Federal civil or criminal law. The system may also contain information relating to certain claims under the War Hazards Compensation Act (WHCA).

The system may also contain consumer credit reports on individuals indebted to the United States, information relating to the debtor's assets, liabilities, income and expenses, personal financial statements, correspondence to and from the debtor, information relating to the location of the debtor, and other records and reports relating to the implementation of the Federal Claims Collection Act (as amended), including investigative reports or administrative review matters. Individual records listed here are included in a claim file only insofar as they may be pertinent or applicable to the employee or beneficiary.

AUTHORITY FOR MAINTENANCE OF THE SYSTEM:

5 U.S.C. 8101 et seq., 20 CFR 1.1 et seq.

PURPOSE(S):

FECA establishes the system for processing and adjudicating claims that Federal employees and other covered individuals file with the Department's OWCP seeking monetary, medical and similar benefits for injuries or deaths sustained while in the performance of duty. The records maintained in this system are created as a result of and are necessary to this process. The records provide information and verification about the individual's employment-related injury and the resulting disabilities and/or impairments, if any, on which decisions awarding or denying benefits provided under the FECA must be based.

ROUTINE USES OF RECORDS MAINTAINED IN THE SYSTEM, INCLUDING CATEGORIES OF USERS AND THE PURPOSES OF SUCH USES:

In addition to those Department-wide routine uses set forth in the General Prefatory Statement to this document, disclosure of information from this system of records may be made to the following individuals and entities for the purposes noted when the purpose of the disclosure is both relevant and necessary and is compatible with the purpose for which the information was collected:

a. To any attorney or other representative of a FECA beneficiary for the purpose of assisting in a claim or litigation against a third party or parties potentially liable to pay damages as a result of the FECA beneficiary's FECA-covered injury and for the purpose of administering the provisions of Sections 8131-8132 of FECA. Any such third party, or a representative acting on that third party's behalf, may be provided information or documents concerning the existence of a record and the amount and nature of compensation paid to or on behalf of the FECA beneficiary for the purpose of assisting in the resolution of the claim or litigation against that party or administering the provisions of Sections 8131-8132 of FECA.

b. To Federal agencies that employed the claimant at the time of the occurrence or recurrence of the injury or occupational illness in order to verify billing, to assist in administering FECA, to answer questions about the status of the claim, to consider rehire, retention or other actions the agency may be required to take with regard to the claim or to permit the agency to evaluate its safety and health program. Disclosure to Federal agencies, including the Department of Justice, may be made where OWCP determines that such disclosure is relevant and necessary for the purpose of providing assistance in regard to asserting a defense based upon FECA's exclusive remedy provision to an administrative claim or to litigation filed under the Federal Tort Claims Act.

c. To other Federal agencies, other Government or private entities and to private-sector employers as part of rehabilitation and other return-to-work programs and services available through OWCP, where the entity is considering hiring the claimant or where otherwise necessary as part of that return-to-work effort.

d. To Federal, State or private rehabilitation agencies and individuals to whom the claimant has been referred for evaluation of rehabilitation and possible reemployment.

e. To physicians, pharmacies, and other health care providers for their use in treating the claimant, in conducting an examination or preparing an evaluation on behalf of OWCP and for other purposes relating to the medical management of the claim, including evaluation of and payment for charges for medical and related services and supplies.

f. To medical insurance or health and welfare plans (or their designees) that cover the claimant in instances where OWCP has paid for treatment of a medical condition that is not compensable under FECA, or where a medical insurance plan or health and welfare plan has paid for treatment of a medical condition that may be compensable under FECA, for the purpose of resolving the appropriate source of payment in such circumstances.

g. To labor unions and other voluntary employee associations from whom the claimant has requested assistance for the purpose of providing such assistance to the claimant.

h. To a Federal, State or local agency for the purpose of obtaining information relevant to a determination concerning initial or continuing eligibility for FECA benefits, and for a determination concerning whether benefits have been or are being properly paid, including whether dual benefits that are prohibited under any applicable Federal or State statute are being paid; and for the purpose of utilizing salary offset and debt collection procedures, including those actions required by the Debt Collection Act of 1982, to collect debts arising as a result of overpayments of FECA compensation and debts otherwise related to the payment of FECA benefits.

i. To the Internal Revenue Service (IRS) for the purpose of obtaining taxpayer mailing addresses for the purposes of locating a taxpayer to collect, compromise, or write-off a Federal claim against such taxpayer; and informing the IRS of the discharge of a debt owed by an individual. Records from this system of records may be disclosed to the IRS for the purpose of offsetting a Federal claim from any income tax refund that may be due to the debtor.

j. To the Occupational Safety and Health Administration (OSHA) for purpose of using injury reports filed by Federal agencies pursuant to FECA to fulfill agency injury reporting requirements. Information in this system of records may be disclosed to OSHA by employing agencies as part of any Management Information System established under OSHA regulations to monitor health and safety.

k. To contractors providing services to the Department or any other Federal agency or any other individual or entity specified in any of these routine uses or in the Department's General Prefatory Statement who require the data to perform the services that they have contracted to perform, provided that those services are consistent with the routine use for which the information was disclosed to the contracting entity. Should such a disclosure be made to the contractor, the individual or entity making such disclosure shall ensure that the contractor complies fully with all Privacy Act provisions, including those prohibiting unlawful disclosure of such information.

l. To the Defense Manpower Data Center—Department of Defense and the United States Postal Service to conduct computer matching programs for the purpose of identifying and locating individuals who are receiving Federal salaries or benefit payments and are delinquent in their repayment of debts owed to the United States under programs administered by the Department in order to collect the debts under the provisions of the Debt Collection Act of 1982 (Pub. L. 97-365) by voluntary repayment, or by salary or administrative offset procedures.

m. To a credit bureau for the purpose of obtaining consumer credit reports identifying the assets, liabilities, expenses, and income of a debtor in order to ascertain the debtor's ability to repay a debt incurred under FECA, to collect the debt, or to establish a payment schedule.

n. To consumer reporting agencies as defined by Sec. 603(f) of the Fair Credit Reporting Act (15 U.S.C. 1681a(f)) or in accordance with Sec. 3(d)(4)(A)(ii) of the Federal Claims Collection Act of 1966 as amended (31 U.S.C. 3711(f)) for the purpose of encouraging the repayment of an overdue debt, the amount, status and history of overdue debts, the name and address, taxpayer identification (SSN), and other information necessary to establish the identity of a debtor, the agency and program under which the claim arose, may be disclosed pursuant to 5 U.S.C. 552a(b)(12).

o. To a Member of Congress or to a Congressional staff member in response to an inquiry made by an individual seeking assistance who is the subject of the record being disclosed for the purpose of providing such assistance.

p. To individuals, and their attorneys and other representatives, and Government agencies, seeking to enforce a legal obligation on behalf of such individual or agency, to pay alimony and/or child support for the purpose of enforcing such an obligation, pursuant to an order of a State or local court of competent jurisdiction, including Indian tribal courts, within any State, territory or possession of the United States, or the District of Columbia or to an order of a State agency authorized to issue income withholding notices pursuant to State or local law or pursuant to the requirements of Sec. 666(b) of title 42, U.S.C., or for the purpose of denying the existence of funds subject to such legal obligation.

q. To the National Institute for Occupational Safety and Health (NIOSH), for the purpose of performing statistical analyses of injury and illness patterns to identify patterns and locations of high incidence, help devise safety and return-to-work interventions, and guide worker safety and health research. The statistical analyses performed by NIOSH will assist OWCP and OSHA in their efforts to reduce the occurrence of employment injuries, assist employees in achieving a smooth transition and return to work following employment injuries, and improve Federal employee safety and health.

r. To the General Services Administration (GSA), for the purpose of permitting GSA and its investigators to evaluate information about potential exposures to hazardous substances to non-GSA federal employees in buildings or complexes managed by GSA.

s. To investigators in employing agency Offices of Inspector General, for the purpose of assisting in the investigation of potential fraud by recipients of compensation benefits under the FECA for their agencies, and for the purpose of assisting in evaluation of compliance by employing agencies with timely filing requirements under the FECA and its implementing regulations as well as for audits related to the employing agencies' handling of their portion of the FECA claims process.

t. To a Federal, State or local agency charged with the responsibility for investigating compliance with laws relating to health and safety, for the purpose of assisting such agency in fulfilling its statutory or regulatory responsibilities.

u. For claims arising under 42 U.S.C. Sections 1701 and 1704 of the WHCA, to insurance carriers or self-insured employers and their attorneys, for the purpose of assisting in administering the claim, and for the purpose of verifying eligibility for payments to claimants and reimbursements of amounts already paid.

Note: Disclosure of information contained in this system of records to the subject of the record, a person who is duly authorized to act on his or her behalf, or to others to whom disclosure is authorized by these routine uses, may be made over the telephone or by electronic means. Disclosure over the telephone or by electronic means will only be done where the requestor provides appropriate identifying information. Telephonic or electronic disclosure of information is essential to permit efficient administration and adjudication of claims under FECA. Pursuant to 5 U.S.C. 552a(b)(1), information from this system of records may be disclosed to members and staff of the Employees' Compensation Appeals Board, the Office of Administrative Law Judges, the Office of the Solicitor and other components of the Department that have a need for the record in the performance of their duties.

DISCLOSURE TO CONSUMER REPORTING AGENCIES:

The amount, status and history of overdue debts, the name and address, taxpayer identification (SSN), and other information necessary to establish the identity of a debtor, the agency and program under which the claim arose, may be disclosed pursuant to 5 U.S.C. 552a(b)(12) to consumer reporting agencies as defined by Sec. 603(f) of the Fair Credit Reporting Act (15 U.S.C. 1681a(f)) or in accordance with Sec. 3(d)(4)(A)(ii) of the Federal Claims Collection Act of 1966 as amended (31 U.S.C. 3711(f)) for the purpose of encouraging the repayment of an overdue debt.

POLICIES AND PRACTICES FOR STORING, RETRIEVING, ACCESSING, RETAINING AND DISPOSING OF RECORDS IN THE SYSTEM:

STORAGE:

Files are stored electronically and/or on paper.

RETRIEVABILITY:

Files and automated data are retrieved after identification by coded file number and/or Social Security Number which is cross-referenced to employee by name, employing establishment, and date and nature of injury. Since the electronic case management files were created in 1975, these electronic files are located in District Offices that have jurisdiction over the claim, and (as noted above under “System Location”), a complete central data base is maintained at the location of the contractor. Prior to 1975, a paper index file was maintained; these records were transferred to microfiche and are located in the national office.

SAFEGUARDS:

Access by authorized personnel only. Computer security safeguards are used for electronically stored data and locked locations for paper files. Only personnel having an appropriate security clearance may handle or process security files.

RETENTION AND DISPOSAL:

All case files and automated data pertaining to a claim are destroyed 15 years after the case file has become inactive. Case files that have been scanned to create electronic copies are destroyed after the copies are verified. Electronic data is retained in its most current form only, and as information is updated, outdated information is deleted. Some related financial records are retained only in electronic form, and destroyed six years and three months after creation or receipt.

SYSTEM MANAGER(S) AND ADDRESS:

Director for Federal Employees' Compensation, Office of Workers' Compensation Programs, 200 Constitution Avenue NW., Washington, DC 20210.

NOTIFICATION PROCEDURE:

An individual wishing to inquire whether this system of records contains information about him/her may write or telephone the OWCP district office that services the state in which the individual resided or worked at the time he or she believes a claim was filed. In order for the record to be located, the individual must provide his or her full name, OWCP claim number (if known), date of injury (if known), and date of birth.

RECORD ACCESS PROCEDURES:

Any individual seeking access to non-exempt information about a case in which he/she is a party in interest may write or telephone the OWCP district office where the case is located, or the systems manager, and arrangements will be made to provide review of the file. Access to copies of documents maintained by the employing agency may be secured by contacting that agency's designated disclosure officials.

CONTESTING RECORD PROCEDURES:

Specific materials in this system have been exempted from certain Privacy Act provisions regarding the amendment of records. The section of this notice entitled “Systems exempted from certain provisions of the Act,” indicates the kind of materials exempted, and the reasons for exempting them. Any individual requesting amendment of non-exempt records should contact the appropriate OWCP district office, or the system manager. Individuals requesting amendment of records must comply with the Department's Privacy Act regulations at 29 CFR 71.1 and 71.9, and with the regulations found at 20 CFR 10.12.

RECORD SOURCE CATEGORIES:

Information contained in this system is obtained from injured employees; beneficiaries; employing Federal agencies; other Federal agencies; physicians; hospitals; clinics; suppliers of health care products and services and their agents and representatives; educational institutions; attorneys; Members of Congress; OWCP field investigations; State governments; consumer credit reports; agency investigative reports; correspondence with the debtor including personal financial statements; records relating to hearings on the debt; and other Department systems of records.

SYSTEMS EXEMPTED FROM CERTAIN PROVISIONS OF THE ACT:

In accordance with 5 U.S.C. 552a(k)(2), investigative material in this system of records compiled for law enforcement purposes is exempt from subsections (c)(3), (d), (e)(1), (e)(4)(G), (H) and (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government under an express promise that the identity of the source would be held in confidence, or prior to January 1, 1975, under an implied promise that the identity of the source would be held in confidence.

DOL/GOVT-2

SYSTEM NAME:

Job Corps Student Records.

SECURITY CLASSIFICATIONS:

None.

SYSTEM LOCATION:

Screening contractors; Job Corps centers and operators (which includes contract and agency centers); Job Corps National Office; Job Corps Regional Offices; Federal Records Centers.

CATEGORIES OF INDIVIDUALS COVERED BY THE SYSTEM:

Job Corps applicants, students, and terminees.

CATEGORIES OF RECORDS IN THE SYSTEM:

Records contain information kept on the students, such as separate running accounts of the students' general biographical data; educational training, vocational training; counseling; recreational activities; dormitory logs; health (dental, medical, mental health, and drug testing records); administrative records covering data pertaining to enrollment allowances and allotments; leave records; Student Profile (ETA-640); and Center Standards Officer's disciplinary records.

AUTHORITY FOR MAINTENANCE OF THE SYSTEM:

Subtitle C of Title I of the Workforce Investment Act of 1998, 29 U.S.C. 2881 et seq.

PURPOSE(S):

These records are maintained to ensure that all appropriate documents of the student's stay in Job Corps (covering application to placement and/or termination) are retained and are available to those officials who have a legitimate need for the information in performing their duties and to serve the interests and needs of the students in accordance with 29 U.S.C. 2881 et seq.

ROUTINE USES OF RECORDS MAINTAINED IN THE SYSTEM, INCLUDING CATEGORIES OF USERS AND THE PURPOSES OF THE SUCH USES:

These records and information in these records may be used when relevant, necessary, and appropriate:

a. To disclose photographs and student identities, with appropriate consent, to the news media, for the purpose of promoting the merits of the program.

b. To disclose information, giving the summary of a student's academic and vocational achievement and general biographical information, to placement and welfare agencies, prospective employers, school or training institutions to assist in the employment of a student.

c. To disclose information to State and Federal law enforcement agencies or other government investigators to assist them in locating a student and/or his or her family.

d. To disclose information to appropriate Federal, State, and local agencies which have law enforcement jurisdiction over students (which includes probation or parole officers) and/or the property on which the center is located, if the agency determines by careful review that the records or information are both relevant and necessary to any enforcement, regulatory, investigative or prosecutive responsibility of the receiving entity, and that the use of such records or information is for a purpose that is compatible with the purposes for which the agency collected the records.

e. To disclose all or any information to parents/guardians regarding students under the age of 18 for performance of parental rights and responsibilities.

f. To disclose information to Job Corps health consultants; Job Corps Center Review Board members (in appropriate disciplinary cases); State, county, and local health services personnel; family planning agencies; and physicians (public or private) to whom a student is referred for diagnosis or to receive treatment to assure continuance of proper health care, or notification and contact tracking for communicable disease control.

g. To disclose to state and local health departments all cases of infection or disease that are required to be reported to them in accordance with state and local laws. This disclosure shall be made by the Center Director.

Note: Center physicians shall deal with all cases of communicable diseases in accordance with Job Corps directives based on current recommendations of the Center for Disease Control of the Department of Health and Human Services.

h. To disclose information to State and local health departments regarding infected persons who are unwilling to notify their contacts at the center for the purpose of enabling the counseling of contacts.

i. To disclose information to medical laboratories necessary in identifying specimens for the purpose of testing.

j. To disclose information to social service agencies in cases of a student's termination in order to provide services such as Medicaid, housing, finance, and placement.

k. To disclose information to the Army Finance Center, Fort Benjamin Harrison, Indiana, to pay student allowances and maintain and dispose of their pay records.

l. To disclose information to Federal, State, and local agencies and to community-based organizations for the operation of experimental, research, demonstration, evaluation and pilot projects authorized under sections 156 or 169 of the Workforce Innovation and Opportunity Act, 29 U.S.C. 3206 or 3224, except that in the case of a research project, the researcher shall guarantee to protect the anonymity of all staff and students involved in any presentation of the results of such study.

m. To disclose information to contractors and agencies that operate centers or have Outreach Admissions and Placement (OAandP) issues which demonstrate a legitimate need for the information to enable them to properly administer their responsibilities in the Job Corps program.

n. To disclose to the Selective Service system names, social security number, date of birth, and address of students, to ensure registration compliance for eligible applicants applying for Job Corps training benefits.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by name, social security number, and date of student entry.

SAFEGUARDS:

Access by authorized personnel only. Computer security safeguards are used for electronically stored data and locked locations for paper files.

RETENTION AND DISPOSAL:

Job Corps centers will maintain records of terminated students for a period of 3 years unless custodianship is extended or terminated, for administrative reasons, by the regional office. Counseling records are retained on the Job Corps center for 6 months after student's termination, after which they are destroyed. After termination, a summary or copy of the counseling record is placed in the health record.

After 3 years, centers will retire the records to the appropriate Federal Records center. Students' records are subject to destruction 75 years from the birth date of the youngest student's record contained in a GSA records retirement box, with the disposal authority being NC 369-76-2, item 59. [Note: Centers will send a copy of the SF 135-135 A (transmittal and receipt form) to the appropriate Job Corps regional office, after they have received the accession number from the appropriate Federal Records Center. In the event of a student's death, the student's entire personnel record shall be sent to the U.S. Department of Labor Job Corps National Health Office within 10 days of date of student's death.

SYSTEM MANAGER(S) AND ADDRESS:

Director, Office of Job Corps, U.S. DOL/ETA, Frances Perkins Building, 200 Constitution Avenue NW., Washington, DC 20210.

NOTIFICATION PROCEDURES:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from outreach/screening and placement contractors; Job Corps centers; Job Corps students; employment services; parole officers; State and local law enforcement agencies.

SYSTEMS EXEMPTED FROM CERTAIN PROVISIONS OF THE ACT:

None.

CENTRAL—DOL Central Systems of Records

DOL/CENTRAL-1

SYSTEM NAME:

Correspondents with the Department of Labor.

SECURITY CLASSIFICATION:

None.

SYSTEM LOCATION:

At the offices of each component agency within the U.S. Department of Labor, including national, regional, and contractor offices, and at the offices of call centers serving the Department including the Department's national call center currently located at the contractor's site in Chantilly, Virginia.

CATEGORIES OF INDIVIDUALS COVERED BY THE SYSTEM:

Individual correspondents with the various components of the Department who contact, by telephone, U.S. Mail or other mail/delivery service, online, email, or phone bank, components within the Department for various reasons such as, but not limited to, requests for information, brochures, requests for compliance assistance, requests to subscribe to message boards, and/or to use Web site based programs. It includes callers to the Department's call center and contractors providing mail and public information services to the Department.

CATEGORIES OF RECORDS IN THE SYSTEM:

This system contains comments by, or requests from, individuals and information necessary to satisfy requests for information or brochures, requests for compliance assistance, requests to subscribe to message boards, or email management systems, and/or to use Web site based programs. It includes information received from callers to the Department's call centers. Depending on the nature of the request, the file may include (but is not limited to) the following information regarding individuals who have contacted the Department: name, title, mailing address, telephone and fax number, email address, area of interest, and other information necessary to respond to a request.

AUTHORITY FOR MAINTENANCE OF THE SYSTEM:

5 U.S.C. 301.

PURPOSE(S):

To enhance information exchange by improving the availability of Departmental component information on automated systems; to facilitate sending information on compliance assistance to correspondents; to use Web site based programs; to provide usage statistics associated with the Department's public access Internet site; and to provide a framework from which to select an unbiased sample of individuals for surveys. Among other things, maintaining the names, addresses, etc. of individuals requesting data/publications will streamline the process for handling subsequent inquiries and requests by eliminating duplicative gathering of mailing information, data, and material on individuals who correspond with the Department.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Files are retrieved by name, telephone or fax number (including the telephone number from which the individual dials), email address or other identifying information in the system.

SAFEGUARDS:

Access by authorized personnel only. Computer security safeguards are used for electronically stored data and locked locations for paper files.

RETENTION AND DISPOSAL:

In accordance with General Records Schedule 14 item 1., current correspondent information files are updated as necessary and are destroyed after three months.

SYSTEM MANAGER(S) AND ADDRESS:

The relevant agency head for the applicable component agency within the U.S. Department of Labor, 200 Constitution Avenue NW., Washington, DC 20210.

NOTIFICATION PROCEDURE:

Inquiries should be mailed to the System Manager.

RECORD ACCESS PROCEDURE:

A request for access should be mailed to the System Manager.

CONTESTING RECORD PROCEDURES:

A petition for amendment should be mailed to the System Manager.

RECORD SOURCE CATEGORIES:

Information contained in this system is obtained from correspondents with the relevant component agency within the Department.

SYSTEMS EXEMPTED FROM CERTAIN PROVISIONS OF THE ACT:

None.

DOL/CENTRAL-2

SYSTEM NAME:

Registrants for Department of Labor Events and Activities.

SECURITY CLASSIFICATION:

None.

SYSTEM LOCATION:

At the offices of each component agency within the Department of Labor, including national, regional and contractor offices.

CATEGORIES OF INDIVIDUALS COVERED BY THE SYSTEM:

Individual correspondents with the various components of the Department who contact, by telephone, fax, U.S. Mail or other mail/delivery services, on-line, or email, components within the Department to register for conferences, events, activities, seminars, special interest Web sites, and programs.

CATEGORIES OF RECORDS IN THE SYSTEM:

This system contains information necessary to satisfy requests by individuals to register for Department conferences, events, activities, seminars, programs and special interest Web sites, including their requests for special accommodations and items such as meal preferences. Depending on the nature of the request, the file may include (but is not limited to) the following information on the individuals who have contacted the Department: name, title, mailing address, telephone and fax number, and email address.

AUTHORITY FOR MAINTENANCE OF THE SYSTEM:

5 U.S.C. 301.

PURPOSE(S):

To permit persons to register, by mail, telephone, fax, email and on-line, for Departmental conferences, events, activities, seminars, special interest Web sites, and programs; to enhance information exchange by improving the availability of Departmental component information on automated systems; to provide a framework from which to select an unbiased sample of individuals for surveys; and to maintain the names, addresses, etc. of individuals who register for conferences and seminars.

ROUTINE USES OF RECORDS MAINTAINED IN THE SYSTEM, INCLUDING CATEGORIES OF USERS AND THE PURPOSES OF SUCH USES:

In addition to the universal routine uses listed in the General Prefatory Statement to this document, a record from this system of records may be disclosed to private entities and/or State or other Federal agencies that co-sponsor or have a statutory interest in the subject of a particular conference or Web site. A record from this system may be disclosed to hotels, conference centers, caterers, interpreters and other entities that provide services for the purpose of holding the conferences and seminars, including services to persons with disabilities. The names and business addresses of attendees may be disclosed to conference attendees and/or the public, where appropriate. Records also may be disclosed where required by law.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

By name, telephone or fax number (including the telephone number from which the individual dials), email address or other identifying information in the system.

SAFEGUARDS:

Access by authorized personnel only. Computer security safeguards are used for electronically stored data and locked locations for paper files.

RETENTION AND DISPOSAL:

In accordance with General Records Schedule 14, Item 1, current correspondent information files are updated as necessary and are destroyed three months after the conclusion of event related activities.

SYSTEM MANAGER(S) AND ADDRESS:

The relevant agency head for the applicable component agency within the U.S. Department of Labor, 200 Constitution Avenue NW., Washington, DC 20210.

NOTIFICATION PROCEDURE:

Inquiries should be mailed to the System Manager.

RECORD ACCESS PROCEDURE:

A request for access should be mailed to the System Manager.

CONTESTING RECORD PROCEDURES:

A petition for amendment should be mailed to the System Manager.

RECORD SOURCE CATEGORIES:

Correspondents with the relevant component agency within the Department.

SYSTEMS EXEMPTED FROM CERTAIN PROVISIONS OF THE ACT:

None.

DOL/CENTRAL-3

SYSTEM NAME:

Internal Investigations of Harassing Conduct.

SECURITY CLASSIFICATION:

None.

SYSTEM LOCATION:

Records on covered individuals are located at the Department of Labor, Office of the Assistant Secretary for Administration and Management and with respective agency Equal Employment Opportunity (EEO) Managers in the national office.

CATEGORIES OF INDIVIDUALS COVERED BY THE SYSTEM:

Current or former Department employees, Department interns, or other such agents of the Department, nationwide, who have filed a complaint or report of harassment, or have been accused of harassing conduct under the Department's Policy to Prevent Harassing Conduct in the Workplace (the Policy).

CATEGORIES OF RECORDS IN THE SYSTEM:

The system contains all documents related to a complaint or report of harassment, which may include the complaint, statements of witnesses, reports of interviews, investigators and agency EEO manager's findings and recommendations, final decisions and corrective action taken, and related correspondence and exhibits.

Note: Records compiled by the Office of Inspector General in its investigations of harassing conduct are covered by its own system of records, entitled DOL/OIG-1, and are not part of this system of records.

AUTHORITY FOR MAINTENANCE OF THE SYSTEM:

5 U.S.C. 301; 44 U.S.C. 3101.

PURPOSE(S):

These records are maintained for the purpose of conducting internal investigations into allegations of harassment brought against Department employees and for taking appropriate action in accordance with the Department's Policy.

ROUTINE USES OF RECORDS MAINTAINED IN THE SYSTEM, INCLUDING CATEGORIES OF USERS AND THE PURPOSES OF SUCH USES:

In addition to those universal routine uses contained in the General Prefatory Statement to this document, disclosure of information from this system of records regarding the status of any investigation that may have been conducted may be made to the party who was subject to the harassment and to the alleged harasser when the purpose of the disclosure is both relevant and necessary and is compatible with the purpose for which the information was collected.

Note: Records compiled under the Policy which subsequently become part of the investigation record in an EEO complaint may be disclosed to the complainant if the Civil Rights Center (CRC) determines that the records are relevant and necessary with respect to adjudicating the EEO complaint, when such disclosure is compatible with the purpose for which the information was collected.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

These records are indexed by the name of the alleged victim(s) and/or the name of the individual accused of harassing conduct.

SAFEGUARDS:

Access by authorized personnel only. Computer security safeguards are used for electronically stored data and locked locations for paper files.

RETENTION AND DISPOSAL:

These records are maintained for four years from the date that the investigation is closed.

SYSTEM MANAGER(S) AND ADDRESS:

Respective agencies' EEO managers, U.S. Department of Labor, 200 Constitution Ave. NW., Suite N-4123, Washington, DC 20210.

NOTIFICATION PROCEDURE:

Inquiries should be mailed to the System Manager.

RECORD ACCESS PROCEDURE:

A request for access should be mailed to the System Manager.

CONTESTING RECORD PROCEDURES:

A petition for amendment should be mailed to the System Manager.

RECORD SOURCE CATEGORIES:

Individual complainants; agency EEO Managers; supervisors; management officials; employee relations staff; witness statements; Solicitor's Office staff; CRC staff, and summary reports on harassing conduct complaints.

SYSTEMS EXEMPTED FROM CERTAIN PROVISIONS OF THE ACT:

In accordance with 5 U.S.C. 552a(k)(2), investigative material in this system of records compiled for law enforcement purposes is exempt from subsections (c)(3), (d), (e)(1), (e)(4)(G), (H) and (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government with an express promise that the identity of the source would be held in confidence.

DOL/CENTRAL-4

SYSTEM NAME:

Department of Labor Advisory Committees Members Files.

SECURITY CLASSIFICATION:

None.

SYSTEM LOCATION:

Offices in various components within the U.S. Department of Labor, at the Frances Perkins Building, 200 Constitution Avenue NW., Washington, DC 20210, or other Department offices.

CATEGORIES OF INDIVIDUALS COVERED BY THE SYSTEM:

Present and former members of advisory committees established by the Department, and candidates for a position on an advisory committee.

CATEGORIES OF RECORDS IN THE SYSTEM:

Records contained in this system are biographical information of individuals who are or have been members, or are being considered for membership on the committees. The records also include the biographical information regarding individuals who have been nominated for membership on advisory committees.

AUTHORITY FOR MAINTENANCE OF THE SYSTEM:

5 U.S.C. 301.

PURPOSE(S):

The records are used to ensure that all appropriate personal records of advisory committee members, and nominees, are retained and are available for official use.

ROUTINE USES OF RECORDS MAINTAINED IN THE SYSTEM, INCLUDING CATEGORIES OF USERS AND THE PURPOSES OF SUCH USES:

In addition to those universal routine uses listed in the General Prefatory Statement to this document, information in these records may be disclosed to the General Services Administration when necessary to comply with the Federal Advisory Committee Act.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by member name, nominee name, committee name, or via identification number if electronically maintained.

SAFEGUARDS:

Access by authorized personnel only. Computer security safeguards are used for electronically stored data and locked locations for paper files.

RETENTION AND DISPOSAL:

After a committee term ends, its records are transferred to the National Archives and Records Administration for permanent retention.

SYSTEM MANAGER(S) AND ADDRESS:

The relevant agency head for the applicable component agency within the U.S. Department of Labor, 200 Constitution Ave. NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system relates to individual members of the committee and those persons making nominations to the committee.

SYSTEMS EXEMPTED FROM CERTAIN PROVISIONS OF THE ACT:

None.

DOL/CENTRAL-5

SYSTEM NAMES:

Privacy Act/Freedom of Information Act Requests File System.

SECURITY CLASSIFICATION:

None.

SYSTEM LOCATION:

a. Departmental Offices in Washington, DC;

b. Regional offices of the Department.

CATEGORIES OF INDIVIDUALS COVERED BY THE SYSTEM:

Individuals who have submitted Privacy Act and Freedom of Information Act requests under (5 U.S.C. 552a and 552).

CATEGORIES OF RECORDS IN THE SYSTEM:

This system contains initial requests under the Acts, responses, and related documents.

AUTHORITY FOR MAINTENANCE OF THE SYSTEM:

The Privacy Act of 1974 (5 U.S.C. 552a); the Freedom of Information Act (5 U.S.C. 552); and 5 U.S.C. 301).

PURPOSE(S):

This system of records is maintained for various reasons as follows:

a. To process individuals' requests made under the Privacy Act and Freedom of Information Act.

b. To provide a record of communications between the requester and the agency.

c. To ensure that all relevant, necessary and accurate data are available to support any process for appeal.

d. To provide a legal document to support any process for appeal.

e. To prepare the annual reports to OMB and Congress as required by the Privacy and Freedom of Information Acts.

ROUTINE USES OF RECORDS MAINTAINED IN THE SYSTEM, INCLUDING CATEGORIES OF USERS AND THE PURPOSES OF SUCH USES:

These records, and information in these records, may be used to disclose:

a. Information to the Office of Management and Budget at any stage in the legislative coordination and clearance process in connection with private relief legislation as set forth in OMB Circular No. A-19.

b. Information to Federal agencies (e.g., Department of Justice or the Office of Government Information Services) in order to obtain advice and recommendation concerning matters on which the agency has specialized experience or particular competence, for use in making required determinations under the Freedom of Information Act or the Privacy Act of 1974.

c. Information to any source from which additional information is requested (to the extent necessary to identify the individual, inform the source of the purpose of the request, and to identify the type of information requested), where necessary to obtain information relevant to a decision concerning a Privacy Act or Freedom of Information Act request.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name of individual making request and by date of request.

SAFEGUARDS:

Access by authorized personnel only. Computer security safeguards are used for electronically stored data and locked locations for paper files.

RETENTION AND DISPOSAL:

Records are retained for two years after response date if no denial was involved, and five years after response date if denial of records was involved. If there is an appeal to the Solicitor of Labor, the records are destroyed six years after final agency determination or 3 years after final court adjudication, whichever is later.

SYSTEM MANAGER(S) AND ADDRESS:

Head of agencies or component units within the Department who have custody of the records. See the appropriate Agency Official in the listing in the Appendix to this document.

NOTIFICATION PROCEDURE:

Inquiries should be mailed to the System Manager.

RECORD ACCESS PROCEDURE:

A request for access should be mailed to the System Manager.

CONTESTING RECORD PROCEDURES:

A petition for amendment shall be addressed to the System Manager.

RECORD SOURCE CATEGORIES:

Information contained in this system of records is obtained from individual requester, official documents, agency officials, and other Federal agencies.

SYSTEMS EXEMPTED FROM CERTAIN PROVISIONS OF THE ACT:

The Department of Labor has claimed exemptions from several of its other systems of records under 5 U.S.C. 552a(k) (1), (2), (3), (5), and (6). During the course of a PA/FOIA action, exempt materials from those other systems may become part of the case record in this system. To the extent that copies of exempt records from those other systems are entered into these PA/FOIA case records, the Department has claimed the same exemptions for the records as they have in the original primary system of records of which they are a part.

DOL/CENTRAL-6

SYSTEMS NAME:

Supervisor's/Team Leader's Records of Employees.

SECURITY CLASSIFICATION:

None.

SYSTEM LOCATION:

Records of membership in professional licensing organizations such as those for attorneys, accountants and physicians will be maintained in the supervisor's offices and in the national and regional Human Resources Offices. Emergency addressee information may be kept at the residence of or upon the supervisor's person when appropriate.

Note: Requests for a reasonable accommodation are made to supervisors. The Civil Rights Center may temporarily maintain a copy of such requests and of the medical documents submitted by the employee when the Public Health Service (PHS) physician completes his or her review of the request.

CATEGORIES OF INDIVIDUALS COVERED BY THE SYSTEM:

Current employees, employees who have retired or left the office within the last 12 months, and employees who have been separated from the office or Department for more than 12 months for whom the former supervisor/team leader has retained records.

CATEGORIES OF RECORDS IN THE SYSTEM:

Records related to individuals while employed by the Department and which contain such information as: Record of employee/supervisor discussions, supervisor(s)/team leader(s) observations, supervisory copies of officially recommended actions, reports of Federal Telecommunications System telephone usage containing call detail information, awards, disciplinary actions, emergency addressee information, flexiplace records, reports of on-the-job accidents, injuries, or illnesses, correspondence from physicians or other health care providers, training requests, requests for regular leave, advanced leave, family and medical leave, and records of membership in professional licensing organizations such as those for attorneys, accountants and physicians. The system also contains records relating to requests for reasonable accommodation and/or leave, including medical documents submitted by employees, as well as reports and records by the PHS physicians who have reviewed the accommodation requests. The system also contains labor relations materials such as performance improvement plans, reprimands, suspensions of less than 14 days, leave restrictions and related materials.

AUTHORITY FOR MAINTENANCE OF THE SYSTEM:

5 U.S.C. 301, 1302, 2951, 4118, Reorganization Plan 6 of 1950, and the Civil Service Reform Act of 1978. The Rehabilitation Act and the Americans with Disabilities Act.

PURPOSES(S):

To maintain a file for the use of supervisor(s)/team leader(s) in performing their responsibilities and to support specific personnel actions regarding employees.

ROUTINE USES OF RECORDS MAINTAINED IN THE SYSTEM, INCLUDING CATEGORIES AND USERS AND THE PURPOSE OF SUCH USES:

In addition to the universal routine uses listed in the General Prefatory Statement to this document, the following routine uses apply to this system of records:

a. Selected information may be disclosed at appropriate stages of investigation and adjudication to the Department's Civil Rights Center, Merit Systems Protection Board, Office of Special Counsel, Federal Labor Relations Authority, Equal Employment Opportunity Commission, arbitrators, or the courts for the purposes of satisfying requirements related to investigation of or litigation related to alleged discrimination, prohibited personnel practices, and unfair labor practices.

b. Records relating to a request for a reasonable accommodation may be referred to PHS or other physicians for their review and evaluation of the request.

c. Data may be disclosed to medical providers for the purpose of evaluating sick leave absences based upon illness or injury.

d. Information may be disclosed to professional licensing organizations such as those for attorneys, accountants, and physicians for the purpose of confirming the membership status of the employee.

DISCLOSURE TO CONSUMER REPORTING AGENCIES:

None.

POLICIES FOR STORING, RETRIEVING, ACCESSING, RETAINING, AND DISPOSING OF RECORDS IN THE SYSTEM:

STORAGE:

Records are maintained in electronic and/or paper files.

RETRIEVABILITY:

Files are retrieved by name of employee or other identifying information.

SAFEGUARDS:

Access by authorized personnel only. Computer security safeguards are used for electronically stored data, and locked locations for paper files.

RETENTION AND DISPOSAL:

Records are maintained on current employees. Review annually and destroy superseded or obsolete documents, or destroy file relating to an employee within 1 year after separation or transfer in accordance with General Records Schedule 1 Item 18a.

SYSTEM MANAGER(S) AND ADDRESS:

All supervisor(s)/team leader(s) having responsibility for performance management plans, performance standards, or ratings.

NOTIFICATION PROCEDURE:

Inquiries should be mailed to the applicable System Manager.

RECORD ACCESS PROCEDURES:

A request for access should be mailed to the applicable System Manager.

CONTESTING RECORD PROCEDURES:

A petition for amendments should be mailed to the applicable System Manager

RECORD SOURCE CATEGORIES:

Information contained in this system is obtained from the individual, supervisor(s)/team leader(s), agency officials, medical providers, co-workers, and professional licensing organizations such as those for attorneys, accountants and physicians.

SYSTEMS EXEMPTED FROM CERTAIN PROVISIONS OF THE ACT

None.

DOL/CENTRAL-7

SYSTEM NAME:

DOL Employee Conduct Investigations.

SECURITY CLASSIFICATION:

None.

SYSTEM LOCATION:

The offices of each component agency within the U.S. Department of Labor, including the National and Regional offices.

CATEGORIES OF INDIVIDUALS COVERED BY THE SYSTEM:

Employee(s) against whom any allegations of misconduct or violations of law have been made.

CATEGORIES OF RECORDS IN THE SYSTEM:

Investigative report(s), sworn affidavits, written statements, time and attendance records, earnings and leave statements, applications for leave, notifications of personnel actions, travel vouchers, performance appraisals, interviews and other data gathered from involved parties and organizations which are associated with the case.

AUTHORITY FOR MAINTENANCE OF THE SYSTEM:

5 U.S.C. 301.

PURPOSES(S):

To investigate allegations of misconduct or violations of law.

ROUTINE USE OF RECORDS MAINTAINED IN THE SYSTEM, INCLUDING CATEGORIES OF USERS AND THE PURPOSE OF SUCH USERS:

None, except for those universal routine uses listed in the General Prefatory Statement to this document.

DISCLOSURE TO CONSUMER REPORTING AGENCIES:

None.

POLICIES AND PRACTICES FOR STORING, RETRIEVING, ACCESSING, RETAINING, AND DISPOSING IN THE SYSTEM:

STORAGE:

Files are stored electronically and/or on paper.

RETRIEVABILITY:

Files are retrieved by name or case file number.

SAFEGUARDS:

Access by authorized personnel only. Computer security safeguards are used for electronically stored data and locked locations for paper files.

RETENTION AND DISPOSAL:

Records are maintained on current employees. Review annually and destroy superseded or obsolete documents, or destroy file relating to an employee within 1 year after separation or transfer in accordance with General Records Schedule 1 Item 18a.

SYSTEM MANAGER(S) AND ADDRESS:

The relevant agency head for the applicable component agency within the U.S. Department of Labor, 200 Constitution Ave. NW., Washington, DC 20210.

NOTIFICATION PROCEDURE:

Inquiries should be sent to the applicable System Manger.

RECORD ACCESS PROCEDURES:

A request for access shall be mailed to the applicable System Manager.

CONTESTING RECORD PROCEDURES:

A petition for amendment should be mailed to the applicable System Manager.

RECORD SOURCE CATEGORIES:

Incident reports submitted by employees or members of the general public; statements by subject and fellow employees; and other investigative reports.

SYSTEM EXEMPTED FROM CERTAIN PROVISIONS OF THE ACT:

None.

ADJ—DOL Adjudicatory Boards Systems of Records

DOL/ADJBDS-1

SYSTEM NAMES:

DOL Appeals Management System (AMS)

SECURITY CLASSIFICATION:

None.

SYSTEM LOCATION:

Office of the Boards and their Information Technology (IT) service provider(s).

CATEGORIES OF INDIVIDUALS COVERED BY THE SYSTEM:

Parties involved in appeals proceedings before the Administrative Review Board (ARB), Benefits Review Board (BRB), and Employees' Compensations Appeals Board (ECAB), collectively referred to as the Boards.

CATEGORIES OF RECORDS IN THE SYSTEM:

Records contain information assembled in case files pertaining to appeals to the Boards with respect to claims of employees for benefits under various statutes and programs.

AUTHORITY FOR MAINTENANCE OF THE SYSTEM:

5 U.S.C. 301; The Privacy Act of 1974 (5 U.S.C. 552a); 30 U.S.C. 901-62 (1982); 33 U.S.C. 901-50 (1982); 42 U.S.C. 1651-54 (1982); 36 DC Code 501-04 (1973); 5 U.S.C. 8171-73 (1982); 42 U.S.C. 1701-17 (1982); Surface Transportation Assistance Act, 49 U.S.C. 31105; 29 CFR part 1978; Energy Reorganization Act of 1974, as amended, 42 U.S.C. 5851 (1988); Clean Air Act, 42 U.S.C. 7622 (1988); Water Pollution Control Act, 33 U.S.C. 1367 (1988); Solid Waste Disposal Act, 42 U.S.C. 6971(a) (1988); Safe Drinking Water Act, 42 U.S.C. 300j-9(1988); Toxic Substances Control Act, 15 U.S.C. 2622 (1988); Comprehensive Environmental Response Compensation and Liability Act, 42 U.S.C. 9610 (1988); Comprehensive Employment and Training Act, as amended, 29 U.S.C. 801(Supp. V 1981); 20 CFR part 627; Workforce Innovation and Opportunity Act, 29 U.S.C. 3101 et seq.; The Workforce Investment Act of 1998, 29 U.S.C. 2801 et seq., Davis-Bacon Act, 40 U.S.C. 276a (1994); McNamara-O'Hara Service Contract Act of 1965, as amended; Migrant and Seasonal Agricultural Worker Protection Act, 29 U.S.C. 1813(b), 1853(b) (1988); Longshore and Harbor Workers' Compensation Act, 33 U.S.C. 907(j) (1988); Walsh-Healey Public Contracts Act, as amended, 41 U.S.C. 38; 41 CFR part 50-203; Age Discrimination Act of 1975, 42 U.S.C. 6101-6107 (1988); Title VI of the Civil Rights Act of 1964; Contract Work Hours and Safety Standards Act, 40 U.S.C. 327 et seq.; 29 CFR part 6; Title IX of the Education Amendments of 1972, 20 U.S.C. 1681-1686 (1988); Employee Polygraph Protection Act of 1988, 29 U.S.C. 2001-2009 (1988); Equal Access to Justice Act, 5 U.S.C. 504 (1988); Executive Order No. 11,246, as amended, 3 CFR 339 (1964-1965 Comp.) reprinted in 42 U.S.C. 2000e app.; Fair Labor Standards Act of 1938, as amended, 29 U.S.C. 203(m) and (t), 211(d), 214(c) (1988); Federal Unemployment Tax Act, 26 U.S.C. 3304; Immigration Reform and Control Act of 1986, 8 U.S.C. 1101(a)(15)(H)(ii)(a), 1184(c), 1188 (1988); National Apprenticeship Act, 29 U.S.C. 50 (1988); Program Fraud Civil Remedies Act of 1986, 31 U.S.C. 3801-3812 (1988); Sections 503 and 504 of the Rehabilitation Act of 1973, as amended, 29 U.S.C. 793, 794 (1988); Social Security Act, 42 U.S.C. 503 (Supp. V 1987); Single Audit Act of 1984, 31 U.S.C. 7501-7507 (1988); Trade Act of 1974, as amended, 26 U.S.C. 3302; Vietnam Era Veterans Readjustment Assistance Act, as amended, 38 U.S.C. 4212 (1988); and any laws enacted after May 3,1996, which by statute, law or regulation provide for final decisions by the Secretary of Labor upon appeal or review of decisions or recommended decisions of ALJs; 5 U.S.C. 8101 et seq.

PURPOSE:

Records are maintained for use in adjudication of appeals.

ROUTINE USES OF RECORDS MAINTAINED IN THE SYSTEM, INCLUDING CATEGORIES OF USERS AND THE PURPOSES OF SUCH USES:

Disclosure outside the Department of Labor may be made to federal courts. The Boards decisions are sent to commercial publishing companies for publication, and are also placed on the respective Board's Internet Web site.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by the Boards' docket number, Office of Administrative Law Judges (OALJ) number, Office of Workers' Compensation Programs (OWCP) number and claimant's name.

SAFEGUARDS:

Access by authorized personnel only. Computer security safeguards are used for electronically stored data and locked locations for paper files.

RETENTION AND DISPOSAL:

The Board retains the case file until it renders a decision on the appeal. The case file is then returned to the appropriate lower, adjudicatory entity (e.g., the OWCP or OALJ). Copies of the appeal decision are retained permanently.

SYSTEM MANAGER(S) AND ADDRESS:

Clerk of the Board, Benefits Review Board, U.S. Department of Labor, 200 Constitution Avenue NW., Washington, DC 20210.

NOTIFICATION PROCEDURE:

Individuals requesting information pertaining to them should send a written and signed request to the System Manager.

RECORD ACCESS PROCEDURES:

A request for access may be addressed to the System Manager. The request must be in writing and be signed by the requester.

CONTESTING RECORD PROCEDURES:

A petition for amendment shall be addressed to the System Manager.

RECORD SOURCE CATEGORIES:

Records in the system include information submitted by claimants, employers, carriers, and other persons involved in appeals proceedings, as well as by the Government.

SYSTEMS EXEMPTED FROM CERTAIN PROVISIONS OF THE ACT:

None.

BLS—DOL Bureau of Labor Statistics Systems of Records

DOL/BLS-3

SYSTEM NAMES:

Staff Time Utilization System.

SECURITY CLASSIFICATION:

None.

SYSTEM LOCATION:

Bureau of Labor Statistics Washington, DC 20212.

CATEGORIES OF INDIVIDUALS COVERED BY THE SYSTEM:

Regional Office (R.O.) BLS employees.

CATEGORIES OF RECORDS IN THE SYSTEM:

Records include name, pay period, hours worked, units accomplished by PAS code for functions such as data collection, quality assurance, training, and other activities.

AUTHORITY FOR MAINTENANCE OF THE SYSTEM:

5 U.S.C. 301.

PURPOSE(S):

STU data is used in the development of cost models for Bureau survey work. Codes define program and sub-program areas, work activities, and work locations. The data is used to track productivity and time usage.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by a data field, such as name.

SAFEGUARDS:

Access by authorized personnel only. Computer security safeguards are used for electronically stored data.

RETENTION AND DISPOSAL:

Records are retained by fiscal year, in accordance with BLS Records Schedule N1-257-86-4.

SYSTEM MANAGER(S) AND ADDRESS:

Chief, Division of Business Operations, Office of Field Operations, Postal Square Building, 2 Massachusetts Ave. NE., Washington, DC 20212.

NOTIFICATION PROCEDURE:

Inquiries should be mailed to the System Manager. Provide the name and dates of employment.

RECORD ACCESS PROCEDURES:

A request for access should be mailed to the System Manager.

CONTESTING RECORD PROCEDURES:

A petition for amendment should be mailed to the System Manager.

RECORD SOURCE CATEGORIES:

Employee information contained in this system is obtained from the Department of Labor Human Resources system (HR Connect). Regional Office employees self-report, electronically entering time worked into the “Staff Time and Utilization System” each pay period.

SYSTEMS EXEMPTED FROM CERTAIN PROVISIONS OF THE ACT:

None.

DOL/BLS-8

SYSTEM NAMES:

Automated Training Request Application (ATRA).

SECURITY CLASSIFICATION:

None.

SYSTEM LOCATION:

Bureau of Labor Statistics, National Office.

CATEGORIES OF INDIVIDUALS COVERED BY THE SYSTEM:

BLS employees who take training.

CATEGORIES OF RECORDS IN THE SYSTEM:

Employee name, employee organization, course taken, course start date, course end date, total hours for course, course completion date, and course fee.

AUTHORITY FOR MAINTENANCE OF THE SYSTEM:

5 U.S.C. 301.

PURPOSE(S):

The records are maintained to enable BLS to allocate costs of training to appropriate organization within BLS and managers and employees to track courses taken by employees.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by course title, course number, name of employee attending course, or other identifying codes.

SAFEGUARDS:

Access by authorized personnel only. Computer security safeguards are used for electronically stored data and locked locations for paper files. Network passwords are necessary to access records. Access levels are created within automated systems to restrict unauthorized access to system utilities.

RETENTION AND DISPOSAL:

Records are retained for 5 years or when superseded or obsolete, whichever is sooner, in accordance with BLS Records Schedule N1-257-88-1.

SYSTEM MANAGER(S) AND ADDRESS:

Chief, Workforce Development and Training Branch, Division of Human Resources and Organization Management, Postal Square Building, 2 Massachusetts Ave. NE., Washington, DC 20212.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from applications for employees, training forms such as SF-182, certificates of course completion, BLS routine administrative files, or other application forms BLS may designate.

SYSTEMS EXEMPTED FROM CERTAIN PROVISIONS OF THE ACT:

None.

DOL/BLS-9

SYSTEM NAMES:

Routine Administrative Files.

SECURITY CLASSIFICATION:

None.

SYSTEM LOCATION:

Bureau of Labor Statistics, Postal Square Building, 2 Massachusetts Ave. NE., Washington, DC 20212.

CATEGORIES OF INDIVIDUALS COVERED BY THE SYSTEM:

BLS employees, BLS contractors, and visitors to the Postal Square Building.

CATEGORIES OF RECORDS IN THE SYSTEM:

Several groups of records exist: ID card records, employee location records, separations database records, Postal Square Building Visitor system records, Postal Square Building Phone system records, facility service requests records, transit subsidy records, government credit card records, cardkey security records, print and duplication records, and emergency contact records.

AUTHORITY FOR MAINTENANCE OF THE SYSTEM:

5 U.S.C. 301.

PURPOSE(S):

To record and track routine administrative data, maintain security, manage the facility, plan expenditures, maintain an employee locator system, and maintain emergency contact information.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by individual's name, Social Security Number, or other information in the system.

SAFEGUARDS:

Access by authorized personnel only. Computer security safeguards are used for electronically stored data and locked locations for paper files.

RETENTION AND DISPOSAL:

Records are retained one to four years, in accordance with BLS Records Schedule N1-257-88-1, BLS Records Schedule N1-257-06-2, and the National Archives and Records Administration (NARA) General Records Schedule (GRS) 1-4, 6, 9, 11-13, 18, and 20.

SYSTEM MANAGER(S) AND ADDRESS:

Chief, Division of Administrative Services, Postal Square Building, 2 Massachusetts Ave. NE., Washington, DC 20212.

Chief, Division of Information Services, Postal Square Building, 2 Massachusetts Ave. NE., Washington, DC 20212.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from the individual requester, official documents, agency officials, and other federal agencies.

SYSTEMS EXEMPTED FROM CERTAIN PROVISIONS OF THE ACT:

None.

DOL/BLS-10

SYSTEM NAMES:

Commissioner's Correspondence Control System.

SECURITY CLASSIFICATION:

None.

SYSTEM LOCATION:

Bureau of Labor Statistics, Washington, DC 20212.

CATEGORIES OF INDIVIDUALS COVERED BY THE SYSTEM:

Individuals from whom correspondence is received in the Commissioner's Office of the Bureau of Labor Statistics.

CATEGORIES OF RECORDS IN THE SYSTEM:

Information about correspondence and the originators including the name of the sender, subject of the correspondence, name of the individual, office instructed to prepare a response, control number, dates, and related information.

AUTHORITY FOR MAINTENANCE OF THE SYSTEM:

5 U.S.C. 301.

PURPOSE(S):

To record the receipt of correspondence, monitor the handling of correspondence, and facilitate a timely response to correspondence.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name, control number, office assigned response, dates.

SAFEGUARDS:

Access by authorized personnel only. Computer security safeguards are used for electronically stored data and locked locations for paper files.

RETENTION AND DISPOSAL:

Records are retained for five years, in accordance with BLS Records Schedule N1-257-88-1.

SYSTEM MANAGER(S) AND ADDRESS:

Chief, Division of Information Systems, Postal Square Building, 2 Massachusetts Ave. NE., Washington, DC 20212.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from correspondence received in the Commissioner's Office.

SYSTEMS EXEMPTED FROM CERTAIN PROVISIONS OF THE ACT:

None.

DOL/BLS-11

SYSTEM NAMES:

Mainframe User ID Database.

SECURITY CLASSIFICATION:

None.

SYSTEM LOCATION:

Offices of the Bureau of Labor Statistics (BLS) in Washington, DC.

CATEGORIES OF INDIVIDUALS COVERED BY THE SYSTEM:

BLS employees, BLS contractors, state agencies employees.

CATEGORIES OF RECORDS IN THE SYSTEM:

Records include name, ID to access system, office address and phone number, and account number.

AUTHORITY FOR MAINTENANCE OF THE SYSTEM:

5 U.S.C. 301.

PURPOSE(S):

To assign and maintain ID numbers, mainframe computer uses, locate mainframe users, and run an accounting program.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Files are retrieved by any of the fields listed in the Categories of Records in the System Section.

SAFEGUARDS:

Access by authorized personnel only. Computer security safeguards are used for electronically stored data and locked locations for paper files.

RETENTION AND DISPOSAL:

Records are reviewed at the beginning of each fiscal year, and inactive IDs from the previous year are deleted.

SYSTEM MANAGER(S) AND ADDRESS:

Chief, Division of Technology Measurement and Strategic Initiatives, Postal Square Building, 2 Massachusetts Ave. NE., Washington, DC 20212.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from BLS mainframe users.

SYSTEMS EXEMPTED FROM CERTAIN PROVISIONS OF THE ACT:

None.

DOL/BLS-13

SYSTEM NAMES:

National Longitudinal Survey of Youth 1979 (NLSY79) Database.

SECURITY CLASSIFICATION:

None.

SYSTEM LOCATION:

Maintained at the offices of a Bureau of Labor Statistics (BLS) contractor and BLS offices in Washington, DC and Chicago, IL.

CATEGORIES OF INDIVIDUALS COVERED BY THE SYSTEM:

A sample of the general population who were ages 14-21 on December 31, 1978 (referred to as respondents), with over representation of blacks, Hispanics, economically disadvantaged whites, and persons serving in the military.

CATEGORIES OF RECORDS IN THE SYSTEM:

Records include, but are not limited to, name, social security number, control number, marital history, education, job history, unemployment history, military service, training history, family planning, child health history, alcohol use, drug use, reported police contacts, anti-social behavior, assets and income, school records, Government assistance program participation, childhood residence, child development outcomes, expectations, history of parent/child relationship, time use, time spent on child care and household chores, immigration history, and Armed Services Vocational Aptitude Battery scores.

AUTHORITY FOR MAINTENANCE OF THE SYSTEM:

29 U.S.C. Sec. 2.

PURPOSE(S):

To serve a variety of policy-related research interests concerning the labor market problems of youth. Data are used for studies such as (but not limited to): Diffusion of useful information on labor, examination of employment and training programs, understanding labor markets, guiding military manpower and measuring the effect of military service, analysis of social indicators and measuring parental and child inputs and outcomes.

ROUTINE USES OF RECORDS MAINTAINED IN THE SYSTEM, INCLUDING CATEGORIES OF USERS AND THE PURPOSE OF SUCH USES:

BLS may release records to a contractor to compile data which are not individually identifiable for use by the general public and federal agencies who are conducting labor force research. Under written agreement to protect the confidentiality and security of identifying information, BLS may provide potentially identifying geographic information to researchers to conduct specific research projects which further the mission and functions of BLS. The records also may be disclosed where required by law. Items 3, 4, 7, 8, 9, 10, and 11, 12, 13, and 14 listed in the General Prefatory Statement to this document are not applicable to this system of records.

DISCLOSURE TO CONSUMER REPORTING AGENCIES:

None.

POLICIES AND PRACTICES FOR STORING, RETRIEVING, ACCESSING, RETAINING, AND DISPOSING OF RECORDS IN THE SYSTEM:

STORAGE:

Files are stored electronically and on paper.

RETRIEVABILITY:

Files are stored electronically and/or on paper.

SAFEGUARDS:

Access by authorized personnel only. Computer security safeguards are used for electronically stored data and locked locations for paper files.

RETENTION AND DISPOSAL:

Records are retained permanently, in accordance with BLS Records Schedule N1-257-11-1.

SYSTEM MANAGER(S) AND ADDRESS:

Program Manager, NLS Youth 1979 Cohort Study, Office of Employment and Unemployment Statistics, Room 4945, Postal Square Building, 2 Massachusetts Ave. NE., Washington, DC 20212.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individuals who have participated in the survey.

SYSTEMS EXEMPTED FROM CERTAIN PROVISIONS OF THE ACT:

None.

DOL/BLS-14

SYSTEM NAMES:

BLS Behavioral Science Research Laboratory Project Files.

SECURITY CLASSIFICATION:

None.

SYSTEM LOCATION:

Bureau of Labor Statistics, Washington, DC.

CATEGORIES OF INDIVIDUALS COVERED BY THE SYSTEM:

Individual respondents who participate in studies.

CATEGORIES OF RECORDS IN THE SYSTEM:

Records include respondent's name, name of study, biographic/personal information on the respondent, and test results and observations.

AUTHORITY:

29 U.S.C. Sec. 2.

PURPOSE(S):

Biographic/personal information is used by BLS to select participants for studies. Test results and observations are used by BLS to better understand the behavioral and psychological processes of individuals, as they reflect on the accuracy of BLS information collections.

ROUTINE USES OF RECORDS MAINTAINED IN THE SYSTEM, INCLUDING CATEGORIES OF USERS AND THE PURPOSE OF SUCH USES:

None, except for those universal routine uses listed in the General Prefatory Statement to this document with the following limitations: The Routine Uses listed at paragraphs 3, 4, 7, 8, 9, and 11 in the General Prefatory Statement to this document are not applicable to this system of records. The records also may be disclosed where required by law.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by respondent's name, study title or participant identification number.

SAFEGUARDS:

Access by authorized personnel only. Computer security safeguards are used for electronically stored data and locked locations for paper files.

RETENTION AND DISPOSAL:

Records are retained for one to three years, in accordance with BLS Records Schedule N1-257-09-02.

SYSTEM MANAGER(S) AND ADDRESS:

Director, Behavioral Sciences Research Center, Office of Survey Methods Research, Postal Square Building, 2 Massachusetts Ave. NE., Washington, DC 20212.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from respondents.

SYSTEMS EXEMPTED FROM CERTAIN PROVISIONS OF THE ACT:

None.

DOL/BLS-17

SYSTEM NAMES:

National Longitudinal Survey of Youth 1997 (NLSY97) Database.

SECURITY CLASSIFICATION:

None.

SYSTEM LOCATION:

Maintained at the offices of a Bureau of Labor Statistics (BLS) contractor and BLS offices in Washington, DC and Chicago, IL.

CATEGORIES OF INDIVIDUALS COVERED BY THE SYSTEM:

A sample of the general population who were ages 12-16 on December 31, 1996 (referred to as respondents), with over representation of blacks, Hispanics, and disabled students.

CATEGORIES OF RECORDS IN THE SYSTEM:

Records include, but are not limited to, name, social security number, control number, marital history, education, job history, unemployment history, military service, training history, fertility/family planning, child health history, alcohol use, drug use, reported police contacts, anti-social behavior, assets and income, school records, Government assistance program participation, childhood residence, child development outcomes, expectations, history of parent/child relationship, time use, time spent on child care and household chores, immigration history, and Armed Services Vocational Aptitude Battery scores.

AUTHORITY FOR MAINTENANCE OF THE SYSTEM:

29 U.S.C. Sec. 2.

PURPOSE(S):

To serve a variety of policy-related research interests concerning the school-to-work transition and the labor market problems of youth. Data are used for studies such as (but not limited to): diffusion of useful information on labor, examination of employment and training programs, understanding labor markets, analysis of social indicators, measuring parental and child input and outcomes, norming the Department of Defense Armed Services Vocational Aptitude Battery in its computerized adaptive form, and creation of norms for the Department of Defense Interest Measure.

ROUTINE USES OF RECORDS MAINTAINED IN THE SYSTEM, INCLUDING CATEGORIES OF USERS AND THE PURPOSE OF SUCH USES:

BLS may release records to a contractor to compile data which are not individually identifiable for use by the general public and federal agencies who are conducting labor force research. Under written agreement to protect the confidentiality and security of identifying information, BLS may provide potentially identifying geographic information to researchers to conduct specific research projects which further the mission and functions of BLS. The records also may be disclosed where required by law. Items 3, 4, 7, 8, 9, 10, 11, 12, 13, and 14 listed in the General Prefatory Statement to this document are not applicable to this system of records.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name or control number.

SAFEGUARDS:

Access by authorized personnel only. Computer security safeguards are used for electronically stored data, and locked locations for paper files.

RETENTION AND DISPOSAL:

Records are retained permanently, in accordance with BLS Records Schedule N1-257-11-1.

SYSTEM MANAGER(S) AND ADDRESS:

Program Manager, NLS Youth 1997 Cohort Study, Office of Employment and Unemployment Statistics, Postal Square Building, 2 Massachusetts Ave. NE., Washington, DC 20212.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individuals who have participated in the survey.

SYSTEMS EXEMPTED FROM CERTAIN PROVISIONS OF THE ACT:

None.

DOL/BLS-18

SYSTEM NAMES:

Postal Square Building Parking Management Records.

SECURITY CLASSIFICATION:

None.

SYSTEM LOCATION:

Bureau of Labor Statistics (BLS), Washington, DC.

CATEGORIES OF INDIVIDUALS COVERED BY THE SYSTEM:

All individuals assigned or applying for assignment of parking privileges in the Postal Square Building, Washington, DC.

CATEGORIES OF RECORDS IN THE SYSTEM:

This system includes the following information on all individuals assigned or applying for parking privileges in the Postal Square Building: Name of driver and rider(s), office building and room number, office telephone number, employing agency home address including city, State and zip code, federal service computation date, handicap certification, automobile license numbers, make and year of car, permit number (if assigned parking privileges), category of assignments, estimated times of arrival and departure, and whether the applicant is in or out of the zone of special consideration.

AUTHORITY FOR MAINTENANCE OF THE SYSTEM:

5 U.S.C. 301.

PURPOSE(S):

The information is used by the BLS in the administration of the Postal Square Building vehicle parking and car pool programs.

ROUTINE USES OF RECORDS MAINTAINED IN THE SYSTEM, INCLUDING CATEGORIES OF USERS AND THE PURPOSE OF SUCH USES:

Disclosure of information may be made to other government agencies to compare names of car pool members. For verification and, as a service to car pool seekers, the name of each driver and rider, permit number office telephone number and address of the driver and rider, home address, will be displayed within BLS facilities and on automated information systems including the Intranet. Information may be provided to other applicants or listed members of the carpool, or their supervisors in order to confirm information provided on the application.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by individual's name, permit number or other information in the system.

SAFEGUARDS:

Access by authorized personnel only. Computer security safeguards are used for electronically stored data and locked locations for paper files.

RETENTION AND DISPOSAL:

Records are retained for three months, in accordance with the National Archives and Records Administration (NARA) General Records Schedule (GRS) 11, Item 4a [http://www.archives.gov/records-mgmt/grs/grs11.html].

SYSTEM MANAGER(S) AND ADDRESS:

Chief, Division of Administrative Services, 2 Massachusetts Ave. NE., Washington, DC 20212.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individual requesters' applications.

SYSTEMS EXEMPTED FROM CERTAIN PROVISIONS OF THE ACT

None.

DOL/BLS-19

SYSTEM NAME:

Customer Information Files.

SECURITY CLASSIFICATION:

None.

SYSTEM LOCATION:

Offices in the Bureau of Labor Statistics (BLS), Washington, DC and in each of the BLS Regional Offices.

CATEGORIES OF INDIVIDUALS COVERED BY THE SYSTEM:

Individuals (customers) requesting BLS information.

CATEGORIES OF RECORDS IN THE SYSTEM:

Information necessary to satisfy customers' requests and enhance service to customers. Depending on the nature of the request, may include (but is not limited to) name, occupation, organization name, mailing address, telephone and fax numbers, information requested, electronic mail addresses, registration keys, and dates.

AUTHORITY FOR MAINTENANCE OF THE SYSTEM:

5 U.S.C. 301.

PURPOSE(S):

To enhance customer service by improving the availability of BLS information on automated systems, to facilitate providing information about BLS and its data products to customers with corresponding interests, and to allow BLS staff to better understand who our customers are and what they're interested in. Maintaining the names, addresses, etc. of customers requesting BLS data/publications will enable BLS to streamline the process for handling subsequent customer inquiries and requests by eliminating duplicative gathering of mailing information. Maintaining electronic mail addresses and provided organization name allows BLS to proactively contact customer of problems with data requests such as `run away queries' ensuring fairer access to all BLS data customers. Another purpose is to inform customers of new features, changes to existing features or changes in the conditions of use of the files.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Information is stored electronically and/or on paper.

RETRIEVABILITY:

Files are retrieved by name, email address, telephone (including the telephone number from which the customer dials), or other identifying information in the System.

SAFEGUARDS:

Access by authorized personnel only. Computer security safeguards are used for electronically stored data.

RETENTION AND DISPOSAL:

Email addresses remain on mailing lists until the customer requests removal from the list, or when the email bounces back. Other PII is deleted from the database 90 days after the customer's last date of inquiry. Registration keys expire after 366 days and associated records are deleted unless a customer registers again for another year.

SYSTEM MANAGER(S) AND ADDRESS:

Associate Commissioner for Publications and Special Studies, Postal Square Building, 2 Massachusetts Ave. NE., Washington, DC 20212.

Associate Commissioner for Field Operations, Postal Square Building, 2 Massachusetts Ave. NE., Washington, DC 20212.

Chief, Division of Enterprise Web Systems, Postal Square Building, 2 Massachusetts Ave. NE., Washington, DC 20212.

NOTIFICATION PROCEDURE:

Inquiries should be mailed to the System Managers.

RECORD ACCESS PROCEDURES:

A request for access should be mailed to the System Managers.

CONTESTING RECORD PROCEDURES:

A petition for amendment should be mailed to the System Managers.

RECORD SOURCE CATEGORIES:

Information contained in this system is obtained from subject of the record.

SYSTEMS EXEMPTED FROM CERTAIN PROVISIONS OF THE ACT:

None.

DOL/BLS-20

SYSTEM NAME:

Fellowship Applicants and Recipients Files.

SECURITY CLASSIFICATION:

None.

SYSTEM LOCATION:

Offices in the Bureau of Labor Statistics (BLS) National Office.

CATEGORIES OF INDIVIDUALS COVERED BY THE SYSTEM:

Applicants and recipients of fellowship awards (e.g., Fellows in the American Statistical Association/National Science Foundation/BLS Fellowship Program), who are not Federal employees but are assigned to work with BLS staff and/or BLS non-public data files).

CATEGORIES OF RECORDS IN THE SYSTEM:

Records include the individual's name, school transcripts, work address and telephone number, home address and telephone number, and biographical information, applications, research proposals and related papers, test results, and other documents such as correspondence with the individual.

AUTHORITY FOR MAINTENANCE OF THE SYSTEM:

5 U.S.C. 301.

PURPOSE(S):

To assure that the appropriate records on fellowship awards are maintained and are available for official use.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name.

SAFEGUARDS:

Access by authorized personnel only. Computer security safeguards are used for electronically stored data, and locked locations for paper files.

RETENTION AND DISPOSAL:

Records are retained on a permanent basis. Records are transferred to the Federal Records Center when five (5) years old. They are offered to National Archives and Records Administration in ten (10) year blocks, when the most recent record is twenty (20) years old. BLS Record schedule N1-257-09-02.

SYSTEM MANAGER(S) AND ADDRESS:

Associate Commissioner for Survey Methods Research, Postal Square Building, 2 Massachusetts Ave. NE., Washington, DC 20212.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from applicants and award recipients, references, the Education Testing Service, educational institutions supplying transcripts, review records, and administrative data developed during the selection process and/or award tenure.

SYSTEMS EXEMPTED FROM CERTAIN PROVISIONS OF THE ACT:

None.

DOL/BLS-21

SYSTEM NAME:

Data Sharing Agreements Database (DSA).

SECURITY CLASSIFICATION:

None.

SYSTEM LOCATION:

Offices of the Bureau of Labor Statistics (BLS).

CATEGORIES OF INDIVIDUALS COVERED BY THE SYSTEM:

Applicants and recipients of BLS data sharing agreements who are granted access to non-public BLS data files. Individuals may be federal employees or private individuals designated as “agents” under the Confidential Information Protection and Statistical Efficiency Act (CIPSEA).

CATEGORIES OF RECORDS IN THE SYSTEM:

Records include individuals' names, addresses, telephone numbers, email addresses, organizational affiliation, project title, and project description. The records also include the name, addresses, telephone numbers, and email addresses of the signing official for the agreement at the individual's organization.

AUTHORITY FOR MAINTENANCE OF THE SYSTEM:

5 U.S.C. 301.

PURPOSE(S):

To assure that appropriate records on data sharing agreements are maintained and are available for official use.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Files are retrieved by individual's name.

SAFEGUARDS:

Access by authorized personnel only. Computer security safeguards are used for electronically stored data and locked locations for paper files.

RETENTION AND DISPOSAL:

Records are retained for 5 years after agreement has become inactive (i.e. expired), in accordance with BLS Historical Records Schedule N1-257-88-1.

SYSTEM MANAGER(S) AND ADDRESS:

Data Sharing Agreement Coordinator, Division of Management Systems, Office of Administration, Bureau of Labor Statistics, Postal Square Building, 2 Massachusetts Avenue NE., Washington DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from applicants and recipients of BLS data sharing agreements who request and/or are granted access to non-public BLS data files.

SYSTEMS EXEMPTED FROM CERTAIN PROVISIONS OF THE ACT:

None.

EBSA—DOL Employees Benefits Security Administration Systems of Records

DOL/EBSA-1

SYSTEM NAME:

The Employee Retirement Income Security Act of 1974 (ERISA) Filing and Acceptance System 2—One Participant Plans Filing a Form 5500SF.

SECURITY CLASSIFICATION:

None.

SYSTEM LOCATION:

Office of Technology and Information Services, U.S. Department of Labor, Employee Benefits Security Administration (EBSA), 200 Constitution Avenue NW., Washington, DC 20210.

The EFAST2 servers are located at the sites of contractors, who operate the system on behalf of the Department of Labor. Contractors own the system hardware and communications and the Department of Labor owns the custom software and data.

CATEGORIES OF INDIVIDUALS COVERED BY THE SYSTEM:

Individuals who have filed a Form 5500SF and checked the one-participant plan box in Part I item A of the form.

CATEGORIES OF RECORDS IN THE SYSTEM:

Data includes all fields on the Form 5500SF and any included schedules or attachments.

AUTHORITY FOR THE MAINTENANCE OF THE SYSTEM:

29 U.S.C. 1021 et seq.

PURPOSE(S):

ERISA and provisions of the Internal Revenue Code require certain employee benefit plans to submit information annually to the Federal Government (EBSA, Internal Revenue Service (IRS), and Pension Benefit Guaranty Corporation (PBGC)) through the Form 5500 series. One-participant plan filers are given the option to file Form 5500EZ on hard copy directly to the IRS or they may file electronically through EFAST2 using the Form 5500SF.

Note: This system of records is maintained by the Department of Labor for the benefit of the Internal Revenue Service (IRS).

ROUTINE USES OF RECORDS MAINTAINED IN THE SYSTEM, INCLUDING CATEGORIES OF USERS AND THE PURPOSE OF SUCH USES:

In addition to those universal routine uses listed in the General Prefatory Statement to this document, EFAST2 data is used for internal reporting by EBSA and furnished to three other Government Agencies: The Internal Revenue Service (IRS), the Social Security Administration (SSA), and PBGC.

Consistent with DOL's information sharing mission, information stored in EFAST2 may be shared with other DOL components, as well as appropriate Federal, State, local, tribal, foreign, or international government agencies. This sharing will only take place after it is determined that the receiving component or agency has a need to know the information to carry out functions consistent with the routine uses set forth in this system of records notice. The IRS uses one-participant Form 5500-SF data to administer requirements of I.R.C. 6058(a) and 6059(a).

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by individual's name.

SAFEGUARDS:

Access by authorized personnel only. Computer security safeguards are used for electronically stored data and locked locations for paper files.

RETENTION AND DISPOSAL:

The EFAST2 Record Schedule (N1-317-11-1) was approved by National Archives and Records Administration on May 10, 2011. All records will be maintained in accordance with the approved schedule.

SYSTEM MANAGER(S) AND ADDRESS:

EFAST2 Program Manager, Office of Technology and Information Services, Employee Benefits Security Administration, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from one participant filers who file a Form 5500SF electronically.

SYSTEMS EXEMPTED FROM CERTAIN PROVISIONS OF THE ACT:

None.

DOL/EBSA-2

SYSTEM NAME:

EBSA Correspondence Files.

SECURITY CLASSIFICATION:

None.

SYSTEM LOCATION:

Office of Exemption Determinations, Office of Regulations and Interpretations, U.S. Department of Labor, 200 Constitution Avenue NW., Washington, DC 20210.

CATEGORIES OF INDIVIDUALS COVERED BY THE SYSTEM:

Correspondents.

CATEGORIES OF RECORDS IN THE SYSTEM:

Records includes letters requesting information, advisory opinions, FOIA requests, Privacy Act Requests, or submitting comments, the Department's replies thereto, and related internal memoranda, including notes pertaining to meetings and telephone calls. Medium sensitivity due to the possibility of SSN provided with correspondence, though not requested by this Agency.

AUTHORITY FOR MAINTENANCE OF THE SYSTEM:

29 U.S.C., 1134 and 1136.

PURPOSE(S):

These records are maintained to take action on or to respond to a complaint, inquiry or comment concerning certain aspects of Title I of ERISA or to respond to requests under FOIA or Privacy Act and to track the progress of such correspondence through the office.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by an individual name or control number.

SAFEGUARDS:

Access by authorized personnel only. Computer security safeguards are used for electronically stored data and locked locations for paper files.

RETENTION AND DISPOSAL:

In accordance with the Record Schedule (N1-317-02-2), if there is litigation in the underlying matter, the file is retained for three years after the litigation is completed. Requests for advisory opinions and the replies thereto are retained indefinitely, requests for information are destroyed one year after completion of project. Electronic index is destroyed six years after date of last entry.

SYSTEM MANAGER(S) AND ADDRESS:

Director, Office of Exemption Determinations, Director, Office of Regulations and Interpretations Employee Benefits Security Administration, U.S. Department of Labor, 200 Constitution Avenue NW., Washington, DC 20210.

NOTIFICATION PROCEDURE:

Inquiries should be mailed to the System Manager.

RECORDS ACCESS PROCEDURES:

A request for access should be mailed to the System Manager.

CONTESTING RECORD PROCEDURES:

A petition for amendment should be mailed to the System Manager.

RECORD SOURCE CATEGORIES:

Information contained in this system is obtained from correspondence from individuals and responses thereto.

SYSTEMS EXEMPTED FROM CERTAIN PROVISIONS OF THE ACT:

None.

DOL/EBSA-3

SYSTEM NAME:

Technical Assistance and Inquiries System.

SECURITY CLASSIFICATION:

None.

SYSTEM LOCATION:

Electronic information is housed in Office of Technology and Information Services, U.S. Department of Labor, Employee Benefits Security Administration, 200 Constitution Avenue NW., Washington, DC 20210. Ancillary hard copy records such as incoming/outgoing correspondence are housed in the regional or district office that handled the inquiry.

CATEGORIES OF INDIVIDUALS COVERED BY THE SYSTEM:

Correspondents and callers requesting information and assistance; Correspondents and callers requesting information from the EBSA Public Disclosure Room.

CATEGORIES OF RECORDS IN THE SYSTEM:

Written and telephone inquiries from employee benefit plan participants, plan professionals and congressional offices regarding all aspects of pension and welfare benefit plans and records which provide the status of individuals under these plans. System also contains referrals from the Department of Health and Human Services (HHS) and state agencies related to health care benefit plans. Medium sensitivity due to the possibility of the record containing social security numbers, personal financial data or personal medical information. Includes names, addresses and other contact information.

AUTHORITY FOR THE MAINTENANCE OF THE SYSTEM:

29 U.S.C. 1134 and 1136.

PURPOSE(S):

These records are used to take action on or respond to inquiries from Members of Congress and private citizens or referrals from the HHS or state insurance agencies.

ROUTINE USES OF RECORDS MAINTAINED IN THE SYSTEM, INCLUDING CATEGORIES OF USERS AND THE PURPOSE OF SUCH USES:

In addition to those universal routine uses listed in the General Prefatory Statement to this document, records in this system may be disclosed to the relevant employee benefit plan administrator, third party administrator, insurance carrier or other party as necessary to facilitate a resolution to the circumstance presented by the individual seeking assistance from the agency; or to the referring component within HHS or referring state agency in order to report on the status or final disposition of the referral. Information disclosed will be provided periodically via electronic reports.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name of individual, telephone number, email address, company, Employer Identification Number, or HHS or state agency referral number.

SAFEGUARDS:

Access by authorized personnel only. Computer security safeguards are used for electronically stored data and locked locations for paper files.

RETENTION AND DISPOSAL:

Manual records are maintained for one year after closing the file, then destroyed. Computer files are maintained for the same period as the manual records or are kept indefinitely in the database and deleted when no longer needed, whichever is later, pursuant to General Records Schedule 14 (Information Services).

SYSTEM MANAGER(S) AND ADDRESS:

In the National office: Director, Office of Outreach, Education, and Assistance, Employee Benefits Security Administration, U.S. Department of Labor, 200 Constitution Avenue NW., Washington, DC 20210. In the Regional offices: Regional Director. In the District Offices: District Supervisor.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Individuals or Members of Congress seeking technical assistance, information, or referrals from HHS or state agencies.

SYSTEMS EXEMPTED FROM CERTAIN PROVISIONS OF THE ACT:

Records or portions of records containing personally identifiable information for individuals other than the subject of the file shall be exempt from disclosure under the Privacy Act. Records or portions of records comprising information that is exempt from disclosure under Specific Exemption (k)(2) or Subsection (d)(5).

DOL/EBSA-4

SYSTEM NAME:

Public Disclosure Request Tracking System.

SECURITY CLASSIFICATION:

None.

SYSTEM LOCATION:

U.S. Department of Labor, Employee Benefits Security Administration (EBSA), Public Disclosure Room, U.S. Department of Labor, Washington, DC 20210.

CATEGORIES OF INDIVIDUALS COVERED BY THE SYSTEM:

Individuals who request documents.

CATEGORIES OF RECORDS IN THE SYSTEM:

Data regarding the request for copies of plan filings made with the Department of Labor or the Internal Revenue Service. Data includes individual requester's name, street address, city, state, zip code, and telephone number, the Employer Identification Number and Plan Number of the plan for which information has been requested and the documents requested.

AUTHORITY FOR THE MAINTENANCE OF THE SYSTEM:

29 U.S.C. 1021 et seq.

PURPOSE(S):

These records are used by authorized EBSA disclosure personnel to process requests made to the Public Disclosure Room and by EBSA managers to compile statistical reports regarding such requests for management information purposes.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by individual name, control number or EIN/PN of requested plan.

SAFEGUARDS:

Access by authorized personnel only. Computer security safeguards are used for electronically stored data and locked locations for paper files.

RETENTION AND DISPOSAL:

Records are retained in accordance with General Records Schedule 14.

SYSTEM MANAGER(S) AND ADDRESS:

Director of the Office of Outreach, Education and Assistance, Employee Benefits Security Division, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individuals requesting documents from the Public Disclosure Room.

SYSTEMS EXEMPTED FROM CERTAIN PROVISIONS OF THE ACT:

None.

DOL/EBSA-5

SYSTEM NAME:

EBSA Debt Management System.

SECURITY CLASSIFICATION:

None.

SYSTEM LOCATION:

Office of Program Planning, Evaluation and Management, and Office of Technology and Information Services, U.S. Department of Labor, Employee Benefits Security Administration, 200 Constitution Avenue NW., Washington, DC 20210.

CATEGORIES OF INDIVIDUALS COVERED BY THE SYSTEM:

Individuals and/or companies who have been assessed fines or penalties under provisions of ERISA sections 502(c)(2), 502(i) and 502(l).

CATEGORIES OF RECORDS IN THE SYSTEM:

Records containing data regarding the assessment of fines/penalties under provisions of ERISA sections 502(c)(2), 502(i) and 502(l). Data includes individuals and/or companies name, street address, city, state, zip code, telephone number, taxpayer identification number or company EIN, and transaction information (e.g., correspondence, penalty amount, debt status, and payment records). Moderate sensitivity due to storage of company/personal identifiable data and financial information.

AUTHORITY FOR MAINTENANCE OF THE SYSTEM:

29 U.S.C. 1132, 31 U.S.C. 3711(a) and 29 CFR part 20.

PURPOSE(S):

Records are used for maintaining an ongoing Debt Collection/Management Program requiring tracking and accounting for assessed fines/penalties, determination of collection status and assignment of delinquent debts to Treasury and private collection agencies.

ROUTINE USES OF RECORDS MAINTAINED IN THE SYSTEM, INCLUDING CATEGORIES OF USERS AND PURPOSES OF SUCH USES:

Relevant records may be disclosed to Treasury or private collection agencies in order for them to collect debts subject to this program.

DISCLOSURE TO CONSUMER REPORTING AGENCIES:

Records may be disclosed for delinquent accounts.

POLICIES AND PRACTICES FOR STORING, RETRIEVING, ACCESSING, RETAINING AND DISPOSING OF RECORDS:

STORAGE:

Files are stored electronically and/or on paper.

RETRIEVABILITY:

Debt Collection/Management data is retrieved by the EBSA-assigned case number and cross-reference debtor taxpayer identification number or company EIN.

SAFEGUARDS:

Access by authorized personnel only. Computer security safeguards are used for electronically stored data and locked locations for paper files.

RETENTION AND DISPOSAL:

In accordance with Records Schedule N1-317-92-1, records are retained for two years after the case is closed or until expiration of applicable statute of limitations, whichever occurs earlier.

SYSTEM MANAGER(S) AND ADDRESS:

Administrative Officer, Employee Benefits Security Administration, U.S. Department of Labor, 200 Constitution Avenue NW., Washington, DC 20210.

NOTIFICATION PROCEDURE:

Inquiries should be mailed to the System Manager.

RECORD ACCESS PROCEDURE:

A request for access should be mailed to the System Manager.

CONTESTING RECORD PROCEDURE:

A petition for amendment should be mailed to the System Manager.

RECORD SOURCE CATEGORIES:

Investigators and auditors.

SYSTEMS EXEMPTED FROM CERTAIN PROVISIONS OF THE ACT:

None.

DOL/EBSA-6

SYSTEM NAME:

EBSA Consolidated Training Record.

SECURITY CLASSIFICATION:

None.

SYSTEM LOCATION:

Office of Program Planning, Evaluation and Management, Employee Benefits Security Administration (EBSA), 200 Constitution Avenue NW., Washington, DC 20210.

CATEGORIES OF INDIVIDUALS COVERED BY THE SYSTEM:

Employees of the Employee Benefits Security Administration.

CATEGORIES OF RECORDS IN THE SYSTEM:

Records reflect educational attainment levels (to include areas of study), professional certifications, date of accession to EBSA, in-house (EBSA) technical training courses, Federal Law Enforcement Training Center programs, and Office of Personnel Management classes completed by employees of the Employee Benefits Security Administration.

AUTHORITY FOR MAINTENANCE OF THE SYSTEM:

5 U.S.C. 301.

PURPOSE(S):

These records are used to identify which employees have completed certain courses, and the number of employees awaiting training. This information, in the aggregate, helps project the number of courses to schedule for succeeding years. The prior formal education information is used to respond to Congressional and other inquiries regarding the educational attainment level of our workforce. Finally, a combination of the data elements is used to identify employees with specific educational backgrounds and current skill levels who may be considered as instructors for the several agency-sponsored courses.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically.

RETRIEVABILITY:

Files are retrieved by individual employee name.

SAFEGUARDS:

Access by authorized personnel only. Computer security safeguards are used for electronically stored data.

RETENTION AND DISPOSAL:

In accordance with General Records Schedule 1, records are retained for 5 years or when no longer needed, whichever is later.

SYSTEM MANAGER(S) AND ADDRESS:

EBSA Training Coordinator, Office of Program Planning, Evaluation and Management, EBSA, U.S. Department of Labor, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Individual employees, SF171s, or resume(s) submitted at time of accession to EBSA and individual training course records.

SYSTEMS EXEMPTED FROM CERTAIN PROVISIONS OF THE ACT:

None.

DOL/EBSA-7

SYSTEM NAME:

Office of Enforcement Correspondence Tracking System, DFO CTS.

SECURITY CLASSIFICATION:

None.

SYSTEM LOCATION:

Office of Technology and Information Services, U.S. Department of Labor, Employee Benefits Security Administration, (EBSA), 200 Constitution Avenue NW., Washington, DC 20210.

CATEGORIES OF INDIVIDUALS COVERED BY THE SYSTEM:

Correspondents, such as employee benefit plan professionals, and other individuals involved in investigations and enforcement actions.

CATEGORIES OF RECORDS IN THE SYSTEM:

Information including plan name, plan administrator's name, service provider's name, trustee's name, and names of other individuals (such as the named defendants) involved in investigations and enforcement actions. Letters from the general public requesting information under the Freedom of Information Act or relating to all aspects of pension and welfare benefit plans covered by Title I of the Employee Retirement Income Security Act of 1974 (ERISA), the status of individuals under these plans, the Department's replies to the inquiries, and related internal memoranda, including notes pertaining to meetings and telephone calls.

AUTHORITY FOR THE MAINTENANCE OF THE SYSTEM:

29 U.S.C. 1134 and 1136.

PURPOSE(S):

This system of records is used to track the progress of correspondence through the Office of Enforcement, including a record of action taken on or response to an inquiry received from the general public or others, and to access investigative information related to field office correspondence regarding investigations instituted by the Department of Labor (DOL) under the Title I of the Employee Retirement Security Act of 1974 (ERISA). The investigative files are used in the prosecution of violations of law, whether civil, criminal or regulatory in nature.

ROUTINE USES OF RECORDS MAINTAINED IN THE SYSTEM, INCLUDING CATEGORIES OF USERS AND THE PURPOSE OF SUCH USES:

In addition to those universal routine uses listed in the General Prefatory Statement to this document, pursuant to 29 U.S.C. 1134, a record from this system of records may be disclosed, subject to the restrictions imposed by various statutes and rules, such as the Privacy Act, to a department or agency of the United States, or to any person actually affected by any matter which may be the subject of the investigation; except that any information obtained by the Secretary of Labor pursuant to section 6103(g) of Title 26 shall be made available only in accordance with regulations prescribed by the Secretary of the Treasury.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by the name of the plan, service provider name, trustee name, the name of another individual (such as the named defendant) involved in the investigation or enforcement action, or the name of the correspondent. Files are also retrieved by case number and the plan's employer identification number (EIN).

SAFEGUARDS:

Access by authorized personnel only. Computer security safeguards are used for electronically stored data and locked locations for paper files.

RETENTION AND DISPOSAL:

In accordance with the Records Schedule, N9-317-00-02, records are retained for seven years. The electronic database files are deleted when no longer needed.

SYSTEM MANAGER(S) AND ADDRESS:

Director of Enforcement, Employee Benefits Security Administration, U.S. Department of Labor, 200 Constitution Avenue NW., Washington, DC 20210.

NOTIFICATION PROCEDURES:

Inquiries should be made to the System Manager.

RECORD ACCESS PROCEDURES:

A request for access should be made to the System Manager.

CONTESTING RECORD PROCEDURES:

A petition for amendment should be mailed to the System Manager.

RECORD SOURCE CATEGORIES:

Correspondence from individuals, individual complaints, witnesses, or interviews conducted during investigations or plan participant or beneficiary information obtained during investigations on cases opened in the Office of Enforcement or in any of the EBSA field offices.

SYSTEMS EXEMPTED FROM CERTAIN PROVISIONS OF THE ACT:

a. Criminal Law Enforcement: In accordance with subsection 552a(j)(2) of the Privacy Act, 5 U.S.C. 552a(j)(2), information maintained for criminal law enforcement purposes in EBSA's Office of Enforcement or its field offices is exempt from subsections (c)(3), and (4), (d), (e)(1), (2), and (3), (e)(4)(G), (H), and (I), (e)(5) and (8), (f), and (g) of 5 U.S.C. 552a.

b. Other Law Enforcement: In accordance with subsection 552a(k)(2) of the Privacy Act, 5 U.S.C. 552a(k)(2), investigatory material in this system of records compiled for civil law enforcement purposes is exempt from subsections (c)(3), (d)(1), (2), (3), and (4), (e)(1), (e)(4)(G), (H), (I), and (f) of 5 U.S.C. 552a.

DOL/EBSA-8

SYSTEM NAMES:

EBSA Enforcement Management System (electronic); EBSA Civil Litigation Case Tracking System (paper); EBSA Criminal Case Information System (paper).

SECURITY CLASSIFICATION:

None.

SYSTEM LOCATION:

Office of Technology and Information Services, U.S. Department of Labor, Employee Benefits Security Administration, 200 Constitution Avenue NW., Washington, DC 20210; Office of Enforcement, EBSA, U.S. Department of Labor, 200 Constitution Ave. NW., Washington, DC 20210, and all EBSA field offices as listed in the Appendix A to this document.

CATEGORIES OF INDIVIDUALS COVERED BY THE SYSTEM:

Plan administrators, trustees, and those individuals who provide advice or services to employee benefit plans, and other individuals (such as the named defendants) involved in investigations and enforcement actions.

CATEGORIES OF RECORDS IN THE SYSTEM:

Records tracked electronically includes fields such as plan name, plan administrator's name, service provider's name, trustee's name, and names of other individuals (such as the named defendants) involved in investigations and enforcement actions. Case notes are entered to document case activity during the investigative process.

In addition to an electronic database, paper case files are generated for enforcement activities, both civil and criminal.

AUTHORITY FOR THE MAINTENANCE OF THE SYSTEM:

29 U.S.C. 1134 and 29 U.S.C. 1136.

PURPOSE(S):

This system of records is used to access information related to case files involving investigations instituted by the Department of Labor (DOL) under the Title I of the Employee Retirement Security Act of 1974 (ERISA). The investigative files are used in the prosecution of violations of law, whether civil or criminal in nature.

ROUTINE USES OF RECORDS MAINTAINED IN THE SYSTEM, INCLUDING CATEGORIES OF USERS AND THE PURPOSE OF SUCH USES:

In addition to those universal routine uses listed in the General Prefatory Statement to this document, pursuant to 29 U.S.C. 1134, a record from this system of records may be disclosed, subject to the restrictions imposed by various statutes and rules, such as the Privacy Act, to a department or agency of the United States, or to any person actually affected by any matter which may be the subject of the investigation; except that any information obtained by the Secretary of Labor pursuant to section 6103 of Title 26 shall be made available only in accordance with regulations prescribed by the Secretary of the Treasury. Consistent with DOL's enforcement mission, records of individuals debarred under 29 U.S.C. 1111 will be posted on EBSA's Web site.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved from the electronic database by the name of the plan, service provider name, trustee name, or the name of another individual (such as the named defendant) involved in the investigation or enforcement action. Records are also retrieved by case number, the plan's employer identification number (EIN) and plan number (if known), or service provider or trustee EIN.

SAFEGUARDS:

Access by authorized personnel only. Computer security safeguards are used for electronically stored data and locked locations for paper files.

RETENTION AND DISPOSAL:

In accordance with the Records Schedule, NCI-317-00-02, records are retained for one year after case completion by voluntary compliance or litigation, or related actions following voluntary compliance or litigation. After one year, the case files are transferred to the Federal Records Center for seven (7) years and then destroyed. The electronic database files are retained permanently.

SYSTEM MANAGER(S) AND ADDRESS:

In the national office: Director of Enforcement, Employee Benefits Security Administration, U.S. Department of Labor, 200 Constitution Avenue NW., Washington, DC 20210. In the Regional offices: The Regional Director (as listed in the Appendix to this document; in the District Offices: The District Supervisor (as listed in the Appendix A to this document).

NOTIFICATION PROCEDURES:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individual complaints, witnesses, or interviews conducted during investigations or plan participant or beneficiary information obtained during investigations on cases opened in the Office of Enforcement or in any of the EBSA field offices.

SYSTEMS EXEMPTED FROM CERTAIN PROVISIONS OF THE ACT:

a. Criminal Law Enforcement: In accordance with subsection 552a(j)(2) of the Privacy Act, 5 U.S.C. 552a(j)(2), information maintained for criminal law enforcement purposes in EBSA's Office of Enforcement or its field offices is exempt from subsections (c)(3) and (4), (d), (e)(1), (2), and (3), (e)(4)(G), (H), and (I), (e)(5) and (8), (f), and (g) of 5 U.S.C. 552a.

b. Other Law Enforcement: In accordance with subsection 552a(k)(2) of the Privacy Act, 5 U.S.C. 552a(k)(2), investigatory material in this system of records compiled for civil law enforcement purposes is exempt from subsections (c)(3), (d)(1), (2), (3), and (4), (e)(1), (e)(4)(G), (H) and (I), and (f) of 5 U.S.C. 552a.

DOL/EBSA-9

SYSTEM NAME:

Office of Exemption Determination (OED) ERISA Section 502(l) Files; OED Case Tracking System.

SECURITY CLASSIFICATION:

None.

SYSTEM LOCATION:

Office of Exemption Determinations and Office of Technology and Information Services, Employee Benefits Security Administration, U.S. Department of Labor, 200 Constitution Avenue NW., Washington, DC 20210.

CATEGORIES OF INDIVIDUALS COVERED BY THE SYSTEM:

Individuals who have petitioned the Secretary of Labor for relief from the monetary penalties imposed under ERISA Sec. 502(l).

CATEGORIES OF RECORDS IN THE SYSTEM:

Letters from individuals seeking relief from the 502(l) penalties, attachments supporting their petitions for relief, the Department's replies thereto, and related internal memoranda, including notes pertaining to meetings and telephone calls. Includes names and addresses.

AUTHORITY FOR MAINTENANCE OF THE SYSTEM:

29 U.S.C. 1108 and 29 U.S.C. 1135.

PURPOSE(S):

These records are maintained to document the Department's response to petitioners' requests for relief from the section 502(l) penalties. Such penalties are imposed upon those who are found to have violated the fiduciary and prohibited transaction provisions of Part 4 of Title I of ERISA.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name of requestor and/or control number using a computerized index.

SAFEGUARDS:

Access to these records is limited to authorized EBSA staff. Computer system is password protected and accessible only to personnel creating the database.

RETENTION AND DISPOSAL:

In accordance with Records Schedule Number N1-317-93-1, manual records are maintained in the Office of Exemption Determinations for up to two years after case closure, then transferred to the Federal Records Center for retention for an additional 23 years. Electronic records are destroyed on the same schedule as the manual files or when no longer needed, whichever is later.

SYSTEM MANAGER(S) AND ADDRESS:

Director, Office of Exemption Determinations, Employee Benefits Security Administration, U.S. Department of Labor, 200 Constitution Avenue NW., Suite 400, Washington, DC 20210.

NOTIFICATION PROCEDURE:

Inquiries should be mailed to the System Manager.

RECORDS ACCESS PROCEDURES:

A request for access should be mailed to the System Manager.

CONTESTING RECORD PROCEDURES:

A petition for amendment should be mailed to the System Manager.

RECORD SOURCE CATEGORIES:

Information contained in this system is obtained from individuals requesting a 502(l) exemption and the responses thereto.

SYSTEMS EXEMPTED FROM CERTAIN PROVISIONS OF THE ACT:

None.

DOL/EBSA-10

SYSTEM NAME:

Form 5500EZ Filings.

SECURITY CLASSIFICATION:

None.

SYSTEM LOCATION:

U.S. Department of Labor, Employee Benefits Security Administration, Attention: EFAST 3833 Greenway Drive, Lawrence, KS 66046-1290.

CATEGORIES OF INDIVIDUALS COVERED BY THE SYSTEM:

Individuals who have filed a Form 5500EZ with the Department of Labor prior to January 1, 2010.

CATEGORIES OF RECORDS IN THE SYSTEM:

Forms 5500EZ filed with the Department of Labor prior to January 1, 2010.

AUTHORITY FOR MAINTENANCE OF THE SYSTEM:

26 U.S.C. 6058(a); 29 U.S.C. 1134 and 1136.

PURPOSE(S):

To satisfy the reporting and disclosure requirements mandated by the Employee Retirement Income Security Act of 1974, as amended, and the Internal Revenue Code.

Note: This system of records is maintained by the Department of Labor for the benefit of the Internal Revenue Service (IRS).

ROUTINE USES OF RECORDS MAINTAINED IN THE SYSTEM, INCLUDING CATEGORIES OF USERS AND THE PURPOSE OF SUCH USES:

None, except for those routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved using any Form 5500-EZ field, including plan administrator name, employer identification number, plan number; and plan year.

SAFEGUARDS:

Access by authorized personnel only. Computer security safeguards are used for electronically stored data and locked locations for paper files.

RETENTION AND DISPOSAL:

The EFAST2 Record Schedule (N1-317-11-1) was approved by National Archives and Records Administration on May 10, 2011. All records will be maintained in accordance with the approved schedule.

SYSTEM MANAGER(S) AND ADDRESS:

EFAST2 Program Manager, Office of Technology and Information Services, Employee Benefits Security Administration, U.S. Department of Labor, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individuals filing Form 5500EZ filings.

DOL/EBSA-11

SYSTEM NAME:

ERISA Filing and Acceptance System 2 Internet Registration Database (IREG).

SECURITY CLASSIFICATION:

None.

SYSTEM LOCATION:

Office of Technology and Information Services, U.S. Department of Labor, Employee Benefits Security Administration (EBSA), 200 Constitution Avenue NW., Washington, DC 20210.

EFAST2 is located at the site of contractors, who operate the system on behalf of the Department of Labor. Contractors own the system hardware and communications and the Department of Labor owns the custom software and data.

CATEGORIES OF INDIVIDUALS COVERED BY THE SYSTEM:

Individuals who file/sign Form 5500 and Form 5500-SF electronically, third party software developers, and certain Government staff.

CATEGORIES OF RECORDS IN THE SYSTEM:

Records includes the individual filer's name, street address, city, state, zip code, telephone number, fax number, email address, company name, password, user type, security challenge questions and answers, User ID, and PIN.

AUTHORITY FOR THE MAINTENANCE OF THE SYSTEM:

29 U.S.C. 1021 et seq., 29 U.S.C. 1135.

PURPOSE(S):

The Internet registration (IREG) application allows the public to electronically register on the EFAST2 Web site and obtain electronic filing credentials (User ID and PIN). These credentials are required for accessing restricted portions of the EFAST2 Web site, signing the Form 5500 or Form 5500-SF, and issuing authenticated web service requests to the EFAST2 system. EFAST2 will use the registration database to restrict Web site access, authenticate web service requests, validate filing signatures upon receipt of each filing, and to facilitate official correspondence and compliance assistance outreach. The IREG Database stores the electronic filing participant credentials. The IREG Database is populated by the IREG application.

ROUTINE USES OF RECORDS MAINTAINED IN THE SYSTEM, INCLUDING CATEGORIES OF USERS AND THE PURPOSE OF SUCH USES:

Filing credentials are used by the public to electronically file Form 5500 and/or Form 5500-SF through the EFAST2 Web Portal. Filing credentials are also used as electronic signatures on Form 5500 and/or Form 5500-SF filings. Filing credentials are tied to the registration data to provide the Government with contact information (i.e., name, address and phone number) for EFAST2 users. In addition to those universal routine uses listed in the General Prefatory Statement to this document, the Government may use the IREG information to contact signers/transmitters of EFAST2 filings, issue official correspondence, and to provide registrants with information from EBSA's compliance assistance programs. DOL may also share the contact information with other federal agencies, if it determines by careful review that the records or information are both relevant and necessary to any enforcement, regulatory, investigative or prosecutive responsibility of the receiving entity, and that the use of such records or information is for a purpose that is compatible with the purposes for which the agency collected the records.

DISCLOSURE TO CONSUMER REPORTING AGENCIES:

None.

POLICIES AND PRACTICES FOR STORING, RETRIEVING, ACCESSING, RETAINING, AND DISPOSING OF RECORDS IN THE SYSTEM:

The EFAST2 Record Schedule (N1-317-11-1) was approved by National Archives and Records Administration on May 10, 2011. All records will be maintained in accordance with the approved schedule.

STORAGE:

Files are stored electronically.

RETRIEVABILITY:

Files are retrieved by searching IREG Database by UserID, an individual's registration information (i.e., name, address, phone number, etc.) can be retrieved.

SAFEGUARDS:

Access by authorized personnel only. Computer security safeguards are used for electronically stored data.

RETENTION AND DISPOSAL:

The EFAST2 Record Schedule (N1-317-11-1) was approved by National Archives and Records Administration on May 10, 2011. All records will be maintained in accordance with the approved schedule.

SYSTEM MANAGER(S) AND ADDRESS:

EFAST2 Program Manager, Office of Technology and Information Services, Employee Benefits Security Administration, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individual filers, third party software developers, and certain government staff who register electronic filing credentials through the EFAST2 Web site.

SYSTEMS EXEMPTED FROM CERTAIN PROVISIONS OF THE ACT:

None.

DOL/EBSA-12

SYSTEM NAME:

Delinquent Filer Voluntary Compliance Program (DFVC) Tracking System; Delinquent Filer Voluntary Compliance Program 99.

SECURITY CLASSIFICATION:

None.

SYSTEM LOCATION:

Office of Technology and Information Services, Employee Benefits Security Administration, U.S. Department of Labor, 200 Constitution Avenue NW., Washington, DC 20210.

CATEGORIES OF INDIVIDUALS COVERED BY THE SYSTEM:

Fiduciaries who failed to comply with plan administrator fiduciary responsibilities; non-filers, stop filers and late filers of ERISA annual reports who voluntarily seek relief of reporting penalties after filing appropriate annual report(s).

CATEGORIES OF RECORDS IN THE SYSTEM:

Information including plan name, plan administrator's name, service provider's name, trustee's name, addresses and names of other individuals involved in the DFVC program. Information about individuals may contain Personally Identifiable Information (PII).

AUTHORITY FOR MAINTENANCE OF THE SYSTEM:

29 U.S.C. 1134 and 1136.

PURPOSE(S):

The Office of the Chief Accountant (OCA) uses the application to track records of participants of the EBSA Delinquent Filer Voluntary Compliance Program.

ROUTINE USES OF RECORDS MAINTAINED IN THE SYSTEM, INCLUDING CATEGORIES OF USERS AND THE PURPOSE OF SUCH USES:

In addition to the universal routine uses listed in the General Prefatory Statement to this document, records of plans that participate in the DFVC program help to avoid opening investigations by the OCA for violations that would otherwise be subject to more strict penalties.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or paper.

RETRIEVABILITY:

Files are retrieved using a relational database and Form 5500 plan identifiers such as plan name, plan number, city, state and unique case ID.

SAFEGUARDS:

Access by authorized personnel only. Computer security safeguard are used for electronically stored data and locked locations for paper files.

RETENTION AND DISPOSAL:

In accordance with Records Schedule N1-317-92-1, manual records are maintained in the Office of the Chief Accountant for up to two years after case closure, then transferred to the Federal Records Center for retention for an additional six years. Electronic records are destroyed on the same schedule as the manual files or when no longer needed, whichever is later.

SYSTEM MANAGER(S) AND ADDRESS:

Director, Office of the Chief Accountant, U.S. Department of Labor, Employee Benefits Security Administration, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this System is obtained from submissions of filings by Plan Administrators and Plan Sponsors under the EBSA DFVC Program.

SYSTEMS EXEMPTED FROM CERTAIN PROVISIONS OF THE ACT:

a. Criminal Law Enforcement: In accordance with subsection 552a(j)(2) of the Privacy Act, 5 U.S.C. 552a(j)(2), information maintained for criminal law enforcement purposes in EBSA's Office of Enforcement or its field offices is exempt from subsections I(3) and (4), (d), (e)(1), (2), and (3), (e)(4)(G), (H), and (I), (e)(5) and (8), (f), and (g) of 5 U.S.C. 552a.b.

b. Other Law Enforcement: In accordance with subsection 552a(k)(2) of the Privacy Act, 5 U.S.C. 552a(k)(2), investigatory material in this system of records compiled for civil law enforcement purposes is exempt from subsection (c)(3), (d)(1), (2), (3), and (4), (e)(1), (e)(4)(G), (H), and (I), and (f) of 5 U.S.C. 552a.

DOL/EBSA-13

SYSTEM NAME:

OCA Case Tracking System.

SECURITY CLASSIFICATION:

None.

SYSTEM LOCATION:

Office of Technology and Information Services, Employee Benefits Security Administration, U.S. Department of Labor, 200 Constitution Avenue NW., Washington, DC 20210.

CATEGORIES OF INDIVIDUALS COVERED BY THE SYSTEM:

Fiduciaries who fail to comply with plan administrator fiduciary responsibilities, or those fiduciaries who are engaged in activities prohibited by ERISA; non-filers, stop filers, late filers, and deficient filers of ERISA annual reports.

CATEGORIES OF RECORDS IN THE SYSTEM:

Records include paper files which may contain Personally Identifiable Information (PII) and electronic files which may contain PII. The electronic files contain only plan administrator information. Information stored includes plan name, plan administrator's name, service provider's name, trustee's name, addresses and names of other individuals involved in investigations and enforcement actions. There are also case notes to document case activity during the investigative process.

AUTHORITY FOR MAINTENANCE OF THE SYSTEM:

29 U.S.C. 1134 and 1136.

PURPOSE(S):

The Office of the Chief Accountant (OCA) uses the OCATS application to monitor enforcement actions against fiduciaries who fail to comply with plan administrator fiduciary responsibilities, or those fiduciaries who are engaged in activities prohibited by ERISA. On average 3500 to 5000 cases per year are generated requiring OCA intervention.

ROUTINE USES OF RECORDS MAINTAINED IN THE SYSTEM, INCLUDING CATEGORIES OF USERS AND THE PURPOSE OF SUCH USES:

In addition to those universal routine uses listed in the General Prefatory Statement to this document, pursuant to 29 U.S.C. 1134, a record from this system of records may be disclosed, subject to the restrictions imposed by various statutes and rules, such as the Privacy Act, to a department or agency of the United States, or to any person actually affected by any matter which may be the subject of the investigation; except that any information obtained by the Secretary of Labor pursuant to section 6103 of Title 26 shall be made available only in accordance with regulations prescribed by the Secretary of the Treasury.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by using a relational database and Form 5500 plan identifiers such as plan name, plan number, city, state and unique case ID.

SAFEGUARDS:

Access by authorized personnel only. Computer security safeguards are used for electronically stored data and locked locations for paper files.

RETENTION AND DISPOSAL:

In accordance with Records Schedule N1-317-92-1, manual records are maintained in the Office of the Chief Accountant for up to two years after case closure, then electronically imaged to the OCATs database for retention for an additional six years. Electronic records are destroyed on the same schedule as the manual files or when no longer needed, whichever is later.

SYSTEM MANAGER(S) AND ADDRESS:

Director, Office of the Chief Accountant, U.S. Department of Labor, Employee Benefits Security Administration, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Investigations and computer targeting searches of previous Forms 5500 filings performed by the OCA of existing plan filings to determine status of non-filers, deficient filers, late and stop filers of required information returns for employee benefit plans. Ancillary sources within the EBSA include investigations by the Office of Enforcement and EBSA field offices.

SYSTEMS EXEMPTED FROM CERTAIN PROVISIONS OF THE ACT:

a. Criminal Law Enforcement: In accordance with subsection 552a(j)(2) of the Privacy Act, 5 U.S.C. 552a(j)(2), information maintained for criminal law enforcement purposes in EBSA's Office of Enforcement or its field offices is exempt from subsections (c)(3) and (4), (d), (e)(1), (2), and (3), (e)(4)(G), (H), and (I), (e)(5) and (8), (f), and (g) of 5 U.S.C. 552a.

b. Other Law Enforcement: In accordance with subsection 552a(k)(2) of the Privacy Act, 5 U.S.C. 552a(k)(2), investigatory material in this system of records compiled for civil law enforcement purposes is exempt from subsections (c)(3), (d)(1), (2), (3), and (4), (e)(1), (e)(4)(G) and (I), and (f) of 5 U.S.C. 552a.

DOL/EBSA-14

SYSTEM NAME:

Office of Health Plans Standards and Compliance Assistance (OHPSCA) Case Tracking System.

SECURITY CLASSIFICATION:

None.

SYSTEM LOCATION:

Office of Technology and Information Services, Employee Benefits Security Administration, U.S. Department of Labor, 200 Constitution Avenue NW., Washington, DC 20210.

CATEGORIES OF INDIVIDUALS COVERED BY THE SYSTEM:

Health benefits plan administrators, sponsors and health plan participants who request information and assistance on HIPAA, ERISA and other laws affecting group health plans, as well as enforcement of HIPAA and ERISA with respect to group health plans and multi-employer welfare arrangements.

CATEGORIES OF RECORDS IN THE SYSTEM:

Records include requestor's name, address, telephone number, as well as plan administrator contact information and associated case notes encompassing compliance assistance requests as well as enforcement activities.

AUTHORITY FOR MAINTENANCE OF THE SYSTEM:

29 U.S.C. 1134 and 29 U.S.C. 1136.

PURPOSE(S):

The system tracks inquiries from participants and group health plans for compliance assistance and technical assistance on HIPAA, ERISA and other laws and regulations. The system also tracks enforcement cases against group health plans and multi-employer welfare arrangements.

ROUTINE USES OF RECORDS MAINTAINED IN THE SYSTEM, INCLUDING CATEGORIES OF USERS AND THE PURPOSE OF SUCH USES:

In addition to those universal routine uses listed in the General Prefatory Statement to this document, pursuant to 29 U.S.C. 1134, a record from this system of records may be disclosed, subject to the restrictions imposed by various statutes and rules, such as the Privacy Act, to a department or agency of the United States, or to any person actually affected by any matter which may be the subject of the investigation; except that any information obtained by the Secretary of Labor pursuant to section 6103 of Title 26 shall be made available only in accordance with regulations prescribed by the Secretary of the Treasury.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved via a relational database, using the fields listed under categories of records that are captured from inquiries made and correspondence issued to the Agency.

SAFEGUARDS:

Access by authorized personnel only. Computer security safeguards are used electronically stored data and locked locations for paper files.

RETENTION AND DISPOSAL:

In accordance with Records Schedule Number N1-317-93-1, manual records are maintained in the Office of Health Plan Standards and Compliance Assistance for up to two years after case closure, then transferred to the Federal Records Center for retention for an additional 23 years. Electronic records are destroyed on the same schedule as the manual files or when no longer needed, whichever is later.

SYSTEM MANAGER(S) AND ADDRESS:

Director, Office of Health Plan Standards and Compliance Assistance, U.S. Department of Labor, Employee Benefits Security Administration, 200 Constitution Avenue NW., Washington, DC 20210.

NOTIFICATION PROCEDURE:

Inquiries should be mailed to the System Manager.

RECORD ACCESS PROCEDURES:

A request for access to records should be mailed to the System Manager.

CONTESTING RECORD PROCEDURES:

A petition for amendment should be mailed to the System Manager.

RECORD SOURCE CATEGORIES:

Information contained in this system is obtained from plan participants, group health plan administrators and state insurance commissioners.

SYSTEMS EXEMPTED FROM CERTAIN PROVISIONS OF THE ACT:

a. Criminal Law Enforcement: In accordance with subsection 552a(j)(2) of the Privacy Act, 5 U.S.C. 552a(j)(2), information maintained for criminal law enforcement purposes in EBSA's Office of Enforcement or its field offices is exempt from subsections (c)(3) and (4), (d), (e)(1), (2), and (3), (e)(4)(G), (H), and (I), (e)(5) and (8), (f), and (g) of 5 U.S.C. 552a.

b. Other Law Enforcement: In accordance with subsection 552a(k)(2) of the Privacy Act, 5 U.S.C. 552a(k)(2), investigatory material in this system of records compiled for civil law enforcement purposes is exempt from subsections (c)(3), (d)(1), (2), (3), and (4), (e)(1), (e)(4)(G),(H), and (I), and (f) of 5 U.S.C. 552a.

DOL/EBSA-15

SYSTEM NAME:

Fee Disclosure Failure Notice Database.

SECURITY CLASSIFICATION:

None.

SYSTEM LOCATION:

Office of Enforcement, EBSA, U.S. Department of Labor, 200 Constitution Ave. NW., Washington, DC 20210, and all EBSA field offices as listed in Appendix A to this document.

CATEGORIES OF INDIVIDUALS COVERED BY THE SYSTEM:

Responsible plan fiduciaries and covered service providers.

CATEGORIES OF RECORDS IN THE SYSTEM:

Records include plan name, fiduciary's name, and service provider's name, relating to contracts and arrangements between plans and service providers.

AUTHORITY FOR THE MAINTENANCE OF THE SYSTEM:

29 U.S.C. 1104, 29 U.S.C. 1108, and 29 U.S.C. 1134-1136.

PURPOSE(S):

This system of records maintains information related to the notice responsible plan fiduciaries submit, as a condition of the class exemption under 29 U.S.C. 2550.408b-2(c)(1)(ix), regarding service providers who have failed to make disclosures as required under 29 U.S.C. 2550.408b-2(c). The Office of Enforcement and EBSA field offices will use the information to carry out their enforcement responsibilities under Title I of the Employee Retirement Income Security Act of 1974 (ERISA), including the fee and expense disclosure requirements of 29 U.S.C. 2550.408b-2(c) and 29 U.S.C. 2550.404a-5.

ROUTINE USES OF RECORDS MAINTAINED IN THE SYSTEM, INCLUDING CATEGORIES OF USERS AND THE PURPOSE OF SUCH USES:

In addition to the universal routine uses listed in the General Prefatory Statement to this document, records in this system may be disclosed, subject to the restrictions imposed by various statutes or rules, such as the Privacy Act, to any department or agency of the United States; except that any information obtained by the Secretary of Labor pursuant to section 6103 of Title 26 shall be made available only in accordance with regulations prescribed by the Secretary of the Treasury.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or paper.

RETRIEVABILITY:

Files are retrieved from the electronic database by the name of the plan, name of the responsible plan fiduciary, service provider name, or the name of a contact person for the plan or service provider. Records are also retrieved by the plan number, the plan sponsor's employer identification number (EIN), or the covered service provider's EIN.

SAFEGUARDS:

Access by authorized personnel only. Computer security safeguards are used for electronically stored data and locked locations for paper files.

RETENTION AND DISPOSAL:

In accordance with Records Schedule Number N1-317-92-1, records are retained by the Office of Enforcement for one year after receipt or completion by voluntary compliance or litigation or subsequent related actions, whichever is later, and then transferred to the Federal Records Center and kept for seven (7) years and then destroyed. Electronic database files are retained for the same period as manual files.

SYSTEM MANAGER(S) AND ADDRESS:

In the National Office: The Director of Enforcement, Employee Benefits Security Administration, US Department of Labor, 1200 Constitution Avenue NW., Washington, DC 20210.

In the Regional offices: The Regional Director.

In the District offices: The District Supervisor.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from plan fiduciaries, investigators, and other appropriate Office of Enforcement or EBSA field office staff.

SYSTEMS EXEMPTED FROM CERTAIN CATEGORIES:

a. Criminal Law Enforcement: In accordance with subsection 552a(j)(2) of the Privacy Act, 5 U.S.C. 552a(j)(2), information maintained for criminal law enforcement purposes in this system of records is exempt from subsections (c)(3) and (4), (d), (e)(1), (2), and (3), (e)(4) (G), (H), and (I), (e)(5) and (8), (f), and (g) of 5 U.S.C. 552a.

b. Other Law Enforcement: In accordance with subsection 552a(k)(2) of the Privacy Act, 5 U.S.C. 552a(k)(2), investigatory material in this system of records compiled for civil law enforcement purposes is exempt from subsections (c)(3), (d)(1), (2), (3), and (4), and (e)(1) and (4)(G), (H), and (I) and (f) of 5 U.S.C. 552a.

EEOICP—DOL Ombudsman for the Energy Employees Occupational Illness Compensation Program Systems of Records

DOL/OMBUDSMAN-1

SYSTEM NAME:

Office of the Ombudsman for the Energy Employees Occupational Illness Compensation Program Act (EEOICPA) File.

SECURITY CLASSIFICATION:

Most files and data are unclassified. Files and data in certain cases may have Top Secret classification and the rules concerning their maintenance and disclosure are determined by the agency that has given the information the security classification of Top Secret.

SYSTEM LOCATION:

U.S. Department of Labor, Office of the Ombudsman for the Energy Employees Occupational Illness Compensation Program Act, Frances Perkins Building, 200 Constitution Avenue NW., Washington, DC 20210.

CATEGORIES OF INDIVIDUALS COVERED BY THE SYSTEM:

Individuals or their survivors who are seeking benefits under the Energy Employees Occupational Illness Compensation Program Act (EEOICPA). These individuals include, but are not limited to, employees or survivors of employees of Department of Energy contractors and subcontractors, and certain uranium workers or survivors of those workers as described under Section 5 of the Radiation Employees Compensation Act (RECA).

CATEGORIES OF RECORDS IN THE SYSTEM:

This system may contain the following kinds of records: Correspondence between the Office of the Ombudsman and claimants, potential claimants, and/or survivors of such individuals or correspondence between the Office of the Ombudsman and the program agency regarding those individuals' EEOICPA claims; logs recording and detailing communications between claimants, potential claimants, and/or survivors of such individuals and the Office of the Ombudsman; claim forms filed by or on behalf of injured individuals or their survivors seeking benefits under the EEOICPA; reports by the employee and/or the United States Department of Energy; employment records; exposure records; safety records or other incident reports; dose reconstruction records; workers' or family members' contemporaneous diaries, journals, or other notes; forms authorizing medical care and treatment; other medical records and reports; bills and other payment records; compensation payment records; formal orders for or against the payment of benefits; transcripts of hearings conducted; and any other medical, employment, or personal information submitted or gathered in connection with the claim or complaint.

The system may also contain information relating to dates of birth, marriage, divorce, and death; notes (written or typed in email or other correspondence) of telephone conversations conducted in connection with the claim or complaint; information relating to vocational and/or medical rehabilitation plans and progress reports; records relating to court proceedings, insurance, banking and employment; articles from newspapers and other publications; information relating to other benefits (financial and otherwise) that the employee and/or survivor may be entitled to, including previously filed claims; and information received from various investigative agencies concerning possible violations of civil or criminal laws.

The system may also contain consumer credit reports on individuals indebted to the United States including information relating to the debtor's assets, liabilities, income and expenses, personal financial statements, correspondence to and from the debtor, and information relating to the location of the debtor. In addition, the system may contain other records and reports relating to the implementation of the Federal Claims Collection Act (as amended), including investigative reports or administrative review matters. Individual records listed here are included in a claim file only insofar as they may be pertinent or applicable to the individual claiming benefits.

AUTHORITY FOR MAINTENANCE OF THE SYSTEM:

Energy Employees Occupational Illness Compensation Program Act of 2000, Title XXXVI of Public Law 106-398, as amended by Public Law 108-375, 3161 (October 28, 2004), 42 U.S.C. 7385s-15.

PURPOSE(S):

To fulfill the duties of the Ombudsman under the EEOICPA as specified by Congress. The EEOICPA establishes a program for compensating certain individuals for covered illnesses related to exposure to toxic substances. These records are necessary to provide information to the public regarding the benefits available under the EEOICPA and the procedures attendant to those benefits, as well as to prepare the Congressionally-mandated Report to Congress detailing the complaints and concerns received in the Office of the Ombudsman concerning that program.

ROUTINE USES OF RECORDS MAINTAINED IN THE SYSTEM, INCLUDING CATEGORIES OF USERS AND THE PURPOSE OF SUCH USES:

In addition to the universal routine uses listed in the General Prefatory Statement to this document, the Ombudsman may disclose relevant and necessary information to the Department of Labor's Office of Workers' Compensation Program (OWCP); the Department of Health and Human Services' National Institute for Occupational Safety and Health (NIOSH); and/or the Department of Energy's Office of Health and Safety in order for the Ombudsman to respond to inquiries made by claimants, potential claimants, and/or survivors of such individuals regarding those individuals' EEOICPA claims, to the extent necessary to identify the individual and inform the source of the purpose(s) of the request.

DISCLOSURE TO CONSUMER REPORTING AGENCIES:

The amount, status and history of overdue debts; the name and address, taxpayer identification (SSN), and other information necessary to establish the identity of a debtor; and the agency and program under which the claim arose may be disclosed pursuant to 5 U.S.C. 552a(b)(12) to consumer reporting agencies as defined by section 603(f) of the Fair Credit Reporting Act (15 U.S.C. 1681a(f)) or in accordance with section 3(d)(4)(A)(ii) of the Federal Claims Collection Act of 1966 as amended (31 U.S.C. 3711(f)) for the purpose of encouraging the repayment of an overdue debt.

POLICIES AND PRACTICES FOR STORING, RETRIEVING, ACCESSING, RETAINING, AND DISPOSING OF RECORDS IN THE SYSTEM:

STORAGE:

Files are stored electronically and/or on paper.

RETRIEVABILITY:

By name, employer, contractor, date, or nature of injury.

SAFEGUARDS:

Access by authorized personnel only. Computer security safeguards are used for electronically stored data and locked locations for paper files.

RETENTION AND DISPOSAL:

All case files and automated data pertaining to a claim are destroyed 15 years after the case file has become inactive. Paper records that have been scanned to create electronic records are destroyed after the electronic records are verified. Automated data is retained in its most current form only, and as information is updated, outdated information is deleted. Electronic records are destroyed six years and three months after creation or receipt.

SYSTEM MANAGER(S) AND ADDRESS:

Ombudsman, Energy Employees Occupational Illness Compensation Program Act, 200 Constitution Avenue NW., Suite N-2454, Washington, DC 20210.

NOTIFICATION PROCEDURE:

Individuals wishing to inquire whether this system of records contains information about them may write or telephone the Office of the Ombudsman. In order for the record to be located, the individual must provide his or her full name, claim number (if known), and date of injury (if known).

RECORD ACCESS PROCEDURES:

Any individual seeking access to non-exempt information about a claim in which he/she is a party in interest may write or telephone the Office of the Ombudsman.

CONTESTING RECORD PROCEDURES:

Any individual requesting amendment of non-exempt records should contact the Office of the Ombudsman. Individuals requesting amendment of records must comply with the Department's Privacy Act regulations at 29 CFR 71.1 and 71.9.

RECORD SOURCE CATEGORIES:

Claimants who are the subject of the record and their family members; employers; current and former Federal contractors and subcontractors and their family members; State governments, State agencies, and other Federal agencies; State and Federal workers' compensation offices; physicians and other medical professionals; hospitals; clinics; medical laboratories; suppliers of health care products and services and their agents and representatives; educational institutions; attorneys; Members of Congress; EEOICPA investigations; consumer credit reports; investigative reports; correspondence with the debtor including personal financial statements; records relating to hearings on the debt; and other Department systems of records.

SYSTEMS EXEMPTED FROM CERTAIN PROVISIONS OF THE ACT:

In accordance with 5 U.S.C. 552a(k)(2), investigative material in this system of records compiled for law enforcement purposes is exempt from subsections (c)(3), (d), (e)(1), (e)(4)(G), (H) and (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government under an express promise that the identity of the source would be held in confidence, or prior to January 1, 1975, under an implied promise that the identity of the source would be held in confidence.

ETA—DOL Employment and Training Administration Systems of Records

DOL/ETA-1

SYSTEM NAME:

Office of Apprenticeship, Budget and Position Control File.

SECURITY CLASSIFICATION:

None.

SYSTEM LOCATION:

Employment and Training Administration (ETA), Office of Apprenticeship, Room N-5311, Frances Perkins Building, 200 Constitution Avenue NW., Washington, DC 20210.

CATEGORIES OF INDIVIDUALS COVERED BY THE SYSTEM:

Federal employees currently employed by OA.

CATEGORIES OF RECORDS IN THE SYSTEM:

Personal records concerning grades and salaries.

AUTHORITY FOR MAINTENANCE OF THE SYSTEMS:

5 U.S.C. 301.

PURPOSE(S):

For ready access in preparing management reports as required by ETA, and controlling OA FTE Ceiling (Full Time Equivalent) employment.

ROUTINE USES OF RECORDS MAINTAINED IN THE SYSTEM, INCLUDING CATEGORIES OF USERS AND THE PURPOSE OF SUCH USES:

None, except for those routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or paper.

RETRIEVABILITY:

Files are retrieved by region, budget position number, and name of employee.

SAFEGUARDS:

Access by authorized personnel only. Computer security safeguards are used for electronically stored data and locked locations for paper files.

RETENTION AND DISPOSAL:

Records are retained indefinitely for employment reference requests on former employees.

SYSTEM MANAGER(S) AND ADDRESS:

Administrator, Office of Apprenticeship, Room N-5311, Employment and Training Administration, Frances Perkins Building, 200 Constitution Avenue NW., Washington DC 20210.

NOTIFICATION PROCEDURE:

Inquiries should be mailed to the System Manager.

RECORD ACCESS PROCEDURES:

A request for access should be mailed to the System Manager.

CONTESTING RECORD PROCEDURE:

A petition for amendment should be mailed to the System Manager.

RECORD SOURCE CATEGORIES:

Information contained in this system is obtained from personal records, including SF-Form 50.

SYSTEM EXEMPTED FROM CERTAIN PROVISIONS OF THE ACT:

None.

DOL/ETA-4

SYSTEM NAME:

Registered Apprenticeship Partners Information Data System (RAPIDS).

SECURITY CLASSIFICATION:

None.

SYSTEM LOCATION:

Employment and Training Administration (ETA), Office of Apprenticeship, Room N-5311, Frances Perkins Building, 200 Constitution Avenue NW., Washington, DC 20210.

CATEGORIES OF INDIVIDUALS COVERED BY THE SYSTEM:

Apprentices/Trainees.

CATEGORIES OF RECORDS IN THE SYSTEM:

The categories of records include the following identifying information on apprentices/trainees: Social Security number, program number, State Code, O*NET/RAPIDS Occupation Code, Job Title, name, birth date, sex, ethnic code, Veteran code, registration date, previous experience date, and expected completion date.

AUTHORITY FOR MAINTENANCE OF THE SYSTEM:

The National Apprenticeship Act, also referred to as the Fitzgerald Act, 29 U.S.C. 50.

PURPOSE(S):

Records of individual apprentice/trainee and apprenticeship/trainee program sponsors are used for the operation and management of the apprenticeship system of training.

ROUTINE USES OF RECORDS MAINTAINED IN THE SYSTEM, INCLUDING CATEGORIES OF USERS AND THE PURPOSES OF SUCH USES:

Statistical records may be disclosed to Joint Apprenticeship Committees and Nonjoint Apprenticeship Committees, and other apprenticeship sponsors to determine an assessment of skill needs and provide program information; to provide program information for State Apprenticeship Agencies (SAAs) and other State/Federal agencies concerned with apprenticeship/training needs; to research and community organizations such as the Urban League to utilize apprenticeship information in research.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by the social security number of the apprentice/trainee by program type. However, data files are provided to researchers that have been cleaned of PII.

SAFEGUARDS:

Access by authorized personnel only. Computer security safeguards are used for electronically stored data and locked locations for paper files.

RETENTION AND DISPOSAL:

Paper files retain for five years and then destroy. Inactive programs are stored indefinitely using routine IT protocols. Inactive and completed apprentices are stored indefinitely using routine IT protocols.

SYSTEM MANAGER(S) AND ADDRESS:

Administrator, Office of Apprenticeship, Room N-5311, Employment and Training Administration, Frances Perkins Building, 200 Constitution Avenue NW., Washington, DC 20210.

NOTIFICATION PROCEDURE:

Inquiries should be mailed to the System Manager.

RECORD ACCESS PROCEDURES:

A request for access should be mailed to the System Manager.

CONTESTING RECORD PROCEDURE:

A petition for amendment should be mailed to the System Manager.

RECORD SOURCE CATEGORIES:

Apprentice/trainee and also Program Sponsor.

SYSTEMS EXEMPTED FROM CERTAIN PROVISIONS OF THE ACT:

None.

DOL/ETA-7

SYSTEM NAME:

Foreign Labor Certification System and Employer Application Case Files.

SECURITY CLASSIFICATION:

None.

SYSTEM LOCATION:

Employment and Training Administration (ETA), Office of Foreign Labor Certifications, Frances Perkins Building, 200 Constitution Avenue NW., Washington, DC 20210; National Processing Centers in Atlanta, Georgia; Chicago, Illinois; and National Prevailing Wage Center in Washington, DC, and contractor offices.

CATEGORIES OF INDIVIDUALS COVERED BY THE SYSTEM:

Employers who file labor certification applications, or labor condition applications for permanent or temporary employment of foreign workers; employers who file requests for prevailing wage determinations that may support an application for temporary and permanent labor certification; agents and foreign labor recruiters whom employers may engage in the recruitment of prospective H-2B workers with regard to labor certification applications filed in the H-2B temporary employment program and all persons or entities hired by or working for such recruiters or agents and any agents or employees of those persons or entities. The foreign worker is identified on Applications for Permanent Employment Certification, they are not identified nor listed on Applications for Temporary Employment Certification, Prevailing Wage Determination, nor Labor Condition Applications.

CATEGORIES OF RECORDS IN THE SYSTEM:

Employers' names, addresses, type and size of businesses to include annual gross revenue and proof of insurance coverage, production data, number of workers needed in certain cases, offer of employment terms to known or unknown aliens, and background and qualifications of certain aliens, along with resumes and applications of U.S. workers, employer provided source wage documents and surveys, names of agents and recruiters whom employers may engage in the recruitment of prospective H-2B workers, as well as the identity and location of all persons or entities hired by or working for such recruiters or agents, and any of the agents or employees of those persons and entities, engaged in recruitment of prospective workers for the H-2B job opportunities offered by the employer.

AUTHORITY FOR MAINTENANCE OF THE SYSTEM:

Immigration and Nationality Act, as amended, 8 U.S.C. 1101(a)(15)(H)(i), and (ii), 1184(c), 1182(m) and (n), 1182(a)(5)(a), 1188, and 1288. Section 122 of Public Law 101-649. 8 CFR 214.2(h). 20 CFR 655 Subpart A. 20 CFR 655.9.

PURPOSE(S):

To maintain a record of applicants and actions taken by ETA on requests to employ foreign workers and requests for prevailing wage determinations.

ROUTINE USES OF RECORDS MAINTAINED IN THE SYSTEM, INCLUDING CATEGORIES OF USERS AND THE PURPOSES OF SUCH USES:

1. Case files developed in processing labor certification applications, labor condition applications, and prevailing wage determination, are released to the employers which filed such applications and their representatives; to review ETA actions in connection with appeals of denials or other wage-related final determinations before the Office of Administrative Law Judges (OALJ) or Federal Courts; to participating agencies such as the DOL Office of Inspector General, DOL Wage and Hour Division, Department of Homeland Security, United States Citizenship and Immigration Services, and Department of State in connection with administering and enforcing related immigration laws and regulations. Records may also be released to named alien beneficiaries or their representatives, and third party requests under the under the Freedom of Information Act.

2. The Department will maintain a publicly available list of agents and recruiters whom employers have reported to the Department that they engage or plan to engage in the recruitment of prospective H-2B workers, as well as the identity and location of all persons or entities hired by or working for such recruiters or agents, and any of the agents or employees of those persons and entities, including the locations in which these entities operate as they engage in recruitment of prospective workers for H-2B job opportunities offered by the employer. This list will be maintained online, and will be used for the same purposes as stated in #1 above and may also be used by the public, including current or prospective H-2B workers or their representatives, to assist in the effective use of the H-2B temporary labor certification program.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by case number and employer name and in limited instances by the named beneficiary. In the case of labor certification applications in the H-2B program, files may be retrieved by name, including the name of the employer, agent, recruiter, or other entity involved in the recruitment of prospective H-2B workers as provided to the Department by the employer; and by country where recruitment activity may occur.

SAFEGUARDS:

Access by authorized personnel. Computer security safeguards are used for electronically stored data and scanned images; and paper files are maintained in secured locations.

RETENTION AND DISPOSAL:

FLC Case Files are retained for a period of 5 years after close in accordance with Records Schedule Number DAA-0369-2013-0002. Paper files are retained on-site at national processing centers for six months from the date of final determination. OFLC will continuously scan or convert paper records into OFLC Archive and Scan database(s). Paper copies of employer applications that are scanned will be destroyed once converted to an electronic medium and verified, or when no longer needed for legal or audit purposes in accordance with the records schedule. Paper copies of case files that are not scanned are retained on-site for six months after close, then transferred to Federal Records Center for duration of 5 year retention period.

SYSTEM MANAGER(S) AND ADDRESS:

Administrator, Office of Foreign Labor Certifications, ETA, 200 Constitution Avenue NW., Room C-4312, Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from labor certification applications, labor condition applications, and prevailing wage determination requests completed by employers. Certain information is furnished by named alien beneficiaries of permanent labor certification applications, State Workforce Agencies, and the resumes and applications of U.S. workers. Additional information is obtained from employer provided surveys.

SYSTEMS EXEMPTED FROM CERTAIN PROVISIONS OF THE ACT:

None.

DOL/ETA-8

SYSTEM NAME:

Job Corps Student Pay, Allotment and Management Information System (SPAMIS).

SECURITY CLASSIFICATION:

None.

SYSTEM LOCATION:

Job Corps Data Center (JCDC), 1627 Woodland Avenue, Austin, Texas 78741 (and Job Corps Centers).

CATEGORIES OF INDIVIDUALS COVERED BY THE SYSTEM:

Job Corps students and Job Corps terminees.

CATEGORIES OF RECORDS IN THE SYSTEM:

Personal information about the student: Pre-enrollment status, number of months enrolled in school, home address, family status and income; characteristics, such as age, race/ethnic group, sex; summarization of basic education and vocational training received in Job Corps; and initial Placement status (entry into employment, school, military service, or other status) after separation from the Program.

AUTHORITY FOR MAINTENANCE OF THE SYSTEM:

Subtitle C of Title I of the Workforce Investment Act of 1998, 29 U.S.C. 2882 et seq.; Subtitle C of Title I of the Workforce Innovation and Opportunity Act, 29 U.S.C. 3191 et seq.

PURPOSE(S):

These records are maintained to pay students and track student academic and vocational outcomes and achievements. This information is used for reporting center/contractor performance that includes enrollment information, performance outcomes while enrolled and placement information after separation.

ROUTINE USES OF RECORDS MAINTAINED IN THE SYSTEM, INCLUDING CATEGORIES OF USERS AND THE PURPOSES OF SUCH USES:

These records and information in these records may be used when relevant, necessary and appropriate:

a. To disclose photographs and student identities to the news media for the purpose of promoting the merits of the program.

b. To disclose information of a student's academic and vocational achievement and general biographical information, to placement and welfare agencies, respective employers, school or training institutions to assist in the employment of a student.

Categories of users:

a. Job Corps Center staff and operators/contractors;

b. Outreach, Admissions and Placement staff and contractors;

c. Support Contractors;

d. Federal staff at the regional and national levels.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by social Security number or name and center enrolled.

SAFEGUARDS:

Access by authorized personnel only. Computer security safeguards are used for electronically stored data and locked locations for paper files.

RETENTION AND DISPOSAL:

Records are retained for at least three (3) but no more than four (4) years after termination. After this, the records are retired to the Regional Federal Records Center where they are kept 75 years in accordance with Records Schedule NC-369-76-2.

SYSTEM MANAGER(S) AND ADDRESS:

National Director, Office of Job Corps U.S. Department of Labor, Employment and Training Administration, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Job Corps students, Outreach, Admissions and Placement Contractors; Support Contractors, and Job Corps Centers.

SYSTEMS EXEMPTED FROM CERTAIN PROVISIONS OF THE ACT:

None.

DOL/ETA-16

SYSTEM NAME:

Employment and Training Administration Investigatory File.

SECURITY CLASSIFICATION:

None.

SYSTEM LOCATION:

Employment and Training Administration, OMAS/OGM, Division of Policy, Review and Resolution, Frances Perkins Building, 200 Constitution Ave. NW., Washington, DC 20210, and each of the Employment and Training Administration Regional Offices.

CATEGORIES OF INDIVIDUALS COVERED BY THE SYSTEM:

Applicants, contractors, subcontractors, grantees, members of the general public, ETA employees, who are alleged violators of ETA, and federal laws and regulations.

CATEGORIES OF RECORDS IN THE SYSTEM:

Reports of alleged and confirmed problems, abuses or deficiencies relative to the administration of programs and operations of the agency, and of possible violations of Federal law whether civil or criminal; reports on resolution of criminal or conduct violations, and information relating to investigations and possible violations of ETA administered programs and projects; incident reports, hotline complaints, and investigative memoranda.

AUTHORITY FOR MAINTENANCE OF THE SYSTEM:

5 U.S.C. 301; Workforce Investment Act, 29 U.S.C. 2801 et seq.; Workforce Innovation and Opportunity Act, 29 U.S.C. 3101 et seq.

PURPOSE(S):

To ensure that all appropriate records of problems, abuses or deficiencies relative to the administration of programs and operations of the agency are retained and are available to agency, Departmental, or other Federal officials having a need for the information to support actions taken based on the records.

ROUTINE USES OF RECORDS MAINTAINED IN THE SYSTEM, INCLUDING CATEGORIES OF USERS AND THE PURPOSES OF SUCH USES:

The records and information in this system that are relevant and necessary may be used to disclose pertinent information to states, Workforce Development Boards, and other DOL-funded grantees as necessary to enforce ETA rules and regulations; and other uses noted in the prefatory statement.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by OIG case number along with case name and subject in excel spreadsheet in OGM S (shared drive).

SAFEGUARDS:

Access by authorized personnel only. Computer security safeguards are used for electronically stored data and locked locations for paper files.

RETENTION AND DISPOSAL:

Non-investigatory records are retained for 5 years after the case is closed. Records containing information or allegations that do result in a specific investigation are placed in an inactive file when the case is closed and destroyed, by shredding, after 10 years.

SYSTEM MANAGER(S) NAME AND ADDRESS(ES):

Administrator, Office of Financial and Administrative Management, 200 Constitution Ave. NW., Washington, DC 20210; and each Regional Administrator or Associate Regional Administrator of the ETA in the regional offices.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individuals, program sponsors, contractors, grantees, complainants, witnesses, Office of the Inspector General and other Federal, State and local government records.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/ETA-20

SYSTEM NAME:

Federal Bonding Program, Bondee Certification Files.

SECURITY CLASSIFICATION:

None.

SYSTEM LOCATION:

U.S. Department of Labor, Frances Perkins Building, 200 Constitution Avenue NW., Washington, DC 20210.

CATEGORIES OF INDIVIDUALS COVERED BY THE SYSTEM:

Any at-risk job applicant is eligible for bonding services, including: Ex-offender, recovering substance abusers (alcohol or drugs), welfare recipients and other persons having poor financial credit, economically disadvantaged youth and adults who lack a work history, individuals dishonorably discharged from the military, and anyone who cannot secure employment without bonding, and State Employment Service applicants who are eligible.

CATEGORIES OF RECORDS IN THE SYSTEM:

Personal (name, SSN, employer name), employment data (DOT and SIC codes), employer data (address, city, State, ZIP code), amount of bond (expressed in $500 units), cost of bond (expressed in units), effective date of bond, and termination date of bond.

AUTHORITY FOR MAINTENANCE OF THE SYSTEM:

Workforce Investment Act of 1998 (WIA) (29 U.S.C. 2801 et seq.); Workforce Innovation and Opportunity Act (WIOA) (29 U.S.C. 3101 et seq.).

PURPOSE(S):

The purpose of these records is to provide information to the DOL project officer on the activities of the contracted project—the Federal Bonding Program. These records are used solely for statistical information and not used in any way for making any determination about an identifiable individual.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or paper.

RETRIEVABILITY:

Files retrieved by assigned bond number.

SAFEGUARDS:

Access by authorized personnel only. Computer security safeguards are used for electronically stored data and locked locations for paper files.

RETENTION AND DISPOSAL:

States and regions dispose of data 3 years and older; The Punch Card Processing Co. keeps master DOS of all bondees prior to 1980.

SYSTEM MANAGER(S) AND ADDRESS:

Administrator, Office of Workforce Investment, Frances Perkins Building, 200 Constitution Ave. NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from State Job Service files, applicants for the bond and bonded employee's employer.

SYSTEMS EXEMPTED FROM CERTAIN PROVISIONS OF THE ACT:

None.

DOL/ETA-24

SYSTEM NAME:

Grant Officer Files.

SECURITY CLASSIFICATION:

None.

SYSTEM LOCATION:

Employment and Training Administration, Office of Office of Management and Administrative Services, Office of Grants Management, 200 Constitution Avenue NW., Washington, DC 20210.

CATEGORIES OF INDIVIDUALS COVERED BY THE SYSTEM:

Present and former grant officers.

CATEGORIES OF RECORDS IN THE SYSTEM:

Name, Social Security Number, job title and grade, qualifications, training and experience, request for appointment as Grant Officer, Certification of Appointment, copy of Certificate of Appointment, and other correspondence and documents relating to the individual's qualifications.

AUTHORITY FOR MAINTENANCE OF THE SYSTEM:

40 U.S.C. 486; Department of Labor Acquisition Regulations 2901.6; Department of Labor Manual Series 2-800.

PURPOSE(S):

To ascertain an individual's qualifications to be appointed as a grant officer; to determine if limitations on procurement authority are appropriate; to complete Certificate of Appointment.

ROUTINE USES OF RECORD MAINTAINED IN THE SYSTEMS, INCLUDING CATEGORIES AND USERS AND THE PURPOSES OF SUCH USES:

Disclosure to Office of Government Ethics: A record from a system of records may be disclosed, as a routine use, to the Office of Government Ethics for any purposes consistent with that office's mission, including the compilation of statistical data.

DISCLOSURE TO CONSUMER REPORTING AGENCIES:

None.

POLICIES FOR STORING, RETRIEVING, ACCESSING, RETAINING, AND DISPOSING OF RECORDS IN THE SYSTEM:

STORAGE:

Files are stored electronically and on paper.

RETRIEVABILITY:

Files are retrieved by Grant Officer name.

SAFEGUARDS:

Access by authorized personnel only. Computer security safeguards are used for electronically stored data.

RETENTION AND DISPOSAL:

Records relating to and reflecting the designation of Grant Officers and terminations of such designations, are retained until destroyed 6 years after termination of appointment in accordance with Records Schedule Number NI-369-00-1.

SYSTEM MANAGER(S) AND ADDRESS:

Chief, Division of Workforce System Federal Assistance, U.S. Department of Labor, ETA, 200 Constitution Avenue NW., Washington, DC 20210.

NOTIFICATION PROCEDURE:

Inquiries should be mailed to the System Manager.

RECORD ACCESS PROCEDURES:

A request for access should be mailed to System Manager.

CONTESTING RECORD PROCEDURES:

A petition for amendment should be mailed to the System Manager.

RECORD SOURCE CATEGORIES:

Information contained in this system is obtained from the grant officer's Certification of Appointment and background information on education, SF-171, and specific information on procurement authorities delegated.

SYSTEMS EXEMPTED FROM CERTAIN PROVISIONS OF THE ACT:

None.

DOL/ETA-29

SYSTEM NAMES:

National Agricultural Workers Survey (NAWS) Research File.

SECURITY CLASSIFICATION:

None.

SYSTEM LOCATIONS:

The NAWS Sponsor, Employment and Training Administration (ETA), Office of Policy Development and Research, U.S. Department of Labor, 200 Constitution Avenue NW., Room N-5641, Washington, DC, 20210; the office of the System Manager, currently JBS International, Inc., Aguirre Division (JBS), 555 Airport Blvd., Suite 400, Burlingame, CA 94010; and in two locations of the NAWS Co-Sponsor, the National Institute for Occupational Safety and Health (NIOSH): (1) The Division of Surveillance, Hazard Evaluations, and Field Studies, NIOSH, 4676 Columbia Drive, Cincinnati, Ohio 45226; and (2) The Division of Safety Research, NIOSH, 1095 Willowdale Road,—mail stop 180-p, Morgantown, West Virginia 26505.

CATEGORIES OF INDIVIDUALS COVERED BY THE SYSTEM:

NAWS respondents. These are randomly selected individuals who are engaged in crop and nursery activities. Between 1,500 and 4,000 individuals will be included in the file each year.

CATEGORIES OF RECORDS IN THE SYSTEM:

The system will contain records of the employment and migration history of crop workers and their families. It will also contain information about the wages, working conditions and recruitment procedures, and the health and occupational injury experience of crop workers. The records stored at JBS International, and only at JBS international, will also contain the names, and addresses of the respondents in the NAWS. All of this data will have been obtained in a personal interview with the respondents.

AUTHORITY FOR MAINTENANCE OF THE SYSTEM:

5 U.S.C. 301.

PURPOSE(S):

To gather and analyze data on the demographic, employment, and health characteristics of hired crop and nursery farm workers.

ROUTINE USES OF RECORDS MAINTAINED IN THE SYSTEM, INCLUDING CATEGORIES OF USERS AND THE PURPOSES OF SUCH USES:

None, except for those universal routine uses listed in the General Prefatory Statement to this document with the following limitations: The Routine Uses listed at paragraphs 3, 4, 7, 8, 9, and 11 in the General Prefatory Statement to this document are not applicable to this system of records. The records also may be disclosed where required by law.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by the name of individual making request.

SAFEGUARDS:

Access by authorized personnel only. Computer security safeguards are used for electronically stored data and locked locations for paper files.

RETENTION AND DISPOSAL:

Files are retained for four years after the collection of the data.

SYSTEM MANAGER(S) AND ADDRESSES:

The NAWS Sponsor, Employment and Training Administration, Office of Policy Development and Research, U.S. Department of Labor, 200 Constitution Avenue NW, Washington, DC 20210; the System Manager, currently JBS, 555 Airport Blvd., Suite 400, Burlingame, CA 94010; and the NAWS Co-Sponsor, the National Institute for Occupational Safety and Health (NIOSH): (1) The Division of Surveillance, Hazard Evaluations, and Field Studies, NIOSH, 4676 Columbia Drive, Cincinnati, Ohio 45226, and (2) The Division of Safety Research, NIOSH, 1095 Willowdale Road,—mail stop 180-p, Morgantown, West Virginia 26505.

NOTIFICATION PROCEDURE:

Inquiries should be mailed to the appropriate System Manager.

RECORD ACCESS PROCEDURE:

A request for access should be mailed to the appropriate System Manager.

CONTESTING RECORD PROCEDURES:

A petition for amendment should be mailed to the appropriate System Manager.

RECORD SOURCE CATEGORIES:

Information in this system is obtained from the NAWS respondents.

SYSTEMS EXEMPTED FROM CERTAIN PROVISION OF THE ACT:

None.

DOL/ETA-30

SYSTEM NAMES:

DOL Employment and Training Administration (ETA) Evaluation, Research, Pilot or Demonstration Contractors' Project Files.

SECURITY CLASSIFICATION:

None.

SYSTEM LOCATION:

Individual contractors' and subcontractors' project worksites Department Offices in Washington DC.

CATEGORIES OF INDIVIDUALS COVERED BY THE SYSTEM:

Participants in programs of the Workforce Investment Act (WIA) and Workforce Innovation and Opportunity Act (WIOA), Job Corps, Trade Adjustment Assistance, Registered Apprenticeship, and employers or employees covered under a State unemployment compensation law; or other research, pilot or demonstration projects.

CATEGORIES OF RECORDS IN THE SYSTEM:

Records in the system(s) may include personally identifiable information, characteristics of program participants, description of program activities, services received by participants, program outcomes and participant follow-up information; or Claimant (Employee) records, Employer contribution records, and Employee wage records obtained after the completion of the program for the purposes of the research/evaluation project(s).

AUTHORITY FOR MAINTENANCE OF THE SYSTEM:

Workforce Investment Act of 1998, Secs. 156, 171, and 172; Workforce Innovation and Opportunity Act, Secs. 156 and 169; Social Security Act, Secs. 441 and 908. (29 U.S.C. 1731-1735; 29 U.S.C. 2856, 2916, and 2917; and 42 U.S.C. 841 and 1108; respectively; and Social Security Act, Sections 303(a)(l), 303(a)(6), and 906, (42 U.S.C. 503(a)(l), 503(a)(6), 902, ll06); 5 U.S.C. 8506(b).

PURPOSE(S):

The purpose of this system is to provide necessary information for statutorily-required and other evaluations of ETA programs, evaluations of ETA-sponsored pilot and demonstration programs, and other statistical and research studies of employment and training program and policy issues. These records are used solely for statistical research or evaluation and are not used in any way for making any determination about an identifiable individual.

ROUTINE USES OF RECORDS MAINTAINED IN THE SYSTEM, INCLUDING CATEGORIES OF USERS AND THE PURPOSES OF SUCH USES:

Contractors or grantees of particular projects may disclose records without personal identifiable information to other Federal, State and local government agencies in order to facilitate the collection of additional data necessary for statistical and evaluation purposes.

DISCLOSURE TO CONSUMER REPORTING AGENCIES:

None.

POLICIES AND PRACTICES FOR STORING, RETRIEVING, ACCESSING, RETAINING, AND DISPOSING OF RECORDS IN THE SYSTEM:

STORAGE:

Files are stored electronically.

RETRIEVABILITY:

Files are retrieved by name or social security number, and by a variety of other unique identifiers that have been created for a specific study.

SAFEGUARDS:

Access by authorized personnel only. Computer security safeguards are used for electronically stored data.

RETENTION AND DISPOSAL:

Records are retained by the contractors for one to five years, then the identifiers are destroyed. After the conclusion of the studies the records are retired to the Federal Records Center and are destroyed after being retained by the Records Center for 20 years.

SYSTEM MANAGER(S) AND ADDRESS:

Administrator, Office of Policy and Research, Employment and Training Administration, Frances Perkins Building, 200 Constitution Ave. NW., Washington, DC 20210.

NOTIFICATION PROCEDURE:

Inquiries should be mailed to the System Manager.

RECORD ACCESS PROCEDURE:

A request for access should be mailed to the System Manager.

CONTESTING RECORD PROCEDURES:

A petition for amendment should be mailed to the System Manager.

RECORD SOURCE CATEGORIES:

Information contained in this system is obtained from individual participants, and Federal, State, and local Government agencies.

SYSTEMS EXEMPTED FROM CERTAIN PROVISIONS OF THE ACT:

None.

DOL/ETA-31

SYSTEM NAMES:

The Enterprise Business Support System (EBSS).

SECURITY CLASSIFICATION:

None.

SYSTEM LOCATION:

U.S. Departmental of Labor, 200 Constitution Avenue, Washington, DC.

CATEGORIES OF INDIVIDUALS COVERED BY THE SYSTEM:

a. Workforce Investment Act Standardized Record Data (WIASRD)—a system which manages file submissions and serves as a repository for annually submitted files of individual records on all participants who exit the Workforce Investment Act (WIA) programs.

b. WIOA Participant Individual Record Layout (PIRL)—a system which manages file submissions and serves as a repository for annually submitted files of individual records on all participants who exit the Workforce Innovation and Opportunity Act (WIOA) programs.

c. Registered Apprenticeship Partners Information Data Systems (RAPIDS)—is a web-based apprenticeship training program management and reporting system. It is composed of two major components: The RAPIDS system and the E-Registration. The RAPIDS system allows RAPIDS users (Apprenticeship Training Employer and Labor Services management, regional and state directors and Apprenticeship Training Representatives) to register, process, manage, and report apprenticeship programs and apprentices registered in these programs. E-Registration allows apprenticeship sponsors to register and manage apprentices in programs they sponsor.

d. Common Reporting Interchange System (CRIS)—CRIS uses state and Federal Employment Data Exchange System (FEDES) and Wage Record Interchange System (WRIS) in generating reports. CRIS provides common performance measures for the grant programs, which do not have the ability to collect the common measure outcomes i.e. Entered Employment Rate, Retention Rate, and Average Earnings etc. on their own.

e. The Reintegration of Ex-Offenders—Adult Program (RExO), formerly known as the Prisoner Reentry Initiative (PRI), is designed to strengthen urban communities through an employment-centered program that incorporates mentoring, job training, and other comprehensive transitional services. Participants enrolled in RExO—Adult grants and the affiliated random assignment evaluation.

f. Youth Build—a case management and grantee performance reporting system. The system collects participant level data and manages the program lifecycle at the participant level. The system also provides grantees with quarterly reporting capability and tools to manage sub-grantees.

g. Enhanced Transitional Jobs Demonstration (ETJD)—These evaluations will inform the Federal government about the effectiveness of subsidized and transitional employment programs in helping vulnerable populations secure unsubsidized jobs in the labor market and achieve self-sufficiency.

h. Senior Community Service Employment Program (SCSEP) Performance and Results Quarterly Performance Results (QPR) System (SPARQ)—Participants in the SCSEP funded under the Older Americans Act Amendments of 2006 (OAA Amendments), Public Law 109-365.

i. Indian and Native American Program (INAP)—Participants who have exited from the Workforce Investment Act (WIA), Section 166 program and the Workforce Innovation and Opportunity Act, Section 166 programs.

j. Bene-Choice (formerly Youth Offenders)—a case management and grantee performance reporting system. The system collects participant level data and manages the program lifecycle at the participant level. The system also provides grantees with quarterly reporting capability and tools to manage sub-grantees.

k. Trade Act Participant Records (TAPR)—an application which collects and maintains program performance and participant outcomes for TAA and NAFTA Transitional Adjustment Assistance (NAFTA-TAA) programs.

l. High Growth and Community Based Job Training and Performance Reporting (HGJTP)—a web-enabled application that collects performance results from High Growth and Community Based grant programs.

CATEGORIES OF RECORDS IN THE SYSTEM:

WISARD: This system contains initial requests under the Workforce Investment Act, responses, and related documents.

WIOA (PIRL): This system contains WIOA participant personally identifiable information such as social security numbers and birthdates.

RAPIDS: Include the following identifying information on apprentices/trainees: Social Security number, ATR Code, program number, State Code, DOT Code, Job Title, name, birth date, sex, ethnic code, race code, Veteran code, accession date, previous experience date, expected completion date, exit wage, and apprenticeship school link.

CRIS: This system contains initial requests under the Workforce Investment Act and Workforce Innovation and Opportunity Act, responses, and related documents.

RExO: This system contains participant contact and demographic data, as well as services provided and performance outcomes obtained.

YOUTH BUILD: This system contains participant contact and demographic data, as well as services provided and performance outcomes obtained.

ETJD: This system contains participant contact and demographic data, as well as services provided and performance outcomes obtained.

SCSEP: Records in the system include personal characteristics of each SCSEP participant; the description of training, community service assignments, and unsubsidized employment placements the participants received; wages and supportive services received; and program outcome and participant follow-up information obtained after completion of the program.

INAP: Records in the system include (scrambled) Social Security number and various characteristics of each participant, the description of program activities and services they received, and program outcome and participant follow-up information obtained after completion of the program.

BeneChoice (formerly Youth Offenders): Case managers enter the data provided by the participants.

TAPR: Standardized set of data elements, definitions, and specifications that describe the characteristics, activities, and outcomes of TAA participants.

HGJTP: Electronic file of individual records on all participants who exit from the program during the reporting quarter. These individual records follow a comma-delimited format and contain the minimal amount of information needed in order for ETA to collect employment-related outcomes data using wage records.

AUTHORITY FOR MAINTENANCE OF THE SYSTEM:

The Workforce Investment Act of 1998, Public Law 105-220, 29 U.S.C. 2871, Section 136; Workforce Innovation and Opportunity Act, Public Law 113-128, Section 116, 29 U.S.C. 3141.

PURPOSE(S):

This system of records is maintained to:

a. Generate statistical reports that will present detailed information on the characteristics of program participants, program activities, and outcomes.

b. Provide information for evaluation purposes.

c. Provide a suitable national database to enable the Department to provide technical guidance to local programs in establishing performance goals for their service providers.

d. Provide grantees with a case management system to record individual participant outcomes.

e. Provide access to real-time data to grantees for data tracking and program improvement.

f. Provide access to real-time data to Federal office staff in response to requests for information from Congress, GAO, OMB and other sources, as requested.

g. Provide access to necessary demographic and outcome information necessary for the affiliated random assignment evaluation of the programs.

ROUTINE USES OF RECORDS MAINTAINED IN THE SYSTEM, INCLUDING CATEGORIES OF USERS AND THE PURPOSES OF SUCH USES:

These records, and information in these records, may be used to:

a. Report performance outcomes on individual grants and aggregated grant performance.

b. Share performance information to the workforce system via the Quarterly Workforce System Results.

c. Share demographic and service counts as requested by Congress, OCIA, OMB, GAO or other requesters.

d. Track case management and performance by grantees to improve outcomes and meet performance measure goals.

e. Disclose information to researchers and public interest groups those records that are relevant and necessary to evaluate the effectiveness of the overall programs and its various training components in serving different subgroups of the eligible population.

f. Disclose information to Federal, state, and local agencies and community-based organizations to facilitate statistical research, audit, and evaluation activities necessary to ensure the success, integrity, and improvement of the employment and training programs.

g. Disclose information to placement and welfare agencies, prospective employers, school, or training institutions to assist in participant employment.

h. Disclose statistical information to the news media or members of the general public for the purpose of promoting the merits of the programs.

i. Disclose to Native American organizations receiving WIA, section 166 and WIOA, section 166 funding to provide relevant and necessary information to allow for comparative self-analysis of their programs' performance.

DISCLOSURE TO CONSUMER REPORTING AGENCIES:

None.

POLICIES AND PRACTICES FOR STORING, RETRIEVING, ACCESSING, RETAINING, AND DISPOSING OF RECORDS IN THE SYSTEM:

STORAGE:

Files are stored electronically.

RETRIEVABILITY:

Files are retrieved by the grant, recipient's grant number and unique identification assigned to individuals. Records can also be retrieved by social security number but only by individuals that have access to the database and the encryption methodology.

SAFEGUARDS:

Access by authorized personnel only. Computer security safeguards are used for electronically stored data.

RETENTION AND DISPOSAL:

Records are retained indefinitely.

SYSTEM MANAGER(S) AND ADDRESS:

Director, Office of Information Systems and Technology, Employment and Training Administration (ETA).

NOTIFICATION PROCEDURE:

Inquiries should be mailed to the System Owner.

RECORD ACCESS PROCEDURE:

A request for access should be mailed to the System Owner.

CONTESTING RECORD PROCEDURES:

A petition for amendment should be addressed to the System Owner.

RECORD SOURCE CATEGORIES:

Information in this system is obtained from the individual requester, official documents, agency officials, and other Federal agencies.

SYSTEMS EXEMPTED FROM CERTAIN PROVISIONS OF THE ACT:

The Department of Labor has claimed exemptions from several of its other systems of records under 5 U.S.C. 552a(k) (1), (2), (3), (5), and (6). During the course of a PA/FOIA action, exempt materials from those other systems may become part of the case record in this system. To the extent that copies of exempt records from those other systems are entered into these PA/FOIA case records, the Department has claimed the same exemptions for the records as they have in the original primary system of records of which they are a part.

DOL/ETA-32

SYSTEM NAME:

Contract Files.

SECURITY CLASSIFICATION:

None.

SYSTEM LOCATION:

Employment and Training Administration, Office of Contracts Management, 200 Constitution Avenue NW., Suite N-4643, Washington, DC 20210, Regional Offices.

CATEGORIES OF INDIVIDUALS COVERED BY THE SYSTEM:

Present and former contracting officers, contract specialists, and contracting officer representatives.

CATEGORIES OF RECORDS IN THE SYSTEM:

Name, job title, qualifications, training and experience, request for appointment as Contracting Officer, Contracting Officer Representative, Contracting Officer Representative Letter of Appointment, and other correspondence and documents relating to the individual's qualifications therefor.

AUTHORITY FOR MAINTENANCE OF THE SYSTEM:

48 CFR Subpart 4.8; Department of Labor Acquisition Regulations 2901.6; Department of Labor Manual Series 2-800, and Section 830.

PURPOSE(S):

a. To ascertain an individual's qualifications to be appointed as a contracting officer;

b. To determine if limitations on procurement authority are appropriate;

c. To complete Certificate of Appointment;

d. To provide a record of communications between the requester and the agency;

e. To ensure that all relevant, necessary and accurate data are available to support any process for appeal; and

f. To provide a legal document to support any process for appeal.

ROUTINE USES OF RECORD MAINTAINED IN THE SYSTEMS, INCLUDING CATEGORIES AND USERS AND THE PURPOSES OF SUCH USES:

A. Disclosure to Office of Government Ethics: A record from a systems of record may be disclosed, as a routine use, to the Office of Government Ethics for any purposes consistent with that office's mission, including the compilation of statistical data.

B. Disclosure to a Board of Contract Appeals, GAO or any other entity hearing a contractor's protest or dispute: A record from a system of record may be disclosed, as a routine use, to the United States General Accountability Office, to a Board of Contract Appeals, or the Claims Court in bid protest cases or contract dispute cases involving procurement.

DISCLOSURE TO CONSUMER REPORTING AGENCIES:

None.

POLICIES FOR STORING, RETRIEVING, ACCESSING, RETAINING, AND DISPOSING OF RECORDS IN THE SYSTEM:

STORAGE:

Files are stored electronically and/or paper. Paper records in file folders.

RETRIEVABILITY:

Files are retrieved by Contract Number and Name.

SAFEGUARDS:

Records are maintained in a secured, locked file room, accessible to the authorized personnel having need for the information in the performance of their duties. Computer security safeguards are used for electronically stored data and locked locations for paper files.

RETENTION AND DISPOSAL:

Records are retained for 6 years after termination of appointment in accordance with Records Schedule Number GRS-03-02.

SYSTEM MANAGER(S) AND ADDRESS:

Chief, Division of Contract Services, Policy and Administration, U.S. Department of Labor, ETA, 200 Constitution Avenue NW., Suite N-4643, Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individual requesters, official documents, agency officials, and other federal agencies.

SYSTEMS EXEMPTED FROM CERTAIN PROVISIONS OF THE ACT:

None.

MSHA—DOL Mine Safety and Health Administration Systems of Records

DOL/MSHA-1

SYSTEM NAME:

Mine Safety and Health Administration Standardized Information System (MSIS).

SECURITY CLASSIFICATION:

None.

SYSTEM LOCATION:

Mine Safety and Health Administration (MSHA)—Program Evaluation and Information Resources (PEIR), U.S. Department of Labor, Denver, Colorado. Some records in paper form are located at:

MSHA—Educational Development and Policy (EPD), U.S. Department of Labor, Denver, Colorado (Health safety training and examination, qualification and certification records);

MSHA—Coal Mine Safety and Health, U.S. Department of Labor, Arlington, Virginia and district and field offices (Coal respirable dust and other enforcement records);

MSHA—Metal and Nonmetal Mine Safety and Health, U.S. Department of Labor, Arlington, Virginia and district and field offices (Exposure and other enforcement records; Radon daughter exposure records);

MSHA—Office of Assessments, Accountability, Special Enforcement and Investigations, U.S. Department of Labor, Arlington, Virginia (Discrimination investigations and civil/criminal investigations) and Wilkes-Barre, Pennsylvania (Penalty assessments).

CATEGORIES OF INDIVIDUALS COVERED BY THE SYSTEM:

MSHA enforcement personnel who conduct inspection or investigation activities at mines; individuals for whom personal dust samples have been submitted for analysis; individuals with evidence of the development of coal workers' pneumoconiosis (black lung disease) as defined under 30 CFR part 90; individuals who MSHA has certified or qualified to complete certain mining tasks or has approved to provide training; individuals who are indebted to the United States in the form of a civil penalty; individuals with ownership interests in mines and individuals listed as responsible for health and safety at mines; individuals involved in accidents, occupational injuries, or occupational illnesses; individuals for whom mine operators are required to calculate and record radon daughter exposure in each calendar year; individuals who have been allegedly discriminated against in violation of the Federal Mine Safety and Health Act of 1977, as amended (Mine Act); individuals who are alleged to have knowingly or willfully committed violations of the Mine Act; and individuals who are criminally prosecuted or who are assessed a monetary civil penalty for violations of the Mine Act.

CATEGORIES OF RECORDS IN THE SYSTEM:

Records for the mine identification number and legal identity report contain information which includes: Mine (including mill) name, company name, ownership information, Taxpayer Identification Number (TIN), mine location, operating status, and individuals listed as responsible for health and safety at mines. Records for mine inspection personnel time and activity, inspections, citations and orders issued to operators; sampling data on personal exposure of non-identified miners and MSHA personnel to radiation, dust, noise, and other contaminants; and comprehensive health surveys at mines.

Since 2008, MSHA requires certain individuals to submit their Taxpayer Identification Numbers (which includes Social Security Numbers), to receive their unique MSHA Individual Identification Numbers (MIIN). The MIIN is substituted for the Social Security Number (SSN), eliminating the need for miners and other individuals to provide their SSNs on certain documents submitted to MSHA.

Coal Respirable Dust records contain information such as the mine and company name, mine identification number, designated areas in the mine and designated occupations where samples were taken, occupations and SSNs of individuals sampled (before 1981) and of 30 CFR part 90 miners (after 1980), date sampled, concentration of respirable dust measured in the miners' work environment, tons of material produced during sampling shift, sampling time, and SSN of the certified person taking the sample. Since 2008, MIINs replaced SSNs for identifying Part 90 miners sampled and the certified person taking the samples. Consequently, SSNs are no longer collected on sample records.

Qualification and Certification records contain mine identification number, MSHA identification number, training course codes, instructor's name and SSN, date of training, name and SSN of persons who have taken training and examinations to become qualified or certified for certain mine tasks or approved instructors, and the results of any monitoring of an instructor. Since 2008, MIINs replaced SSNs for persons trained and for the instructors of the courses. Consequently, SSNs are no longer collected in Qualification and Certification records.

Penalty Assessment records contain proposed civil penalty assessments, civil penalty payment information, bankruptcy information, delinquent debt referrals to Treasury for collection, and civil penalty final orders of the Federal Mine Safety and Health Review Commission on individuals.

Accident, injury, and occupational illness records include the mine name and identification number; date, time, and place of occurrence; type and description of accident; and name and partial SSN for the individual injured or reporting an occupational illness. For 1978 and subsequent years, only the last four digits of the SSN are collected.

Radon Daughter Exposure records contain the mine identification number, mine name, section, township, range, county, and state of mine location, operator, time period, miner's name, current year's radon daughter exposure, and cumulative radon daughter exposure in working level months (WLM). Prior to 2008, SSNs were collected for miners exposed to radon daughters; MSHA no longer collects SSNs. A “Miner's Identification Number” is now used for these records.

Discrimination investigation records include the name, address, telephone number, social security number, occupation, place of employment, other identifying data, and allegation information from complainants, mine operators, miners, and other individuals. This material includes interview statements and other data gathered by the investigator.

Civil and criminal investigation records include the name, address, telephone number, social security number, occupation, place of employment, and other identifying data concerning individuals who are the focus of civil or criminal investigations along with allegation information from miners, mine operators, and other individuals. This material includes interview statements and other information gathered by the investigator.

AUTHORITY FOR MAINTENANCE OF THE SYSTEM:

29 U.S.C. 557a, 668; 30 U.S.C. 811, 813, 814 (Coal and Metal and Nonmetal Enforcement records including health records); 30 U.S.C. 813(a), 842 (Coal Respirable Dust records); 30 U.S.C. 825, 877(i), 952 (Qualification and Certification records); 31 U.S.C. 3701, 3711-12, 3716-19, 3720A-E, 7701 (MIIN and Legal identity records); 30 U.S.C. 815 and 820 (Penalty Assessments records); 30 U.S.C. 811 (Radon Daughter Exposure); 30 U.S.C. 815(c) (Discrimination investigation records); 30 U.S.C. 820 (Civil and criminal investigation records).

PURPOSE(S):

Records in MSIS are used by authorized personnel to:

a. Maintain information on individuals with ownership interests in mines and individuals listed as responsible for health and safety at mines;

b. maintain information on mine inspection personnel time and activity, inspections, citations and orders (to include terminating conditions or practices) issued to operators to determine workload, work scheduling, and performance;

c. maintain sampling data on exposure levels of individuals and MSHA personnel to radiation, dust, noise and other contaminants, and comprehensive health surveys at mines to determine compliance with standards;

d. maintain records of training and examination of individuals, who have taken MSHA-approved training courses to attain certain skills;

e. issue qualification or certification cards to individuals who MSHA has certified or qualified to complete certain mining tasks or has approved to provide training;

f. monitor approved instructors;

g. provide information on individuals who are indebted to MSHA for the purpose of assessing penalties and take appropriate actions to collect or otherwise resolve the debts;

h. provide MSHA with timely statistical information for making decisions on improving safety and health programs, improving education and training efforts, and establishing priorities in technical assistance activities in the mining industry in order to reduce accidents and occupational injuries and illnesses;

i. determine probable cause of accidents, injuries, and illnesses;

j. determine validity and gravity of discrimination allegations, the amount of any civil penalty assessment, and the nature of other appropriate remedies; and

k. determine validity and gravity of allegations under Mine Act §§ 110(c)-(h), the amount of any civil penalty assessment, and the propriety of referrals for possible criminal prosecution.

ROUTINE USES OF RECORDS MAINTAINED IN THE SYSTEM, INCLUDING CATEGORIES OF USERS AND THE PURPOSES OF SUCH USES:

In addition to those routine universal uses listed in the General Prefatory Statement to this document, disclosure of information from this system of records may be made to the following individuals and entities for the purposes noted when the purpose of the disclosure is compatible with the purpose for which the information was collected:

a. Disclosures of inspection and investigation and accident, injury, and occupational illness information may be made: (1) To the U.S. Department of Health and Human Service, Centers for Disease Control and Prevention, National Institute for Occupational Safety and Health (NIOSH) and the Environmental Protection Agency to determine radiation, dust, noise and other contaminant exposure levels; (2) to NIOSH for research on mine safety and health; (3) to appropriate Federal, State, local or foreign agencies for research purposes, for enforcing or implementing a statute, rule, regulation, order or license and to determine contaminant exposure levels; (4) to mine operators to determine contaminant exposure levels and to furnish accident, injury, and occupational illness as the information relates to their mines; (5) to labor, industry, and academic organizations to monitor dust concentration and compliance trends; and (6) to individuals requesting information on sampling data for contaminant exposure levels and comprehensive health surveys at mines.

b. Disclosures of Qualification and Certification records may be made: (1) To mine operators and labor organizations requesting information to verify that MSHA has certified or qualified individuals to perform certain mining tasks or approved to provide training; (2) to appropriate Federal, State, local or foreign agencies for enforcing or implementing a statute, rule, regulation, order or license; and (3) to individuals requesting information on their certifications or qualifications to perform certain mining tasks or their approval to provide training.

DISCLOSURE TO CONSUMER REPORTING AGENCIES:

The Department of Treasury discloses delinquent debtor information that MSHA transmits to them to credit bureaus.

POLICIES AND PRACTICES FOR STORING, RETRIEVING, ACCESSING, RETAINING, AND DISPOSING OF RECORDS IN THE SYSTEM:

STORAGE:

Files are stored electronically, on paper, or both.

RETRIEVABILITY:

The Coal and Metal and Nonmetal records are indexed and retrieved by mine identification number for the operator and certain mine officials; and by authorized representative or right of entry number, the MSHA organization office code, inspection event number, and citation number for MSHA enforcement personnel.

The Coal Respirable Dust records are indexed and retrieved by mine identification number and MIIN for all 30 CFR part 90 miners. Historical records are indexed and retrieved by mine identification number and SSN.

The Qualification and Certification records are indexed and retrieved by name, MIIN, MSIS document number, mine identification number and MSHA identification number. Microfilm records are retrieved on basis of cycle number, mine identification number, date, and course examination.

For MIINs, MSHA indexes records by the name and taxpayer identification number (including SSN). These taxpayer identification numbers (includes SSNs) are not accessible to the public in a secure internal location that is not viewable by the public or the MSIS user community.

The Penalty Assessment records are indexed and retrieved by mine identification number, TIN (including SSN), name, or MSHA assessment case number.

Accident, injury, and occupational illness records are indexed and retrieved by mine identification number, MSHA identification number, date of accident, date of birth, last name and last four digits of SSN for the individual injured or reporting an occupational illness.

Radon Daughter Exposure records are indexed and retrieved by year and by mine name. For paper records, the records are indexed and retrieved by year, mine name, mine operator, and individual's name.

Discrimination investigation records are indexed and retrieved by case number, complainant's name, company name, mine name, or mine identification number.

Civil and criminal investigation records are indexed and retrieved by case number; individual's name; company name; mine name, or mine identification number.

SAFEGUARDS:

Access is by authorized personnel only. Computer security safeguards are used for electronically stored data and locked locations for paper files.

RETENTION AND DISPOSAL:

MSIS, which includes data repositories, are updated from source documents generally daily and weekly. The records associated with the decommissioned systems and computer systems reside in MSIS. Paper records generally are included, except for the radon daughter exposure records. Historical, migrated data is retained indefinitely on disk within MSIS and on magnetic tape.

Inspection reports and related documents included in the Coal and Metal and Nonmetal Enforcement records are permanent records and are retired to National Archives and Record Administration (NARA) in 10-year blocks; temporary reports are destroyed after 10 years. (NC1-433-81-1, Item 6) Legal identity reports are retained as long as the mine is in operation, once mine closes the reports are sent to NARA and destroyed when 10 years old. (NC1-433-81-1, Item 19) Activity reports for Coal enforcement personnel are transferred to NARA after three years and destroyed when 10 years old. (NC1-433-81-1, Item 23) Activity reports including health surveys at mines for Metal and Nonmetal enforcement personnel are permanent records which are retained for 24 months and then transferred to an historical database for transfer to NARA annually. (NC1-433-85-1, Item 10) Sampling data and results on personal exposure of non-identified miners and MSHA personnel to radiation, dust, noise, and other contaminants at mines are transferred to NARA after three years and destroyed when 10 years old. (NC1-433-81-1, Item 24) Summary monthly and annual mine inspection activity reports that breakdown inspections, violations, notices issued, and orders of withdrawal including results of dust and noise sampling are retained as necessary and then destroyed because they are copies of other source documents. (NC1-433-81-1, Item 29)

Dust data cards and results submitted by MSHA enforcement personnel are transferred to the NARA when three years old and destroyed when 10 years old. (NC1-433-81-1, Item 25) Dust data cards submitted by mine operators are retained for one year and transferred to NARA and destroyed when five years old. (NC1-433-85-1, Item 11)

Qualification and Certification (training) documents are destroyed when three years old and microfilm is destroyed when 50 years old. (NC1-433-81-1, Items 32 and 33) Penalty assessment source documents are retained until cases are closed, retired to NARA for 10 years, and then destroyed. (NC1-433-81-1, Item 12)

MSHA Form 7000-1, Mine Accident, Injury, and Illness Report on paper are source documents and are retained for six years after year of record and then destroyed. Electronic copies of these documents are retained by MSHA permanently. Records in electronic media are transferred to NARA as permanent records immediately after each annual close-out. (NC1-433-85-1, Item 9)

Radon Daughter Exposure records are permanent records and MSHA retains them until all individuals identified in the records become 75 years old or until 10 years after their known death. (30 CFR 57.5040, American National Standard Institute, ANSI N13.8-1073 Paragraph 9.7 and 9.8) Since the beginning of 2014, all paper forms are temporary forms and will be destroyed after converted to electronic format. (NC1-433-85-1, Item 10)

Discrimination investigation records are retained for one year after the case is closed, then are transferred to a Federal Records Center where they are retained until they are 15 years old; they are then destroyed. (N1-433-94-2, Item 1)

Civil and criminal investigation records are retained for one year after the case is closed, then are transferred to a Federal Records Center where they are retained until they are 15 years old; they are then destroyed. (N1-433-94-2, Item No. 1)

SYSTEM MANAGER(S) AND ADDRESS:

Director of Office of Standards, Regulations, and Variances, Arlington, VA.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from MSHA personnel who submit inspection time utilization, violation, sampling, and other enforcement information. In addition, information is received from mine operators including independent contractors concerning contaminant and radon sampling, legal identity, and mine accidents, injuries, and occupational illnesses at their mines. Training and other information for qualifications and certifications are received from individuals, instructors, States, mining industry, and MSHA personnel. Civil penalty and special enforcement information is obtained from MSHA personnel, miners, mine operators, civil penalty assessment and special investigation case files, payment installment plans, bankruptcy case files, Treasury cross-servicing (debt-collection) files, and Treasury offset files. Discrimination investigation information is obtained from individuals alleging discrimination, mine operators, witnesses, and third-party sources. Civil and criminal investigation information is obtained from miners, mine operators, MSHA investigators and personnel, and other individuals.

SYSTEMS EXEMPTED FROM CERTAIN PROVISIONS OF THE ACT:

In accordance with 5 U.S.C. 552a(k)(2), investigatory material in this system of records compiled for law enforcement purposes is exempt from subsections (c)(3); (d)(1), (d)(2), (d)(3), (d)(4); (e)(1); (e)(4)(G) and (I); and (f) of 5 U.S.C. 552a, provided however, that if any individual is denied any right, privilege, or benefit that he or she would otherwise be entitled to by Federal law, or for which he or she would otherwise be eligible, as a result of the maintenance of such material, such material shall be provided to the individual, except to the extent that the disclosure of such material would reveal the identity of a source who furnished information to the Government under an express promise that the identity of the source would be held in confidence.

The Department of Labor has claimed exemptions from several of its other systems of records under 5 U.S.C. 552a(j)(2) and (c)(3) and (c)(4); (d), (e)(1)-(3); (e)(4)(G), (H), and (I); (e)(5) and (8); (f) and (g). During the course of an investigation, exempt materials from those other systems may become part of the case record in this system. To the extent that copies of exempt records from those other systems are entered into these records, the Department has claimed the same exemptions for the records as they have in the original primary system of records of which they are a part.

DOL/MSHA-22

SYSTEM NAME:

Educational Policy and Development; National Mine Health and Safety Academy Permanent Record Card or Student Information System.

SECURITY CLASSIFICATION:

None.

SYSTEM LOCATION:

Mine Safety and Health Administration (MSHA)—Directorate of Educational Policy and Development, National Mine Health and Safety Academy, U.S. Department of Labor, Beaver, West Virginia.

CATEGORIES OF INDIVIDUALS COVERED BY THE SYSTEM:

MSHA personnel and other individuals who receive training through MSHA, including training offered through the National Mine Health and Safety Academy (Academy).

CATEGORIES OF RECORDS IN THE SYSTEM:

This system includes records of training authorized under sections 502, 503(f), or 505 of the Federal Mine Safety and Health Act of 1977 (Mine Act), as amended by the Mine Improvement and New Emergency Response Act of 2006 (MINER Act). Records include instructor's grade sheets and student transcripts, reflecting courses and grades received. Starting in Fiscal Year 2003, MSHA started to store the records electronically.

AUTHORITY FOR MAINTENANCE OF THE SYSTEM:

29 U.S.C. 557a; 30 U.S.C. 952, 953(f), 954.

PURPOSE(S):

To maintain records on Mine Safety and Health inspectors and others to assure that proper training is received under the Mine Act. Records are used by individuals, inspectors, and supervisors to track training and grades.

ROUTINE USES OF RECORDS MAINTAINED IN THE SYSTEM, INCLUDING CATEGORIES OF USERS AND THE PURPOSES OF SUCH USES:

In addition to those universal routine uses listed in the General Prefatory Statement, disclosures may be made to: (1) Appropriate Federal, State, local agencies when individuals transfer from one agency to another; (2) colleges that accept training received at the Academy for transferable credit hours; or (3) supervisors of individuals who request transcripts on employees to assure that proper training has been received or completed.

DISCLOSURE TO CONSUMER REPORTING AGENCIES:

None.

POLICIES AND PRACTICES FOR STORING, RETRIEVING, ACCESSING, RETAINING, AND DISPOSING OF RECORDS IN THE SYSTEM:

STORAGE:

Records are stored electronically, on paper, or both.

RETRIEVABILITY:

Records are indexed and retrieved by name of the student only.

SAFEGUARDS:

Access is by authorized personnel only. Computer security safeguards are used for electronically stored data and locked locations for paper files.

RETENTION AND DISPOSAL:

Instructor grade sheets are destroyed after 3 years. Academy Permanent Records Cards (Transcripts) and other documentation are retained for 50 years and then destroyed. NC1-433-81-1, Item 33.

SYSTEM MANAGER(S) AND ADDRESS:

Director of Office of Standards, Regulations, and Variances, Arlington, VA.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from Educational Policy and Development, National Mine Health and Safety instructors and individuals who receive training through MSHA.

SYSTEM EXEMPTED FROM CERTAIN PROVISIONS OF THE ACT:

None.

DOL/MSHA-23

SYSTEM NAME:

Educational Policy and Development Activity Reporting System

SECURITY CLASSIFICATION:

None.

SYSTEM LOCATION:

Mine Safety and Health Administration (MSHA) Directorate of Educational Policy and Development; U.S. Department of Labor, Beaver, WV.

CATEGORIES OF INDIVIDUALS COVERED BY THE SYSTEM:

Educational Policy and Development (EPD), Education and Training specialists.

CATEGORIES OF RECORDS IN THE SYSTEM:

The records in this system include the mine identification number, mine name, name and MSHA Individual Identification Number (MIIN) of an instructor, and the education and training personnel tracking information such as training specialist's name, types of activities conducted, and time spent on activities.

AUTHORITY FOR MAINTENANCE OF THE SYSTEM:

29 U.S.C. 557a.

PURPOSE(S):

Records in this system are used by authorized personnel to: (1) Determine the workload, work scheduling, and performance of EPD personnel; and (2) assist in budgeting and staffing of education and training specialists.

ROUTINE USES OF RECORDS MAINTAINED IN THE SYSTEM, INCLUDING CATEGORIES OF USERS AND THE PURPOSES OF SUCH USES:

None except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Records are stored electronically and/or on paper.

RETRIEVABILITY:

Records are indexed and retrieved by mine identification number, EPD employee's name, and district code.

SAFEGUARDS:

Access is by authorized personnel only. Computer security safeguards are used for electronically stored data and locked locations for paper files.

RETENTION AND DISPOSAL:

Records are retained for 3 years. (NC1-433-81-1, Item 34).

SYSTEM MANAGER(S) AND ADDRESS:

Director of Office of Standards, Regulations, and Variances, Arlington, VA.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from Educational Policy and Development's Education and Training Specialists.

SYSTEM EXEMPTED FROM CERTAIN PROVISIONS OF THE ACT:

None.

OALJ—DOL Office of Administrative Law Judges Systems of Records

DOL/OALJ-1

SYSTEM NAMES:

Office of Administrative Law Judges Case Tracking System (CTS).

SECURITY CLASSIFICATION:

None.

SYSTEM LOCATION:

U.S. Department of Labor, Office of Administrative Law Judges (OALJ), 800 K St. NW., Washington, DC 20001.

CATEGORY OF INDIVIDUALS COVERED BY THE SYSTEM:

Claimants, complainants, respondents, and other party litigants in cases before the OALJ for hearing and decision.

CATEGORY OF RECORDS IN THE SYSTEM:

Records include information and pertinent data gathered from case files and court filings, necessary to hear and decide cases.

AUTHORITY FOR MAINTENANCE OF THE SYSTEM:

Administrative Procedure Act, 5 U.S.C. 553, 554, 556, 557, 571 et seq.; Age Discrimination Act of 1975, 42 U.S.C. 6103; 29 CFR part 34; Americans with Disabilities Act of 1990, 42 U.S.C. 12101 et seq.; 29 CFR part 34; Title VI of the Civil Rights Act of 1964, 42 U.S.C. 2000d-1; 29 CFR part 31; Clean Air Act, 42 U.S.C. 7622; 29 CFR part 24; Comprehensive Employment and Training Act, 29 U.S.C. 801-999 (Supp. V 1981); 20 CFR part 676 (1990); Comprehensive Environmental Response, Compensation and Liability Act of 1980, 42 U.S.C. 9610; 29 CFR part 24; Consumer Product Safety Improvement Act of 2008, 15 U.S.C. 2087; 29 CFR part 1983; Contract Disputes Act, 41 U.S.C. 601 et seq.; 41 CFR part 29-60; 48 CFR 2933.203.70; Contract Work Hours and Safety Standards Act, 40 U.S.C. 327 et seq.; 29 CFR part 6; Copeland Act, 40 U.S.C. 276c; 29 CFR part 6; Corporate and Criminal Fraud Accountability Act, Title VIII of the Sarbanes Oxley Act, 18 U.S.C. 1514A; 29 CFR part 1980; Davis-Bacon Act, as amended, 40 U.S.C. 276a-276a-7; 29 CFR part 6; Debt Collection Act of 1982, 31 U.S.C. 3711(f); 29 CFR part 20; Dodd-Frank Wall Street Reform and Consumer Protection Act, 12 U.S.C. 5567; 29 CFR part 1985; Title IX of the Education Amendments of 1972, 20 U.S.C. 1682; 29 CFR part 34; Employee Polygraph Protection Act of 1988, 29 U.S.C. 2005; 29 CFR part 801, subpart E; Employee Retirement Income Security Act of 1974, 29 U.S.C. 1132 and 1135; 29 CFR parts 2560 and 2570; Energy Reorganization Act of 1974, as amended, 42 U.S.C. 5851; 29 CFR part 24; Equal Access to Justice Act, 5 U.S.C. 504; 29 CFR part 16; E.O. No. 11,246, as amended, 3 CFR 339 (1964-1965 Comp.) reprinted in 42 U.S.C. 2000e app.; 41 CFR parts 60-1 and 60-30; Fair Labor Standards Act of 1938, as amended, 29 U.S.C. 211(d); 29 CFR part 530, subpart E; Fair Labor Standards Act of 1938, as amended, 29 U.S.C. 214(c); 29 CFR part 525; Fair Labor Standards Act of 1938, as amended, 29 U.S.C. 216(e); 29 CFR part 580; Fair Labor Standards Act of 1938, as amended, 29 U.S.C. 218(C), as added by Affordable Care Act of 2010, P.L. 111-148, 1558; Title IV of the Federal Mine Safety and Health Act of 1977, as amended, 33 U.S.C. 901 et seq.; 20 CFR parts 410, 718, 725 and 727; Federal Railroad Safety Act, 49 U.S.C. 20109; 29 CFR part 1982; Federal Unemployment Tax Act, 26 U.S.C. 3303(b)(3), 3304(c); Federal Unemployment Tax Act (addressing agreements under the Trade Act of 1974, as amended), 26 U.S.C. 3302(c)(3); 20 CFR part 617; Federal Water Pollution Control Act, 33 U.S.C. 1367; 29 CFR part 24; FDA Food Safety Modernization Act, 21 U.S.C. 399d; 29 CFR part 1987; Immigration and Nationality Act, as amended, 8 U.S.C. 1101(a)(15)(H), 1184 and 1186; 29 CFR part 501, subpart C; Immigration and Nationality Act, as amended, 8 U.S.C. 1101(a)(15)(H), 1182, 1184, 1188, 1288(c); 20 CFR part 655; Immigration and Nationality Act, as amended, 8 U.S.C. 1182(a)(5)(A); 20 CFR part 656; Labor-Management Reporting and Disclosure Act of 1959, 5 U.S.C. 7120; 29 CFR part 458; Longshore and Harbor Workers' Compensation Act, 33 U.S.C. 901 et seq. (and its extensions—the Defense Base Act, Outer Continental Shelf Lands Act, District of Columbia Workmen's Compensation Act, 36 DC Code 501 et seq., and Non-appropriated Fund Instrumentalities Act); 20 CFR parts 701, 702 and 704; McNamara-O'Hara Service Contract Act, as amended, 41 U.S.C. 351 et seq.; 29 CFR part 6; Migrant and Seasonal Agricultural Worker Protection Act, 29 U.S.C. 1813, 1853; 29 CFR part 500, subpart F; Moving Ahead for Progress in the 21st Century Act, 49 U.S.C. 30171; National Apprenticeship Act, 29 U.S.C. 50; 29 CFR parts 29 and 30; National Transit Systems Security Act of 2007, 6 U.S.C. 1142; 29 CFR part 1982; Pipeline Safety Improvement Act of 2002, 49 U.S.C. 60129; 29 CFR part 1981; Program Fraud Civil Remedies Act of 1986, 31 U.S.C. 3803; 29 CFR part 22; Section 503 of the Rehabilitation Act of 1973, as amended, 29 U.S.C. 793; 41 CFR part 60-741, subpart B; 504 of the Rehabilitation Act of 1973, as amended, 29 U.S.C. 794; 29 CFR part 32; Reorganization Plan No. 14 of 1950; and 29 CFR part 6; Rules of Practice and Procedure for Administrative Hearings Before the Office of Administrative Law Judges, 29 CFR part 18; Safe Drinking Water Act, 42 U.S.C. 300j-9(i); 29 CFR part 24; Single Audit Act of 1984, 31 U.S.C. 7505; OMB Circular Nos. A-128 and A-110; 29 CFR part 96, subpart 96.6; Seaman's Protection Act, 46 U.S.C. 2114; 29 CFR part 1986; Social Security Act, 42 U.S.C. 503; 20 CFR part 601; Solid Waste Disposal Act, 42 U.S.C. 6971; 29 CFR part 24; Surface Transportation Assistance Act, 49 U.S.C. 31105; 29 CFR part 1978; Toxic Substances Control Act, 15 U.S.C. 2622; 29 CFR part 24; Vietnam Era Veterans Readjustment Assistance Act, as amended, 38 U.S.C. 4211, 4212; 41 CFR part 60-250, subpart B; Wagner-Peyser Act, as amended, 29 U.S.C. 49 et seq.; 20 CFR part 658; Walsh-Healey Public Contracts Act, as amended, 41 U.S.C. 38; 41 CFR part 50-203; Wendell H. Ford Aviation Investment and Reform Act for the 21st Century, 49 U.S.C. 42121; 29 CFR part 1979; Workforce Innovation and Opportunity Act, 29 U.S.C. 3101 et seq.; Workforce Investment Act of 1998, 29 U.S.C. 2801 et seq.; 20 CFR parts 652, 660 through 670; 29 CFR part 37; other statutes, executive orders and regulations providing for an ALJ hearing as they may become applicable in the future.

PURPOSE(S):

To maintain the court docket for administrative law judge adjudications. The records and information in the case tracking system are used as the court docket system in administrative law judge hearings conducted pursuant to 5 U.S.C. 552, 553, 554, 556 and 557 and/or a variety of particular statutes and Executive Orders. The purpose of the system is to facilitate the processing of cases and determination of issues in hearings and appeals proceedings.

ROUTINE USES OF RECORDS MAINTAINED IN THE SYSTEM, INCLUDING CATEGORIES OF USERS AND THE PURPOSES OF SUCH USES:

In addition to those universal routine uses listed in the General Prefatory Statement to this document, information may be disclosed to contractors and other Federal agencies, as necessary, for the purpose of assisting this agency in further development and continuing maintenance of the system, or hearing-related functions.

Since the proceedings conducted by the Office of Administrative Law Judges are public, court docket records are available for public inspection.

DISCLOSURE TO CONSUMER REPORTING AGENCIES:

None.

POLICIES AND PRACTICES FOR STORING, RETRIEVING, ACCESSING, RETAINING, AND DISPOSING OF RECORDS IN THE SYSTEM:

STORAGE:

Records are stored electronically.

RETRIEVABILITY:

Files are retrievable by case number and other searchable fields such as name of the party.

SAFEGUARDS:

Access is by authorized personnel only. Computer security safeguards are used for electronically stored data Printed extracts are destroyed when the report is no longer needed.

RETENTION AND DISPOSAL:

Records are retained for 50 years, in accordance with Records Schedule Number N1-074-09-02.

SYSTEM MANAGER(S) AND ADDRESS:

Director of Program Operations, U.S. Department of Labor, Office of Administrative Law Judges (OALJ), 800 K St. NW., Washington, DC 20001.

NOTIFICATION PROCEDURES:

Inquiries should be mailed to the System Manager.

RECORD ACCESS PROCEDURES:

A request for access should be mailed to the System Manager.

CONTESTING RECORD PROCEDURES:

A petition for amendment should be mailed to the System Manager.

RECORD SOURCE CATEGORIES:

Information contained in the system is obtained from the Office of Administrative Law Judge case files.

SYSTEM EXEMPTED FROM CERTAIN PROVISIONS OF THE ACT

None.

DOL/OALJ-2

SYSTEM NAME:

Office of Administrative Law Judges Case Files.

SECURITY CLASSIFICATION:

None.

SYSTEM LOCATION:

Unassigned case files are maintained by the Chief Administrative Law Judge or a District Chief Administrative Law Judge. Assigned case files are maintained by the Presiding Administrative Law Judge. Files may be located in the National Office, U.S. Department of Labor, Office of Administrative Law Judges (OALJ), 800 K St. NW., Washington, DC 20001, or in district offices.

CATEGORIES OF INDIVIDUALS COVERED BY THE SYSTEM:

Claimants, complainants, respondents, and other party litigants in cases referred to the OALJ for hearing and decision.

CATEGORIES OF RECORDS IN THE SYSTEM:

Records may contain claim files; determinations and referral letters from the agency with initial claim development or investigatory responsibility; documents proffered as evidence; pleadings, motions, and other submissions by litigants; Administrative Law Judge (ALJ) orders, decisions, and orders; hearing transcripts; and other documents and information necessary to hear and decide cases.

AUTHORITY FOR MAINTENANCE OF THE SYSTEM:

Administrative Procedure Act, 5 U.S.C. 553, 554, 556, 557, 571 et seq.; Age Discrimination Act of 1975, 42 U.S.C. 6103; 29 CFR part 34; Americans with Disabilities Act of 1990, 42 U.S.C. 12101 et seq.; 29 CFR part 34; Title VI of the Civil Rights Act of 1964, 42 U.S.C. 2000d-1; 29 CFR part 31; Clean Air Act, 42 U.S.C. 7622; 29 CFR part 24; Comprehensive Employment and Training Act, 29 U.S.C. 801-999 (Supp. V 1981); 20 CFR part 676 (1990); Comprehensive Environmental Response, Compensation and Liability Act of 1980, 42 U.S.C. 9610; 29 CFR part 24; Consumer Product Safety Improvement Act of 2008, 15 U.S.C. 2087; 29 CFR part 1983; Contract Disputes Act, 41 U.S.C. 601 et seq.; 41 CFR part 29-60; 48 CFR 2933.203.70; Contract Work Hours and Safety Standards Act, 40 U.S.C. 327 et seq.; 29 CFR part 6; Copeland Act, 40 U.S.C. 276c; 29 CFR part 6; Corporate and Criminal Fraud Accountability Act, Title VIII of the Sarbanes Oxley Act, 18 U.S.C. 1514A; 29 CFR part 1980; Davis-Bacon Act, as amended, 40 U.S.C. 276a-276a-7; 29 CFR part 6; Debt Collection Act of 1982, 31 U.S.C. 3711(f); 29 CFR part 20; Dodd-Frank Wall Street Reform and Consumer Protection Act, 12 U.S.C. 5567; 29 CFR part 1985; Title IX of the Education Amendments of 1972, 20 U.S.C. 1682; 29 CFR part 34; Employee Polygraph Protection Act of 1988, 29 U.S.C. 2005; 29 CFR part 801, subpart E; Employee Retirement Income Security Act of 1974, 29 U.S.C. 1132 and 1135; 29 CFR parts 2560 and 2570; Energy Reorganization Act of 1974, as amended, 42 U.S.C. 5851; 29 CFR part 24; Equal Access to Justice Act, 5 U.S.C. 504; 29 CFR part 16; E.O. No. 11,246, as amended, 3 CFR 339 (1964-1965 Comp.) reprinted in 42 U.S.C. 2000e app.; 41 CFR parts 60-1 and 60-30; Fair Labor Standards Act of 1938, as amended, 29 U.S.C. 211(d); 29 CFR part 530, subpart E; Fair Labor Standards Act of 1938, as amended, 29 U.S.C. 214(c); 29 CFR part 525; Fair Labor Standards Act of 1938, as amended, 29 U.S.C. 216(e); 29 CFR part 580; Fair Labor Standards Act of 1938, as amended, 29 U.S.C. 218(C), as added by Affordable Care Act of 2010, P.L. 111-148, 1558; Title IV of the Federal Mine Safety and Health Act of 1977, as amended, 33 U.S.C. 901 et seq.; 20 CFR parts 410, 718, 725 and 727; Federal Railroad Safety Act, 49 U.S.C. 20109; 29 CFR part 1982; Federal Unemployment Tax Act, 26 U.S.C. 3303(b)(3), 3304(c); Federal Unemployment Tax Act (addressing agreements under the Trade Act of 1974, as amended), 26 U.S.C. 3302(c)(3); 20 CFR part 617; Federal Water Pollution Control Act, 33 U.S.C. 1367; 29 CFR part 24; FDA Food Safety Modernization Act, 21 U.S.C. 399d; 29 CFR part 1987; Immigration and Nationality Act, as amended, 8 U.S.C. 1101(a)(15)(H), 1184 and 1186; 29 CFR part 501, subpart C; Immigration and Nationality Act, as amended, 8 U.S.C. 1101(a)(15)(H), 1182, 1184, 1188, 1288(c); 20 CFR part 655; Immigration and Nationality Act, as amended, 8 U.S.C. 1182(a)(5)(A); 20 CFR part 656; Labor-Management Reporting and Disclosure Act of 1959, 5 U.S.C. 7120; 29 CFR part 458; Longshore and Harbor Workers' Compensation Act, 33 U.S.C. 901 et seq. (and its extensions—the Defense Base Act, Outer Continental Shelf Lands Act, District of Columbia Workmen's Compensation Act, 36 D.C. Code 501 et seq, and Non-appropriated Fund Instrumentalities Act); 20 CFR parts 701, 702 and 704; McNamara-O'Hara Service Contract Act, as amended, 41 U.S.C. 351 et seq.; 29 CFR part 6; Migrant and Seasonal Agricultural Worker Protection Act, 29 U.S.C. 1813, 1853; 29 CFR part 500, subpart F; National Apprenticeship Act, 29 U.S.C. 50; 29 CFR parts 29 and 30; National Transit Systems Security Act of 2007, 6 U.S.C. 1142; 29 CFR part 1982; Pipeline Safety Improvement Act of 2002, 49 U.S.C. 60129; 29 CFR part 1981; Program Fraud Civil Remedies Act of 1986, 31 U.S.C. 3803; 29 CFR part 22; Section 503 of the Rehabilitation Act of 1973, as amended, 29 U.S.C. 793; 41 CFR part 60-741, subpart B; 504 of the Rehabilitation Act of 1973, as amended, 29 U.S.C. 794; 29 CFR part 32; Reorganization Plan No. 14 of 1950; and 29 CFR part 6; Rules of Practice and Procedure for Administrative Hearings Before the Office of Administrative Law Judges, 29 CFR part 18; Safe Drinking Water Act, 42 U.S.C. 300j-9(i); 29 CFR part 24; Single Audit Act of 1984, 31 U.S.C. 7505; OMB Circular Nos. A-128 and A-110; 29 CFR part 96, subpart 96.6; Seaman's Protection Act, 46 U.S.C. 2114; 29 CFR part 1986; Social Security Act, 42 U.S.C. 503; 20 CFR part 601; Solid Waste Disposal Act, 42 U.S.C. 6971; 29 CFR part 24; Surface Transportation Assistance Act, 49 U.S.C. 31105; 29 CFR part 1978; Toxic Substances Control Act, 15 U.S.C. 2622; 29 CFR part 24; Vietnam Era Veterans Readjustment Assistance Act, as amended, 38 U.S.C. 4211, 4212; 41 CFR part 60-250, subpart B; Wagner-Peyser Act, as amended, 29 U.S.C. 49 et seq.; 20 CFR part 658; Walsh-Healey Public Contracts Act, as amended, 41 U.S.C. 38; 41 CFR part 50-203; Wendell H. Ford Aviation Investment and Reform Act for the 21st Century, 49 U.S.C. 42121; 29 CFR part 1979; Workforce Innovation and Opportunity Act, 29 U.S.C. 3101 et seq.; Workforce Investment Act of 1998, 29 U.S.C. 2801 et seq.; 20 CFR parts 652, 660 through 670; 29 CFR part 37; other statutes, executive orders and regulations providing for an ALJ hearing as they may become applicable in the future.

PURPOSE(S):

To maintain the court records for public administrative-adjudicative hearings. These records and information in these records are used as the court record in ALJ hearings conducted pursuant to 5 U.S.C. 552, 553, 554, 556, and 557 and/or a variety of particular statutes and executive orders. The purpose of the system is the adjudication of cases and determination of issues in hearings and appeals proceedings.

ROUTINE USES OF RECORDS MAINTAINED IN THE SYSTEM, INCLUDING CATEGORIES OF USERS AND THE PURPOSES OF SUCH USES:

In addition to the universal routine uses listed in the General Prefatory Statement to this document, the Department may disclose relevant and necessary data as follows:

Official case records, including final decisions and orders, may be disclosed to the Federal courts and boards that are charged with reviewing decisions on appeal.

Information from the official record may be disclosed to the parties or their attorneys or their non-attorney representatives in matters pending before the OALJ. Information from case files may also be disclosed pursuant to the Freedom of Information Act (FOIA), 5 U.S.C. 552.

ALJ decisions and orders and other selected orders are public agency records and are released to the public, for the purpose of creating a body of legal precedent which serves to guide the public regarding the statutes over which the OALJ exercises jurisdiction. Final decisions and orders and other selected orders are available on the agency's internet Web site at www.oalj.dol.gov and may be sent to commercial publishing companies for publication in paper form and over the internet. They are also available for public inspection at the OALJ's reading room.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Retrieved by case number or name of party.

SAFEGUARDS:

Access by authorized personnel only. Computer security safeguards are used for electronically stored data and locked locations for paper files.

RETENTION AND DISPOSAL:

In cases where the OALJ is the official custodian, inactive case files are retained for three years before being sent to a Federal Records Center. The Federal Records Center retains the files for an additional 15 years before they are authorized for destruction, except for certain cases designated as precedent setting, which become permanent records. In cases where OALJ is not the official custodian, for example matters relating to Black Lung and Longshore (and extensions) cases, the official file is transferred to the appropriate federal custodial agency. When a case is appealed, the case file is forwarded to the appropriate administrative appellate agency, such as the Benefits Review Board, or the Administrative Review Board.

SYSTEM MANAGER(S) AND ADDRESS:

Director of Program Operations, U.S. Department of Labor, Office of Administrative Law Judges, 800 K St. NW., Washington, DC 20001.

NOTIFICATION PROCEDURE:

Inquiries regarding the existence of records should be in the form of a written, signed request to the System Manager at the above address.

RECORD ACCESS PROCEDURES:

Individuals wishing to request access to their records should send a written, signed request to the System Manager.

CONTESTING RECORD PROCEDURES:

Individuals wishing to petition for an amendment to their records should send a written, signed request to the System Manager.

RECORD SOURCE CATEGORIES:

Records may include information submitted by the agency with initial claims development or investigatory responsibility, claimants, complainants, respondents, and other parties to the case, amicus curiae, ALJs involved in a case, the court reporter, and in the case of remanded cases, the administrative-appellate body or Federal court.

SYSTEMS EXEMPTED FROM CERTAIN PROVISIONS OF THE ACT:

None.

OASAM—DOL Office of the Assistant Secretary for Administration and Management Systems of Records

DOL/OASAM-4

SYSTEM NAME:

Safety and Health Information Management System (SHIMS).

SECURITY CLASSIFICATION:

None.

SYSTEM LOCATION:

a. Office of Worker Safety and Health, OASAM, U.S. Department of Labor, 200 Constitution Avenue NW., Washington, DC 20210;

b. DOL regional offices;

c. A copy of the modified CA-1/CA-2 Form used by the Office of Workers' Compensation Programs (OWCP) and the Form 301 used by the Occupational Safety and Health Administration (OSHA) may be reproduced and retained in the office of the supervisor who files the form.

CATEGORIES OF INDIVIDUALS COVERED BY THE SYSTEM:

DOL employees, Job Corps students and Contractors involved in occupationally related accidents, injuries and illnesses. (SHIMS host other Federal agencies, and their employees would be included in coverage as well.)

CATEGORIES OF RECORDS IN THE SYSTEM:

Reports of on-the-job accidents, injuries, and illnesses generated as a result of filing forms CA-1, CA-2, and OSHA Form 301.

AUTHORITY FOR MAINTENANCE OF THE SYSTEM:

29 U.S.C. 651 et seq., 29 CFR part 1960, 5 U.S.C. 7902, the Occupational Safety and Health Act of 1970 (PL 91-596), Executive Order 12196; Federal Employees' Compensation Act, as amended (codified in 5 U.S.C. 8101 et seq.), and to related regulations in Title 20, Code of Federal Regulations (CFR), Part 10; DOL Secretary's Order 5-2009.

PURPOSE(S):

This system is used (a) to provide an information source for compliance with the Occupational Safety and Health Act; (b) to provide a documented record of job related accidents, injuries, and illnesses for the purpose of measuring safety and health programs' effectiveness; (c) to provide summary data of accident, injury and illness information to Departmental agencies in a number of formats for analytical purposes in establishing programs to reduce or eliminate loss producing hazards or conditions; (d) to provide summary listings of individual cases to Departmental agencies to ensure that all work-related injury/illness cases are reported through the SHIMS; and (e) to use as a reference when adjudicating tort and employee claims.

ROUTINE USES OF RECORDS MAINTAINED IN THE SYSTEM, INCLUDING CATEGORIES OF USERS AND PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by claimant's last name, social security number, and employee category (DOL employee or Job Corps student) and SHIMS Incident Claim Number (ICN).

SAFEGUARDS:

Access by authorized personnel only. Computer security safeguards are used for electronically stored data and locked locations for paper files.

RETENTION AND DISPOSAL:

All workers' compensation records contained in SHIMS should be disposed of in accordance with applicable records schedules under General Records Schedule (GRS) 1.31. All OSHA 301 records contained in SHIMS should be disposed of in accordance with applicable records schedules under GRS 1.34.

SYSTEM MANAGER(S) AND ADDRESS:

Director, Office of Worker Safety and Health, OASAM, U.S. Department of Labor, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from:

a. The employee (or someone acting on his/her behalf);

b. Witness (if any);

c. Employing agency (supervisor or comp specialist);

d. CA-1 and CA-2, forms used by OWCP; and/or

e. Form 301 used by OSHA.

SYSTEMS EXEMPTED FROM CERTAIN PROVISIONS OF THE ACT

None.

DOL/OASAM-5

SYSTEM NAME:

Employee Assistance Program (EAP) Records.

SECURITY CLASSIFICATION:

None.

SYSTEM LOCATION:

The Employee Assistance Program (EAP), headquartered in the Human Resources Center, Office of the Assistant Secretary for Administration and Management (OASAM), U.S. Department of Labor (DOL), 200 Constitution Avenue NW., Washington, DC 20210, and offices of designated EAP service providers located elsewhere in the Washington metropolitan area and Department's regions.

Note: DOL may elect to use, under an interagency agreement or other contractual arrangement, the counseling staff of another Federal, state, or local government, or private or community organization. This system does not cover EAP records of DOL employees (current or former) or their family members that are maintained by other Federal agencies.

CATEGORIES OF INDIVIDUALS COVERED BY THE SYSTEM:

DOL employees or their family members, who have been assessed, referred for treatment/rehabilitation or otherwise counseled regarding alcohol or drug abuse or other emotional health issues by an EAP counselor responsible for providing services to DOL employees or their family members.

CATEGORIES OF RECORDS IN THE SYSTEM:

Records in this system include documentation of visits to counselors designated by the agency to provide EAP services (regardless of whether the counselors are employed by the Federal, state, or local government, or by a private sector or community organization); problem assessments; counseling; recommendations and/or referrals for treatment and/or rehabilitation; client cooperation with those recommendation and/or referrals; progress; and other notes or records of discussions held with the client made by the counselor. Additionally, records in this system may include documentation of the therapeutic or rehabilitative work performed by a private therapist or a therapist at a Federal, State, local government, or private organization. If the client was referred to the EAP by a supervisor due to work performance or conduct problems, the record may also contain information regarding such matters. When the client was referred to the EAP because of a positive drug test, required by DOL's drug-free workplace plan, the record will also contain information about substance abuse assessment, treatment, aftercare, and substance use monitoring results.

AUTHORITY FOR MAINTENANCE OF THE SYSTEM:

5 U.S.C. 7361, 7362, 7901, 7904; 44 U.S.C. 3101.

PURPOSE(S):

These records are used to document the nature and extent of the client's problem; the short-term problem solving/counseling, recommendations and/or referrals for treatment and/or rehabilitation made by the EAP; and the extent of the client s participation in, and the results of treatment or rehabilitation in community or private sector programs; and any follow-up necessary.

ROUTINE USES OF RECORDS MAINTAINED IN THE SYSTEM, INCLUDING CATEGORIES OF USERS AND THE PURPOSES OF SUCH USES:

a. DOL may elect to enter into interagency agreements or other contractual arrangements with other Federal agencies, private organizations or individuals for the purpose of providing EAP services for DOL employees and their family members. Relevant client records will be disclosed to these providers.

b. Except where the records are covered by the Confidentiality of Alcohol and Drug Abuse Patient Records regulation, 42 CFR part 2, records and information in these records may be:

i. Disclosed to the Department of Justice when: (A) DOL or any component thereof; or (B) any employee of the agency in his or her official capacity; or (C) the United States Government, is a party to litigation or has an interest in such litigation, and by careful review, the agency determines that the records are both relevant and necessary to the litigation, and the use of such records by the Department of Justice is for a purpose that is compatible with the purpose for which the agency collected the records.

ii. Disclosed in a proceeding before a court or adjudicative body, when: (A) DOL or any component thereof; or (B) any employee of the agency in his or her official capacity; or (C) any employee of the agency in his or her individual capacity; or (D) the United States Government, is a party to litigation or has an interest in such litigation, and by careful review, the agency determines that the records are both relevant and necessary to the litigation, and that the use of such records is a purpose that is compatible with the purpose for which the agency collected the records.

c. Where the records are covered by the Confidentiality of Alcohol and Drug Abuse Patient Records regulation, 42 CFR part 2, records and information in these records may be used:

i. To disclose, in accordance with 42 CFR 2.51(a), patient identifying information to medical personnel who have a need for the information about a patient for the purpose of treating a condition which poses an immediate threat to health of any person and which requires immediate medical intervention.

ii. To disclose patient identifying information to medical personnel of the Food and Drug Administration (FDA) who assert a reason to believe that the health of any individual may be threatened by an error in the manufacture, labeling, or sale of a product under FDA jurisdiction, and that the information will be used for the exclusive purpose of notifying patients or their physicians of potential dangers. (See 42 CFR 2.51(b)).

iii. To disclose patient information when authorized by an order of a court of competent jurisdiction in accordance with 42 CFR 2.61;

iv. To disclose information to a Federal, State or local law enforcement authority that is directly related to a patient's commission of a crime committed on the premises of the program or against any program personnel or to a threat to commit such a crime. (See 42 CFR 2.12(a)(5));

v. To disclose information to State or local law enforcement authorities on incidents of suspected child abuse or neglect. (See 42 CFR 2.12(c)(6);

vi. To disclose the fact of a minor's application for treatment to the minor's parent or guardian where State law requires parental consent. (See 42 CFR 2.14(c));

vii. To disclose to a minor's parent or guardian, facts relevant to reducing a threat to the life or physical wellbeing of any individual, if the minor lacks capacity for rational choice (See 42 CFR 2.14(d); Note: I've never seen these items in a SORN;

viii. To disclose to a Qualified Service Organization (QSO), in accordance with 42 CFR 2.12(c)(4), that information needed by the QSO to provide services to the program;

ix. To disclose patient identifying information for the purpose of conducting scientific research under the circumstances set forth in 42 CFR 2.52;

x. To disclose patient identifying information for audit and evaluation purposes under the circumstance set forth in 42 CFR 2.53.

DISCLOSURE TO CONSUMER REPORTING AGENCIES:

None.

POLICIES AND PRACTICES FOR STORING, RETRIEVING, ACCESSING, AND RETAINING AND DISPOSING OF RECORDS IN THE SYSTEM:

STORAGE:

Files are stored electronically and/or on paper.

RETRIEVABILITY:

Records are retrieved by a case code number, unique to the client utilizing the program. These numbers are cross-indexed by name.

SAFEGUARDS:

a. Authorized Users: Access to these records is limited to EAP Administrators who work directly with clients of the program and their immediate staffs (including counselors, secretaries, and contract or consortia administrators, counselors or secretaries). OASAM EAP Administrators as well as EAP Administrators and Coordinators from other Federal agencies who contract with OASAM, whether or not they directly provide clinical services, may have access to the records for the purposes of program evaluation, destroying records at the end of the period of maintenance, and transferring records from one EAP contractor to another. OASAM may also contract with either a private organization or other Federal agency to destroy these records. The personnel of these record destruction organizations or agencies may have access to the records at the end of their period of maintenance for the purpose of transferring records from the EAP location to a destruction site and subsequently destroying the records.

b. Physical Safeguards: All paper records are stored in metal filing cabinets equipped with at least combination locks and preferably locking crash bars. These file cabinets are in secured areas, accessible only to the EAP staff outlined above, and are locked when not in use. These records are always maintained separate from other systems of record. Computers containing records are discrete from other computer systems and/or are password protected. Computers are also stored in secured areas, accessible only to the EAP staff outlined above.

c. Procedural Safeguards: All persons having access to these records shall already have been trained in the proper handling of records covered by the Privacy Act and 42 CFR part 2 (Confidentiality of Alcohol and Drug Abuse Patient Records). These acts restrict disclosures to unique situations, such as threats of physical harm, medical emergencies, and suspected child abuse, except where the client has consented in writing to such disclosure. Clients of the EAP will be informed in writing of the confidentiality provisions. Secondary disclosure of released information is prohibited without client consent.

RETENTION AND DISPOSAL:

Records are retained for three (3) years after the client's last contact with the EAP, or until any relevant litigation is resolved, or any periodic evaluation reports required by the U.S. Office of Personnel Management, DOL, or other authorities are completed, in accordance with http://www.archives.gov/records-mgmt/grs/grs01.html (item #26). Some OASAM EAPs provide substance abuse evaluations as part of Federal Drug-Free Workplace Program. These records will be retained for five years after contact with the program has ceased or any litigation is completed. Individual states may require longer retention. The rules in this system notice should not be construed to authorize any violation of such state laws that have greater restrictions.

SYSTEM MANAGER(S) AND ADDRESS:

The Employee Assistance Program Administrator, Safety and Health Center, U.S. Department of Labor, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORDS SOURCE CATEGORIES:

Information contained in this system of records comes from the individual to whom it applies, the supervisor of the individual if the individual was referred to the EAP by a supervisor, the staff of the EAP, other therapists or organizations providing treatment and/or rehabilitation, and other sources whom the EAP believes may have information relevant to treatment of the individual.

SYSTEMS EXEMPTED FROM CERTAIN PROVISIONS OF THE ACT:

None.

DOL/OASAM-7

SYSTEM NAME:

Employee Medical File System Records (Not Job Related).

SECURITY CLASSIFICATION:

None.

SYSTEM LOCATION:

For current employees, records are located in a health unit or dispensary of the Federal Occupational Health (FOH), U.S. Public Health Service, Department of Health and Human Services, or in a health unit or dispensary of another Federal or private sector entity which provides health services, under an interagency agreement or other contractual arrangement, to DOL employees. Medical records maintained by one of the latter entities may be considered the property of the entity providing care to the DOL employee; however, records maintained by FOH are considered the property of DOL.

For former employees, most records will be located in an Employee Medical Folder (EMF) stored at the National Personnel Records Center operated by the National Archives and Records Administration (NARA). Agencies may retain some records on former employees for a limited time.

CATEGORIES OF INDIVIDUALS COVERED BY THE SYSTEM:

Individuals covered are those of the following who have received voluntary employee health services provided by the agency under the authority of 5 U.S.C. 7901:

a. Current and former DOL employees as defined in 5 U.S.C. 2105;

b. DOL contract employees and other visitors (including minors and employees of other Federal agencies) who may have received emergency care from the health unit or dispensary.

CATEGORIES OF RECORDS IN THE SYSTEM:

This system is comprised of records developed as a result of the provision of voluntary employee health services offered by the agency under the authority of 5 U.S.C. 7901. These records contain the following information:

a. Medical history and other biographical data on those employees requesting voluntary periodic health examinations;

b. Test reports and medical diagnoses based on voluntary periodic health examinations or voluntary health screening program tests (tests for single medical conditions or diseases);

c. History of complaint, diagnosis, and treatment of injuries and illnesses cared for by the health unit or dispensary;

d. Vaccination records.

Note: Listed below are other types of medical records which are not covered by this system of records. Rather, they are covered by a government-wide system of records (OPM/GOVT-10), which is managed by the U.S. Office of Personnel Management (OPM), even though the records are not in OPM's physical custody. The routine uses of such records are defined in the Privacy Act Notice for OPM/GOVT-10. Such records include:

a. Medical records, forms, and reports completed or obtained when an individual applies for a Federal job and is subsequently employed;

b. Medical records, forms and reports completed during employment as a condition of employment, either by the employing agency or by another State or local government entity, or a private sector entity under contract to the employing agency;

c. Records pertaining to and resulting from the testing of the employee for use of illegal drugs under Executive Order 12564. Such records may be retained by the agency (e.g., by the agency Medical Review Official) or by a contractor laboratory. This includes records of negative results, confirmed or unconfirmed positive test results, and documents related to the reasons for testing or other aspects of test results;

d. Reports of on-the-job injuries and medical records, forms, and reports generated as a result of the filing of a claim for Workers Compensation, whether the claim is accepted or not. (The official compensation claim file is not covered by the OPM system; rather, it is part of DOL s Office of Workers Compensation Program (OWCP) system of records);

e. All other medical records, forms, and reports created on an employee during his/her period of employment, including any retained on a temporary basis and those designated for long-term retention (i.e., those retained for the entire duration of Federal service and for some period of time after), except that, records maintained by an agency dispensary are included in this system of records only when they are the result of a condition of employment or related to an on-the-job occurrence including, for example, records of the specialized health services made available to investigative personnel of the Wage-Hour Division, under interagency agreement between PHS and DOL s Employment Standards Administration.

AUTHORITY FOR MAINTENANCE OF THE SYSTEM:

5 U.S.C. 7901 et seq., 5 CFR 293, and 5 CFR 297.

PURPOSE(S):

These records document the utilization and provision of voluntary employee health services authorized by 5 U.S.C. 7901.

ROUTINE USES OF RECORDS MAINTAINED IN THE SYSTEM, INCLUDING CATEGORIES OF USERS AND THE PURPOSES OF SUCH USES:

The records and information in this system of records may be used as follows:

a. Disclosed to the Department of Justice when: (1) DOL or any component thereof; or (2) any employee of the agency in his or her official capacity; or (3) the United States Government, is a party to litigation or has an interest in such litigation, and by careful review, the agency determines that the records are both relevant and necessary to the litigation, and the use of such records by the Department of Justice is for a purpose that is compatible with the purpose for which the agency collected the records.

b. Disclosed in a proceeding before a court or adjudicative body, when: (1) DOL or any component thereof; or (2) any employee of the agency in his or her official capacity; or (3) any employee of the agency in his or her individual capacity; or (4) the United States Government, is a party to litigation or has an interest in such litigation, and by careful review, the agency determines that the records are both relevant and necessary to the litigation, and that the use of such records is a purpose that is compatible with the purpose for which the agency collected the records.

c. Used to refer information required by applicable law to be disclosed to a Federal, State, or local public health service agency, concerning individuals who have contracted certain communicable diseases or conditions. Such information is used to prevent further outbreak of the disease or condition.

d. Disclosed to the appropriate Federal, State, or local agency responsible for investigation of an accident, communicable disease, medical condition, or injury as required by pertinent legal authority.

e. Disclosed to the OWCP information in connection with a claim for benefits filed by an employee.

f. Disclosed to contractors providing medical or health counseling services to Department of Labor employees when such contractors have a need for the information in connection with their services. This would include medical or health personnel and employee assistance program (EAP) counselors.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by the individual's name.

SAFEGUARDS:

Access by authorized personnel only. Computer security safeguards are used for electronically stored data and locked locations for paper files. Records are retained for six (6) years after the date of last entry in accordance with OPM/GOVT-10.

SYSTEM MANAGER(S) AND ADDRESS:

Director, Safety and Health Center, Office of the Assistant Secretary for Administration and Management (OASAM), U.S. Department of Labor, 200 Constitution Avenue NW., Washington, DC 20210.

NOTIFICATION PROCEDURE:

A request for access should be mailed to the System Manager.

RECORD ACCESS PROCEDURES:

A request for access should be mailed to the System Manager.

CONTESTING RECORD PROCEDURES:

A petition for amendment should be mailed to the System Manager.

RECORD SOURCE CATEGORIES:

Information contained in this system is obtained from:

a. The individual to whom the information pertains;

b. Laboratory reports and test results;

c. Medical staff working in the health unit or dispensary who have examined, tested, or treated the individual;

d. The individual's co-workers or supervisors;

e. The individual's personal physician; and/or

f. Other Federal employee health units.

SYSTEMS EXEMPTED FROM CERTAIN PROVISIONS OF THE ACT:

None.

DOL/OASAM-12

SYSTEM NAME:

Administrative Grievance Records.

SECURITY CLASSIFICATION:

None.

SYSTEM LOCATION:

a. Human Resources Center, U.S. Department of Labor, 200 Constitution Avenue NW., Washington, DC 20210; and National and Regional Human Resources Offices;

b. Office of the Solicitor, U.S. Department of Labor, 200 Constitution Avenue NW., Washington, DC 20210; and regional offices of the Solicitor.

CATEGORIES OF INDIVIDUALS COVERED BY THE SYSTEM:

Current or former Department employees who have filed grievances under the Department's administrative grievance procedures in accordance with 5 CFR part 771 and Departmental Personnel Regulation 771.

CATEGORIES OF RECORDS IN THE SYSTEM:

The system contains records relating to grievances filed by Department employees under administrative grievance procedures and in accordance with 5 CFR part 771 and Departmental Personnel Regulation 771. These case files contain all documents related to interviews and hearings, fact-finder's findings and recommendations, a copy of the original decision, and related correspondence and exhibits, including settlement agreements. This system does not include files and/or records of any grievance filed under negotiated procedures with recognized labor organizations.

AUTHORITY FOR MAINTENANCE OF THE SYSTEM:

5 CFR part 771.

PURPOSE(S):

The records are used to process grievances submitted by employees for personal relief in a matter of concern or dissatisfaction which is subject to the control of agency management.

ROUTINE USES OF RECORDS MAINTAINED IN THE SYSTEM, INCLUDING CATEGORIES OF USERS AND THE PURPOSES OF SUCH USES:

In addition to the universal routine uses listed in the General Prefatory Statement to this document, the Department may disclose relevant and necessary data as follows:

a. To disclose information to any source from which additional information is requested in the course of processing a grievance, to the extent necessary to identify the individual, inform the source of the purpose(s) of the request, and identify the type of information requested.

b. To disclose information to officials of the Merit System Protection Board or the Office of Special Counsel, when requested in connection with appeals, special studies of the civil service and other merit systems, review of Department rules and regulations, investigations of alleged or possible prohibited personnel practices, and such other functions as may be authorized by law.

c. To disclose information to the Equal Employment Opportunity Commission when requested in connection with investigations into alleged or possible discrimination practices or examination of affirmative employment programs.

d. To disclose information to the Federal Labor Relations Authority or its General Counsel when requested in connection with investigations of allegations of unfair labor practices or matters before the Federal Service Impasses Panel.

DISCLOSURE TO CONSUMER REPORTING AGENCIES:

None.

POLICIES AND PRACTICES FOR STORING, RETRIEVING, ACCESSING, RETRIEVING, AND DISPOSING OF RECORDS IN THE SYSTEM:

STORAGE:

Files are stored electronically and/or on paper.

RETRIEVABILITY:

Records are retrieved by the names of the individuals on whom they are maintained.

SAFEGUARDS:

Access by authorized personnel only. Computer security safeguards are used for electronically stored data and locked locations for paper files.

RETENTION AND DISPOSAL:

Records are destroyed no sooner than four (4) years but no later than 7 years after case is closed. (N1 GRS 92-1 item 30a).

SYSTEM MANAGER(S) AND ADDRESS:

Director, Office of Human Resources Policy and Accountability, Human Resources Center, U.S. Department of Labor, 200 Constitution Avenue NW., Washington, DC 20210.

NOTIFICATION PROCEDURE:

Individuals submitting grievances should already be provided with a copy of the record under the grievance process. They may, however, contact the personnel office where the action was processed, regarding the existence of such records about them. Such individuals must furnish the following information for their records to be located and identified:

a. Name;

b. Approximate date of closing of the case and kind of action taken; and

c. Organizational component involved.

RECORDS ACCESS PROCEDURES:

A request for access should be mailed to the System Manager.

CONTESTING RECORD PROCEDURES:

A petition for amendment should be mailed to the System Manager.

RECORD SOURCE CATEGORIES:

Information in this system of records is provided by the following:

a. The individual on whom the records are maintained;

b. Testimony of witnesses;

c. Investigative and other employment records;

d. Decisions by agency officials.

SYSTEMS EXEMPTED FROM CERTAIN PROVISIONS OF THE ACT:

None.

DOL/OASAM—17

SYSTEM NAME:

Equal Employment Opportunity Complaint Files.

SECURITY CLASSIFICATION:

None.

SYSTEM LOCATION:

a. Civil Rights Center, OASAM, U.S. Department of Labor, 200 Constitution Avenue NW., Washington, DC 20210;

b. Office of the Solicitor, Washington, DC; and regional offices of the Solicitor;

c. Agency Equal Employment Opportunity (EEO) Managers, Washington, DC and regional offices.

CATEGORIES OF INDIVIDUALS COVERED BY THE SYSTEM:

Individuals, classes of individuals, or representatives designated to act on behalf of Department employees, former employees, or applicants for employment who have consulted with an Equal Employment Opportunity (EEO) counselor and/or who have filed a formal complaint alleging discrimination on the basis of race, color, religion, sex (including gender identity and pregnancy), national origin, disability, age, genetic information, sexual orientation, parental status and/or any basis covered by Executive Order 11478, because of a determination, decision, action, or non-action administered against them by a departmental official, as well as individuals alleging reprisal for having previously participated in EEO activity.

CATEGORIES OF RECORDS IN THE SYSTEM:

Records include information and/or documents pertaining to pre-complaint processing, informal resolutions, formal complaints, and investigations of complaints. These records contain complainants' names; addresses; job titles and descriptions, and dates of employment; agencies involved; counselors' reports; initial and supplemental allegations; letters and notices to individuals and organizations involved in the processing of the complaint; materials placed into the record to support or refute the alleged decisions; determination or actions taken; statements of witnesses; related correspondence; investigative reports; instructions on actions to be taken in order to comply with the provisions of a decision; opinions; recommendations; settlement agreements; and proposed and final decisions.

AUTHORITY FOR MAINTENANCE OF THE SYSTEM:

Secretary's Order 1-2004; Title VII of the Civil Rights Act of 1964, as amended; the Equal Pay Act; the Lilly Ledbetter Fair Pay Act of 2009; the Age Discrimination in Employment Act of 1967, as amended; the Rehabilitation Act of 1973, as amended; the Americans with Disabilities Act Amendments Act of 2008; the Genetic Information Nondiscrimination Act of 2008; the Civil Service Reform Act of 1978; the Civil Rights Act of 1991; the No FEAR Act; Executive Order 11478, as amended; Executive Order 11375, as amended; Executive Order 13163; Executive Order 13164; Executive Order 13145; 29 CFR 1614; and the Equal Employment Opportunity Commission's (EEOC) Management Directives 110 (Complaint Processing) and 715 (Effective Affirmative Programs).

PURPOSE(S):

These records are used to process, investigate and resolve Equal Employment Opportunity complaints within the Department.

ROUTINE USES OF RECORDS MAINTAINED IN THE SYSTEM, INCLUDING CATEGORIES OF USERS AND THE PURPOSES OF SUCH USES:

The records in the complaint file are classified into three categories: Correspondence, investigative, and transcripts. In addition to the universal routine uses listed in the General Prefatory Statement to this document, records that are relevant and necessary may be disclosed as follows:

a. To responding officials (ROs) or other witnesses consistent with the instructions in the Equal Employment Opportunity Commission's (EEOC's) Complaint Processing Manual which provides that during the investigative process witnesses may be given access to information and documents in the correspondence files and the investigative file where the investigator determines that the disclosure of information or documents is necessary to obtain information from the witness. If the Department issues a final decision on the complaint rejecting the complainant's allegations, ROs or other witnesses may not have access to the complaint file. If the Department takes or proposes adverse action against an RO or other witness, only the records upon which the decision is based, without deletions, must be made available for his or her review.

b. To Federal agencies with jurisdiction over a complaint, including the EEOC, the Office of Personnel Management, the Merit Systems Protection Board, the Office of Special Counsel, and the Federal Labor Relations Authority, for investigatory, conciliation or enforcement purposes.

c. To a physician or medical official for the purpose of evaluating medical documents in complaints of discrimination on the basis of disability.

POLICIES AND PRACTICES FOR STORING, RETRIEVING, ACCESSING, RETAINING AND DISPOSING OF RECORDS IN THE SYSTEM:

STORAGE:

Files are stored electronically and/or on paper.

RETRIEVABILITY:

Paper files are indexed by complainant's name and by the office case number. Electronic files are retrieved by: Office case number; complainant's name; fiscal year; current status of complaint; region code; issue code; basis code; agency code; class action; relief code; EOS identification; investigator identification.

SAFEGUARDS:

Access by authorized personnel only. Computer security safeguards are used for electronically stored data and locked locations for paper files.

RETENTION AND DISPOSAL:

Records are destroyed 4 years after resolution of case. (N1 GRS 80 9 item 1)

SYSTEM MANAGER(S) AND ADDRESS:

Director, Civil Rights Center, OASAM, U.S. Department of Labor, 200 Constitution Avenue NW., Washington, DC 20210.

NOTIFICATION PROCEDURE:

An individual wishing to inquire whether this system of records contains non-exempt information about him/her should contact the System Manager. Individuals must furnish in writing the following information for their records to be located and identified: As appropriate, their full name, the name of the employing agency and/or the agency in which the situation arose if different than the employing agency, approximate date of filing complaint, region of complaint, complaint case number, and the kind(s) of action(s) taken.

RECORD ACCESS PROCEDURES:

Individuals wishing to request access to their records should contact the System Manager as indicated in the Notification Procedure section above.

CONTESTING RECORD PROCEDURES:

A petition for amendment shall be addressed to the System Manager and must meet the requirements of Department's Privacy Act regulations at 29 CFR 71.1 and 71.9.

RECORD SOURCE CATEGORIES:

An individual to whom the record pertains; official documents relating to the processing of a complaint, including the informal and formal allegations, and appeals of departmental decisions; and respondent agency officials, employees, and other witnesses.

SYSTEMS EXEMPTED FROM CERTAIN PROVISIONS OF THE ACT:

Under the specific exemption provided by 5 U.S.C. 552a(k)(2), this system of records is exempted from the following provisions of the Privacy Act: (c)(3), (d), (e)(l), (e)(4)(G), (H), and (I), and (f). Release of information from the complaint file to the complainant may be denied in anticipation of a civil action or proceeding, in instances where premature release of documents could hamper the decision-making process, where the release of personal information may result in an invasion of personal privacy, and where release of confidential statements could lead to intimidation or harassment of witnesses and impair future investigations by making it more difficult to collect similar information.

DOL/OASAM-19

SYSTEM NAME:

Negotiated Grievance Procedure and Unfair Labor Practice Files.

SECURITY CLASSIFICATION:

None.

SYSTEM LOCATION:

a. Human Resources Center, U.S. Department of Labor, 200 Constitution Avenue NW., Washington, DC 20210; and National and Regional personnel offices.

b. Office of the Solicitor, U.S. Department of Labor, 200 Constitution Avenue NW., Washington, DC 20210; and Regional offices of the Solicitor.

CATEGORIES OF INDIVIDUALS COVERED BY THE SYSTEM:

Department employees who have filed grievances under negotiated grievance procedures, and Department employees or Union/Union representatives (AFGE Local 12, NULI and NCFLL) who have filed unfair labor practices charges against the Department.

CATEGORIES OF RECORDS IN THE SYSTEM:

Records include information relating to employee grievances filed under procedures established by labor-management negotiations in the collective bargaining agreements between DOL and its three (3) Unions: The NCFLL, AFGE Local 12 and NULI, and unfair labor practice charges filed under the Federal Service Labor-Management Relations Act. The records may include information such as: Employee's name, grade, job title, employment history, arbitrator's decision or report, record of appeal to the Federal Labor Relations Authority, and a variety of employment and personnel records associated with a grievance or charge.

AUTHORITY FOR MAINTENANCE OF THE SYSTEM:

5 U.S.C. 7121 for grievances, 5 U.S. 7116 for unfair labor practices, Federal Service Labor-Management Relations Act and related amendments of 5 U.S.C. 5596(b) for back pay.

PURPOSE(S):

To process an employee's grievance filed under a negotiated grievance procedure, or an unfair labor practice charge filed by an employee or union.

ROUTINE USES OF RECORDS MAINTAINED IN THE SYSTEM, INCLUDING CATEGORIES OF USERS AND THE PURPOSES OF SUCH USES:

In addition to the universal routine uses listed in the General Prefatory Statement to this document, records that are relevant and necessary may be disclosed to:

a. Officials of the Merit System Protection Board or the Office of Special Counsel, when requested in connection with appeals, special studies of the civil service and other merit systems, review of Department rules and regulations, investigations or alleged or possible prohibited personnel practices, and such other functions as may be authorized by law.

b. The Equal Employment Opportunity Commission when requested in connection with investigations into alleged or possible discrimination practices or examination of affirmative employment programs.

c. The Federal Labor Relations Authority or its General Counsel when requested in connection with investigations of allegations of unfair labor practices or matters before the Federal Service Impasses Panel.

d. The union when requested in connection with the union's representation of the Department employee who has filed the grievance or unfair labor practice.

DISCLOSURE TO CONSUMER REPORTING AGENCIES:

None.

POLICIES AND PRACTICES FOR STORING, RETRIEVING, ACCESSING, RETAINING, AND DISPOSING OF RECORDS IN THE SYSTEM:

STORAGE:

Files are stored electronically and on paper.

RETRIEVABILITY:

Records are retrieved by name and/or case file number.

SAFEGUARDS:

Access by authorized personnel only. Computer security safeguards are used for electronically stored data and locked locations for paper files.

RETENTION AND DISPOSAL:

Records are destroyed 5 years after expiration of agreement. (NC1-64-77-10 item 29a1)

SYSTEM MANAGER(S) AND ADDRESS:

Director, Office of Employee and Labor Management Relations, Human Resources Center, U.S. Department of Labor, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individual employees who have filed grievances and charges, employee/supervisor interviews, investigative and employment records, and findings of arbitrators and other tribunals.

SYSTEMS EXEMPTED FROM CERTAIN PROVISIONS OF THE ACT:

Under the specific exemption provided by 5 U.S.C. 552a(k)(2), this system of records is exempted from the following provisions of the Privacy Act: (c)(3), (d), (e)(l), (e)(4)(G), (H), and (I), and (f). Release of information from the complaint file to the complainant may be denied in anticipation of a civil action or proceeding, in instances where premature release of documents could hamper the decision-making process, where the release of personal information may result in an invasion of personal privacy, and where release of confidential statements could lead to intimidation or harassment of witnesses and impair future investigations by making it more difficult to collect similar information.

DOL/OASAM-20

SYSTEM NAMES:

Personnel Investigation Records

SECURITY CLASSIFICATION:

None, except items or records within the system may have national defense/foreign policy classifications up through secret.

SYSTEM LOCATION:

Director, Security Center (OASAM), U.S. Department of Labor, 200 Constitution Avenue NW, Washington, DC, 20210.

CATEGORIES OF INDIVIDUALS COVERED BY THE SYSTEM:

a. Current and former employees or applicants for employment in the Department.

b. Individuals considered for access to classified information or restricted areas and/or security determinations as contractors, experts, instructors, and consultants to Departmental programs.

CATEGORIES OF RECORDS IN THE SYSTEM:

Investigative files and investigative index card files which pertain to clearance investigations for Federal employment. These records contain investigative information regarding an individual's character, conduct, and behavior in the community where he or she lives or lived; arrests and convictions for violations against the law; reports of interviews with present and former supervisors, coworkers, associates, educators, etc; reports about the qualifications of an individual for a specific position and files and index cards relating to adjudication matters; reports of inquiries with law enforcement agencies, employers, educational institutions attended; reports or action after OPM or FBI Section 8(d) Full Field Investigation; Notices of Security Investigation; and other information developed from above.

NOTE: This system does not apply to records of a personnel investigative nature that are part of the Office of Personnel Management's (OPM) Privacy Act System OPM/CENTRAL-9, Personnel Investigation Records. Access to or amendment of such records must be obtained from OPM.

AUTHORITY FOR MAINTENANCE OF THE SYSTEM:

Executive Order 10450.

PURPOSE(S):

The purposes of this system are:

a. To provide investigatory information for determination concerning compliance with Federal personnel regulations and for individual personnel determinations including suitability and fitness for Federal employment, access and security clearances, evaluations of qualifications, loyalty to the U.S. and evaluations of qualifications and suitability for performance of contractual services for the U. S. Government.

b. To document such determinations;

c. To provide information necessary for the scheduling and conduct of the required investigations;

d. To otherwise comply with mandates and Executive Order; and

These records may also be used to locate individuals for personnel research.

ROUTINE USES OF RECORDS MAINTAINED IN THE SYSTEM, INCLUDING CATEGORIES OF USERS AND THE PURPOSES OF SUCH USES:

These records and information in these records may be used in disclosing relevant and necessary information:

a. To designated officers and employees of agencies, offices, and other establishments in the executive, legislative, and judicial branches of the Federal Government, and the District of Columbia Government, when such agency, office, or establishment conducts an investigation of the individual for the purpose of granting a security clearance, or for the purpose of making a determination of qualifications, suitability, or loyalty to the United States Government, or access to classified information or restricted areas.

b. To designated officers and employees of agencies, offices, and other establishments in the executive, legislative, and judicial branches of the Federal Government, and the District of Columbia Government, having the responsibility to grant clearances to make a determination regarding access to classified information or restricted areas, or to evaluate qualifications, suitability, or loyalty to the United States Government, in connection with performance of a service to the Federal Government under a contract or other agreement.

c. To the intelligence agencies of the Department of Defense, the National Security Agency, the Central Intelligence Agency, the Department of Homeland Security, and the Federal Bureau of Investigation for use in intelligence activities.

d. To Federal agencies as a data source for management information through the production of summary descriptive statistics and analytical studies in support of the functions for maintained or for related studies.

e. To disclose information to officials of the Merit Systems Protection Board, including the Office of the Special Counsel, when requested in connection with appeals, special studies of the civil service and other merit systems, review of office rules and regulations, investigations of alleged or possible prohibited personnel practices, and such other functions, e.g., as promulgated in 5 U.S.C. 1205 and 1206, or as may be authorized by law.

f. To disclose information to the Equal Employment Opportunity Commission when requested in connection with investigations into alleged or possible discrimination practices in the Federal sector, examination of Federal affirmative employment programs, compliance by Federal agencies with the Uniform Guideline Employee Selection Procedures, or other functions vested in the Commission by the President's Reorganization Plan No. 1 of 1978.

g. To disclose information to the Federal Labor Relations Authority or its General Counsel when requested in connection with investigations of allegations of unfair labor practices or matters before the Federal Service Impasses Panel.

DISCLOSURE TO CONSUMER REPORTING AGENCIES:

None.

POLICIES AND PRACTICES FOR STORING, RETRIEVING, ASSESSING, RETAINING, AND DISPOSING OF RECORDS IN THE SYSTEM:

STORAGE:

Files are stored electronically and/or on paper.

RETRIEVABILITY:

Files are retrieved by the individual's name.

SAFEGUARDS:

Access by authorized personnel only. Computer security safeguards are used for electronically stored data and locked locations for paper files.

RETENTION AND DISPOSAL:

Records are retained as follows:

a. Reports of action after OPM or FBI section 8(d) background investigation are retained for the life of the investigative file.

b. Notices of Security Investigations are retained for 20 years.

SYSTEM MANAGER(S) AND ADDRESS:

Director, Security Center, OASAM, U.S. Department of Labor, 200 Constitution Avenue NW, Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system was obtained from the following categories of sources:

a. Applications and other personnel and security forms furnished by the individual;

b. Investigative and other record material furnished by Federal agencies;

c. Notices of personnel actions furnished by Federal agencies;

d. By personal investigation or written inquiry from sources such as employers, educational institutions, references, neighbors, associates, police departments, courts, credit bureaus, medical records, probation officials, prison officials, newspapers, magazines, periodicals, and other publications.

SYSTEMS EXEMPTED FROM CERTAIN PROVISIONS OF THE ACT:

This system may contain the following types of information:

a. Investigatory material compiled solely for the purpose of determining suitability, eligibility, or qualifications for Federal civilian employment. The Privacy Act, at 5 U.S.C. 552a(k)(5), permits an agency to exempt such material from certain provisions of the Act. Materials may be exempted to the extent that release of the material to the individual whom the information is about would:

i. Reveal the identity of a source who furnished information to the Government under an express promise (granted on or after September 27, 1975) that the identity of the source would be in confidence; or

ii. Reveal the identity of a source who, prior to September 27, 1975, furnished information to the Government under an implied promise that the identity of the source would be held in confidence.

b. For all the above reasons the Department hereby exempts this system from the following provisions of the Privacy Act: 5 U.S.C. 552a (c)(3),(d), (e)(1),(e)(4)(G), (H) and (I) and (f).

DOL/OASAM-22

SYSTEM NAME:

Civil Rights Center Discrimination Complaint Case Files.

SECURITY CLASSIFICATION:

None.

SYSTEM LOCATION:

a. Civil Rights Center, U.S. Department of Labor, 200 Constitution Avenue NW., Washington, DC 20210.

b. Office of the Solicitor, U.S. Department of Labor, 200 Constitution Avenue NW., Washington, DC 20210; and regional offices of the Solicitor.

CATEGORIES OF INDIVIDUALS COVERED BY THE SYSTEM:

Individuals, classes of individuals, or representatives designated to act on behalf of individuals, who file complaints against recipients of financial assistance under Title I of either the Workforce Investment Act (WIA) or the Workforce Innovation and Opportunity Act (WIOA); One-Stop Center partners listed in Section 121(b) of either WIA or WIOA that offer programs or activities through the American Job Center system; any other recipients of financial assistance from the Department itself; Department conducted programs; or components of State or local governments that exercise responsibilities, regulate, or administer services, programs, or activities (including regulatory activities) relating to labor and the workforce.

CATEGORIES OF RECORDS IN THE SYSTEM:

Complainants' statements of alleged discrimination; respondents' statements; witnesses' statements; names and addresses of complainants and respondents; personal, employment, or program participation information; medical records; conciliation and settlement agreements; related correspondence; initial and final determinations; other records related to investigations of discrimination complaints.

AUTHORITY FOR MAINTENANCE OF THE SYSTEM:

Title VI of the Civil Rights Act of 1964, as amended, 42 U.S.C. 2000d to 2000d-4; Section 504 of the Rehabilitation Act of 1973, as amended, 29 U.S.C. 794; Title IX of the Education Amendments of 1972, as amended, 20 U.S.C. 1681-1688; the Age Discrimination Act of 1975, as amended, 42 U.S.C. 6101 et seq.; Section 188 of the Workforce Investment Act of 1998, 29 U.S.C. 2938; Section 188 of the Workforce Innovation and Opportunity Act, 29 U.S.C. 3248; Title II, Subpart A, of the Americans with Disabilities Act of 1990, as amended, 42 U.S.C. 12131 et seq.; Executive Orders 13160 and 13166; Secretary's Order 4-2000; 29 CFR parts 31, 32, 33, 35, 36 37, and 38; and 28 CFR part 35.

PURPOSE(S):

These records are used to process, investigate and resolve discrimination complaints filed with the Department against (a) recipients of financial assistance from the Department, and, in the circumstances described in “CATEGORIES OF INDIVIDUALS COVERED BY THE SYSTEM” above, from other Federal departments and agencies; (b) Department conducted programs or activities; and (c) components of State and local governments that exercise responsibilities, regulate, or administer services, programs, or activities in all programs, services, and regulatory activities relating to labor and the workforce.

DISCLOSURE TO CONSUMER REPORTING AGENCIES:

None.

ROUTINE USES OF RECORDS MAINTAINED IN THE SYSTEM, INCLUDING CATEGORIES OF USERS AND THE PURPOSES OF SUCH USES:

In addition to the universal routine uses listed in the General Prefatory Statement to this document, records that are relevant and necessary may be disclosed as follows:

a. To the Equal Employment Opportunity Commission, Department of Justice, Federal Mediation and Conciliation Service, and other Federal departments and agencies, when relevant to matters within the jurisdiction of those agencies over a complaint, for investigatory, conciliation, enforcement, or litigation purposes.

b. To organizations (and their employees) which are subject to CRC jurisdiction under the circumstances described above, and against whom complaints in an administrative or judicial proceeding are filed to the extent necessary to effectively represent themselves, provided that the privacy of persons not a party to the dispute is protected.

c. To relevant witnesses so that they may be given access to information and documents in the correspondence files and the investigative file where the investigator determines that the disclosure of information or documents is necessary to obtain information from the witness.

d. To the Equal Employment Opportunity Commission, the Department of Justice, the Department of Health and Human Services, and other Federal entities having responsibility for coordinating civil rights activities and/or preparing reports to Congress under authorities indicated in this particular notice.

POLICIES AND PRACTICES FOR STORING, RETRIEVING, ACCESSING, RETAINING, AND DISPOSING OF RECORDS IN THE SYSTEM:

STORAGE:

Files are stored electronically and/or on paper.

RETRIEVABILITY:

These records are retrieved by various combinations of office case numbers, complainant's name, fiscal year, current status of complaint, State, basis code, and program code.

SAFEGUARDS:

Access by authorized personnel only. Computer security safeguards are used for electronically stored data and locked locations for paper files.

RETENTION AND DISPOSAL:

Records in this system are destroyed after one to four years. (N1 GRS 92 3 item 25c2).

SYSTEM MANAGER(S) AND ADDRESS:

Director, Civil Rights Center, OASAM, U.S. Department of Labor, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Individual complainants; respondent officials, employees, and witnesses; interrogatories; recipient files and records; and physicians' and other medical service providers' records.

SYSTEMS EXEMPTED FROM CERTAIN PROVISIONS OF THE ACT:

In accordance with 5 U.S.C. 552a(k)(2), investigatory material in this system of records compiled for law enforcement purposes is exempt from subsections (c)(3); (d); (e)(l); (e)(4)(G), (H), and (I); and (f) of 5 U.S.C. 552a, provided, however, that if any individual is denied any right, privilege, or benefit that he or she would otherwise be entitled to by Federal law, or for which he or she would otherwise be eligible, as a result of the maintenance of these records, such material shall be provided to the individual, except to the extent that the disclosure of such material would reveal the identity of a source who furnished information to the Government with an express promise that the identity of the source would be held in confidence.

DOL/OASAM-25

SYSTEM NAMES:

Intergovernmental Personnel Act (IPA) Assignment Records.

SECURITY CLASSIFICATION:

None.

SYSTEM LOCATION:

a. In Washington, DC: OASAM, Human Resources Center

b. OASAM Regional Personnel Offices.

CATEGORIES OF INDIVIDUALS COVERED BY THE SYSTEM:

Current or former State or local government agency or educational institution employees, employees of Indian tribal governments or employees of other organizations who have completed or are presently on an assignment in a DOL agency under the provisions of IPA.

CATEGORIES OF RECORDS IN THE SYSTEM:

These records consist of a copy of the individual's IPA agreement between a DOL agency and a State or local government, educational institution, Indian tribal government, or other organization; biographical and background information about the assignees.

AUTHORITY FOR MAINTENANCE OF THE SYSTEM:

The Intergovernmental Personnel Act of 1970. (5 U.S.C. 3371 through 3376).

PURPOSE(S):

These records are maintained to document and track mobility assignments under IPA.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Files are retrieved by the name of the individual.

SAFEGUARDS:

Accessed by authorized personnel only. Computer security safeguards are used for electronically stored data and locked for paper files.

RETENTION:

Records are retained for a period of three years following the completion of the assignment in accordance with the applicable Records Schedule.

SYSTEM MANAGER(S) AND ADDRESS:

Director, Human Resource Services Center, U.S. Department of Labor, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORDS SOURCE CATEGORIES:

Information contained in this system is obtained from the assignee and officials in DOL agencies, State and local governments, educational institutions, Indian tribal governments and other organizations where the assignee is employed.

SYSTEMS EXEMPTED FROM CERTAIN PROVISIONS OF THE ACT:

None.

DOL/OASAM-26

SYSTEM NAMES:

Frances Perkins Building Parking Management System.

SECURITY CLASSIFICATION:

None.

SYSTEM LOCATION:

Office of Facilities Management, Frances Perkins Building, 200 Constitution Avenue NW., Washington, DC 20210.

CATEGORIES OF INDIVIDUALS COVERED BY THE SYSTEM:

All individuals assigned or applying for assignment of parking privileges in the Frances Perkins Building, Washington, DC.

CATEGORIES OF RECORDS IN THE SYSTEM:

This system includes: name, office building and room number, office telephone number, employing agency, home address, federal service computation date, handicap certification, automobile license number, make and year of car, permit numbers (if assigned parking privileges), category of assignment, and office location in/out of zone of special consideration.

AUTHORITY FOR MAINTENANCE OF THE SYSTEM:

5 U.S.C. 301.

PURPOSE(S):

To maintain records on individuals who are assigned or applying for assignment of parking privileges in the Frances Perkins Building.

ROUTINE USES OF RECORDS MAINTAINED IN THE SYSTEM, INCLUDING CATEGORIES OF USERS AND THE PURPOSES OF SUCH USES:

Disclosure of information may be made to other government agencies to compare names of car pool members. [For verification, the names of car pool members, their office telephone number and permit numbers will be displayed within the Frances Perkins Building.] Applications for disabled parking shall be disclosed to the PHS for medical review and approval. The names of car pool members, permit number, agency and office telephone numbers will be provided to the management contractor for the sale of permits.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name or permit number.

SAFEGUARDS:

Access by authorized personnel only. Computer security safeguards are used for electronically stored data and locked locations for paper files.

RETENTION AND DISPOSAL:

Records are retained while the assignments are current and are destroyed after the completion of each parking reallocation cycle.

SYSTEM MANAGER(S) AND ADDRESS:

Director, Office of Facilities Management, U.S. Department of Labor, 200 Constitution Avenue NW., Washington, DC 20210.

NOTIFICATION PROCEDURE:

Inquiries should be mailed to the System Manager.

RECORD ACCESS PROCEDURE:

A request for access should be mailed to the System Manager.

CONTESTING RECORDS PROCEDURES:

A petition for amendment should be mailed to the System Manager.

RECORDS SOURCE CATEGORIES:

Information contained in this system is obtained from the individuals to whom the information pertains and other government agencies that provide information to the Department.

SYSTEMS EXEMPTED FROM CERTAIN PROVISIONS OF THE ACT:

None.

DOL/OASAM-27

SYSTEM NAMES:

Employee/Contractor/Visitor Identification System

SECURITY CLASSIFICATION:

None.

SYSTEM LOCATION:

U.S. Department of Labor, Office of the Assistant Secretary for Administration and Management (OASAM), Security Center (SC), 200 Constitution Avenue NW., Washington, DC 20210.

CATEGORIES OF INDIVIDUALS:

DOL employees and employees of contractors doing business with DOL and individuals requiring access to the DOL.

CATEGORIES OF RECORDS IN THE SYSTEM:

Records include individual identifiers plus a photographic image of DOL employees, DOL contractors and individuals requiring access to the department.

AUTHORITY OF MAINTENANCE OF THE SYSTEM:

5 U.S.C. 301

PURPOSE(S):

To maintain records on the identification of persons to be rightfully admitted to DOL facilities.

ROUTINE USES OF RECORDS MAINTAINED IN THE SYSTEM, INCLUDING CATEGORIES OF USERS AND PURPOSE OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS:

STORAGE:

Files are stored electronically and/or on paper.

RETRIEVABILITY:

Files are retrieved by the employee's or contractor's last name or social security number and agency.

SAFEGUARDS:

Access by authorized personnel only. Computer security safeguards are used for electronically stored data and locked locations for paper files.

RETENTION AND DISPOSAL:

Records are retained indefinitely, in accordance with Records Schedule 174 (https://www.archives.gov/records-mgmt/grs/grs11.pdf).

SYSTEM MANAGER(S) AND ADDRESS:

Director, Security Center, OASAM, U.S. Department of Labor, 200 Constitution Avenue NW., Washington, DC 20210.

NOTIFICATION PROCEDURE:

Inquiries should be mailed to the System Manager.

RECORD ACCESS PROCEDURE:

A request for access should be mailed to the System Manager.

CONTESTING RECORD PROCEDURE:

A petition for amendment should be mailed to the System Manager.

RECORD SOURCE CATEGORIES:

Information contained in this System is obtained from DOL employees, employees of contractors doing business with DOL and individuals requiring access to the DOL.

SYSTEMS EXEMPTED FROM CERTAIN PROVISIONS OF THE ACT:

None.

DOL/OASAM-28

SYSTEM NAMES:

Incident Report/Restriction Notice.

SECURITY CLASSIFICATION:

None.

SYSTEM LOCATION:

U.S. Department of Labor, Office of the Assistant Secretary for Administration and Management (OASAM), Security Center, 200 Constitution Avenue NW., Washington, DC 20210.

CATEGORIES OF INDIVIDUALS:

Complainants, and Suspects (Subjects of the investigations?).

CATEGORIES OF RECORDS IN THE SYSTEM:

Records which contain information on incidents that occurred in the Frances Perkins Building. Information includes name, agency and date of incident.

AUTHORITY OF MAINTENANCE OF THE SYSTEM:

5 U.S.C. 301.

PURPOSE(S):

To provide a means of identifying security problems thereby making it possible to better utilize security resources.

ROUTINE USES OF RECORDS MAINTAINED IN THE SYSTEM, INCLUDING CATEGORIES OF USERS AND PURPOSE OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS:

STORAGE:

Files are stored electronically and/or on paper.

RETRIEVABILITY:

Files are retrieved by names.

SAFEGUARDS:

Access by authorized personnel only. Computer security safeguards are used for electronically stored data and locked locations for paper files.

RETENTION AND DISPOSAL:

Records are retained for two years, in accordance with General Schedule Number 18.

SYSTEM MANAGER(S) AND ADDRESS:

Director, Security Center, U.S. Department of Labor, OASAM/SC, 200 Constitution Avenue NW., Washington, DC 20210.

NOTIFICATION PROCEDURE:

Inquiries should be mailed to the System Manager.

RECORD ACCESS PROCEDURE:

A request for access should be mailed to the System Manager.

CONTESTING RECORD PROCEDURE:

A petition for amendment should be mailed to the System Manager.

RECORD SOURCE CATEGORIES:

Information contained in this system is obtained from individuals, DOL records, Federal investigatory agencies, e.g. Federal Protective Services, U.S. Secret Service, and Federal Bureau of Investigations records.

SYSTEMS EXEMPTED FROM CERTAIN PROVISIONS OF THE ACT:

None.

DOL/OASAM-29

SYSTEM NAMES:

OASAM Employee Administrative Investigation File.

SECURITY CLASSIFICATION:

None.

SYSTEM LOCATION:

Offices within the Office of the Assistant Secretary for Administration and Management (OASAM) at the National Office and in each of the Regional Offices in addition to all OASAM client agencies in the National Office and in the regions.

CATEGORIES OF INDIVIDUALS COVERED BY THE SYSTEM:

OASAM employees and OASAM client agency personnel against whom allegations of misconduct have been made.

CATEGORIES OF RECORDS IN THE SYSTEM:

Investigative report(s), sworn affidavits, written statements, time and attendance records, earnings and leave statements, applications for leave, notifications of personnel actions, travel vouchers, SF-171's, certificates of eligible, performance appraisals, interviews and other data gathered from involved parties and organizations which are associated with the case.

AUTHORITY FOR MAINTENANCE OF THE SYSTEM:

5 U.S.C. 301.

PURPOSE(S):

To maintain records on investigations of allegations of misconduct.

ROUTINE USE OF RECORDS MAINTAINED IN THE SYSTEM, INCLUDING CATEGORIES OF USERS AND THE PURPOSE OF SUCH USERS:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name or case file number.

SAFEGUARDS:

Access by authorized personnel only. Computer security safeguards are used for electronically stored data and locked locations for paper files.

RETENTION AND DISPOSAL:

Records are retained for four (4) years following the date either case is: (a) Referred to the Office of Inspector General (OIG); (b) transferred to the Office of Personnel (OPM/GOVT-3) Records of Adverse Actions and Actions Based on Unacceptable Performance; or (c) it is determined that the allegation was without sufficient merit to warrant further action.

SYSTEM MANAGER(S) AND ADDRESS:

Director, Human Resources Center, 200 Constitution Avenue NW., Washington, DC 20210, and appropriate Regional Human Resources Officers.

NOTIFICATION PROCEDURE:

Inquiries should be mailed to the System Manager.

RECORDS ACCESS PROCEDURES:

A request for access shall be mailed to the System Manager.

CONTESTING RECORD PROCEDURES:

A petition for amendment should be mailed to the System Manager.

RECORD SOURCE CATEGORIES:

Information contained in this system is obtained from hotline complaints received through the OIG or General Accounting Office; incident reports submitted by employees or members of the general public; statements by subject and fellow employees; and other investigative reports.

SYSTEM EXEMPTED FROM CERTAIN PROVISIONS OF THE ACT:

In accordance with 5 U.S.C. 552a(k)(2), investigatory material in this system of records compiled for law enforcement purposes is exempt from subsections (c)(3); (d); (e)(1); (e)(4)(G), (H), and (I); and 5 U.S.C. 552a (f), provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/OASAM-30

SYSTEM NAMES:

Injury Compensation System (ICS).

SECURITY CLASSIFICATION:

None.

SYSTEM LOCATION:

a. Offices in Washington, DC: Office of Worker Safety and Health, OASAM, and

b. OASAM Regional Personnel Offices.

CATEGORIES OF INDIVIDUALS COVERED BY THE SYSTEM:

Current/former employees of the Department of Labor and current/former Job Corps Center students who file, or who have filed on their behalf, workers' compensation claims for traumatic injury, occupational disease, recurrence of disability, and death.

CATEGORIES OF RECORDS IN THE SYSTEM:

This system contains information relating to a DOL employee's/Job Corps Center student's claim for compensation filed under procedures established by the Office of Worker's Compensation Programs.

AUTHORITY FOR MAINTENANCE OF THE SYSTEM:

Federal Employees' Compensation Act, as amended (codified in 5 U.S.C. 8101 et seq.), and to related regulations in Title 20, Code of Federal Regulations (CFR), Part 10; DOL Secretary's Order 5-2009.

PURPOSE:

The records are used as a reference, by agency officials, to track and monitor DOL employees and/or Job Corps Center students who receive continuation of pay and/or FECA compensation benefits.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Paper files are indexed by agency/region. Electronic files are retrieved by: agency/region code, case number, claimant's name, fiscal year.

SAFEGUARDS:

Access by authorized personnel only. Computer security safeguards are used for electronically stored data and locked locations for paper files.

RETENTION AND DISPOSAL:

All records contained in the Injury Compensation System should be disposed of in accordance with applicable records schedules under General Records Schedule (GRS) 1.31.

SYSTEM MANAGER(S) NAME AND ADDRESS:

Director, Office of Worker Safety and Health, U.S. Department of Labor, 200 Constitution Avenue NW., Washington, DC 20210.

NOTIFICATION PROCEDURE:

Inquiries should be mailed to the System Manager.

RECORD ACCESS PROCEDURES:

A request for access should be mailed to the System manager.

CONTESTING RECORD PROCEDURES:

A petition for amendment should be mailed to the System Manager.

RECORD SOURCE CATEGORIES:

Records in this system contain information extracted from OWCP/payroll data files/tapes and the Safety and Health Information Management System (SHIMS).

SYSTEM EXEMPTED FROM CERTAIN PROVISIONS OF THE ACT:

None.

DOL/OASAM-31

SYSTEM NAMES:

DOL Flexible Workplace Programs Evaluation and Files.

SECURITY CLASSIFICATION:

None.

SYSTEM LOCATION:

DOL/OASAM/Office of Human Resources, Office of Human Resource Systems and with each employee's supervisor.

CATEGORIES OF INDIVIDUALS COVERED BY THE SYSTEM:

DOL participants in Flexible Workplace Programs.

CATEGORIES OF RECORDS IN THE SYSTEM:

Records in the system include program participants, position title and grade, office location, and address of alternate work site. Records also include survey information obtained during the individual's participation.

AUTHORITY FOR MAINTENANCE OF THE SYSTEM:

5 U.S.C. 301.

PURPOSE(S):

These records are used for statistical reporting and evaluation of the DOL Flexible Workplace Program, and are not used in any way for making any determination about an identifiable individual.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by individual(s) name(s).

SAFEGUARDS:

Access by authorized personnel only. Computer security safeguards are used for electronically stored data and locked locations for paper files.

RETENTION AND DISPOSAL:

Records are retained for no longer than one year after the end of the employee's participation in the program. (N1 GRS 92-1 item 42.)

SYSTEM MANAGER(S) AND ADDRESS:

U.S. Department of Labor, Office of the Assistant Secretary for Administration and Management, Office of Human Resources, Office of Human Resource Systems, Frances Perkins Building, 200 Constitution Avenue NW., Washington, DC 20210.

NOTIFICATION PROCEDURE:

Inquiries should be mailed to the System Manager.

RECORDS ACCESS PROCEDURES:

A request for access should be mailed to the System Manager.

CONTESTING RECORD PROCEDURE:

A petition for amendment should be mailed to the System Manager.

RECORD SOURCE CATEGORIES:

Information contained in this system is obtained from individual participants and their supervisors.

SYSTEMS EXEMPTED FROM CERTAIN PROVISIONS OF THE ACT:

None.

DOL/OASAM-32

SYSTEM NAMES:

Transit Subsidy Management System.

SECURITY CLASSIFICATION:

None.

SYSTEM LOCATION:

U.S. Department of Labor, Office of the Assistant Secretary for Administration and Management (OASAM), Human Resources Center (HRC), Office of HR Works Systems (OHRWS), 200 Constitution Avenue NW., Room S-3308, Washington, DC 20210.

CATEGORIES OF INDIVIDUALS COVERED BY THE SYSTEM:

All DOL employees who apply for Transit Subsidy benefits.

CATEGORIES OF RECORDS IN THE SYSTEM:

Records include information on DOL employees, such as name, grade, organization (code), office location, and home/work addresses.

AUTHORITY FOR MAINTENANCE OF THE SYSTEM:

5 U.S. C. 301.

PURPOSES(S):

To maintain records on the Transit Subsidy Program.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by employee's name.

SAFEGUARDS:

Access by authorized personnel only. Computer security safeguards are used for electronically stored data and locked locations for paper files.

RETENTION AND DISPOSAL:

Records are retained for three years and then destroyed in accordance with OASAM Record Schedule.

SYSTEM MANAGER(S) AND ADDRESS:

Director, Office of HR Works Systems, HRC, OASAM, U.S. Department of Labor, 200 Constitution Avenue NW., Room S-3308, Washington DC, 20210

NOTIFICATION PROCEDURES:

Inquiries should be mailed to the System Manager.

RECORD ACCESS PROCEDURES

A request for access should be mailed to System Manager.

CONTESTING RECORDS PROCEDURES:

A petition for amendments should be mailed to the System Manager.

RECORD SOURCE CATEGORIES:

The information contained in this system is obtained from the applicant and manually verified against DOL's Human Resources System.

SYSTEMS EXEMPTED FROM CERTAIN PROVISIONS OF THE ACT:

None.

DOL/OASAM-34

SYSTEM NAMES:

DOL Fitness Association (DOLFA) Membership Files.

SECURITY CLASSIFICATION:

None.

SYSTEM LOCATION:

Fitness Center, U.S. Department of Labor, 200 Constitution Avenue NW., Washington, DC 20210.

CATEGORIES OF INDIVIDUALS COVERED BY THE SYSTEM:

DOLFA members.

CATEGORIES OF RECORDS IN THE SYSTEM:

Records contain information on members, such as name, medical information required with a membership application, and attendance records.

AUTHORITY FOR MAINTENANCE OF THE SYSTEM:

5 U.S.C. 301.

PURPOSES(S):

Records are used to determine eligibility for membership, emergency contact numbers, and statistical utilization of the Fitness Center.

ROUTINE USES OF RECORDS MAINTAINED IN THE SYSTEM, INCLUDING CATEGORIES OF USERS AND PURPOSE OF SUCH USES:

Non-medical information collected from applicants for DOLFA membership shall be subject to those universal routine uses listed in the General Prefatory Statement to this document. In addition, relevant and necessary non-medical information may be disclosed to the current members of the DOLFA Board of Directors, and to the professional fitness specialists employed by DOLFA in the performance of their responsibilities. Medical information collected from applicants for DOLFA membership may be disclosed to the professional fitness specialists employed by DOLFA in the performance of their responsibilities.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name.

SAFEGUARDS:

Access by authorized personnel only. Computer security safeguards are used for electronically stored data and locked locations for paper files.

RETENTION AND DISPOSAL:

Records are retained for five years after a member terminates membership in DOLFA in accordance with the applicable Records Schedule.

SYSTEM MANAGER(S) AND ADDRESS:

Team Leader, Health and Fitness Team, Safety and Health Center, U.S. Department of Labor, 200 Constitution Avenue NW., Washington DC 20210.

NOTIFICATION PROCEDURES:

Inquiries should be mailed to the System Manager.

RECORD ACCESS PROCEDURES:

A request for access should be mailed to the System Manager.

CONTESTING RECORDS PROCEDURES:

A petition for amendment should be mailed to the System Manager.

RECORD SOURCE CATEGORIES:

Information contained in this system is obtained from members.

SYSTEMS EXEMPTED FROM CERTAIN PROVISIONS OF THE ACT:

None.

DOL/OASAM-35

SYSTEM NAMES:

DOL Child Care Subsidy Program Records.

SECURITY CLASSIFICATION:

None.

SYSTEM LOCATION:

DOL/OASAM/Worklife Center.

CATEGORIES OF INDIVIDUALS COVERED BY THE SYSTEM:

Employees of the Department of Labor who apply for child care subsidies.

CATEGORIES OF RECORDS IN THE SYSTEM:

Records include application forms for the child care subsidy containing personal information, including employee (parent) name, grade, home and work addresses, telephone numbers, total family income, sources and amounts of State/County/Local subsidies, names of children on whose behalf the parent is applying for the child care subsidy, children's Social Security Numbers, children's dates of birth; information on child care providers used, including name, address, provider license number and State where issued, tuition cost, and provider tax identification number; and copies of earnings and leave statements and IRS Form 1040 and 1040A for verification purposes.

AUTHORITY FOR MAINTENANCE OF THE SYSTEM:

Public Law 106-58, section 643 and E.O. 9397.

PURPOSE(S):

To establish and verify DOL employees' eligibility for child care subsidies in order for DOL to provide monetary assistance to its employees.

ROUTINE USES OF RECORDS MAINTAINED IN THE SYSTEM, INCLUDING CATEGORIES OF USERS AND THE PURPOSES OF SUCH USES:

None, except for those universal routine uses set forth in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by individual's name.

SAFEGUARDS:

Access by authorized personnel only. Computer security safeguards are used for electronically stored data and locked locations for paper files.

RETENTION AND DISPOSAL:

Records are retained for three years in accordance with OASAM Records Schedule.

SYSTEM MANAGER(S) AND ADDRESS:

U.S. Department of Labor, Office of the Assistant Secretary for Administration and Management, Human Resources Center, Office of Worklife, Leave, and Benefits Policy and Programs, Frances Perkins Building, 200 Constitution Avenue NW., Washington, DC 20210.

NOTIFICATION PROCEDURE:

Inquiries should be mailed to the System Manager.

RECORDS ACCESS PROCEDURE:

A request for access should be mailed to the System Manager.

CONTESTING RECORD PROCEDURE:

A petition for amendment should be mailed to the System Manager.

RECORD SOURCE CATEGORIES:

Information contained in the system is obtained from DOL employees who apply for the child care subsidy program.

SYSTEMS EXEMPTED FROM CERTAIN PROVISIONS OF THE ACT:

None.

DOL/OASAM-37

SYSTEM NAME:

Personal Identity Verification Credential

SECURITY CLASSIFICATION:

Most personnel identity verification records are not classified, however, in some cases, records of certain individuals, or portions of some records, may be classified in the interest of national security.

SYSTEM LOCATION:

At national and regional offices of the Department of Labor.

CATEGORIES OF INDIVIDUALS COVERED BY THE SYSTEM:

Individuals who require regular, ongoing access to Federal facilities, information technology systems, or information classified in the interest of national security, including applicants for employment or contracts, Federal employees, contractors, students, interns, volunteers, affiliates, individuals authorized to perform or use services provided in Department facilities (e.g., Credit Union, Fitness Center, etc.), and individuals formerly in any of these positions.

Note: This system notice does not apply to occasional visitors or short-term guests to whom the Department issues temporary identification cards.

CATEGORIES OF RECORDS IN THE SYSTEM:

a. Name, former names, birth date, birth place, Social Security Number, signature, home address, email address, phone numbers, residential history, citizenship, fingerprints, results of suitability decisions, date of issuance of security clearance.

b. Copies of personal identity verification (PIV) Application forms as supplied by individuals covered by the system.

c. Records maintained on individuals issued credentials by the Department include the following data fields: full name; Social Security Number; date of birth; image (photograph); fingerprints; hair color; eye color; height; weight; home address; work address; email address; agency affiliation (i.e., employee, contractor, volunteer, etc.); telephone numbers; PIV card issue and expiration dates; personal identification number (PIN); results of background investigation; PIV request form; emergency responder designation; copies of “I-9” documents (e.g., driver's license, passport, birth certificate, etc.) used to verify identification or information derived from those documents such as document titled, document issuing authority, document number, or document expiration date; user access and permission rights, authentication certificates; and digital signature information.

AUTHORITY FOR MAINTENANCE OF THE SYSTEM:

5 U.S.C. § 301; E.O. 10450, 10865, 12333, and 12356; §§ 3301 and 9101 of title 5, U.S. Code; §§ 2165 and 2201 of title 42, U.S.C.; §§ 781-887 of title 50, U.S.C.; parts 5, 732, and 736 of title 5, Code of Federal Regulation; and Homeland Security Presidential Directive (HSPD) 12, Policy for a Common Identification Standard for Federal Employees and Contractors, August 27, 2004.

PURPOSE(S):

The records are used to document and verify the identity of personnel requiring routine access to a DOL facility or network.

ROUTINE USES OF RECORDS MAINTAINED IN THE SYSTEM, INCLUDING CATEGORIES OF USERS AND THE PURPOSES OF SUCH USES:

The universal routine uses listed at paragraphs 1, 2, 3 (except as noted on forms SF 85, 85-P, and 86), 4, 5, 6, 8, 9, 10, and 12 in the General Prefatory Statement to this document apply to this system of records.

DISCLOSURE TO CONSUMER REPORTING AGENCIES:

None.

POLICIES AND PRACTICES FOR STORING, RETRIEVING, ACCESSING, RETAINING, AND DISPOSING OF RECORDS IN THE SYSTEM:

STORAGE:

Records are stored electronically and/or on paper.

RETRIEVABILITY:

Records are retrieved by name of employee, Social Security Number, other ID number.

SAFEGUARDS:

Access by authorized personnel only. Computer security safeguards are used for electronically stored data and locked locations for paper files.

RETENTION AND DISPOSAL:

Records are destroyed upon notification of death or not later than five years after separation or transfer of employee to another agency or department, whichever is applicable in accordance with GRS 18 item 22a.

Additionally, in accordance with HSPD-12, PIV Cards are deactivated within 18 hours of notification regarding cardholder separation, loss of card, or expiration. The information on PIV Cards is maintained in accordance with General Records Schedule 11, Item 4. PIV Cards are destroyed by cross-cut shredding no later than 90 days after deactivation.

SYSTEM MANAGER(S) AND ADDRESS:

The relevant agency head for the applicable component agency within the U.S. Department of Labor, 200 Constitution Avenue NW., Washington, DC 20210.

NOTIFICATION PROCEDURE:

Inquiries should be mailed to the System Manager.

RECORDS ACCESS PROCEDURES:

A request for access should be mailed to the System Manager.

CONTESTING RECORD PROCEDURES:

A petition for amendment should be mailed to the System Manager.

OCFO—DOL Office of the Chief Financial Officer Systems of Records

DOL/OCFO-2

SYSTEM NAME:

New Core Financial Management System (NCFMS).

SECURITY CLASSIFICATION:

None.

SYSTEM LOCATION:

The information is accessed from the following locations:

a. All Departmental component offices in Washington DC;

b. All Departmental component offices in the Regions and the Areas.

CATEGORIES OF INDIVIDUALS COVERED BY THE SYSTEM:

All persons who receive a payment(s) from an agency/regional finance office, as well as persons who are indebted to DOL. Persons receiving payments include but are not limited to employees, vendors, travelers on official business, grantees, contractors, and consultants. Persons indebted to DOL include but are not limited to persons who have been overpaid, erroneously and/or improperly paid, as well as persons who have received from DOL goods or services for which there is a charge or fee (e.g., Freedom of Information Act requesters).

CATEGORIES OF RECORDS IN THE SYSTEM:

Name, identification number (Taxpayer Identification Number or other identifying number), address, phone number, email address, financial account information, purpose of payment, accounting classification, amount to be paid, date and amount paid.

AUTHORITY FOR MAINTENANCE OF THE SYSTEM:

5 U.S.C. 301.

PURPOSE(S):

The records are an integral part of the accounting system at the principal operating location, agency regional offices, and specific area locations. The system uses these records to keep track of all commitments, obligations, and payments to individuals, exclusive of salaries and wages. When an individual is to repay funds advanced, the records could be used to establish a receivable record and to track repayment status. In the event of an overpayment to an individual, the record is used to establish a receivable record for recovery of the amount claimed. The records are also used internally to develop reports to the U. S. Department of Treasury and applicable state and local taxing officials of taxable income. This is a Department-wide notice of payment and collection activities at all locations listed under System Locations above.

ROUTINE USES OF RECORDS MAINTAINED IN THE SYSTEM, INCLUDING CATEGORIES OF USERS AND THE PURPOSES OF SUCH USES:

a. Transmittal of the records to the U.S. Treasury to effect issuance of payments to payees.

b. Pursuant to section 13 of the Debt Collection Act of 1982, the name, address(es), telephone number(s), identification number (Taxpayer Identification Number or other identifying number), as well as nature, amount and history of debts of an individual may be disclosed to private debt collection agencies for the purpose of collecting or compromising a debt existing in this system.

c. Information may be forwarded to the Department of Justice as prescribed in the Joint Federal Claims Collection Standards (4 CFR Chapter II) for the purpose of determining the feasibility of enforced collection, by referring the cases to the Department of Justice for litigation.

d. Pursuant to sections 5 and 10 of the Debt Collection Act of 1982, information relating to the implementation of the Debt Collection Act of 1982 may be disclosed to other Federal Agencies to effect salary or administrative offsets.

e. Information contained in the system of records may be disclosed to the Internal Revenue Service to obtain taxpayer mailing addresses for the purpose of locating such taxpayer to collect, compromise, or write off a Federal claim against the taxpayer.

f. Information may be disclosed to the Internal Revenue Service concerning the discharge of an indebtedness owed by an individual.

g. Information will be disclosed:

i. To credit card companies for billing purposes;

ii. To other Federal agencies for travel management purposes;

iii. To airlines, hotels, car rental companies and other travel related companies for the purpose of serving the traveler. This information will generally include the name, phone number, address, charge card information and itineraries; and/or

iv. To state and local taxing officials informing them of taxable income.

DISCLOSURE TO CONSUMER REPORTING AGENCIES:

The amount, status, and history of overdue debts; the name and address, identification number (Taxpayer Identification Number or other identifying number), and other information necessary to establish the identity of a debtor; and the agency and program under which the claim arose are disclosed pursuant to 5 U.S.C. 552a(b)(12) to consumer reporting agencies as defined by section 603(f) of the Fair Credit Reporting Act (15 U.S.C. 1681a(f) (Check cite)), in accordance with section 3(d)(4)(A)(ii) of the Federal Claims Collection Act of 1966, as amended (31 U.S.C. 3711(f) (check cite)) for the purpose of encouraging the repayment of an overdue debt.

Note: Debts incurred by use of the official travel charge card are personal and the charge card company may report account information to credit collection and reporting agencies.

POLICIES AND PRACTICES FOR STORING, RETRIEVING, ACCESSING, RETAINING, AND DISPOSING OF RECORDS IN THE SYSTEM:

STORAGE:

Files are stored electronically and/or on paper.

RETRIEVABILITY:

Retrievability varies according to the particular operating accounting system within the Operating Division, Agency, and Regional Office. Computer records may be retrieved by accounting classification, identification number, voucher number, or on any field in the record.

SAFEGUARDS:

Access by authorized personnel only. Computer security safeguards are used for electronically stored data and locked locations for paper files.

RETENTION AND DISPOSAL:

All records in NCFMS are stored and retained for the life of the system and a minimum of six years and three months.

SYSTEM MANAGER(S) AND ADDRESS:

Associate Deputy CFO of Financial Systems, Office of the Chief Financial Officer, Department of Labor, 200 Constitution Avenue NW., Washington, DC 20210.

NOTIFICATION PROCEDURE:

Inquiries should be mailed or presented to the System Manager.

RECORD ACCESS PROCEDURES:

A request for access shall be addressed to the System Manager.

CONTESTING RECORD PROCEDURES:

A petition for amendment shall be addressed to the System Manager.

RECORD SOURCE CATEGORIES:

Individuals, employees, other DOL systems, other Federal agencies, credit card companies, government contractors.

SYSTEMS EXEMPTED FROM CERTAIN PROVISIONS OF THE ACT:

None.

DOL/OCFO-3

SYSTEM NAME:

Travel and Transportation System

SECURITY CLASSIFICATION:

None.

SYSTEM LOCATION:

a. All component offices in Washington, DC;

b. Regional and area offices of the components.

CATEGORIES OF INDIVIDUALS COVERED BY THE SYSTEM:

All individuals who travel in an official capacity for the Department of Labor.

CATEGORIES OF RECORDS IN THE SYSTEM:

Various records are created and maintained in support of official travel. The forms or succeeding forms may include the following:

DL 1-33 Travel Authorization

SF 1038 Advance of Funds Application and Account

SF 1012 Travel Voucher

DL 1-2024 Request and Authorization for Exception From Standard Contract Terms for City-Pair Service

DL 1-289 Request for Approval of GSA Vehicle Option or Exemption

DL 1-473 Employment Agreement for Transfers Within the Continental U.S.

DL 1-474 Employment Agreement for Persons Assigned to Posts Outside the Continental U.S.

DL-1-2030 Estimated PCS Travel and Transportation Data for Travel Authorization

DL-1-2031 Claim Form for Payment of Relocation Income Tax Allowance

DL-1-2032 Covered Taxable Reimbursements

DL-1-2033R Withholding Tax Allowance, Summary of Transactions, Withholding of Taxes, and W-2 Reporting

DL 1-472 Employee Application for Reimbursement of Expenses Incurred in Sale or Purchase (or both) of Residence Upon Change of Official Station

SF 1164 Claim for Reimbursement for Expenditures on Official Business

DL 1-101 Training Authorization and Evaluation Form

DL 1-478 Administrative Exception to Travel Claim

DL 1-423 Expense Record for Temporary Quarters

SF 1169 Government Transportation Request (will be phased out within next 5 years)

Telephone charge cards.

As a result of travel, individuals may become indebted to the Government. Records used to cure these claims include: Consumer credit reports, information or records relating to the debtor's current whereabouts, assets, liabilities, income and expenses, debtor's personal financial statements, and other information such as the nature, amount and history of the debt, and other records and reports relating to the implementation of the Debt Collection Act of 1982, including any investigative reports or administrative review matters.

Individuals expecting to travel at least two times per year are required to have charge cards provided by Government contract. Besides the application for such cards, records created include transaction, payment and account status data.

Travel arrangement services are also available by Government contract. Records include traveler's profile containing name of individual, social security number, home and office telephones, agency's name, address, and telephone number, air travel preference, rental car identification number and preference of car, hotel preference, current passport and/or visa number, personal credit card numbers, and additional information; travel authorization; and monthly reports from travel agent(s) showing charges to individuals, balances, and other types of account analyses. Permanent change of station travel arrangements may include information about real estate and movement of household goods. To provide more efficient processing of travel documents, travel document processing software will be used by employees to record travel planning information, expenses incurred, traveler/employer identification information (SSN, and other identifying information used in conjunction with the purposes of the software), user ID's, passwords, electronic signatures, routing lists and other information used by the system to track and process travel documentation.

Vendors and contractors provide to the Department itemized statements of invoices, and reports of transactions including refunds and adjustments to enable audits of charges to the Government.

AUTHORITY FOR MAINTENANCE OF THE SYSTEM:

41 CFR part 101-7 (check cite) (Federal Travel Regulations); interpret or apply 31 U.S.C. 3511, 3512, and 3523; 31 U.S.C. 3711 et seq. (Debt Collection Act of 1982); section 206 of Executive Order 11222 (May 8, 1965); 5 CFR 735.207 (check cite) (Office of Personnel Management Regulations).

PURPOSE(S):

To facilitate performance of official Government travel by documenting the authorization of travel; payment of advances; payment of claims, invoices, vouchers, judgments; debts created by advance payments and overpayments; provision and use of government contractor-issued charge cards; and to make travel arrangements.

Data received from a charge card company under government contract will be used to perform responsibilities under section 206 of Executive Order 11222 (May 8, 1965) and 5 CFR 735.207 (Check the cite) (Office of Personnel Management Regulations) concerning requirements for employees to pay their just financial obligations in a proper and timely manner. Reports will also be monitored to ensure that the charge cards are used only in the course of official travel as required by the contract. Data will also be analyzed to permit more efficient and cost effective travel planning and management, including negotiated costs of transportation, lodging, subsistence and related services.

ROUTINE USES OF RECORDS MAINTAINED IN THE SYSTEM, INCLUDING CATEGORIES OF USERS AND THE PURPOSES OF SUCH USES:

a. Transmittal of data to the U.S. Treasury to effect issuance of checks and Electronic Funds Transfer (EFT) payments to payees.

b. Information may be forwarded to the Department of Justice as prescribed in the Joint Federal Claims Collection Standards (4 CFR Chapter II). When debtors fail to make payment through normal collection routines, the files are analyzed to determine the feasibility of enforced collection by referring the cases to the Department of Justice for litigation.

c. Pursuant to sections 5 and 10 of the Debt Collection Act of 1982, information relating to the implementation of the Debt Collection Act of 1982 may be disclosed to other Federal Agencies to effect salary or administrative offsets, or for other purposes connected with the collection of debts owed to the United States.

d. Information contained in the system of records may be disclosed to the Internal Revenue Service to obtain taxpayer mailing addresses for the purpose of locating such taxpayer to collect, compromise, or write off a Federal claim against the taxpayer.

e. Information may be disclosed to the Internal Revenue Service concerning the discharge of an indebtedness owed by an individual, or other taxable benefits received by the employee.

f. Information will be disclosed:

i. To credit card companies for billing purposes;

ii. To Departmental and other Federal agencies such as GSA for travel management purposes;

iii. To airlines, hotels, car rental companies, travel management centers and other travel related companies for the purpose of serving the traveler. This information will generally include the name, phone number, addresses, charge card information and itineraries.

DISCLOSURE TO CONSUMER REPORTING AGENCIES:

The amount, status, and history of overdue debts; the name and address, taxpayer identification number (SSN), and other information necessary to establish the identity of a debtor, the agency and program under which the claim arose, are disclosed pursuant to 5 U.S.C. 552a(b)(12) to consumer reporting agencies as defined by section 603(f) of the Fair Credit Reporting Act (15 U.S.C. 1681a(f)), in accordance with section 3(d)(4)(A)(ii) of the Federal Claims Collection Act of 1966, as amended (31 U.S.C. 3711(f)) for the purpose of encouraging the repayment of an overdue debt.

Note: Debts incurred by use of the official travel charge card are personal and the charge card company may report account information to credit collection and reporting agencies.

POLICIES AND PRACTICES FOR STORING, RETRIEVING, ACCESSING, RETAINING, AND DISPOSING OF RECORDS IN THE SYSTEM:

STORAGE:

Files are stored electronically and/or on paper.

RETRIEVABILITY:

Files are retrieved by name and/or social security number of traveler or by travel document number at each location.

SAFEGUARDS:

Access by authorized personnel only. Computer security safeguards are used for electronically stored data and locked locations for paper files.

RETENTION AND DISPOSAL:

Records are retained for 6 years or 3 months.

SYSTEM MANAGER(S) AND ADDRESS:

Office of the Chief Financial Officer, Travel Management Division, Department of Labor, 200 Constitution Avenue NW., Washington, DC 20210.

NOTIFICATION PROCEDURE:

Inquiries should be mailed to the System Manager.

RECORDS ACCESS PROCEDURES:

A request for access should be mailed to the System Manager.

CONTESTING RECORD PROCEDURES:

A petition for amendment should be mailed to the System Manager.

RECORD SOURCE CATEGORIES:

Individuals, employees, other Federal agencies, consumer reporting agencies, credit card companies, government contractors, state and local law enforcement.

SYSTEMS EXEMPTED FROM CERTAIN PROVISIONS OF THE ACT:

None.

ODEP—DOL Office of Disability Employment Policy Systems of Records

DOL/ODEP-1

SYSTEM NAME:

Job Accommodation Network (JAN) Files.

SECURITY CLASSIFICATION:

None.

SYSTEM LOCATION:

Job Accommodation Network, West Virginia University, P.O. Box 6080, Morgantown, West Virginia, 26505-6080.

CATEGORIES OF INDIVIDUALS COVERED BY THE SYSTEM:

Individuals with disabilities, employers and the general public who request information through the JAN system.

CATEGORIES OF RECORDS IN THE SYSTEM:

Caller's name, address, telephone number, type of disability, functional limitations caused by the disability, accommodations discussed, type of firm or organization for whom the caller works, and anecdotal information recorded by the human factors consultant.

AUTHORITY FOR MAINTENANCE OF THE SYSTEM:

5 U.S.C. 301.

PURPOSE(S):

The Job Accommodation Network (JAN) provides free expert and confidential one-on-one technical assistance to the general public via phone, email and Web chat. JAN also provides online resources and publications, as well as in-person and Web-based trainings to private and federal sector employers; people with disabilities, including disabled veterans; employment service providers; and educational institutions regarding individualized job accommodations and workplace strategies for job applicants and employees with disabilities. JAN offers guidance on the Americans with Disabilities Act (ADA) and other disability-related legislation and self-employment and entrepreneurship options for people with disabilities.

ROUTINE USES OF RECORDS MAINTAINED IN THE SYSTEM, INCLUDING CATEGORIES OF USERS AND THE PURPOSE OF SUCH USES:

In addition to those universal routine uses listed in the General Prefatory Statement to this document, relevant information may be disclosed to employers for the purpose of hiring individuals with disabilities and/or for enabling the employers to accommodate employees with disabilities.

DISCLOSURE TO CONSUMER REPORTING AGENCIES:

None.

POLICIES AND PRACTICES FOR STORING, RETRIEVING, ACCESSING, RETAINING, AND DISPOSING OF RECORDS IN THE SYSTEM:

STORAGE:

Files are stored electronically.

RETRIEVABILITY:

Files are retrieved by caller's name, state, date, and case file identifying number.

SAFEGUARDS:

Access by authorized personnel only. Computer security safeguards are used for electronically stored data.

RETENTION AND DISPOSAL:

Records are retained permanently on the file server with access by program personnel only.

SYSTEM MANAGER(S) AND ADDRESS:

The Systems Manager is the Project Director of the Job Accommodation Network, West Virginia University, P.O. Box 6080, Morgantown, WV 26506-6080.

NOTIFICATION PROCEDURE:

Inquiries should be mailed to the Office of Disability Employment Policy, 200 Constitution Ave. NW., Washington, DC 20210 or to the Freedom of Information Act/Privacy Act Coordinator, at U.S. Department of Labor/Office of Disability Employment Policy, 200 Constitution Avenue NW., Washington, DC 20210.

RECORDS ACCESS PROCEDURES:

A request for access should be mailed to Assistant Secretary for Disability Employment Policy at the above addresses.

CONTESTING RECORD PROCEDURES:

A petition for amendment should be mailed to the System Manager.

RECORD SOURCE CATEGORIES:

Information contained in this system is obtained from individual participants in the JAN system.

SYSTEM EXEMPTED FROM CERTAIN PROVISIONS OF THE ACT:

None.

DOL/ODEP-2

SYSTEM NAME:

Workforce Recruitment Program for College Students with Disabilities (WRP) Database.

SECURITY CLASSIFICATION:

None.

SYSTEM LOCATION:

Office of Disability Employment Policy, U.S. Department of Labor, 200 Constitution Ave. NW., Room S-1303, Washington, DC 20210.

CATEGORIES OF INDIVIDUALS COVERED BY THE SYSTEM:

College students and recent graduates with disabilities who have interviewed with a WRP recruiter on or through a college campus.

CATEGORIES OF RECORDS IN THE SYSTEM:

Student's name, address, telephone number, email address, college, major, minor, credits earned, degree sought, graduation date, Grade Point Average, job preference categories, appointment type, job location preference, type of disability, job accommodation information, resume, transcripts, recruiter's summary of student's interview and ratings, veteran status, Schedule A eligibility, security clearance status and type, age, gender, and race/ethnicity.

AUTHORITY FOR MAINTENANCE OF THE SYSTEM:

5 U.S.C. 301.

PURPOSE(S):

To provide federal and private sector employers a database resource of college students and recent graduates with disabilities from which to identify qualified temporary and permanent employees in a variety of fields.

ROUTINE USES OF RECORDS MAINTAINED IN THE SYSTEM, INCLUDING CATEGORIES OF USERS AND THE PURPOSE OF SUCH USES:

In addition to those universal routine uses listed in the General Prefatory Statement to this document, relevant information concerning student interviewees may be disclosed to interested federal and private sector employers. Accommodation information concerning interviewees is disclosed to interested federal employers but not to private sector employers.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by candidate's name, system generated unique identification number, school attended, academic major keyword, graduation date, veteran status, interview notes and resume keyword, location preference, appointment type, degree program, and job preference category.

SAFEGUARDS:

Access by authorized personnel only. Computer security safeguards are used for electronically stored data and locked locations for paper files.

RETENTION AND DISPOSAL:

The application materials are retained in a secure, online database for one year from date of the interview through December of the next year.

SYSTEM MANAGER(S) AND ADDRESS:

The System Manager is the WRP Project Manager, Office of Disability Employment Policy, U.S. Department of Labor, 200 Constitution Ave. NW., Washington, DC 20210.

NOTIFICATION PROCEDURE:

Inquiries should be mailed or presented in writing to the System Manager at the address listed above.

RECORDS ACCESS PROCEDURES:

Individuals wishing to gain access shall write to the Office of Disability Employment Policy at the above address or to request access to the database can register at www.wrp.gov.

CONTESTING RECORD PROCEDURES:

A petition for amendment shall be addressed to the System Manager.

RECORD SOURCE CATEGORIES:

College students and recent graduates with disabilities who have participated in an interview with a WRP recruiter.

SYSTEM EXEMPTED FROM CERTAIN PROVISIONS OF THE ACT:

None.

OFCCP—DOL Office of Federal Contract Compliance Programs Systems of Records

OFCCP-1

SYSTEM NAME:

Office of Federal Contract Compliance Programs, Executive Management Information System (OFCCP/EIS) which includes the Case Management System (CMS), and Time Reporting Information System (TRIS).

SECURITY CLASSIFICATION:

None.

SYSTEM LOCATION:

OFCCP, Department of Labor, 200 Constitution Avenue NW., Washington, DC 20210; Six Regional Offices, see the Appendix to this document for addresses.

CATEGORIES OF INDIVIDUALS COVERED BY THE SYSTEM:

Individuals filing complaints with OFCCP of employment discrimination by Federal Contractors and Compliance Officers.

CATEGORIES OF RECORDS IN THE SYSTEM:

Listing of hours utilized to perform OFCCP program responsibilities. Listing of complaints filed by individuals alleging employment and listing of hours utilized to perform OFCCP program responsibilities.

AUTHORITY FOR MAINTENANCE OF THE SYSTEM:

Executive Order 11246, as amended; the Vietnam Era Veterans' Readjustment Assistance Act of 1974, as amended, 38 U.S.C. 4212; section 503 of the Rehabilitation Act of 1973, as amended, 29 U.S.C. 793.

PURPOSE(S):

The Case Management System is the data entry portion of OFCCP's core case management and management information system. OFCCP Executive Information System (OFEIS) makes up the reporting side of the total system. The Office of Contract Compliance Programs Case Management System (OFCMS) provides the umbrella under which numerous applications can be accessed. The purposes of the systems are: To track and monitor, by means of an automated database, complaint investigations of employment discrimination by Federal contractors. To provide OFCCP Managers with a viable means of tracking the number of hours used in performing OFCCP program responsibilities. To track the number of hours utilized by compliance officers in performing their assigned program duties and responsibilities.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN SYSTEM:

STORAGE:

Files are stored electronically and/or on paper.

RETRIEVABILITY:

Files are retrieved by the name of the complainant, OFCCP control number, contractor establishment name and number. By identification numbers assigned to each compliance officer.

SAFEGUARDS:

Computer security safeguards are used for electronically stored data and locked locations for paper files.

RETENTION AND DISPOSAL:

All data in the OFCCP Information System is a permanent record. In accordance with the agency records schedule, data is to be transferred to NARA every five calendar years in a format acceptable to NARA at the time of transfer [OFCCP Records Schedule N1-448-01-02, Item 9(a)].

SYSTEM MANAGER(S) AND ADDRESS:

Director, OFCCP, Room C-3325, 200 Constitution Avenue NW., Washington, DC 20210; Regional Directors for OFCCP, see Appendix I to this document for Addresses.

NOTIFICATION PROCEDURES:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from OFCCP personnel working in district and regional offices.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of the source would be held in confidence.

OFCCP-2

SYSTEM NAME:

Office of Federal Contract Compliance Programs Complaint Case Files.

SECURITY CLASSIFICATION:

None.

SYSTEM LOCATION:

Office of Federal Contract Compliance Programs (OFFCP), 200 Constitution Avenue NW., Washington, DC 20210, and OFCCP Regional and District Offices (see the Appendix to this document for addresses).

CATEGORIES OF INDIVIDUALS COVERED BY THE SYSTEM:

Individuals, classes of individuals or representatives authorized to act on behalf of individuals or classes of individuals who have filed complaints of discrimination.

CATEGORIES OF RECORDS IN THE SYSTEM:

Medical records, investigative reports and materials, complaints, contract coverage information, employment applications, time and attendance records.

AUTHORITY FOR MAINTENANCE OF THE SYSTEM:

Executive Order 11246, as amended; the Vietnam Era Veterans' Readjustment Assistance Act of 1974, as amended, 38 U.S.C. 4212, section 503 of the Rehabilitation Act of 1973, as amended, 29 U.S.C. 793.

PURPOSE(S):

To maintain information that is used to investigate and to resolve complaints of discrimination filed by individuals under Executive Order 11246, as amended; the Veteran Era Veterans' Readjustment Assistance Act of 1974, amended, 38 U.S.C. 4212; and section 503 of the Rehabilitation Act of 1973, as amended, 29 U.S.C. 793.

ROUTINE USES OF RECORDS MAINTAINED IN THE SYSTEM INCLUDING CATEGORIES OR USERS AND THE PURPOSES OF SUCH USES:

Files may be disclosed to:

a. The Equal Employment Opportunity Commission, Department of Justice, or other Federal, State or local agencies with jurisdiction over a complaint, when relevant and necessary for investigatory, conciliation or enforcement purposes;

b. Federal contractors and subcontractors against whom a complaint is filed, including providing a copy of the complaint or a summary for purposes of notice;

c. A physician or medical provider records or information for the purpose of evaluating the complaint or medical records in cases involving complaints of discrimination on the basis of disability.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name or OFCCP control number.

SAFEGUARDS:

Access by authorized personnel only. Computer security safeguards are used for electronically stored data and locked locations for paper files.

RETENTION AND DISPOSAL:

a. Copies of complaints referred to EEOC and other agencies for disposition under Title VII of the Civil Rights Act of 1964—Maintain in the office and destroy one calendar year after referral [OFCCP Records Schedule N1-448-01-02, Item 32(b)].

b. Records of complaints determined to be within the jurisdiction of OFCCP and investigated of OFCCP—Retain in active files until case is resolved. Retire to inactive files for a period of four calendar years in case of an appeal of findings in the case. Maintain in the office and destroy four calendar years after case is resolved [OFCCP Records Schedule N1-448-01-02, Item 32(c)].

c. All cases that are recommended for administrative enforcement under the jurisdiction of Executive Order 11246, as amended, the Rehabilitation Act of 1973, as amended, and Vietnam Era Veterans' Readjustment Assistance Act of 1974 or the Civil Rights Act of 1964—Retain in active files until case is resolved. Retire to inactive files for a period of four calendar years in case of an appeal of findings in the case. Maintain in the office and destroy four calendar years after case is resolved [OFCCP Records Schedule N1-448-01-02, Item 32(d)].

SYSTEM MANAGER(S) AND ADDRESS:

Director for Federal Contract Compliance, 200 Constitution Avenue NW., Washington, DC 20210; Regional Directors for OFCCP, see The Appendix to this document for addresses.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individual and class action complainants, employers, co-workers, witnesses, State rehabilitation agencies, physicians, and other health care providers.

SYSTEMS EXEMPTED FROM CERTAIN PROVISIONS OF THE ACT:

This system contains complaints and investigative files compiled during the course of complaint investigations and compliance reviews. In accordance with paragraph (k)(2) of the Privacy Act, 5 U.S.C. 552a(k)(2), these files have been exempted from subsections (c)(3), (d), (e)(1), (e)(4)(G), (H), and (I) and (f) of the Act. The disclosure of information contained in these files may in some circumstances discourage non-management persons who have knowledge of facts and circumstances pertinent to charges from giving statements or cooperating in investigations.

OIG—DOL Office of Inspector General Systems of Records

DOL/OIG-2

SYSTEM NAME:

Freedom of Information Act/Privacy Act Records.

SECURITY CLASSIFICATION:

None but sensitive information used for law enforcement purposes.

SYSTEM LOCATION:

Freedom of Information Act/Privacy Act Disclosure Office, Office of Inspector General, U.S. Department of Labor, 200 Constitution Avenue NW., Washington, DC 20210.

CATEGORIES OF INDIVIDUALS COVERED BY THE SYSTEM:

Persons who request access to, and copies of, records pursuant to the Freedom of Information Act (FOIA); persons who request access to, copies of, or correction of records pertaining to themselves pursuant to the Privacy Act; where applicable, persons about whom records have been requested or about whom information is contained in requested records; and persons representing those individuals identified above.

CATEGORIES OF RECORDS IN THE SYSTEM:

The system contains (a) copies of all correspondence, memoranda, and other documents related to FOIA and Privacy Act requests, and related records necessary to the processing of such requests; (b) copies of all documents relevant to appeals and other litigation under the FOIA and the Privacy Act.

AUTHORITY FOR MAINTENANCE OF THE SYSTEM:

Inspector General Act of 1978, as amended, 5 U.S.C. App. 3; Freedom of Information Act, 5 U.S.C. 552; Privacy Act, 5 U.S.C. 552a, and; 29 CFR parts 70 and 71.

PURPOSE(S):

This system of records is maintained in order to reflect the identity of requesters, the substance of each request, the responses made by the Office of Inspector General (OIG), and compliance with the disclosure and reporting requirements of the FOIA and the Privacy Act. Materials within this system also reflect the reasons for the disclosure and/or denial of requests, or portions of requests, and any further action on requests which may be appealed and/or litigated.

ROUTINE USES OF RECORDS MAINTAINED IN THE SYSTEM INCLUDING CATEGORIES OF USERS AND THE PURPOSES OF SUCH USES:

a. Referral to federal, state, local and foreign investigative and/or prosecutive authorities. A record from a system of records, which indicates either by itself or in combination with other information within the agency's possession, a violation or potential violation of law, whether civil, criminal or administrative, and whether arising from general statute or particular program statute, or by regulation, rule or order issued pursuant thereto, may be disclosed as a routine use, to the appropriate federal, foreign, state, or local agency or professional organization, charged with responsibility for investigating or prosecuting such violation or charged with enforcing or implementing the statute, rule, regulation, or order.

b. Introduction to a grand jury. A record from a system of records may be disclosed, as a routine use, to a grand jury agent pursuant to either a federal or state grand jury subpoena or to a prosecution request that such record be released for the purpose of its introduction to a grand jury.

c. Referral to federal, state, local or professional licensing boards. A record from a system of records may be disclosed, as a routine use, to any governmental, professional, or licensing authority when such record relates to qualifications, including moral, educational or vocational qualifications, of an individual seeking to be licensed or to maintain a license.

d. Disclosure to a contractor, grantee, or other direct or indirect recipient of federal funds. A record from a system of records may be disclosed, as a routine use, to any direct or indirect recipient of federal funds where such record reflects inadequacies with respect to a recipient's activities, organization, or personnel, and disclosure of the record is made to permit the recipient to take corrective action beneficial to the Government.

e. Disclosure to any source, either private or governmental, to the extent necessary to solicit information relevant to any investigation or other matters related to the responsibilities of the OIG. A record from a system of records may be disclosed, as a routine use, to any source, either private or governmental, to the extent necessary to secure from such source information relevant to and sought in furtherance of an investigation or other matters related to the responsibilities of the OIG.

f. Disclosure for personnel or other action. A record from a system of records may be disclosed, as a routine use, to a federal, state, local, foreign, or international agency, for their use in connection with the assignment, hiring, or retention of an individual, issuance of a security clearance, letting of a contract, or issuance of a license, grant or other benefit, to the extent that the information is relevant and necessary to such agency's decision on the matter, or to solicit information from the federal, state, local, foreign, or international agency, for the OIG's use in connection with the assignment, hiring, or retention of an individual, issuance of a security clearance, letting of a contract, or issuance of a license, grant or other benefit.

g. Disclosure to an entity hearing a contract protest or dispute. A record from a system of records may be disclosed, as a routine use, to the United States Government Accountability Office, a Board of Contract Appeals, the Court of Federal Claims, or other court or tribunal, in connection with bid protest cases or contract dispute cases.

h. Disclosure to Office of Management and Budget (OMB) or Department of Justice (DOJ) regarding Freedom of Information Act and Privacy Act advice. Information from a system of records may be disclosed, as a routine use, to OMB or DOJ in order to obtain advice regarding statutory and other requirements under the FOIA or Privacy Act.

i. Disclosure to the Department of the Treasury (Treasury) and DOJ in pursuance of an ex parte court order to obtain taxpayer information from the IRS. A record from a system of records may be disclosed, as a routine use, to Treasury and DOJ when the OIG seeks an ex parte court order to obtain taxpayer information from the Internal Revenue Service.

j. Disclosure to a consumer reporting agency in order to obtain relevant investigatory information. A record from a system of records may be disclosed, as a routine use, to a “consumer reporting agency” as that term is defined in the Fair Credit Reporting Act (15 U.S.C. 1681a(f) and the Federal Claims Collection Act of 1966 (31 U.S.C. 3701(a)(3)), for the purposes of obtaining information in the course of an investigation, or other matters related to the responsibilities of the OIG.

k. Disclosure in accordance with computer matching laws, regulations, and/or guidelines. A record may be disclosed to a federal, state, or local agency for use in computer matching programs to prevent and detect fraud and abuse in benefit programs administered by those agencies, to support civil and criminal law enforcement activities of those agencies and their components, and to collect debts and overpayments owed to the agencies and their components. This routine use does not provide unrestricted access to records for such law enforcement and related anti-fraud activities; each request for disclosure will be considered in light of the applicable legal and administrative requirements of a computer matching program or procedure.

l. Disclosure to any law enforcement agency for inclusion in a database, system, or process. A record from a system of records may be disclosed, as a routine use, to any law enforcement agency for inclusion in a database, system, or process designed to generate investigative leads and information to be used for law enforcement purposes. This routine use also permits the disclosure of such records to any law enforcement agency with responsibility for investigating any investigative leads or information generated by the database, system, or other process in which the records were included.

m. Disclosure to any inspector general, receiver, trustee, or other overseer of any entity with respect to matters within the investigative jurisdiction of the United States Department of Labor (DOL) or the DOL OIG. A record from this system of records may be disclosed to any individual or entity with responsibility for oversight or management of any entity with respect to matters within the investigative jurisdiction of the DOL or the DOL OIG. This would include, but not be limited to, any receiver, trustee, or established inspector general, whether court appointed or otherwise, that has been duly granted authority for oversight of an entity with respect to matters within the investigative authority of the DOL or the DOL OIG.

n. Information may be disclosed to complainants and victims to the extent necessary to provide them with information concerning the process or results of the investigation or case arising from the matter about which they complained or were the victim.

o. Information may be disclosed to other Federal Offices of Inspector General and/or to the Council of the Inspectors General on Integrity and Efficiency for purposes of conducting the external review process required by the Homeland Security Act.

p. Disclosure to appropriate agencies, entities and persons when: (1) It is suspected or confirmed that the security or confidentiality of information in the system of records has been compromised; (2) it has been determined that as a result of the suspected or confirmed compromise there is a risk of harm to economic or property interests, identity theft or fraud, or harm to the security or integrity of this system or other systems or programs (whether maintained by DOL or another agency or entity) that rely upon the compromised information, and; (3) the disclosure made to such agencies, entities, and persons is reasonably necessary to assist in connection with DOL's efforts to respond to the suspected or confirmed compromise and prevent, minimize, or remedy any harm.

DISCLOSURE TO CONSUMER REPORTING AGENCIES:

Records from this system are not disclosed to consumer reporting agencies for credit rating or related purposes.

POLICIES AND PRACTICES FOR STORING, RETRIEVING, ACCESSING, RETAINING, AND DISPOSING OF RECORDS IN THE SYSTEM:

STORAGE:

Files are stored electronically and/or on paper. The records in this system are maintained in an electronic system and paper file system in a locked office.

RETRIEVABILITY:

Files are retrieved by the name of the individual or by the case file numbers.

SAFEGUARDS:

Access by authorized personnel only. Computer security safeguards are used for electronically stored data and locked locations for paper files.

RETENTION AND DISPOSAL:

Records are retained and disposed of in accordance with the schedules approved by the National Archives and Records Administration (NARA).

SYSTEM MANAGER(S) AND ADDRESS:

Disclosure Officer, Office of Inspector General, U.S. Department of Labor, Room S1303, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from the persons or entities making requests, from the systems of records searched to respond to requests, and from other agencies referring requests for access or correction of records originating in the Office of Inspector General.

SYSTEM EXEMPTED FROM CERTAIN PROVISIONS OF THE ACT:

Records obtained and stored in this system may originate from other systems of records which have been exempted under the provisions of FOIA and the Privacy Act, and these records are exempt under this system to the same extent as the systems of records from which they were obtained.

DOL/OIG-5

SYSTEM NAME:

Audit Information Reporting Team Tech TEX Tracking System, within the Workpaper Tracking System.

SECURITY CLASSIFICATION:

None.

SYSTEM LOCATIONS:

Office of Inspector General, U.S. Department of Labor, 200 Constitution Avenue NW., Washington DC 20210; OIG regional and field offices.

CATEGORIES OF INDIVIDUALS COVERED BY THE SYSTEM:

Office of Inspector General (OIG) Office of Audit staff.

CATEGORIES OF RECORDS IN THE SYSTEM:

Records or information contained in the system include: Employee name, position, projects assigned to employee, work and leave hours, workflow, case tracking data, and statistical data.

AUTHORITY FOR MAINTENANCE OF THE SYSTEM:

Inspector General Act of 1978, as amended, 5 U.S.C. App. 3.

PURPOSE(S):

This system is maintained in order to track and monitor the audit projects and other matters assigned to OIG audit staff, to document auditors' work and leave hours and travel expenses, and to run statistical reports.

ROUTINE USES OF RECORDS MAINTAINED IN THE SYSTEM, INCLUDING CATEGORIES OF USERS AND THE PURPOSES OF SUCH USES:

a. Referral to federal, state, local and foreign investigative and/or prosecutive authorities. A record from a system of records, which indicates either by itself or in combination with other information within the agency's possession, a violation or potential violation of law, whether civil, criminal or administrative, and whether arising from general statute or particular program statute, or by regulation, rule or order issued pursuant thereto, may be disclosed as a routine use, to the appropriate federal, foreign, state, or local agency or professional organization, charged with responsibility for investigating or prosecuting such violation or charged with enforcing or implementing the statute, rule, regulation, or order.

b. Introduction to a grand jury. A record from a system of records may be disclosed, as a routine use, to a grand jury agent pursuant to either a federal or state grand jury subpoena or to a prosecution request that such record be released for the purpose of its introduction to a grand jury.

c. Referral to federal, state, local or professional licensing boards. A record from a system of records may be disclosed, as a routine use, to any governmental, professional, or licensing authority when such record relates to qualifications, including moral, educational or vocational qualifications, of an individual seeking to be licensed or to maintain a license.

d. Disclosure to a contractor, grantee, or other direct or indirect recipient of federal funds. A record from a system of records may be disclosed, as a routine use, to any direct or indirect recipient of federal funds where such record reflects inadequacies with respect to a recipient's activities, organization, or personnel, and disclosure of the record is made to permit the recipient to take corrective action beneficial to the Government.

e. Disclosure to any source, either private or governmental, to the extent necessary to solicit information relevant to any investigation or other matters related to the responsibilities of the OIG. A record from a system of records may be disclosed, as a routine use, to any source, either private or governmental, to the extent necessary to secure from such source information relevant to and sought in furtherance of an investigation or other matters related to the responsibilities of the OIG.

f. Disclosure for personnel or other action. A record from a system of records may be disclosed, as a routine use, to a federal, state, local, foreign, or international agency, for their use in connection with the assignment, hiring, or retention of an individual, issuance of a security clearance, letting of a contract, or issuance of a license, grant or other benefit, to the extent that the information is relevant and necessary to such agency's decision on the matter, or to solicit information from the federal, state, local, foreign, or international agency, for the OIG's use in connection with the assignment, hiring, or retention of an individual, issuance of a security clearance, letting of a contract, or issuance of a license, grant or other benefit.

g. Disclosure to an entity hearing a contract protest or dispute. A record from a system of records may be disclosed, as a routine use, to the United States Government Accountability Office, a Board of Contract Appeals, the Court of Federal Claims, or other court or tribunal, in connection with bid protest cases or contract dispute cases.

h. Information may be disclosed to other Federal Offices of Inspector General and/or the Council of Inspectors General on Integrity and Efficiency (CIGIE) for purposes of conducting the external review process required by the Homeland Security Act.

j. Disclosure to appropriate agencies, entities and persons when: (1) It is suspected or confirmed that the security or confidentiality of information in the system of records has been compromised; (2) it has been determined that as a result of the suspected or confirmed compromise there is a risk of harm to economic or property interests, identity theft or fraud, or harm to the security or integrity of this system or other systems or programs (whether maintained by the Department or another agency or entity) that rely upon the compromised information, and; (3) the disclosure made to such agencies, entities, and persons is reasonably necessary to assist in connection with the Department's efforts to respond to the suspected or confirmed compromise and prevent, minimize, or remedy any harm.

DISCLOSURE TO CONSUMER REPORTING AGENCIES:

Records from this system are not disclosed to consumer reporting agencies for credit rating or related purposes.

POLICIES AND PRACTICES FOR STORING, RETRIEVING, ACCESSING, AND DISPOSING OF RECORDS IN THE SYSTEM:

STORAGE:

Files are stored electronically and/or on paper.

RETRIEVABILITY:

Files are retrieved by individual name(s) or project/case name/case number.

SAFEGUARDS:

Access by authorized personnel only. Computer security safeguards are used for electronically stored data and locked locations for paper files.

RETENTION AND DISPOSAL:

Records are retained and disposed of in accordance with the schedules approved by the National Archives and Records Administration (NARA).

SYSTEM MANAGERS AND ADDRESS:

Assistant Inspector General for Audit, 200 Constitution Avenue NW., Washington, DC 20210.

NOTIFICATION PROCEDURE:

Inquiries should be mailed to the System Manager.

RECORD ACCESS PROCEDURE:

A request for access should be mailed to the System Manager.

CONTESTING RECORD PROCEDURES:

A petition for amendment should be mailed to the System Manager.

RECORD SOURCE CATEGORIES:

Information contained in this System is obtained from activity supervisors, and audit personnel assigned to directly input work hours and leave associated with audit project activity.

SYSTEMS EXEMPTED FROM CERTAIN PROVISIONS OF THE ACT:

None.

DOL/OIG-6

SYSTEM NAME:

Hotline and Complaints Analysis Files.

SECURITY CLASSIFICATION:

Unclassified but sensitive information used for law enforcement purposes.

SYSTEM LOCATION:

Office of Inspector General, U.S. Department of Labor, 200 Constitution Avenue NW., Washington, DC 20210.

CATEGORIES OF INDIVIDUALS COVERED BY THE SYSTEM:

Complainants, federal and other public employees, contractors and subcontractors, grantees and sub-grantees, benefits claimants, alleged violators of federal, state, and local laws, regulations and policies, union officers, trustees of benefit plans, and employers.

CATEGORIES OF RECORDS IN THE SYSTEM:

The system contains records of complaints and allegations of waste, fraud, abuse, and violations of laws, regulations, and policies; complaint letters; referrals to federal, state, and local agencies; tracking information regarding referrals; summary information for indexing and cross referencing; reports and associated materials filed with the Department of Labor (DOL) or other government agencies from medical providers, grantees, contractors, employers, insurance companies, and other sources; other evidence and background material relating to complaints existing in any form.

AUTHORITY FOR MAINTENANCE OF THE SYSTEM:

Inspector General Act of 1978, as amended, 5 U.S.C. App. 3.

PURPOSE(S):

This system is established and maintained to fulfill the purposes of the Inspector General Act of 1978, as amended, and to fulfill the responsibilities assigned by that Act concerning receipt of complaints and other information from which audits, investigations, inspections, and evaluations may develop. The OIG initiates investigations, audits, inspections, and evaluations of individuals, entities and programs. This system is the repository of complaint information documented and reviewed for investigative merit, referral for investigation, referral for auditing, referral to DOL program agencies or other public agencies, or no action.

ROUTINE USES OF RECORDS MAINTAINED IN THE SYSTEM, INCLUDING CATEGORIES OF USERS AND THE PURPOSES OF SUCH USES:

a. Referral to federal, state, local and foreign investigative and/or prosecutive authorities. A record from a system of records, which indicates either by itself or in combination with other information within the agency's possession, a violation or potential violation of law, whether civil, criminal or administrative, and whether arising from general statute or particular program statute, or by regulation, rule or order issued pursuant thereto, may be disclosed as a routine use, to the appropriate federal, foreign, state, or local agency or professional organization, charged with responsibility for investigating or prosecuting such violation or charged with enforcing or implementing the statute, rule, regulation, or order.

b. Introduction to a grand jury. A record from a system of records may be disclosed, as a routine use, to a grand jury agent pursuant to either to a federal or state grand jury subpoena or to a prosecution request that such record be released for the purpose of its introduction to a grand jury.

c. Referral to federal, state, local or professional licensing boards. A record from a system of records may be disclosed, as a routine use, to any governmental, professional, or licensing authority when such record relates to qualifications, including moral, educational or vocational qualifications, of an individual seeking to be licensed or to maintain a license.

d. Disclosure to a contractor, grantee, or other direct or indirect recipient of federal funds. A record from a system of records may be disclosed, as a routine use, to any direct or indirect recipient of federal funds where such record reflects inadequacies with respect to a recipient's activities, organization, or personnel, and disclosure of the record is made to permit the recipient to take corrective action beneficial to the Government.

e. Disclosure to any source, either private or governmental, to the extent necessary to solicit information relevant to any investigation or other matters related to the responsibilities of the Office of Inspector General (OIG). A record from a system of records may be disclosed, as a routine use, to any source, either private or governmental, to the extent necessary to secure from such source information relevant to and sought in furtherance of an investigation or other matters related to the responsibilities of the OIG.

f. Disclosure for personnel or other action. A record from a system of records may be disclosed, as a routine use, to a federal, state, local, foreign, or international agency, for their use in connection with the assignment, hiring, or retention of an individual, issuance of a security clearance, letting of a contract, or issuance of a license, grant or other benefit, to the extent that the information is relevant and necessary to such agency's decision on the matter, or to solicit information from the federal, state, local, foreign, or international agency, for the OIG's use in connection with the assignment, hiring, or retention of an individual, issuance of a security clearance, letting of a contract, or issuance of a license, grant or other benefit.

g. Disclosure to an entity hearing a contract protest or dispute. A record from a system of records may be disclosed, as a routine use, to the United States Government Accountability Office, a Board of Contract Appeals, the Court of Federal Claims, or other court or tribunal, in connection with bid protest cases or contract dispute cases.

h. Disclosure to the Office of Management and Budget (OMB) or Department of Justice (DOJ) regarding Freedom of Information Act (FOIA) and Privacy Act advice. Information from a system of records may be disclosed, as a routine use, to OMB or DOJ in order to obtain advice regarding statutory and other requirements under the FOIA or Privacy Act.

i. Disclosure to the Department of the Treasury (Treasury) and DOJ in pursuance of an ex parte court order to obtain taxpayer information from the IRS. A record from a system of records may be disclosed, as a routine use, to Treasury and DOJ when the OIG seeks an ex parte court order to obtain taxpayer information from the Internal Revenue Service.

j. Disclosure to a consumer reporting agency in order to obtain relevant investigatory information. A record from a system of records may be disclosed, as a routine use, to a “consumer reporting agency” as that term is defined in the Fair Credit Reporting Act (15 U.S.C. 1681a(f) and the Federal Claims Collection Act of 1966 (31 U.S.C. 3701(a)(3)), for the purposes of obtaining information in the course of an investigation, or other matters related to the responsibilities of the OIG.

k. Disclosure in accordance with computer matching laws, regulations, and/or guidelines. A record may be disclosed to a federal, state, or local agency for use in computer matching programs to prevent and detect fraud and abuse in benefit programs administered by those agencies, to support civil and criminal law enforcement activities of those agencies and their components, and to collect debts and overpayments owed to the agencies and their components. This routine use does not provide unrestricted access to records for such law enforcement and related anti-fraud activities; each request for disclosure will be considered in light of the applicable legal and administrative requirements of a computer matching program or procedure.

l. Disclosure to any law enforcement agency for inclusion in a database, system, or process. A record from a system of records may be disclosed, as a routine use, to any law enforcement agency for inclusion in a database, system, or process designed to generate investigative leads and information to be used for law enforcement purposes. This routine use also permits the disclosure of such records to any law enforcement agency with responsibility for investigating any investigative leads or information generated by the database, system, or other process in which the records were included.

m. Disclosure to any inspector general, receiver, trustee, or other overseer of any entity with respect to matters within the investigative jurisdiction of DOL or the DOL OIG. A record from this system of records may be disclosed to any individual or entity with responsibility for oversight or management of any entity with respect to matters within the investigative jurisdiction of DOL or the DOL OIG. This would include, but not be limited to, any receiver, trustee, or established inspector general, whether court appointed or otherwise, that has been duly granted authority for oversight of an entity with respect to matters within the investigative authority of DOL or the DOL OIG.

n. Information may be disclosed to complainants and victims to the extent necessary to provide them with information concerning the process or results of the investigation or case arising from the matter about which they complained or were the victim.

o. Information may be disclosed to other Federal Offices of Inspector General and/or to the President's Council of the Inspectors General on Integrity and Efficiency for purposes of conducting the external review process required by the Homeland Security Act.

p. Disclosure to appropriate agencies, entities and persons when: (1) It is suspected or confirmed that the security or confidentiality of information in the system of records has been compromised; (2) it has been determined that as a result of the suspected or confirmed compromise there is a risk of harm to economic or property interests, identity theft or fraud, or harm to the security or integrity of this system or other systems or programs (whether maintained by the Department or another agency or entity) that rely upon the compromised information, and; (3) the disclosure made to such agencies, entities, and persons is reasonably necessary to assist in connection with DOL's efforts to respond to the suspected or confirmed compromise and prevent, minimize, or remedy any harm.

DISCLOSURE TO CONSUMER REPORTING AGENCIES:

Records from this system are not disclosed to consumer reporting agencies for credit rating or related purposes.

POLICIES AND PRACTICES FOR STORING, RETRIEVING, ACCESSING, RETAINING, AND DISPOSING OR RECORDS IN THE SYSTEM:

STORAGE:

Files are stored electronically and/or on paper.

RETRIEVABILITY:

Paper files are retrieved by case number. Electronic files are retrieved by case number, case name, subject, cross referenced item, or batch retrieval applications.

SAFEGUARDS:

Access by authorized personnel only. Computer security safeguards are used for electronically stored data and locked locations for paper files.

RETENTION AND DISPOSAL:

Records are retained and disposed of in accordance with the schedules approved by the National Archives and Records Administration (NARA).

SYSTEM MANAGER(S) AND ADDRESS:

Counsel to the Inspector General, Office of Legal Services, Office of Inspector General, U.S. Department of Labor, 200 Constitution Avenue NW., Washington, DC 20210.

NOTIFICATION PROCEDURE:

Inquiries should be mailed to the System Manager.

RECORD ACCESS PROCEDURE:

A request for access should be mailed to the System Manager.

CONTESTING RECORD PROCEDURES:

A petition for amendment should be mailed to the System Manager.

RECORD SOURCE CATEGORIES:

Information contained in this system is obtained from individual complainants and other individuals possessing relevant information, Federal, state and local government records, individual and company records, court records, publicly available articles, Web sites, financial data, corporate information, and other sources that may arise.

SYSTEMS EXEMPTED FROM CERTAIN PROVISIONS OF THE ACT:

The Secretary of Labor has promulgated regulations which exempt information contained in this system of records from various provisions of the Privacy Act depending upon the purpose for which the information was gathered and for which it will be used. The various law enforcement purposes and the reasons for the exemptions are as follows:

a. Criminal Law Enforcement: In accordance with 5 U.S.C. 552a(j)(2), information compiled for this purpose is exempt from all of the provisions of the Privacy Act except the following sections: (b), (c)(1) and (2), (e)(4)(A) through (F), (e)(6), (7), (9), (10), and (11), and (i). This material is exempt because the disclosure and other requirements of the Privacy Act would substantially compromise the efficacy and integrity of OIG operations in a number of ways. The disclosure of even the existence of these files would be problematic. Disclosure could enable suspects to take action to prevent detection of criminal activities, conceal evidence, or escape prosecution. Required disclosure of information contained in this system could lead to the intimidation of, or harm to, informants, witnesses and their respective families or OIG personnel and their families. Disclosure could invade the privacy of individuals other than subjects and disclose their identity when confidentially was promised or impliedly promised to them. Disclosure could interfere with the integrity of information which would otherwise be privileged (see, e.g., 5 U.S.C. 552(b)(5)), and which could interfere with the integrity of other important law enforcement concerns: (see, e.g., 5 U.S.C. 552(b)(7)).

The requirement that only relevant and necessary information be included in a criminal investigative file is contrary to investigative practice which requires a full and complete inquiry and exhaustion of all potential sources of information. See, 5 U.S.C. 552a(e)(1).

Similarly, maintaining only those records which are accurate, relevant, timely and complete and which assure fairness in a determination is contrary to established investigative techniques. See, 5 U.S.C. 552a(e)(5). Requiring investigators to obtain information to the greatest extent practicable directly from the subject individual also would be counter-productive to the thorough performance of clandestine criminal investigations. See, 5 U.S.C. 552a(e)(2). Finally, providing notice to an individual interviewed of the authority of the interviewer, the purpose which the information provided may be used, the routine uses of that information, and the effect upon the individual should he/she choose not to provide the information sought, could discourage the free flow of information in a criminal law enforcement inquiry. 5 U.S.C. 552a(e)(3).

b. Other law enforcement: In accordance with 5 U.S.C. 552a(k)(2), investigatory material compiled for law enforcement purposes (to the extent it is not already exempted by 5 U.S.C. 552a(j)(2)), is exempted from the following provisions of the Privacy Act: (c)(3), (d), (e)(1), (e)(4)(G), (H) and (I), and (f). This material is exempt because the disclosure and other requirements of the Act could substantially compromise the efficacy and integrity of OIG operations. Disclosure could invade the privacy of other individuals and disclose their identity when they were expressly promised confidentiality. Disclosure could interfere with the integrity of information which would otherwise be subject to privileges, see e.g., 5 U.S.C. 552(b)(5) and which could interfere with other important law enforcement concerns. See, e.g., 5 U.S.C. 552(b)(7).

c. Contract Investigations: In accordance with 5 U.S.C. 552a(k)(5), investigatory material compiled solely for the purpose of determining integrity, suitability, eligibility, qualifications, or employment under a DOL contract is exempt from the following sections of the Privacy Act: (c)(3), (d), (e)(1), (e)(4)(G), (H), (I) and (f). This exemption was obtained in order to protect from disclosure the identity of confidential sources when an express promise of confidentiality has been given in order to obtain information from sources that would otherwise be unwilling to provide necessary information.

DOL/OIG-7

SYSTEM NAME:

Correspondence Tracking System.

SECURITY CLASSIFICATION:

None.

SYSTEM LOCATION:

Office of Inspector General, U.S. Department of Labor, 200 Constitution Avenue NW., Washington, DC 20210.

CATEGORIES OF INDIVIDUALS COVERED BY THE SYSTEM:

Members of Congress and Congressional staff members; individuals who correspond with, or otherwise contact, the Office of Inspector General (OIG), and OIG staff assigned to process and handle such correspondence.

CATEGORIES OF RECORDS IN THE SYSTEM:

The system contains records of correspondence to and from the OIG, via letter, email, fax, or other media, and any associated records or attachments provided by the correspondent or included with the response provided by the OIG.

AUTHORITY FOR MAINTENANCE OF THE SYSTEM:

Inspector General Act of 1978, as amended, 5 U.S.C. App. 3.

PURPOSE(S):

This system is established and maintained to fulfill the purposes of the Inspector General Act of 1978, as amended, regarding audits, investigations, inspections, evaluations, and other oversight of Department of Labor (DOL) programs and operations, and to report to and be responsive to inquiries and other input from the public and from Congressional Committees and Members. This system is the repository of correspondence to and from the OIG, the public, and Congressional Committees and Members, and includes complaints and referrals reviewed for response by the OIG, which may include full investigation, referral for auditing, referral for DOL program agency action, or no action. The system files maintain information from the time the correspondence has been received until the correspondence file has been closed.

ROUTINE USES OF RECORDS MAINTAINED IN THE SYSTEM, INCLUDING CATEGORIES OF USERS AND THE PURPOSES OF SUCH USES:

a. Referral to federal, state, local and foreign investigative and/or prosecutive authorities. A record from a system of records, which indicates either by itself or in combination with other information within the agency's possession, a violation or potential violation of law, whether civil, criminal or administrative, and whether arising from general statute or particular program statute, or by regulation, rule or order issued pursuant thereto, may be disclosed as a routine use, to the appropriate federal, foreign, state, or local agency or professional organization, charged with responsibility for investigating or prosecuting such violation or charged with enforcing or implementing the statute, rule, regulation, or order.

b. Introduction to a grand jury. A record from a system of records may be disclosed, as a routine use, to a grand jury agent pursuant to either to a federal or state grand jury subpoena or to a prosecution request that such record be released for the purpose of its introduction to a grand jury.

c. Referral to federal, state, local or professional licensing boards. A record from a system of records may be disclosed, as a routine use, to any governmental, professional, or licensing authority when such record relates to qualifications, including moral, educational or vocational qualifications, of an individual seeking to be licensed or to maintain a license.

d. Disclosure to a contractor, grantee, or other direct or indirect recipient of federal funds. A record from a system of records may be disclosed, as a routine use, to any direct or indirect recipient of federal funds where such record reflects inadequacies with respect to a recipient's activities, organization, or personnel, and disclosure of the record is made to permit the recipient to take corrective action beneficial to the Government.

e. Disclosure to any source, either private or governmental, to the extent necessary to solicit information relevant to any investigation or other matters related to the responsibilities of the OIG. A record from a system of records may be disclosed, as a routine use, to any source, either private or governmental, to the extent necessary to secure from such source information relevant to and sought in furtherance of an investigation or other matters related to the responsibilities of the OIG.

f. Disclosure for personnel or other action. A record from a system of records may be disclosed, as a routine use, to a federal, state, local, foreign, or international agency, for their use in connection with the assignment, hiring, or retention of an individual, issuance of a security clearance, letting of a contract, or issuance of a license, grant or other benefit, to the extent that the information is relevant and necessary to such agency's decision on the matter, or to solicit information from the federal, state, local, foreign, or international agency, for the OIG's use in connection with the assignment, hiring, or retention of an individual, issuance of a security clearance, letting of a contract, or issuance of a license, grant or other benefit.

g. Disclosure to an entity hearing a contract protest or dispute. A record from a system of records may be disclosed, as a routine use, to the United States Government Accountability Office, a Board of Contract Appeals, the Court of Federal Claims, or other court or tribunal, in connection with bid protest cases or contract dispute cases.

h. Disclosure to the Office of Management and Budget (OMB) or Department of Justice (DOJ) regarding Freedom of Information Act (FOIA) and Privacy Act advice. Information from a system of records may be disclosed, as a routine use, to the OMB or DOJ in order to obtain advice regarding statutory and other requirements under the FOIA or Privacy Act.

i. Disclosure to a consumer reporting agency in order to obtain relevant investigatory information. A record from a system of records may be disclosed, as a routine use, to a “consumer reporting agency” as that term is defined in the Fair Credit Reporting Act (15 U.S.C. 1681a(f) and the Federal Claims Collection Act of 1966 (31 U.S.C. 3701(a)(3)), for the purposes of obtaining information in the course of an investigation, or other matters related to the responsibilities of the OIG.

j. Disclosure in accordance with computer matching laws, regulations, and/or guidelines. A record may be disclosed to a federal, state, or local agency for use in computer matching programs to prevent and detect fraud and abuse in benefit programs administered by those agencies, to support civil and criminal law enforcement activities of those agencies and their components, and to collect debts and overpayments owed to the agencies and their components. This routine use does not provide unrestricted access to records for such law enforcement and related anti-fraud activities; each request for disclosure will be considered in light of the applicable legal and administrative requirements of a computer matching program or procedure.

k. Disclosure to any inspector general, receiver, trustee, or other overseer of any entity with respect to matters within the investigative jurisdiction of the DOL or the DOL OIG. A record from this system of records may be disclosed to any individual or entity with responsibility for oversight or management of any entity with respect to matters within the investigative jurisdiction of DOL or the DOL OIG. This would include, but not be limited to, any receiver, trustee, or established inspector general, whether court appointed or otherwise, that has been duly granted authority for oversight of an entity with respect to matters within the investigative authority of DOL or the DOL OIG.

l. Information may be disclosed to complainants and victims to the extent necessary to provide them with information concerning the process or results of the investigation or case arising from the matter about which they complained or were the victim.

m. Disclosure to appropriate agencies, entities and persons when (1) it is suspected or confirmed that the security or confidentiality of information in the system of records has been compromised; (2) it has been determined that as a result of the suspected or confirmed compromise there is a risk of harm to economic or property interests, identity theft or fraud, or harm to the security or integrity of this system or other systems or programs (whether maintained by DOL or another agency or entity) that rely upon the compromised information, and; (3) the disclosure made to such agencies, entities, and persons is reasonably necessary to assist in connection with DOL's efforts to respond to the suspected or confirmed compromise and prevent, minimize, or remedy any harm.

DISCLOSURE TO CONSUMER REPORTING AGENCIES:

Records from this system are not disclosed to consumer reporting agencies for credit rating or related purposes.

POLICIES AND PRACTICES FOR STORING, RETRIEVING, ACCESSING, RETAINING, AND DISPOSING OR RECORDS IN THE SYSTEM:

STORAGE:

Files are stored electronically and/or on paper.

RETRIEVABILITY:

Files are retrieved by name and case number, and are retrieved by case number, correspondent's name, subject, or cross referenced item.

SAFEGUARDS:

Access by authorized personnel only. Computer security safeguards are used for electronically stored data and locked locations for paper files.

RETENTION AND DISPOSAL:

Records are retained and disposed of in accordance with the schedules approved by the National Archives and Records Administration (NARA).

SYSTEM MANAGER(S) AND ADDRESS:

Assistant Inspector General for Management and Policy, Office of Inspector General, U.S. Department of Labor, 200 Constitution Avenue NW., Washington, DC 20210.

NOTIFICATION PROCEDURE:

Inquiries should be mailed to the System Manager.

RECORD ACCESS PROCEDURE:

A request for access should be mailed to the System Manager.

CONTESTING RECORD PROCEDURES:

A petition for amendment should be mailed to the System Manager.

RECORD SOURCE CATEGORIES:

Information contained in this system is obtained from correspondence received from Congressional offices.

SYSTEMS EXEMPTED FROM CERTAIN PROVISIONS OF THE ACT:

The Secretary of Labor has promulgated regulations which exempt information contained in this system of records from various provisions of the Privacy Act depending upon the purpose for which the information was gathered and for which it will be used. The various law enforcement purposes and the reasons for the exemptions are as follows:

a. Criminal Law Enforcement: In accordance with 5 U.S.C. 552a(j)(2), information compiled for this purpose is exempt from all of the provisions of the Privacy Act except the following sections: (b), (c)(1) and (2), (e)(4)(A) through (F), (e)(6), (7), (9), (10), and (11), and (i). This material is exempt because the disclosure and other requirements of the Privacy Act would substantially compromise the efficacy and integrity of OIG operations in a number of ways. The disclosure of even the existence of these files would be problematic. Disclosure could enable suspects to take action to prevent detection of criminal activities, conceal evidence, or escape prosecution. Required disclosure of information contained in this system could lead to the intimidation of, or harm to, informants, witnesses and their respective families or OIG personnel and their families. Disclosure could invade the privacy of individuals other than subjects and disclose their identity when confidentially was promised or impliedly promised to them. Disclosure could interfere with the integrity of information which would otherwise be privileged (see, e.g., 5 U.S.C. 552(b)(5)), and which could interfere with the integrity of other important law enforcement concerns. (see, e.g., 5 U.S.C. 552(b)(7)).

The requirement that only relevant and necessary information be included in a criminal investigative file is contrary to investigative practice which requires a full and complete inquiry and exhaustion of all potential sources of information. See, 5 U.S.C. 552a(e)(1).

Similarly, maintaining only those records which are accurate, relevant, timely and complete and which assure fairness in a determination is contrary to established investigative techniques. See, 5 U.S.C. 552a(e)(5). Requiring investigators to obtain information to the greatest extent practicable directly from the subject individual also would be counter-productive to the thorough performance of clandestine criminal investigations. See, 5 U.S.C. 552a(e)(2). Finally, providing notice to an individual interviewed of the authority of the interviewer, the purpose which the information provided may be used, the routine uses of that information, and the effect upon the individual should he/she choose not to provide the information sought, could discourage the free flow of information in a criminal law enforcement inquiry. 5 U.S.C. 552a(e)(3).

b. Other law enforcement: In accordance with 5 U.S.C. 552a(k)(2), investigatory material compiled for law enforcement purposes (to the extent it is not already exempted by 5 U.S.C. 552a(j)(2)), is exempted from the following provisions of the Privacy Act: (c)(3), (d), (e)(1), (e)(4)(G), (H) and (I), and (f). This material is exempt because the disclosure and other requirements of the Act could substantially compromise the efficacy and integrity of OIG operations. Disclosure could invade the privacy of other individuals and disclose their identity when they were expressly promised confidentiality. Disclosure could interfere with the integrity of information which would otherwise be subject to privileges, see e.g., 5 U.S.C. 552(b)(5) and which could interfere with other important law enforcement concerns. See, e.g., 5 U.S.C. 552(b)(7).

c. Contract Investigations: In accordance with 5 U.S.C. 552a(k)(5), investigatory material compiled solely for the purpose of determining integrity, suitability, eligibility, qualifications, or employment under a DOL contract is exempt from the following sections of the Privacy Act: (c)(3), (d), (e)(1), (e)(4)(G), (H), (I) and (f). This exemption was obtained in order to protect from disclosure the identity of confidential sources when an express promise of confidentiality has been given in order to obtain information from sources that would otherwise be unwilling to provide necessary information.

DOL/OIG-8

SYSTEM NAME:

Office of Inspector General (OIG) Employee Credential System

SECURITY CLASSIFICATION:

None.

SYSTEM LOCATION:

Human Resources Division, Office of Inspector General, U.S. Department of Labor, 200 Constitution Avenue NW., Washington, DC 20210.

CATEGORIES OF INDIVIDUALS COVERED BY THE SYSTEM:

Current and former employees of the Office of Inspector General.

CATEGORIES OF RECORDS IN THE SYSTEM:

Records contained in a personnel database system established to control issuance of credentials to United States Department of Labor (DOL) Office of Inspector General (OIG) personnel. The system contains photographs of all employees and other materials reflecting employees' names, titles, duty locations, credential numbers, and dates of issuance.

AUTHORITY FOR MAINTENANCE OF THE SYSTEM:

Inspector General Act of 1978, as amended, 5 U.S.C. App. 3.

PURPOSE(S):

The credentials file system assists in the issuance and control of official credentials issued to OIG personnel for identification purposes to establish official identification and authority when interacting with the general public, or with other agencies in the performance of official duties.

ROUTINE USES OF RECORDS MAINTAINED IN THE SYSTEM, INCLUDING CATEGORIES OF USERS AND THE PURPOSES OF SUCH USES:

a. Referral to federal, state, local and foreign investigative and/or prosecutive authorities. A record from a system of records, which indicates either by itself or in combination with other information within the agency's possession, a violation or potential violation of law, whether civil, criminal or administrative, and whether arising from general statute or particular program statute, or by regulation, rule or order issued pursuant thereto, may be disclosed as a routine use, to the appropriate federal, foreign, state, or local agency or professional organization, charged with responsibility for investigating or prosecuting such violation or charged with enforcing or implementing the statute, rule, regulation, or order.

b. Introduction to a grand jury. A record from a system of records may be disclosed, as a routine use, to a grand jury agent pursuant to either to a federal or state grand jury subpoena or to a prosecution request that such record be released for the purpose of its introduction to a grand jury.

c. Referral to federal, state, local or professional licensing boards. A record from a system of records may be disclosed, as a routine use, to any governmental, professional, or licensing authority when such record relates to qualifications, including moral, educational or vocational qualifications, of an individual seeking to be licensed or to maintain a license.

d. Disclosure to any source, either private or governmental, to the extent necessary to solicit information relevant to any investigation or other matters related to the responsibilities of the OIG. A record from a system of records may be disclosed, as a routine use, to any source, either private or governmental, to the extent necessary to secure from such source information relevant to and sought in furtherance of an investigation or other matters related to the responsibilities of the OIG.

e. Disclosure for personnel or other action. A record from a system of records may be disclosed, as a routine use, to a federal, state, local, foreign, or international agency, for their use in connection with the assignment, hiring, or retention of an individual, issuance of a security clearance, letting of a contract, or issuance of a license, grant or other benefit, to the extent that the information is relevant and necessary to such agency's decision on the matter, or to solicit information from the federal, state, local, foreign, or international agency, for the OIG's use in connection with the assignment, hiring, or retention of an individual, issuance of a security clearance, letting of a contract, or issuance of a license, grant or other benefit.

f. Disclosure to appropriate agencies, entities and persons when (1) it is suspected or confirmed that the security or confidentiality of information in the system of records has been compromised; (2) it has been determined that as a result of the suspected or confirmed compromise there is a risk of harm to economic or property interests, identity theft or fraud, or harm to the security or integrity of this system or other systems or programs (whether maintained by the Department or another agency or entity) that rely upon the compromised information, and; (3) the disclosure made to such agencies, entities, and persons is reasonably necessary to assist in connection with the Department's efforts to respond to the suspected or confirmed compromise and prevent, minimize, or remedy such harm.

DISCLOSURE TO CONSUMER REPORTING AGENCIES:

None.

POLICIES AND PRACTICES FOR STORING, RETRIEVING, ACCESSING, RETAINING, AND DISPOSING OR RECORDS IN THE SYSTEM:

STORAGE:

Files are stored electronically and/or on paper.

RETRIEVABILITY:

Files are retrieved by employee name.

SAFEGUARDS:

Access by authorized personnel only. Computer security safeguards are used for electronically stored data and locked locations for paper files.

RETENTION AND DISPOSAL:

Records are retained and disposed of in accordance with the schedules approved by the National Archives and Records Administration (NARA) http://www.archives.gov/records-mgmt/grs/index.pdf.

SYSTEM MANAGER(S) AND ADDRESS:

Assistant Inspector General for Management and Policy, Office of Inspector General, U.S. Department of Labor, 200 Constitution Avenue NW., Washington, DC 20210.

NOTIFICATION PROCEDURE:

Inquiries should be mailed to the System Manager.

RECORD ACCESS PROCEDURE:

A request for access should be mailed to the System Manager.

CONTESTING RECORD PROCEDURES:

A petition for amendment should be mailed to the System Manager.

RECORD SOURCE CATEGORIES:

Information contained in this system is obtained from OIG employees who are issued official credentials.

SYSTEMS EXEMPTED FROM CERTAIN PROVISIONS OF THE ACT:

None.

DOL/OIG-9

SYSTEM NAME:

OIG Property Tracking Systems.

SECURITY CLASSIFICATION:

None.

SYSTEM LOCATION:

Office of Inspector General, U.S. Department of Labor, 200 Constitution Avenue NW., Washington, DC 20210.

CATEGORIES OF INDIVIDUALS COVERED BY THE SYSTEM:

Individuals that are assigned custody of the Office of Inspector General (OIG) owned or leased property such as computers, cell phones, vehicles, radios, investigative equiment, firearms, and ammunition.

CATEGORIES OF RECORDS IN THE SYSTEM:

The systems contain records related to OIG owned or leased property, and related to the employees that are assigned such property.

AUTHORITY FOR MAINTENANCE OF THE SYSTEM:

Inspector General Act of 1978, as amended, 5 U.S.C. App. 3; Title 41, Federal Management Regulations.

PURPOSE(S):

To identify, monitor, and track all OIG owned or leased property and equipment, its assigned location, the individual assigned custody of the property, and to account for the acquisition and disposal of such property and equipment.

ROUTINE USES OF RECORDS MAINTAINED IN THE SYSTEM, INCLUDING CATEGORIES OF USERS AND THE PURPOSES OF SUCH USES:

a. Referral to federal, state, local and foreign investigative and/or prosecutive authorities. A record from a system of records, which indicates either by itself or in combination with other information within the agency's possession, a violation or potential violation of law, whether civil, criminal or administrative, and whether arising from general statute or particular program statute, or by regulation, rule or order issued pursuant thereto, may be disclosed as a routine use, to the appropriate federal, foreign, state, or local agency or professional organization, charged with responsibility for investigating or prosecuting such violation or charged with enforcing or implementing the statute, rule, regulation, or order.

b. Introduction to a grand jury. A record from a system of records may be disclosed, as a routine use, to a grand jury agent pursuant to either to a federal or state grand jury subpoena or to a prosecution request that such record be released for the purpose of its introduction to a grand jury.

c. Referral to federal, state, local or professional licensing boards. A record from a system of records may be disclosed, as a routine use, to any governmental, professional, or licensing authority when such record relates to qualifications, including moral, educational or vocational qualifications, of an individual seeking to be licensed or to maintain a license.

d. Disclosure to any source, either private or governmental, to the extent necessary to solicit information relevant to any investigation or other matters related to the responsibilities of the OIG. A record from a system of records may be disclosed, as a routine use, to any source, either private or governmental, to the extent necessary to secure from such source information relevant to and sought in furtherance of an investigation or other matters related to the responsibilities of the OIG.

e. Disclosure for personnel or other action. A record from a system of records may be disclosed, as a routine use, to a federal, state, local, foreign, or international agency, for their use in connection with the assignment, hiring, or retention of an individual, issuance of a security clearance, letting of a contract, or issuance of a license, grant or other benefit, to the extent that the information is relevant and necessary to such agency's decision on the matter, or to solicit information from the federal, state, local, foreign, or international agency, for the OIG's use in connection with the assignment, hiring, or retention of an individual, issuance of a security clearance, letting of a contract, or issuance of a license, grant or other benefit.

f. Information may be disclosed to other Federal Offices of Inspector General and/or to the President's Council of the Inspectors General on Integrity and Efficiency for purposes of conducting the external review process required by the Homeland Security Act.

g. Disclosure to appropriate agencies, entities and persons when: (1) It is suspected or confirmed that the security or confidentiality of information in the system of records has been compromised; (2) it has been determined that as a result of the suspected or confirmed compromise there is a risk of harm to economic or property interests, identity theft or fraud, or harm to the security or integrity of this system or other systems or programs (whether maintained by the DOL or another agency or entity) that rely upon the compromised information; and (3) the disclosure made to such agencies, entities, and persons is reasonably necessary to assist in connection with the Department's efforts to respond to the suspected or confirmed compromise and prevent, minimize, or remedy any harm.

DISCLOSURE TO CONSUMER REPORTING AGENCIES:

Records from this system are not disclosed to consumer reporting agencies for credit rating or related purposes.

POLICIES AND PRACTICES FOR STORING, RETRIEVING, ACCESSING, RETAINING, AND DISPOSING OR RECORDS IN THE SYSTEM:

STORAGE:

Files are stored electronically and/or on paper.

RETRIEVABILITY:

Files are retrieved by employee name and/or assigned property number.

SAFEGUARDS:

Access by authorized personnel only. Computer security safeguards are used for electronically stored data and locked locations for paper files.

RETENTION AND DISPOSAL:

Records are retained and disposed of in accordance with the schedules approved by the National Archives and Records Administration (NARA).

SYSTEM MANAGER(S) AND ADDRESS:

Assistant Inspector General for Management and Policy, and Assistant Inspector General for Labor Racketeering and Fraud Investigations, U.S. Department of Labor, 200 Constitution Avenue NW., Washington, DC 20210.

NOTIFICATION PROCEDURE:

Inquiries should be mailed to the System Manager.

RECORD ACCESS PROCEDURE:

A request for access should be mailed to the System manager.

CONTESTING RECORD PROCEDURES:

A petition for amendment should be mailed to the System Manager.

RECORD SOURCE CATEGORIES:

Information contained in this system is obtained from OIG program managers and employees possessing OIG owned and leased property, or employees who are responsible for monitoring such property.

SYSTEMS EXEMPTED FROM CERTAIN PROVISIONS OF THE ACT:

None.

DOL/OIG-10

SYSTEM NAME:

Office of Inspector General (OIG) Pre-employment Checks and Inquiries (PECI) System.

SECURITY CLASSIFICATION:

None.

SYSTEM LOCATION:

Human Resources Division, Office of Inspector General, U.S. Department of Labor, 200 Constitution Avenue NW., Washington, DC 20210.

CATEGORIES OF INDIVIDUALS COVERED BY THE SYSTEM:

Current and former employees of the U.S. Department of Labor, Office of Inspector General; applicants for employment in the U.S. Department of Labor (DOL), Office of Inspector General (OIG); and individuals considered for access to restricted areas and information, such as contractors hired by the OIG, and contractor employees.

CATEGORIES OF RECORDS IN THE SYSTEM:

Pre-employment clearance forms and reports filed by individuals, and documents related to federal and other law enforcement checks, prior employer checks/references, credit checks, and any other records gathered during the course of the pre-employment process. A paper file is maintained for PECIs that are filed under each individual's name.

AUTHORITY FOR MAINTENANCE OF THE SYSTEM:

Inspector General Act of 1978, as amended, 5 U.S.C. App. 3.; Executive Order 10450.

PURPOSE(S):

The PECI file system is a repository for documentation related to individual personnel determinations for suitability and fitness for Federal employment. The system also documents findings of law enforcement, employment, and credit inquiries, and personnel suitability determinations made by the OIG as a result of official pre-employment inquiries.

ROUTINE USES OF RECORDS MAINTAINED IN THE SYSTEM, INCLUDING CATEGORIES OF USERS AND THE PURPOSES OF SUCH USES:

a. Referral to federal, state, local and foreign investigative and/or prosecutive authorities. A record from a system of records, which indicates either by itself or in combination with other information within the agency's possession, a violation or potential violation of law, whether civil, criminal or administrative, and whether arising from general statute or particular program statute, or by regulation, rule or order issued pursuant thereto, may be disclosed as a routine use, to the appropriate federal, foreign, state, or local agency or professional organization, charged with responsibility for investigating or prosecuting such violation or charged with enforcing or implementing the statute, rule, regulation, or order.

b. Introduction to a grand jury. A record from a system of records may be disclosed, as a routine use, to a grand jury agent pursuant to either to a federal or state grand jury subpoena or to a prosecution request that such record be released for the purpose of its introduction to a grand jury.

c. Referral to federal, state, local or professional licensing boards. A record from a system of records may be disclosed, as a routine use, to any governmental, professional, or licensing authority when such record relates to qualifications, including moral, educational or vocational qualifications, of an individual seeking to be licensed or to maintain a license.

d. Disclosure to any source, either private or governmental, to the extent necessary to solicit information relevant to any investigation or other matters related to the responsibilities of the OIG. A record from a system of records may be disclosed, as a routine use, to any source, either private or governmental, to the extent necessary to secure from such source information relevant to and sought in furtherance of an investigation or other matters related to the responsibilities of the OIG.

e. Disclosure for personnel or other action. A record from a system of records may be disclosed, as a routine use, to a federal, state, local, foreign, or international agency, for their use in connection with the assignment, hiring, or retention of an individual, issuance of a security clearance, letting of a contract, or issuance of a license, grant or other benefit, to the extent that the information is relevant and necessary to such agency's decision on the matter, or to solicit information from the federal, state, local, foreign, or international agency, for the OIG's use in connection with the assignment, hiring, or retention of an individual, issuance of a security clearance, letting of a contract, or issuance of a license, grant or other benefit.

f. Disclosure to a consumer reporting agency in order to obtain relevant investigatory information. A record from a system of records may be disclosed, as a routine use, to a “consumer reporting agency” as that term is defined in the Fair Credit Reporting Act (15 U.S.C. 1681a(f) and the Federal Claims Collection Act of 1966 (31 U.S.C. 3701(a)(3)), for the purposes of obtaining information in the course of an investigation, or other matters related to the responsibilities of the OIG.

g. Disclosure to any law enforcement agency for inclusion in a database, system, or process. A record from a system of records may be disclosed, as a routine use, to any law enforcement agency for inclusion in a database, system, or process designed to generate investigative leads and information to be used for law enforcement purposes. This routine use also permits the disclosure of such records to any law enforcement agency with responsibility for investigating any investigative leads or information generated by the database, system, or other process in which the records were included.

h. Information may be disclosed to other Federal Offices of Inspector General and/or to the President's Council of the Inspectors General on Integrity and Efficiency for purposes of conducting the external review process required by the Homeland Security Act.

i. Disclosure to appropriate agencies, entities and persons when: (1) It is suspected or confirmed that the security or confidentiality of information in the system of records has been compromised; (2) it has been determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy any harm.

DISCLOSURE TO CONSUMER REPORTING AGENCIES:

None.

POLICIES AND PRACTICES FOR STORING, RETRIEVING, ACCESSING, RETAINING, AND DISPOSING OR RECORDS IN THE SYSTEM:

STORAGE:

Files are stored electronically and/or on paper.

RETRIEVABILITY:

Files are retrieved by name.

SAFEGUARDS:

Access by authorized personnel only. Computer security safeguards are used for electronically stored data and locked locations for paper files.

RETENTION AND DISPOSAL:

Records are retained and disposed of in accordance with the schedules approved by the National Archives and Records Administration (NARA) http://www.archives.gov/records-mgmt/grs/index.pdf.

SYSTEM MANAGER(S) AND ADDRESS:

Assistant Inspector General for Management and Policy, Office of Inspector General, U.S. Department of Labor, 200 Constitution Avenue NW., Washington, DC 20210.

NOTIFICATION PROCEDURE:

Inquiries should be mailed to the System Manager.

RECORD ACCESS PROCEDURE:

A request for access should be mailed to the System Manager.

CONTESTING RECORD PROCEDURES:

A petition for amendment should be mailed to the System Manager.

RECORD SOURCE CATEGORIES:

Information contained in this system is obtained from: applications and other personnel and security forms furnished by individuals; investigative and other information furnished by Federal agencies, and; from sources such as employers, educational institutions, and credit bureaus.

SYSTEMS EXEMPTED FROM CERTAIN PROVISIONS OF THE ACT:

None.

DOL/OIG-11

SYSTEM NAME:

Investigative Case Files and Tracking System, Case Development and Intelligence Records, USDOL/OIG.

SECURITY CLASSIFICATION:

Unclassified but sensitive information used for law enforcement purposes.

SYSTEM LOCATIONS:

Office of Inspector General (OIG), U.S. Department of Labor, 200 Constitution Avenue NW., Washington, DC 20210; OIG regional and field offices.

CATEGORIES OF INDIVIDUALS COVERED BY THE SYSTEM:

Individuals associated with OIG investigative operations and activities, including but not limited to: OIG employees, DOL employees, applicants for employment, contractors, subcontractors, grantees, sub-grantees, complainants, individuals threatening the Secretary of Labor or other DOL employees, alleged or suspected violators of federal laws and regulations, union officers, trustees of employee benefit plans, employers, witnesses, individuals filing claims for entitlements or benefits under laws administered by the Department of Labor, and individuals providing medical and other services for the Office of Workers Compensation Programs (OWCP) or for OWCP claimants.

CATEGORIES OF RECORDS IN THE SYSTEM:

The system contains records related to administrative, civil, and criminal investigations, complaints, and case workflow information, including but not limited to: Statements and other information from subjects, targets, witnesses, and complainants; materials obtained from federal, state, local, or international law enforcement or other organizations; intelligence information obtained from various sources; information relating to criminal, civil, or administrative referrals and/or results of investigations or audits; investigative notes and investigative reports; summary information for indexing and cross referencing; reports and associated materials filed with DOL or other government agencies from medical providers, grantees, contractors, employers, insurance companies, or other entities; documents obtained by subpoena, search warrant, or any other means; other evidence and background material.

AUTHORITY FOR MAINTENANCE OF THE SYSTEM:

Inspector General Act of 1978, as amended, 5 U.S.C. App. 3.

PURPOSE(S):

This system is established and maintained to fulfill the purposes of the Inspector General Act of 1978, as amended, and to fulfill the responsibilities assigned by that Act concerning investigative operations and activities. The OIG initiates investigations of individuals, entities, and programs, and this system is the repository of all investigative information developed prior to and during the course of such investigations. This system includes: (1) Records created as a result of external and internal investigations conducted by the OIG; (2) documents relating to targeting, surveys, and other projects related to the development of cases; (3) intelligence information concerning individuals identified as potential violators of federal laws and regulations, and other individuals associated with them; (4) records of complaints which are reviewed for investigative merit; and (5) case agent assignment and work allocation data.

ROUTINE USES OF RECORDS MAINTAINED IN THE SYSTEM, INCLUDING CATEGORIES OF USERS AND THE PURPOSES OF SUCH USES:

a. Referral to federal, state, local and foreign investigative and/or prosecutive authorities. A record from a system of records, which indicates either by itself or in combination with other information within the agency's possession, a violation or potential violation of law, whether civil, criminal or administrative, and whether arising from general statute or particular program statute, or by regulation, rule or order issued pursuant thereto, may be disclosed as a routine use, to the appropriate federal, foreign, state, or local agency or professional organization, charged with responsibility for investigating or prosecuting such violation or charged with enforcing or implementing the statute, rule, regulation, or order.

b. Introduction to a grand jury. A record from a system of records may be disclosed, as a routine use, to a grand jury agent pursuant to either a federal or state grand jury subpoena or to a prosecution request that such record be released for the purpose of its introduction to a grand jury.

c. Referral to federal, state, local or professional licensing boards. A record from a system of records may be disclosed, as a routine use, to any governmental, professional, or licensing authority when such record relates to qualifications, including moral, educational or vocational qualifications, of an individual seeking to be licensed or to maintain a license.

d. Disclosure to a contractor, grantee, or other direct or indirect recipient of federal funds. A record from a system of records may be disclosed, as a routine use, to any direct or indirect recipient of federal funds where such record reflects inadequacies with respect to a recipient's activities, organization, or personnel, and disclosure of the record is made to permit the recipient to take corrective action beneficial to the Government.

e. Disclosure to any source, either private or governmental, to the extent necessary to solicit information relevant to any investigation or other matters related to the responsibilities of the OIG. A record from a system of records may be disclosed, as a routine use, to any source, either private or governmental, to the extent necessary to secure from such source information relevant to and sought in furtherance of an investigation or other matters related to the responsibilities of the OIG.

f. Disclosure for personnel or other action. A record from a system of records may be disclosed, as a routine use, to a federal, state, local, foreign, or international agency, for their use in connection with the assignment, hiring, or retention of an individual, issuance of a security clearance, letting of a contract, or issuance of a license, grant or other benefit, to the extent that the information is relevant and necessary to such agency's decision on the matter, or to solicit information from the federal, state, local, foreign, or international agency, for the OIG's use in connection with the assignment, hiring, or retention of an individual, issuance of a security clearance, letting of a contract, or issuance of a license, grant or other benefit.

g. Disclosure to an entity hearing a contract protest or dispute. A record from a system of records may be disclosed, as a routine use, to the United States Government Accountability Office, a Board of Contract Appeals, the Court of Federal Claims, or other court or tribunal, in connection with bid protest cases or contract dispute cases.

h. Disclosure to OMB or DOJ regarding Freedom of Information Act and Privacy Act advice. Information from a system of records may be disclosed, as a routine use, to the Office of Management and Budget, or the Department of Justice, in order to obtain advice regarding statutory and other requirements under the Freedom of Information Act or Privacy Act.

i. Disclosure to Treasury and DOJ in pursuance of an ex parte court order to obtain taxpayer information from the IRS. A record from a system of records may be disclosed, as a routine use, to the Department of Treasury and the Department of Justice when the OIG seeks an ex parte court order to obtain taxpayer information from the Internal Revenue Service.

j. Disclosure to a consumer reporting agency in order to obtain relevant investigatory information. A record from a system of records may be disclosed, as a routine use, to a “consumer reporting agency” as that term is defined in the Fair Credit Reporting Act (15 U.S.C. 1681a(f) and the Federal Claims Collection Act of 1966 (31 U.S.C. 3701(a)(3)), for the purposes of obtaining information in the course of an investigation, or other matters related to the responsibilities of the OIG.

k. Disclosure in accordance with computer matching laws, regulations, and/or guidelines. A record may be disclosed to a federal, state, or local agency for use in computer matching programs to prevent and detect fraud and abuse in benefit programs administered by those agencies, to support civil and criminal law enforcement activities of those agencies and their components, and to collect debts and overpayments owed to the agencies and their components. This routine use does not provide unrestricted access to records for such law enforcement and related anti-fraud activities; each request for disclosure will be considered in light of the applicable legal and administrative requirements of a computer matching program or procedure.

l. Disclosure to any law enforcement agency for inclusion in a database, system, or process. A record from a system of records may be disclosed, as a routine use, to any law enforcement agency for inclusion in a database, system, or process designed to generate investigative leads and information to be used for law enforcement purposes. This routine use also permits the disclosure of such records to any law enforcement agency with responsibility for investigating any investigative leads or information generated by the database, system, or other process in which the records were included.

m. Disclosure to any inspector general, receiver, trustee, or other overseer of any entity with respect to matters within the investigative jurisdiction of the United States Department of Labor (DOL) or the DOL OIG. A record from this system of records may be disclosed to any individual or entity with responsibility for oversight or management of any entity with respect to matters within the investigative jurisdiction of the United States Department of Labor or the DOL OIG. This would include, but not be limited to, any receiver, trustee, or established inspector general, whether court appointed or otherwise, that has been duly granted authority for oversight of an entity with respect to matters within the investigative authority of the United States Department of Labor or the DOL OIG.

n. Information may be disclosed to complainants and victims to the extent necessary to provide them with information concerning the process or results of the investigation or case arising from the matter about which they complained or were the victim.

o. Information may be disclosed to other Federal Offices of Inspector General and/or to the President's Council of the Inspectors General on Integrity and Efficiency for purposes of conducting the external review process required by the Homeland Security Act.

p. Disclosure to appropriate agencies, entities and persons when: (1) It is suspected or confirmed that the security or confidentiality of information in the system of records has been compromised; (2) it has been determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy any harm.

DISCLOSURE TO CONSUMER REPORTING AGENCIES:

Records from this system are not disclosed to consumer reporting agencies for credit rating or related purposes.

POLICIES AND PRACTICES FOR STORING, RETRIEVING, ACCESSING, RETAINING, AND DISPOSING OR RECORDS IN THE SYSTEM:

STORAGE:

Files are stored electronically and/or on paper.

RETRIEVABILITY:

The written case records are retrieved by case number. Electronic records are retrieved by case number, case name, subject, cross referenced item or, batch retrieval applications. Case agent work assignment information is retrieved by agent name, case name number, or OIG office.

SAFEGUARDS:

Access by authorized personnel only. Computer security safeguards are used for electronically stored data and locked locations for paper files.

RETENTION AND DISPOSAL:

Records are retained and disposed of in accordance with the schedules approved by the National Archives and Records Administration (NARA).

SYSTEM MANAGER(S) AND ADDRESS:

Assistant Inspector General for Labor Racketeering and Fraud Investigations, and Assistant Inspector General for Inspections and Special Investigations, Office of Inspector General, U.S. Department of Labor, 200 Constitution Avenue NW., Washington, DC 20210.

NOTIFICATION PROCEDURE:

Inquiries should be mailed to: Disclosure Officer, Office of Inspector General, U.S. Department of Labor, 200 Constitution Ave NW., Washington, DC 20210.

RECORD ACCESS PROCEDURE:

A request for access should be mailed to the System Manager.

CONTESTING RECORD PROCEDURES:

A petition for amendment should be mailed to the System Manager.

RECORD SOURCE CATEGORIES:

Information contained in this system is obtained from individual complaints and complainants, witnesses, interviews conducted during investigations, Federal, state and local government records, individual and company records, claim and payment files, employer medical records, insurance records, court records, articles from publications, published financial data, corporate information, bank information, telephone data, service providers, other law enforcement organizations, grantees and sub-grantees, contractors and subcontractors, and other sources that may arise during the course of an investigation.

SYSTEMS EXEMPTED FROM CERTAIN PROVISIONS OF THE ACT:

The Secretary of Labor has promulgated regulations which exempt information contained in this system of records from various provisions of the Privacy Act depending upon the purpose for which the information was gathered and for which it will be used. The various law enforcement purposes and the reasons for the exemptions are as follows:

a. Criminal Law Enforcement: In accordance with 5 U.S.C. 552a(j)(2), information compiled for this purpose is exempt from all of the provisions of the Privacy Act except the following sections: (b), (c)(1) and (2), (e)(4)(A) through (F), (e)(6), (7), (9), (10), and (11), and (i). This material is exempt because the disclosure and other requirements of the Privacy Act would substantially compromise the efficacy and integrity of OIG operations in a number of ways. The disclosure of even the existence of these files would be problematic. Disclosure could enable suspects to take action to prevent detection of criminal activities, conceal evidence, or escape prosecution. Required disclosure of information contained in this system could lead to the intimidation of, or harm to, informants, witnesses and their respective families or OIG personnel and their families. Disclosure could invade the privacy of individuals other than subjects and disclose their identity when confidentially was promised or impliedly promised to them. Disclosure could interfere with the integrity of information which would otherwise be privileged (see, e.g., 5 U.S.C. 552(b)(5)), and which could interfere with the integrity of other important law enforcement concerns: (see, e.g., 5 U.S.C. 552 (b)(7)).

The requirement that only relevant and necessary information be included in a criminal investigative file is contrary to investigative practice which requires a full and complete inquiry and exhaustion of all potential sources of information. See, 5 U.S.C. 552 a(e)(1).

Similarly, maintaining only those records which are accurate, relevant, timely and complete and which assure fairness in a determination is contrary to established investigative techniques. See, 5 U.S.C. 552a(e)(5). Requiring investigators to obtain information to the greatest extent practicable directly from the subject individual also would be counter-productive to the thorough performance of clandestine criminal investigations. See, 5 U.S.C. 552a(e)(2). Finally, providing notice to an individual interviewed of the authority of the interviewer, the purpose which the information provided may be used, the routine uses of that information, and the effect upon the individual should he/she choose not to provide the information sought, could discourage the free flow of information in a criminal law enforcement inquiry. 5 U.S.C. 552a(e)(3).

b. Other law enforcement: In accordance with 5 U.S.C. 552a(k)(2), investigatory material compiled for law enforcement purposes (to the extent it is not already exempted by 5 U.S.C. 552a(j)(2)), is exempted from the following provisions of the Privacy Act: (c)(3), (d), (e)(1), (e)(4)(G), (H) and (I), and (f). This material is exempt because the disclosure and other requirements of the Act could substantially compromise the efficacy and integrity of OIG operations. Disclosure could invade the privacy of other individuals and disclose their identity when they were expressly promised confidentiality. Disclosure could interfere with the integrity of information which would otherwise be subject to privileges, see e.g., 5 U.S.C. 552(b)(5) and which could interfere with other important law enforcement concerns. See, e.g., 5 U.S.C. 552(b)(7).

c. Contract Investigations: In accordance with 5 U.S.C. 552a(k)(5), investigatory material compiled solely for the purpose of determining integrity, suitability, eligibility, qualifications, or employment under a DOL contract is exempt from the following sections of the Privacy Act: (c)(3), (d), (e)(1), (e)(4)(G), (H), (I) and (f). This exemption was obtained in order to protect from disclosure the identity of confidential sources when an express promise of confidentiality has been given in order to obtain information from sources who would otherwise be unwilling to provide necessary information.

OLMS—DOL Office of Labor-Management Standards Systems of Records

DOL/OLMS-1

SYSTEM NAME:

Investigative Files of the Office of Labor-Management Standards.

SECURITY CLASSIFICATION:

None.

SYSTEM LOCATION:

The field offices of the Office of Labor-Management Standards.

CATEGORIES OF INDIVIDUALS COVERED BY THE SYSTEM:

Union officials and other individuals investigated or interviewed in connection with investigations carried out pursuant to the Labor-Management Reporting and Disclosure Act, 29 U.S.C. 401 et seq.

CATEGORIES OF RECORDS IN THE SYSTEM:

Records compiled in connection with investigations conducted under the Labor-Management Reporting and Disclosure Act of 1959, as amended (LMRDA), and under the standards of conduct provisions of the Civil Service Reform Act of 1978 (CSRA) and Foreign Service Act of 1980 (FSA), and the Congressional Accountability Act of 1995 (CAA) and the implementing regulations at 29 CFR part 458.

AUTHORITY FOR MAINTENANCE OF THE SYSTEM:

29 U.S.C. 401 et seq., 5 U.S.C. 7120, 22 U.S.C. 4117, 2 U.S.C. 1351(a)(1), 29 CFR part 458.

PURPOSE(S):

Records are compiled in connection with enforcement of the LMRDA and the standards of conduct provisions of the CSRA and FSA and CAA and the implementing regulations at 29 CFR part 458.

ROUTINE USE OF RECORDS MAINTAINED IN THE SYSTEMS, INCLUDING CATEGORIES OF USERS AND THE PURPOSES OF SUCH USES:

In addition to the routine uses listed in the General Prefatory Statement to this document, records may be disclosed to interested persons or officials as provided for in section 601(a) of the Labor-Management Reporting and Disclosure Act, 29 U.S.C. 521(a).

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by the name of union, union officials, individuals investigated, business organizations, labor relations consultants, and other individuals and organizations deemed significant.

SAFEGUARDS:

Access by authorized personnel only. Computer security safeguards are used for electronically stored data and locked locations for paper files.

RETENTION AND DISPOSAL:

Records pertaining to open investigations are retained in the OLMS field offices. Closed files are retained two years after which they are retired to Federal Records Centers. FRC will destroy files after eight calendar years of storage (ten years after closure of case) in accordance with OLMS Records Schedule Number N1-317-02-03/5B.

SYSTEM MANAGER(S) AND ADDRESS:

Director, Office of Field Operations, Office of Labor-Management Standards, U.S. Department of Labor, 200 Constitution Avenue NW., Washington, DC 20210.

NOTIFICATION PROCEDURE:

Inquiries should be mailed to the System Manager.

RECORDS ACCESS PROCEDURE:

A request for access should be mailed to the System Manager.

CONTESTING RECORD PROCEDURE:

A petition for amendment should be mailed to the System Manager.

RECORD SOURCE CATEGORIES:

Information contained in this system is obtained from labor unions, union members, union officials and employees, employers, labor relations consultants, and other individuals.

SYSTEMS EXEMPTED FROM CERTAIN PROVISIONS OF THE ACT:

To the extent this system of records is maintained for criminal law enforcement purposes, it is exempt pursuant to 5 U.S.C. 552a(j)(2) from all provisions of the Privacy Act except the following: 5 U.S.C. 552a(b), (c)(1) and (2), (e)(4)(A) through (F), (e)(6), (7), (9), and (11), and (i). In accordance with 5 U.S.C. 552a(k)(2), investigatory material in this system of records compiled for civil law enforcement purposes is exempt for subsections (c)(3), (d), (e)(1), (e)(4), (G), (H), and (I); and (f) of 5 U.S.C. 552a, provided however, that if any individual is denied any right, privilege, or benefit that he or she would otherwise be entitled to by Federal law, or for which he or she would otherwise be eligible, as a result of the maintenance of these records, such material shall be provided to the individuals, except to the extent that the disclosure of such material would reveal the identity of a source who furnished information to the Government under an express promise that the identity of the source would be held in confidence, or prior to January 1, 1975, under an implied promise that the identity of the source would be held in confidence. Exemption under 5 U.S.C. 552a(j)(2) and (k)(2) of information within this system of records is necessary to undertake the investigative and enforcement responsibilities of OLMS, to prevent individuals from frustrating the investigatory process, to prevent subjects of investigation from escaping prosecution or avoiding civil enforcement, to prevent disclosure of investigative techniques, to protect the confidentiality of witnesses and informants, and to protect the safety and well-being of witnesses, informants, and law enforcement personnel, and their families.

DOL/OLMS-2

SYSTEM NAME:

OLMS Public Disclosure Request Tracking System.

SECURITY CLASSIFICATION:

None.

SYSTEM LOCATION:

U.S. Department of Labor, Office of Labor-Management Standards Division of Reports, Disclosure and Audits U.S. Department of Labor, Washington, DC 20210.

CATEGORIES OF INDIVIDUALS COVERED BY THE SYSTEM:

Individuals who request documents.

CATEGORIES OF RECORDS IN THE SYSTEM:

Data regarding the request for copies of annual financial reports, information reports, trusteeship reports, and constitution and bylaws filed with the Department of Labor by labor unions, as well as any other reports filed by labor union officers and employees, employers, labor relations consultants, and surety companies, in accordance with the public disclosure provisions of the Labor-Management Reporting and Disclosure Act of 1959, as amended (LMRDA). Data includes individual requester's name, title (optional), organization (optional), street address, city, state, zip code, telephone number (optional), fax number (optional), email address (optional), user name, and password; type of request (walk-in, telephone, mail, Internet, or fax); date of request; copying and certification charges; name and amount on requester's check; the name and LM Number of the labor union for which information has been requested; and the documents requested.

AUTHORITY FOR THE MAINTENANCE OF THE SYSTEM:

29 U.S.C. 435.

PURPOSE(S):

These records are used by authorized OLMS disclosure personnel to process requests made to the OLMS Public Disclosure Room, prepare requests for payments, and process payments.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by individual name, organization name, address, control number, or request date.

SAFEGUARDS:

Access by authorized personnel only. Computer security safeguards are used for electronically stored data and locked locations for paper files.

RETENTION AND DISPOSAL:

Records are retained for one year or until no longer needed, in accordance with General Records Schedule Number 23, N1-GRS-23-8.

SYSTEM MANAGER(S) AND ADDRESS:

Chief, Division of Reports, Disclosure and Audits Office of Labor-Management Standards, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individuals requesting documents from the OLMS Public Disclosure Room, and OLMS employees processing the request.

SYSTEMS EXEMPTED FROM CERTAIN PROVISIONS OF THE ACT:

None.

OSHA—DOL Occupational Safety and Health Administration Systems of Records

DOL/OSHA-1

SYSTEM NAME:

Retaliation Complaint File.

SECURITY CLASSIFICATION:

None.

SYSTEM LOCATION:

At offices of the Occupational Safety and Health Administration (OSHA) including National, regional, and area offices.

CATEGORIES OF INDIVIDUALS COVERED BY THE SYSTEM:

Individuals who have filed complaints alleging retaliation against them by their employers, or by others, for engaging in activities protected under the various statutes set forth below, popularly referenced as whistleblower protection statutes. Complainants may file such claims with OSHA pursuant to 22 statutes: The Occupational Safety and Health Act (29 U.S.C. 660(c)); the Surface Transportation Assistance Act (49 U.S.C. 31105); the Asbestos Hazard Emergency Response Act (15 U.S.C. 2651); the International Safe Container Act (46 U.S.C. 80507); the Safe Drinking Water Act (42 U.S.C. 300j-9(i)); the Federal Water Pollution Control Act (33 U.S.C. 1367); the Toxic Substances Control Act (15 U.S.C. 2622); the Wendell H. Ford Aviation Investment and Reform Act for the 21st Century (49 U.S.C. 42121); the Solid Waste Disposal Act (42 U.S.C. 6971); the Clean Air Act (42 U.S.C. 7622); the Comprehensive Environmental Response, Compensation and Liability Act of 1980 (42 U.S.C. 9610); the Energy Reorganization Act of 1978 (42 U.S.C. 5851); the Pipeline Safety Improvement Act of 2002 (49 U.S.C. 60129); the Corporate and Criminal Fraud Accountability Act of 2002, Title VIII of the Sarbanes-Oxley Act of 2002 (18 U.S.C. 1514A); the Federal Railroad Safety Act (49 U.S.C. 20109); the National Transit Systems Security Act (6 U.S.C. 1142); the Consumer Product Safety Improvement Act (15 U.S.C. 2087); the Affordable Care Act (29 U.S.C. 218C) the Consumer Financial Protection Act of 2010 (12 U.S.C. 5567); the Seaman's Protection Act (46 U.S.C. 2114); the FDA Food Safety Modernization Act (21 U.S.C. 399d); and the Moving Ahead for Progress in the 21st Century Act (49 U.S.C. 30171).

CATEGORIES OF RECORDS IN THE SYSTEM:

Complainant's name, address, telephone numbers, occupation, place of employment, and other identifying data along with the allegation, OSHA forms, and evidence offered in the allegation's proof. Respondent's name, address, telephone numbers, response to notification of the complaint, statements, and any other evidence or background material submitted as evidence. This material includes records of interviews and other data gathered by the investigator.

AUTHORITY FOR MAINTENANCE OF THE SYSTEM:

a. The Occupational Safety and Health Act (29 U.S.C. 660(c));

b. The Surface Transportation Assistance Act (49 U.S.C. 31105);

c. The Asbestos Hazard Emergency Response Act (15 U.S.C. 2651);

d. The International Safe Container Act (46 U.S.C. 1506);

e. The Safe Drinking Water Act (42 U.S.C. 300j-9(i));

f. The Federal Water Pollution Control Act (33 U.S.C. 1367);

g. The Toxic Substances Control Act (15 U.S.C. 2622);

h. The Wendell H. Ford Aviation Investment and Reform Act for the 21st Century (49 U.S.C. 42121);

i. The Solid Waste Disposal Act (42 U.S.C. 6971);

j. The Clean Air Act (42 U.S.C. 7622);

k. The Comprehensive Environmental Response, Compensation and Liability Act of 1980 (42 U.S.C. 9610);

l. The Energy Reorganization Act of 1978 (42 U.S.C. 5851);

m. The Pipeline Safety Improvement Act of 2002 (49 U.S.C. 60129);

n. The Corporate and Criminal Fraud Accountability Act of 2002, Title VIII of the Sarbanes-Oxley Act of 2002 (18 U.S.C. 1514A);

o. The Federal Rail Safety Act (49 U.S.C. 20109);

p. The National Transit Security Systems Act (6 U.S.C. 1142);

q. The Consumer Product Safety Improvement Act (15 U.S.C. 2087);

r. The Affordable Care Act (29 U.S.C. 218C));

s. The Consumer Financial Protection Act of 2010 (12 U.S.C. 5567);

t. The Seaman's Protection Act (46 U.S.C. 2114);

u. The FDA Food Safety Modernization Act (21 U.S.C. 399); and

v. The Moving Ahead for Progress in the 21st Century Act (49 U.S.C. 30171).

PURPOSE(S):

The records are used to support a determination by OSHA on the merits of a complaint alleging violation of the employee protection provisions of one or more of the statutes listed under “Authority.” The records also are used as the basis of statistical reports on such activity by the system manager, national office administrators, regional administrators, investigators, and their supervisors in OSHA, which reports may be released to the public.

ROUTINE USES OF RECORDS MAINTAINED IN THE SYSTEM, INCLUDING CATEGORIES OF USERS AND THE PURPOSES OF SUCH USES:

In addition to those universal routine uses listed in the General Prefatory Statement to this document, a record from this system of records may be disclosed as follows:

a. With respect to the statutes listed under the “Authority” category, disclosure of the complaint, as well as the identity of the complainant, and any interviews, statements, or other information provided by the complainant, or information about the complainant given to OSHA, may be made to the respondent, so that the complaint can proceed to a resolution.

Note: Personal information about other employees that is contained in the complainant's file, such as statements taken by OSHA or information for use as comparative data, such as wages, bonuses, the substance of promotion recommendations, supervisory assessments of professional conduct and ability, or disciplinary actions, generally may be withheld from the respondent when it could violate those persons' privacy rights, cause intimidation or harassment to those persons, or impair future investigations by making it more difficult to collect similar information from others.

b. With respect to the statutes listed under the “Authority” category, disclosure of the respondent's responses to the complaint and any other evidence it submits may be shared with the complainant so that the complaint can proceed to a resolution.

c. With respect to the statutes listed under the “Authority” category, disclosure of appropriate, relevant, necessary, and compatible investigative records may be made to other Federal agencies responsible for investigating, prosecuting, enforcing, or implementing the underlying provisions of those statutes where OSHA deems such disclosure is compatible with the purpose for which the records were collected.

d. With respect to the statutes listed under the “Authority” category, disclosure of appropriate, relevant, necessary, and compatible investigative records may be made to another agency or instrumentality of any governmental jurisdiction within or under the control of the United States, for a civil or criminal law enforcement activity, if the activity is authorized by law, and if that agency or instrumentality has made a written request to OSHA, specifying the particular portion desired and the law enforcement activity for which the record is sought.

e. With respect to the statutes listed under the “Authority” category, disclosure may be made to the media, researchers, or other interested parties of statistical reports containing aggregated results of program activities and outcomes. Disclosure may be in response to requests made by telephone, email, fax, or letter, by a mutually convenient method. Statistical data may also be posted by the system manager on the OSHA Web page.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Files are retrieved by complainant's name, respondent's name, case identification number, or other identifying information.

SAFEGUARDS:

Access by authorized personnel only. Computer security safeguards are used for electronically stored data and locked locations for paper files.

RETENTION AND DISPOSAL:

Records are destroyed five years after case is closed, in accordance with Records Schedule NC 174-76-1.

SYSTEM MANAGER(S) AND ADDRESS:

Director of the Directorate of Whistleblower Protection Programs in the National Office, OSHA. 200 Constitution Avenue NW., Room N-4618, Washington, DC 20210.

NOTIFICATION PROCEDURE:

Individuals wishing to inquire whether this system of records contains information about them should contact the System Manager.

RECORD ACCESS PROCEDURE:

Inquiries should be mailed to the System Manager.

CONTESTING RECORD PROCEDURE:

A petition for amendment should be mailed to the System Manager.

RECORD SOURCE CATEGORIES:

Information contained in this system is obtained from individual complainants who filed allegation(s) of retaliation by employer(s) against employee(s) or persons who have engaged in protected activities, also employers, employees and witnesses.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or, prior to January 1, 1975, under an implied promise that the identity of the source would be held in confidence.

DOL/OSHA-6

SYSTEM NAME:

Program Activity File.

SECURITY CLASSIFICATION:

None.

SYSTEM LOCATION:

Electronic files are kept at National Information Technology Center. Paper files are kept at the Occupational Safety and Health Administration's (OSHA's) regional offices.

CATEGORIES OF INDIVIDUALS COVERED BY THE SYSTEM:

Compliance Safety and Health Officers, State Program, Cooperative Program and Compliance Assistance Staff, and Safety and Health Consultants of the Occupational Safety and Health Administration and its grantees.

CATEGORIES OF RECORDS IN THE SYSTEM:

Covering current and future program activities and program support activities conducted by safety and health compliance officers, consultants, and state program, cooperative program and compliance assistance staff. Examples of program activities include inspections, complaint investigations, time tracking, compliance assistance activities, consultations, state program tracking, Voluntary Protection Programs (VPP), Partnership and Alliance activities. Program support activities includes training, administrative duties, and general program work that is not associated with a discrete program activity.

AUTHORITY FOR MAINTENANCE OF THE SYSTEM:

Occupational Safety and Health Act of 1970 (29 U.S.C. 651-678).

PURPOSE:

These records are maintained to manage, process and document OSHA program actions and program related activities that support the programs (inspection, complaint investigation, time tracking, compliance assistance, consultation, state program tracking, voluntary protection, partnership and alliance). The data compiled from these records are used to manage day-to-day program operations and to analyze program effectiveness, efficiency and resource utilization in the various program areas and on activities within those program areas. The data are used by agency officials for performance management, planning and policy purposes.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Individual records are retrievable by employee identifying number or by activity number for information related to a discrete activity. A system of permissions by job title and organization level will control access to individual records. Aggregate or summary data are retrievable based on a variety of selection criteria, including office, program area, activity type, employee category, etc.

SAFEGUARDS:

Access by authorized personnel only. Computer security safeguards are used for electronically stored data and locked locations for paper files.

RETENTION AND DISPOSAL:

Data files are maintained in accordance with National Archives and Records Administration Records Disposition Schedule.

SYSTEM MANAGER AND ADDRESS:

Director, Office of Management Data Systems, Occupational Safety and Health Administration, U.S. Department of Labor, 200 Constitution Avenue NW., Washington, DC 20210.

NOTIFICATION PROCEDURE:

Individuals wishing to inquire whether this system of records contains information about them should contact the System Manager at the address listed above.

RECORD ACCESS PROCEDURE:

Individuals wishing to gain access to records should contact the System Manager at the address listed above.

CONTESTING RECORD PROCEDURE:

Individuals wishing to request amendment of any record should contact the System Manager at the address listed above.

RECORD SOURCE CATEGORIES:

Data records for program areas including inspection, complaint investigation, time tracking, compliance assistance, consultation, state program tracking, voluntary protection, partnership and alliance, completed by safety and health compliance officers, consultants, and state program, cooperative program and compliance assistance staff.

SYSTEMS EXEMPTED FROM CERTAIN PROVISIONS OF THE ACT:

None.

DOL/OSHA-9

SYSTEM NAME:

OSHA Compliance Safety and Health Officer Training Record.

SECURITY CLASSIFICATION:

None.

SYSTEM LOCATION:

Regional offices of the Occupational Safety and Health Administration; see the Appendix for addresses.

CATEGORIES OF INDIVIDUALS COVERED BY THE SYSTEM:

Compliance Safety and Health Officers of the Occupational Safety and Health Administration.

CATEGORIES OF RECORDS IN THE SYSTEM:

Records reflecting training courses and programs completed by Compliance Safety and Health Officers of the Occupational Safety and Health Administration.

AUTHORITY FOR MAINTENANCE OF THE SYSTEM:

Occupational Safety and Health Act of 1970 (29 U.S.C. 651-678).

PURPOSE(S):

To determine which Compliance Safety and Health Officers have completed required training and which need added training. They are used to analyze individual training needs and to assess overall needs for training in upcoming periods; used by Regional Administrators for planning and budgetary purposes.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Files are retrieved by name of individual Compliance Safety and Health Officer.

SAFEGUARDS:

Access by authorized personnel only. Computer security safeguards are used for electronically stored data and locked locations for paper files.

RETENTION AND DISPOSAL:

Records are retained for 20 years in accordance with the applicable Records Schedule.

SYSTEM MANAGER(S) AND ADDRESS:

Director of the Directorate of Training and Education, 2020 South Arlington Heights Road, Arlington Heights, IL 60005.

NOTIFICATION PROCEDURE:

Inquiries should be mailed to the System Manager.

RECORD ACCESS PROCEDURE:

A request for access should be mailed to the System Manager.

CONTESTING RECORD PROCEDURE:

A petition for amendment should be mailed to the System Manager.

RECORD SOURCE CATEGORIES:

Information contained in this system is obtained from official personnel folders, training rosters, sign-in sheets, and bio sheets/profile.

SYSTEMS EXEMPTED FROM CERTAIN PROVISIONS OF THE ACT:

None.

DOL/OSHA-10

SYSTEM NAME:

OSHA Outreach Training Program.

SECURITY CLASSIFICATION:

None.

SYSTEM LOCATION:

Directorate of Training and Education, Occupational Safety and Health Administration.

CATEGORIES OF INDIVIDUALS COVERED BY THE SYSTEM:

Authorized OSHA Outreach Training Program trainers.

CATEGORIES OF RECORDS IN THE SYSTEM:

Records contain the following information: Trainer's name, ID number, most recent trainer course dates, trainer expiration date, authorizing training organization, trainer address, company name, address, telephone number, and email. Files also contain the course conducted, course emphasis, training site address, type of training site, course duration, course dates, and sponsoring organization, topics covered, the names of the students taught, and a copy of the letter sent to the trainer for that class.

AUTHORITY FOR MAINTENANCE OF THE SYSTEM:

Occupational Safety and Health Act of 1970 (29 U.S.C. 651-678); 5 U.S.C. 501.

PURPOSE(S):

To maintain, efficiently and accurately, information on OSHA authorized outreach trainers.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored on paper.

RETRIEVABILITY:

Files are retrieved by the date that the training class was held and by the name of the authorized OSHA outreach trainer.

SAFEGUARDS:

Access by authorized personnel only. Locked locations for paper files.

RETENTION AND DISPOSAL:

Records are retained for five years in accordance with Record Schedule NC 174-76-1, Item 16.

SYSTEM MANAGER AND ADDRESS:

Director, Office of Training and Educational Programs, Directorate of Training and Education, Occupational Safety and Health Administration.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from OSHA Outreach Training Program trainers.

SYSTEMS EXEMPTED FROM CERTAIN PROVISIONS OF THE ACT:

None.

DOL/OSHA-14

SYSTEM NAME:

Directorate of Training and Education Computer-Based Acquisition/Financial Records System.

SECURITY CLASSIFICATION:

None.

SYSTEM LOCATION:

Directorate of Training and Education, Occupational Safety and Health Administration, U.S. Department of Labor.

CATEGORIES OF INDIVIDUALS COVERED BY THE SYSTEM:

Staff of the Directorate of Training and Education, including the Training Institute. Individuals doing business with the Directorate of Training and Education that involve the payment or receipt of funds.

CATEGORIES OF RECORDS IN THE SYSTEM:

Records include necessary data to prepare a procurement requisition including: The requisition number; the name of the bureau making the procurement request; the specific page number of the requisition; the date of the requisition; the accounting code; the delivery requirement address; the official's name, title, and phone number for information concerning the procurement; an identification if the procurement is for instructional services, or for other supplies/services, if for instructional services-the course number and location of the course; a specific ordering item number and/or stock number; a narrative description of the item or service; the quantity requested; the unit price; the unit issue; the total dollar amount; the narrative justification for making the request; the name, address, and phone number of the suggested vendor; the Office division making the request; and the initials of the staff person(s) making the request. This system of records also contains the necessary data for maintaining a general ledger of accounts. Information will be taken from obligating documents. Records also include necessary data to track the receipt of all receivables.

AUTHORITY FOR MAINTENANCE OF THE SYSTEM:

Occupational Safety and Health Act of 1970 (29 U.S.C. 651-678).

PURPOSE(S):

To provide an acquisition and financial management system which will improve the acquisition process; and provide an efficient means for the accurate recording, tracking, reporting, and control of Directorate funds and receivables.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name of vendor, by name of staff person making a procurement request, by individual travel authorization number, by individual last name, and by any of the data elements identified in the Categories of Records in the System category.

SAFEGUARDS:

Access by authorized personnel only. Computer security safeguards are used for electronically stored data and locked locations for paper files.

RETENTION AND DISPOSAL:

Records are retained for 6 years 3 months, in accordance with N1-GRS-95-4, Item 3a1a.

SYSTEM MANAGER AND ADDRESS:

Director, Office of Administration and Training Information, Directorate of Training and Education, Occupational Safety and Health Administration.

NOTIFICATION PROCEDURE:

Inquiries should be mailed to the System Manager.

RECORD ACCESS PROCEDURES:

A request for access should be mailed to the System Manager.

CONTESTING RECORD PROCEDURE:

A petition for amendment should be mailed to the System Manager.

RECORD SOURCE CATEGORIES:

Information contained in this system is obtained from administrative and procurement files.

SYSTEM EXEMPTED FROM CERTAIN PROVISIONS OF THE ACT:

None.

DOL/OSHA-15

SYSTEM NAME:

Directorate of Training and Education Resource Center Loan Program.

SECURITY CLASSIFICATION:

None.

SYSTEM LOCATION:

Directorate of Training and Education, Occupational Safety and Health Administration.

CATEGORIES OF INDIVIDUAL COVERED BY THE SYSTEM:

Individual borrowers who have become qualified to borrow from the Resource Center Collection of occupational safety and health materials.

CATEGORIES OF RECORDS IN THE SYSTEM:

Records contain borrower name, company name and address, company telephone numbers, fax number, company email address, application form number, application date, borrower category, audiovisual program title and accession number, audiovisual copyright date, transaction identification number, and transaction date.

AUTHORITY FOR MAINTENANCE OF THE SYSTEM:

Occupational Safety and Health Act of 1970 (29 U.S.C. 651-678) and 5 U.S.C. 301.

PURPOSE(S):

These records are maintained to facilitate the performance of the Resource Center Loan Program which loans occupational safety and health materials to qualified borrowers, for verification of borrower status and authorization to borrow, to track borrower requests for materials through processing and disposition, to maintain material ability and usage information, to track status and history of overdue materials, to maintain records on lost and damaged materials.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name of borrower for signed borrower agreement forms (manual), by any of the data elements in Categories of Records in the System section (ADP).

SAFEGUARDS:

Access by authorized personnel only. Computer security safeguards are used for electronically stored data and locked locations for paper files.

RETENTION AND DISPOSAL:

Records are retained for 5 years in accordance with NC 174-76-1, Item 16.

SYSTEM MANAGER AND ADDRESS:

Director, Office of Training and Educational Programs, Directorate of Training and Education, Occupational Safety and Health Administration.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from individuals and information pertaining to Resource Center materials is taken from Resource Center files.

SYSTEM EXEMPTED FROM CERTAIN PROVISIONS OF THE ACT:

None.

OWCP—DOL Office of Workers' Compensation Programs Systems of Records

OWCP-1

SYSTEM NAME:

Office of Workers' Compensation Programs, Black Lung Antidiscrimination Files.

SECURITY CLASSIFICATION:

None.

SYSTEM LOCATION:

Office of Workers' Compensation Programs, Division of Coal Mine Workers' Compensation, Department of Labor. Building, 200 Constitution Avenue NW., Washington, DC 20210.

CATEGORIES OF INDIVIDUALS COVERED BY THE SYSTEM:

Individuals filing complaints against employers on account of discharge or other acts of discrimination by reason of pneumoconiosis.

CATEGORIES OF RECORDS IN THE SYSTEM:

Individual correspondence, investigative records, employment records, payroll records, medical reports, any other documents or reports pertaining to an individual's work history, education, medical condition or hiring practices of the employer.

AUTHORITY FOR MAINTENANCE OF THE SYSTEM:

30 U.S.C. 938.

PURPOSE(S):

To maintain records that are used to process complaints against employers who discharge or otherwise discriminate against individuals because they suffer from pneumoconiosis.

ROUTINE USES OF RECORDS MAINTAINED IN THE SYSTEM, INCLUDING CATEGORIES OF USERS AND THE PURPOSES OF SUCH USES:

Disclosure of file content may be made to any party in interest to the complaint, including the coal company, the coal company's insurer, the claimant, medical providers, and legal representatives of any party for purposes related to the complaint.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by coal miner's name and social security number.

SAFEGUARDS:

Access by authorized personnel only. Computer security safeguards are used for electronically stored data and locked locations for paper files.

RETENTION AND DISPOSAL:

Records are retained for 10 years after case is closed in accordance with the applicable Records Schedule.

SYSTEM MANAGER(S) AND ADDRESS:

Director, Division of Coal Mine Workers' Compensation, Department of Labor Building, 200 Constitution Avenue NW., Washington, DC 20210.

NOTIFICATION PROCEDURE:

Inquiries should be mailed to the System Manager or submitted in such other manner as directed by OWCP.

RECORD ACCESS PROCEDURES:

A request for access should be mailed to the System Manager or submitted in such other manner as directed by OWCP.

CONTESTING RECORD PROCEDURES:

A petition for amendment should be mailed to the System Manager or submitted in such other manner as directed by OWCP.

RECORD SOURCE CATEGORIES:

Information contained in this System is obtained from individuals, employers, medical providers and investigators.

SYSTEMS EXEMPTED FROM CERTAIN PROVISIONS OF THE ACT:

None.

OWCP-2

SYSTEM NAME:

Office of Workers' Compensation, Black Lung Benefits Claim File.

SECURITY CLASSIFICATION:

None.

SYSTEM LOCATION:

Office of Workers' Compensation Programs, Division of Coal Mine Workers' Compensation, Department of Labor Building, 200 Constitution Avenue NW., Washington, DC 20210, and district offices (see addresses in the Appendix to this document).

CATEGORIES OF INDIVIDUALS COVERED BY THE SYSTEM:

Individuals filing claims for black lung (pneumoconiosis) benefits under the provisions of Black Lung Benefits Act, as amended, including miners, and their surviving spouses, children, dependent parents and siblings.

CATEGORIES OF RECORDS IN THE SYSTEM:

Personal (name, date of birth, social security number, claim type, miner's date of death), medical, and financial. Information gathered in connection with investigations concerning possible violations of Federal law, whether civil or criminal, under the authorizing legislation and related Acts. This record also contains investigative records and the work product of the Department of Labor and other governmental personnel and consultants involved in the investigations. If the individual has received benefits to which he or she is not entitled, the system may contain consumer credit reports correspondence to and from the debtor, information or records relating to the debtor's current whereabouts, assets, liabilities, income and expenses, debtor's personal financial statements, and other information such as the nature, amount and history of a claim filed by an individual covered by this system, and other records and reports relating to the implementation of the Debt Collection Act of 1982 including any investigative records or administrative review matters. The individual records listed herein are included only as pertinent to the individual claimant.

AUTHORITY FOR MAINTENANCE OF THE SYSTEM:

30 U.S.C. 901 et seq., 20 CFR 725.1 et seq.

PURPOSE(S):

To maintain records that are used to process all aspects of claims for black lung (pneumoconiosis) benefits under the provisions of the Black Lung Benefits Act, as amended, including claims filed by miners and their surviving spouses, children, dependent parents and siblings. These records are also used to process the recoupment of overpayments under the Act.

ROUTINE USES OF RECORDS MAINTAINED IN THE SYSTEM, INCLUDING CATEGORIES OF USERS AND THE PURPOSES OF SUCH USES:

In addition to those universal routine uses listed in the General Prefatory Statement of this document, disclosure of relevant and necessary information may be made to the following:

a. Mine operators (and/or any party providing the operator with benefits insurance) who have been determined potentially liable for the claim at any time after the filing of a claim for Black Lung Benefits for the purpose of determining liability for payment.

b. State workers' compensation agencies and the Social Security Administration for the purpose of determining offsets as specified under the Act.

c. Doctors and medical services providers for the purpose of obtaining medical evaluations, physical rehabilitation or other services.

d. Other Federal agencies conducting scientific research concerning the incidence and prevention of black lung disease.

e. Representatives of the claimant for the purpose of processing the claim, responsible operator and program representation on contested issues.

f. Labor unions and other voluntary employee associations of which the claimant is a member for the purpose of assisting the member.

g. Contractors providing automated data processing services to the Department of Labor, or to any agency or entity to which release is authorized, where the contractor is providing a service relating to the purpose for which the information can be released.

h. Federal, state or local agencies if necessary to obtain information relevant to a Departmental determination of initial or continuing eligibility for program benefits, including whether benefits have been or are being paid improperly; whether dual benefits prohibited under any federal or state law are being paid; and including salary offset and debt collection procedures, including any action required by the Debt Collection Act of 1982.

i. Debt collection agency that DOL has contracted for collection services to recover indebtedness owed to the United States.

j. Internal Revenue Service for the purpose of obtaining taxpayer mailing addresses in order to locate such taxpayers to collect, compromise, or write-off a Federal claim against the taxpayer; discharging an indebtedness owed by an individual.

k. Credit Bureaus for the purpose of receiving consumer credit reports identifying the assets, liabilities, income and expenses of a debtor to ascertain the debtor's ability to pay a debt and to establish a payment schedule.

Note: Disclosure of information contained in the file to a claimant or a person who is duly authorized to act on the claimant's or beneficiary's behalf may be made over the telephone. Disclosure over the telephone will only be done where the requestor provides appropriate identifying information to OWCP personnel. Telephonic disclosure of information is essential to allow OWCP to efficiently perform its functions in adjudicating and servicing claims.

DISCLOSURE TO CONSUMER REPORTING AGENCIES:

The amount, status and history of overdue debts; the name and address, taxpayer identification (SSAN), and other information necessary to establish the identity of a debtor, the agency and program under which the claim arose, are disclosed pursuant to 5 U.S.C. 552a(b)(12) to consumer reporting agencies as defined by the Fair Credit Reporting Act (15 U.S.C. 1681a(f), or in accordance with the Federal Claims Collection Act of 1966 as amended (31 U.S.C. 3711(e) for the purpose of encouraging the repayment of an overdue debt.

POLICIES AND PRACTICES FOR STORING, RETRIEVING, ACCESSING, RETAINING, AND DISPOSING OF RECORDS IN THE SYSTEM:

STORAGE:

Files are stored electronically and/or on paper.

RETRIEVABILITY:

Files are retrieved by coal miner's name, social security number, and claimant's social security number different from miner's.

SAFEGUARDS:

Accessed by authorized personnel only. Computer security safeguards are used for electronically stored data and locked locations for paper files.

RETENTION AND DISPOSAL:

Records are retained for 10 years after death of last beneficiary. Denied claims are retained for 30 years after final denial in accordance with the appropriate Records Schedule.

SYSTEM MANAGER(S) AND ADDRESS:

Director, Division of Coal Mine Workers' Compensation, Department of Labor Building, Room C-3520, 200 Constitution Avenue NW., Washington, DC 20210, and district office directors (see ADDRESSES in the Appendix to this document).

NOTIFICATION PROCEDURE:

Inquiries should be mailed to the System Manager or submitted in such other manner as directed by OWCP.

RECORD ACCESS PROCEDURE:

A request for access should be mailed to the System Manager or submitted in such other manner as directed by OWCP.

CONTESTING RECORD PROCEDURES:

A petition for amendment should be mailed to the System Manager or submitted in such other manner as directed by OWCP.

RECORD SOURCE CATEGORIES:

Information contained in this system is obtained from individuals, organizations, and investigators.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/OWCP-3

SYSTEM NAME:

Office of Workers' Compensation Programs, Longshore and Harbor Workers' Compensation Act Case Files.

SECURITY CLASSIFICATION:

None.

SYSTEM LOCATION:

Division of Longshore and Harbor Workers' Compensation, Office of Workers' Compensation Programs, Washington, DC 20210, and district offices of the Office of Workers' Compensation Programs set forth in the Appendix to this document.

CATEGORIES OF INDIVIDUALS COVERED BY THE SYSTEM:

Employees injured or killed while working in private industry who are covered by the provisions of the Longshore and Harbor Workers' Compensation Act, the Non-Appropriated Fund Instrumentalities Act, the Defense Base Act, the War Hazards Act, the Outer Continental Shelf Lands Act, and the DC Workers' Compensation Act, referred to collectively herein as the Longshore and Harbor Workers' Compensation Act (LHWCA).

CATEGORIES OF RECORDS IN THE SYSTEM:

This system may contain the following kinds of records: Reports of injury by the employee and/or employer; claim forms filed by or on behalf of injured employees covered under the LHWCA or their survivors seeking benefits under the LHWCA; forms authorizing medical care and treatment; other medical records and reports; bills and other payments records; compensation payments records (including section 8(f) payment records); section 8(f) applications filed by the employer; compensation orders for or against the payment of benefits; transcripts of hearings and depositions conducted; and any other medical employer or personal information submitted or gathered in connection with the claim. The system may also contain information relating to dates of birth, marriage, divorce, and death, notes of telephone conversations conducted in connection with the claim; emails; information relating to vocational and/or medical rehabilitation plans and progress reports including communication with rehabilitation counselors, potential employers, physicians and others who have been contacted as part of the rehabilitation process, notes created by the rehabilitation specialist and the rehabilitation counselor concerning the rehabilitation process, vocational testing, and other records pertaining to the vocational rehabilitation process; records relating to court proceedings, insurance, banking, and employment; articles from newspapers and other publications; information relating to other benefits (financial and otherwise) the claimant or employer may be entitled to; and information received from various investigative agencies concerning possible violations of Federal civil or criminal law.

AUTHORITY FOR MAINTENANCE OF THE SYSTEM:

33 U.S.C. 901 et seq. (20 CFR parts 701 et seq.); 36 DC Code 501 et seq.; 42 U.S.C. 1651 et seq.; 43 U.S.C. 1331 et seq.; 5 U.S.C. 8171 et seq.

PURPOSE(S):

To maintain records on the actions of insurance carriers, employers, and injured workers with respect to injuries reported under the Longshore and Harbor Workers' Compensation Act and related Acts, to ensure that eligible claimants receive appropriate benefits as provided by the Act.

ROUTINE USES OF RECORDS MAINTAINED IN THE SYSTEM, INCLUDING CATEGORIES OF USERS AND THE PURPOSES OF SUCH USES:

In addition to those universal routine uses listed in the General Prefatory Statement to this document, disclosure of information from this system of records may also be made to the following individuals and entities for the purposes noted when the purpose of the disclosure is compatible with the purpose for which the information was collected:

a. The employer or its representatives, including third-party administrators, and/or any party providing the employer with workers' compensation insurance coverage since the employer and insurance carrier are parties-in-interest to all actions on a case, for the purpose of assisting in the litigation of the claim, at any time after report of the injury or report of the onset of the occupational illness, or the filing of a notice of injury or claim related to such injury or occupational illness.

b. Doctors, pharmacies, and other health care providers for the purpose of treating the claimant, conducting medical examinations, physical rehabilitation or other services or obtaining medical evaluations.

c. Public or private rehabilitation agencies to which the injured worker has been referred for vocational rehabilitation services so that they may properly evaluate the injured worker's experience, physical limitations and future employment capabilities.

d. Federal, state and local agencies conducting similar or related investigations to verify whether prohibited dual benefits were provided, whether benefits have been or are being paid properly, including whether dual benefits prohibited by federal law are being paid; salary offset and debt collection procedures including those actions required by the Debt Collection Act of 1982.

e. Labor unions and other voluntary associations from which the claimant has requested assistance in connection with the processing of the LHWCA claim.

f. Attorneys or other persons authorized to represent the interests of the LHWCA claimant in connection with a claim for benefits under the LHWCA, and/or a LHWCA beneficiary in connection with a claim for damages filed against a third party.

g. Internal Revenue Service for the purpose of obtaining taxpayer mailing addresses in order to locate a taxpayer to collect, compromise, or write-off a Federal claim against such taxpayer; discharging an indebtedness owed by an individual.

h. Trust funds that have demonstrated to the OWCP a right to a lien under 33 U.S.C. 917, for the purpose of permitting the trust funds to identify potential entitlement to payments upon which the trust funds may execute the lien.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

Note: Pursuant to 5 U.S.C. 552a(b)(1), information from this system of records is disclosed to members and staff of the Office of Administrative Law Judges, the Benefits Review Board, the Office of the Solicitor and other components of the Department who have a need for the record in the performance of their duties.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved after identification by coded file number, which is cross-referenced to injured worker by name.

SAFEGUARDS:

Access by authorized personnel only. Computer security safeguards are used for electronically stored data and locked locations for paper files.

RETENTION AND DISPOSAL:

The length of time that records are retained varies by type of case. Lost-time disability cases are retained for 20 years after the case is closed. Other cases where the last possible beneficiary has died are retained for 6 years and 3 months after the death of such beneficiary. “No Lost Time” cases are retained for three years after the end of the fiscal year during which the related report was received.

SYSTEM MANAGER(S) AND ADDRESS:

Director for Longshore and Harbor Workers' Compensation, U.S. Department of Labor, 200 Constitution Avenue NW., Washington, DC 20210; and District Directors at the district offices set forth in the Appendix.

NOTIFICATION PROCEDURE:

Inquiries should be mailed to the System Manager or submitted in such other manner as directed by OWCP.

RECORD ACCESS PROCEDURES:

A request for access should be mailed to the System Manager or submitted in such other manner as directed by OWCP.

CONTESTING RECORD PROCEDURE:

A petition for amendment should be mailed to the System Manager or submitted in such other manner as directed by OWCP.

RECORD SOURCE CATEGORIES:

Information contained in this system is obtained from injured employees, their qualified dependents, employers, insurance carriers, physicians, medical facilities, educational institutions, attorneys, and State, Federal, and private vocational rehabilitation agencies.

SYSTEM EXEMPTED FROM CERTAIN PROVISIONS OF THE ACT:

None.

OWCP-4

SYSTEM NAME:

Office of Workers' Compensation Programs, Longshore and Harbor Workers' Compensation Act Special Fund System.

SECURITY CLASSIFICATION:

None.

SYSTEM LOCATION:

Division of Longshore and Harbor Workers' Compensation, Office of Workers' Compensation Programs, 200 Constitution Avenue NW., Washington, DC 20210.

CATEGORIES OF INDIVIDUALS COVERED BY THE SYSTEM:

Persons receiving compensation and related benefits under the Longshore and Harbor Workers' Compensation Act, the Non-Appropriated Fund Instrumentalities Act, the Defense Base Act, the War Hazards Act, the Outer Continental Shelf Lands Act, and the DC Workers' Compensation Act, referred to collectively herein as the Longshore and Harbor Workers' Compensation Act (LHWCA).

CATEGORIES OF RECORDS IN THE SYSTEM:

Medical and vocational rehabilitation reports, bills, vouchers and records of payment for compensation and related benefits, statements of employment status, and orders for payment of compensation, and U.S. Treasury Records.

AUTHORITY FOR MAINTENANCE OF THE SYSTEM:

33 U.S.C. 901 et seq. (20 CFR parts 701 et seq.); 36 DC Code 501 et seq.; 42 U.S.C. 1651 et seq.; 43 U.S.C. 1331 et seq.; 5 U.S.C. 8171 et seq.

PURPOSE(S):

This system provides a record of payments to claimants, their qualified dependents, or providers of services to claimants from the Special Fund established pursuant to Section 44 of the Act.

ROUTINE USES OF RECORDS MAINTAINED IN THE SYSTEM, INCLUDING CATEGORIES OF USERS AND THE PURPOSES OF SUCH USES:

In addition to those universal routine uses listed in the General Prefatory Statement to this document, disclosure of information from this system of records may also be made to the following individuals and entities for the purposes noted when the purpose of the disclosure is compatible with the purpose for which the information was collected:

a. The employer or employer's representatives, including third-party administrators, and/or any party providing the employer with workers' compensation insurance coverage since the employer and insurance carrier are parties-in-interest to all actions on a case, for the purpose of assisting in the litigation of the claim, at any time after report of the injury or report of the onset of the occupational illness, or the filing of a notice of injury or claim related to such injury or occupational illness.

b. Doctors, pharmacies, and other health care providers for the purpose of treating the claimant, conducting medical examinations, physical rehabilitation or other services or obtaining medical evaluations.

c. Public or private rehabilitation agencies to which the injured worker has been referred for vocational rehabilitation services so that they may properly evaluate the injured worker's experience, physical limitations and future employment capabilities.

d. Federal, state and local agencies conducting similar or related investigations to verify whether prohibited dual benefits were provided, whether benefits have been or are being paid properly, including whether dual benefits prohibited by federal law are being paid; salary offset and debt collection procedures including those actions required by the Debt Collection Act of 1982.

e. Labor unions and other voluntary associations from which the claimant has requested assistance with the processing of the LHWCA claim.

f. Internal Revenue Service for the purpose of obtaining taxpayer mailing addresses in order to locate such taxpayer to collect, compromise, or write-off a Federal claim against the taxpayer; discharging an indebtedness owed by an individual.

g. Trust funds that have demonstrated to the OWCP a right to a lien under 33 U.S.C. 917, for the purpose of permitting the trust funds to identify potential entitlement to payments upon which the trust funds may execute the lien.

h. To individuals, and their attorneys and other representatives, and government agencies, seeking to enforce a legal obligation on behalf of such individual, to pay alimony and/or child support, for the purpose of enforcing such an obligation, pursuant to an order of a state or local court of competent jurisdiction, including Indian tribal courts, within any State, territory or possession of the United States, or the District of Columbia or to an order of a State agency authorized to issue income withholding notices pursuant to State or local law or pursuant to the requirements of section 666(b) of title 42, United States Code, or for the purpose of denying the existence of funds subject to such legal obligation.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

Note: Information from this system of records is disclosed to members and staff of the Office of Administrative Law Judges, the Benefits Review Board, the Office of the Solicitor and other components of the Department who have a need for the record in the performance of their duties.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by social security number, which is cross-referenced to injured worker by name.

SAFEGUARDS:

Access by authorized personnel only. Computer security safeguards are used for electronically stored data and locked locations for paper files.

RETENTION AND DISPOSAL:

Records are retained for seven years after last payment is made.

SYSTEM MANAGER(S) AND ADDRESS:

Director for Longshore and Harbor Workers' Compensation, Office of Workers' Compensation Programs, 200 Constitution Avenue NW., Washington, DC 20210.

NOTIFICATION PROCEDURE:

Inquiries should be mailed to the System Manager or submitted in such other manner as directed by OWCP.

RECORD ACCESS PROCEDURES:

A request for access should be mailed to the System Manager or submitted in such other manner as directed by OWCP.

CONTESTING RECORD PROCEDURE:

A petition for amendment should be mailed to the System Manager or submitted in such other manner as directed by OWCP.

RECORD SOURCE CATEGORIES:

Information contained in this system is obtained from injured employees, their qualified dependents, employers, insurance carriers, physicians, medical facilities, educational institutions, attorneys, and State, Federal, and private vocational rehabilitation agencies.

SYSTEM EXEMPTED FROM CERTAIN PROVISIONS OF THE ACT:

None.

OWCP-5

SYSTEM NAME:

Office of Workers' Compensation Programs, Longshore and Harbor Workers' Compensation Act Investigation Files.

SECURITY CLASSIFICATION:

None.

SYSTEM LOCATION:

Division of Longshore and Harbor Workers' Compensation, Office of Workers' Compensation Programs, Washington, DC 20210, and district offices of the Office of Workers' Compensation Programs set forth in the Appendix to this document.

CATEGORIES OF INDIVIDUALS COVERED BY THE SYSTEM:

Individuals filing claims for workers' compensation benefits under the Longshore and Harbor Workers' Compensation Act, the Non-Appropriated Fund Instrumentalities Act, the Defense Base Act, the War Hazards Act, the Outer Continental Shelf Lands Act, and the DC Workers' Compensation Act, referred to collectively herein as the Longshore and Harbor Workers' Compensation Act (LHWCA); individuals providing medical and other services to the Division; employees of insurance companies and of medical and other services providers to claimants; and other persons suspected of violations of law under the Act, including related civil and criminal provisions.

CATEGORIES OF RECORDS IN THE SYSTEM:

Records which contain information gathered in connection with investigations concerning possible violations of Federal law, whether civil or criminal, under the LHWCA. This system also contains the work product of the Department of Labor and other government personnel and consultants involved in the investigations.

AUTHORITY FOR MAINTENANCE OF SYSTEM:

33 U.S.C. 901 et seq. (20 CFR parts 701 et seq.); 36 DC Code 501 et seq.; 42 U.S.C. 1651 et seq.; 43 U.S.C. 1331 et seq.; 5 U.S.C. 8171 et seq.

PURPOSE(S):

To maintain records for the purpose of assisting in determinations of possible violations of Federal law, whether civil or criminal, in connection with reported injuries under the LHWCA.

ROUTINE USES OF RECORDS MAINTAINED IN THE SYSTEM, INCLUDING CATEGORIES OF USERS AND THE PURPOSES OF SUCH USES:

In addition to those universal routine uses listed in the General Prefatory Statement to this document, disclosure of relevant and necessary information from this system of records may also be made to the following individuals and entities for the purposes noted when the purpose of the disclosure is compatible with the purpose for which the information was collected: Internal Revenue Service, for the purpose of obtaining taxpayer mailing addresses in order to locate a taxpayer to collect, compromise, or write-off a Federal claim against such taxpayer; discharging an indebtedness owed by an individual.

Note: Pursuant to 5 U.S.C. 552a(b)(1), information from this system of records is disclosed to members and staff of the Office of Administrative Law Judges, the Benefits Review Board, the Office of the Solicitor and other components of the Department who have a need for the record in the performance of their duties.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name of individual being investigated.

SAFEGUARDS:

Access by authorized personnel only. Computer security safeguards are used for electronically stored data and locked locations for paper files.

RETENTION AND DISPOSAL:

Retention time varies by type of compensation case and/or investigative file. For example, if the investigative file is about a lost-time case, it is transferred to the Federal Records Center two years after the related compensation case is closed, and destroyed twenty years after the case is closed. If the investigative file is about a death case, it is retained in the office as long as there are qualified dependents, and destroyed six years, three months after final closing. “No Lost Time” cases are destroyed three years after the end of the fiscal year during which the related report was received.

SYSTEM MANAGER(S) AND ADDRESS:

Director for Longshore and Harbor Workers' Compensation, Office of Workers' Compensation Programs, 200 Constitution Avenue NW., Washington, DC 20210, and District Directors in the district offices of the Office of Workers' Compensation Programs set forth in the Appendix to this document.

NOTIFICATION PROCEDURE:

Inquiries should be mailed to the System Manager or submitted in such other manner as directed by OWCP.

RECORD ACCESS PROCEDURES:

A request for access should be mailed to the System Manager or submitted in such other manner as directed by OWCP.

CONTESTING RECORD PROCEDURE:

A petition for amendment should be mailed to the System Manager or submitted in such other manner as directed by OWCP.

RECORD SOURCE CATEGORIES:

Information contained in this system is obtained from Division claim and payment files and from employees, insurers, service providers; and information received from parties leading to the opening of an investigation, or from interviews held during the course of an investigation.

SYSTEM EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

OWCP-6

SYSTEM NAME:

Office of Workers' Compensation Programs, Longshore and Harbor Workers' Compensation Act Claimant Representatives.

SECURITY CLASSIFICATION:

None.

SYSTEM LOCATION:

Division of Longshore and Harbor Workers' Compensation, Office of Workers' Compensation Programs, Washington, DC 20210, and district offices of the Office of Workers' Compensation Programs set forth in the Appendix to this document.

CATEGORIES OF INDIVIDUALS COVERED BY THE SYSTEM:

Individuals alleged to have violated the provisions of the Longshore and Harbor Workers' Compensation Act, the Non-Appropriated Fund Instrumentalities Act, the Defense Base Act, the War Hazards Act, the Outer Continental Shelf Lands Act, and the DC Workers' Compensation Act, referred to collectively herein as the Longshore and Harbor Workers' Compensation Act (LHWCA) and the LHWCA's implementing regulations relating to representation of claimants/beneficiaries before the Department of Labor, including the Office of Administrative Law Judges and the Benefits Review Board, those found to have committed such violations and who have been disqualified, and those who are investigated but not disqualified. This system would also cover those persons who have been reinstated as qualified claimant representatives.

CATEGORIES OF RECORDS IN THE SYSTEM:

Records in the system will consist of information such as the representative's name and address, the names and addresses of affected claimants/beneficiaries, copies of relevant documents obtained from claimant/beneficiary files relating to the issue of representation; all documents received or created as a result of the investigation of and/or hearing on the alleged violation of the Longshore Act and/or its regulations relating to representation, including investigations conducted by the DOL Office of Inspector General or other agency; and copies of documents notifying the representative and other interested persons of the disqualification.

AUTHORITY FOR MAINTENANCE OF THE SYSTEM:

Longshore and Harbor Workers' Compensation Act, 33 U.S.C. 931(b)(2)(B).

PURPOSE(S):

These records contain information on activities—including billing—relating to representation of claimants/beneficiaries, including documents relating to the debarment of representatives under other Federal or state programs.

ROUTINE USES OF RECORDS MAINTAINED IN THE SYSTEM, INCLUDING CATEGORIES OF USERS AND THE PURPOSES OF SUCH USES:

In addition to those universal routine uses listed in the General Prefatory Statement to this document, disclosure of relevant and necessary information from this system of records may also be made to the following individuals and entities for the purposes noted when the purpose of the disclosure is compatible with the purpose for which the information was collected:

a. A claimant/beneficiary for the purpose of informing him/her that his/her representative has been disqualified from further representation under the Longshore Act.

b. Employers, insurance carriers, state bar disciplinary authorities, and the general public, for the purpose of providing information concerning the qualification of person(s) to act as a claimant representative under the Act.

c. Federal, state or local agency maintaining pertinent records, if necessary to obtain information relevant to a Departmental decision relating to debarment actions.

Note: Disclosure of information contained in the file of the claimant, a person who is duly authorized to act on his/her behalf, or to others to whom disclosure is authorized by these routine uses, may be made over the telephone. Disclosure over the telephone will only be done where the requestor provides appropriate identifying information. Telephonic disclosure of information is essential to permit efficient administration and adjudication of claims.

Pursuant to 5 U.S.C. 552a(b)(1), information from this system of records is disclosed to members and staff of the Office of Administrative Law Judges, the Benefits Review Board, the Office of the Solicitor and other components of the Department who have a need for the record in the performance of their duties.

DISCLOSURE TO CONSUMER REPORTING AGENCIES:

None.

POLICIES AND PROCEDURES FOR STORING, RETRIEVING, ACCESSING, RETAINING AND DISPOSING OF RECORDS IN THIS SYSTEM:

STORAGE:

Files are stored electronically and/or on paper.

RETRIEVABILITY:

Files are retrieved by the name of the representative.

SAFEGUARDS:

Access by authorized personnel only. Computer security safeguards are used for electronically stored data and locked locations for paper files.

RETENTION AND DISPOSAL:

Records are retained in the office for three years after the debarment action is final and then transferred to the Federal Records Center, and destroyed thirty years after the debarment action is final. Where the period of exclusion is defined as a set period of time, the file will be retained two years after the period of exclusion expires (or the individual is otherwise reinstated), then transferred to the Federal Records Center, and destroyed thirty years after the debarment action is final.

SYSTEM MANAGER(S) AND ADDRESS:

Director for Longshore and Harbor Workers' Compensation Act, Office of Workers' Compensation Programs, 200 Constitution Avenue NW., Washington, DC 20210, and District Directors in district offices set forth in the Appendix.

NOTIFICATION PROCEDURE:

Inquiries should be mailed to the System Manager or submitted in such other manner as directed by OWCP.

RECORD ACCESS PROCEDURES:

A request for access should be mailed to the System Manager or submitted in such other manner as directed by OWCP.

CONTESTING RECORD PROCEDURE:

A petition for amendment should be mailed to the System Manager or submitted in such other manner as directed by OWCP.

RECORD SOURCE CATEGORIES:

Information contained in this system is obtained from employees, employers, insurance carriers, members of the public, agency investigative reports, and from other DOL systems of records.

SYSTEM EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

OWCP-7

SYSTEM NAME:

Office of Workers' Compensation Programs, Physicians and Health Care Providers Excluded under the Longshore Act.

SECURITY CLASSIFICATION:

None.

SYSTEM LOCATION:

Division of Longshore and Harbor Workers' Compensation, Office of Workers' Compensation Programs, Washington, DC 20210, and district offices of the Office of Workers' Compensation Programs set forth in the Appendix to this document.

CATEGORIES OF INDIVIDUALS COVERED BY THE SYSTEM:

Providers of medical goods and services, including physicians, hospitals, and providers of medical support services or supplies excluded or considered for exclusion from payment under the Longshore Act and Harbor Workers' Compensation Act, the Non-Appropriated Fund Instrumentalities Act, the Defense Base Act, the War Hazards Act, the Outer Continental Shelf Lands Act, and the DC Workers' Compensation Act, referred to collectively herein as the Longshore and Harbor Workers' Compensation Act (LHWCA).

CATEGORIES OF RECORDS IN THE SYSTEM:

Copies of letters, lists, and documents from Federal and state agencies concerning the administrative debarment of providers from participation in programs providing benefits similar to those of the Longshore and Harbor Workers' Compensation Act and their reinstatement; materials concerning possible fraud or abuse which could lead to exclusion of a provider; documents relative to reinstatement of providers; materials concerning the conviction of providers for fraudulent activities in connection with any Federal or state program for which payments are made to providers for similar medical services; all letters, memoranda, and other documents regarding the consideration of a provider's exclusion, the actual exclusion, or reinstatement under the provisions of 20 CFR 702.431 et seq.; copies of all documents in a claimant's file relating to medical care and/or treatment, including bills for such services; as well as letters, memoranda, emails, and other documents obtained during investigations, hearings, and other administrative proceedings concerning exclusion for fraud or abuse, as well as reinstatement, and recommendations and decisions; lists of excluded providers released by the OWCP.

AUTHORITY FOR MAINTENANCE OF THE SYSTEM:

Longshore and Harbor Workers' Compensation Act, 33 U.S.C. 907(c).

PURPOSE(S):

To maintain records to determine the propriety of instituting debarment actions under the Longshore Act. These records also provide information on treatment, billing and other aspects of a medical provider's actions, and/or documentation relating to the debarment of the medical care provider under another Federal or state program.

ROUTINE USES OF RECORDS MAINTAINED IN THE SYSTEM, INCLUDING CATEGORIES OF USERS AND THE PURPOSE OF SUCH USES:

In addition to those universal routine uses listed in the General Prefatory Statement to this document, disclosure of information from this system of records may be made to the following individuals and entities for the purposes noted when the purpose of the disclosure is compatible with the purpose for which the information is collected:

a. Federal, state or local government agencies, state licensing boards, professional organizations, claimants, patients, employers, insurance companies, and any other entities or individuals, for the purpose of identifying an excluded or reinstated provider, to ensure that authorization is not issued nor payment made to an excluded provider, and for the purpose of providing notice that a formerly excluded provider has been reinstated.

b. Federal, state or local government agencies, state licensing boards, professional organizations, claimants, patients, employers, insurance companies, and any other entities or individuals, for the purpose of obtaining information necessary to ensure that the list of excluded providers is correct, useful, and updated, as appropriate, and for the purpose of obtaining information relevant to a Departmental decision regarding a debarment action. This routine use encompasses the disclosure of such information which will enable the Department to properly verify the identity of a provider, to identify the nature of a violation, and the penalty imposed for such violation.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

Note: Pursuant to 5 U.S.C. 552a(b)(1), information from this system of records is disclosed to members and staff of the Benefits Review Board, the Office of Administrative Law Judges, the Office of the Solicitor and other components of the Department who have a need for the record in the performance of their duties.

DISCLOSURE TO CONSUMER REPORTING AGENCIES:

None.

POLICIES AND PROCEDURES FOR STORING, RETRIEVING, ACCESSING, RETAINING, AND DISPOSING OF RECORDS IN THIS SYSTEM:

STORAGE:

Files are stored electronically and/or on paper.

RETRIEVABILITY:

Files are retrieved by the name of the provider.

SAFEGUARDS:

Access by authorized personnel only. Computer security safeguards are used for electronically stored data and locked locations for paper files.

RETENTION AND DISPOSAL:

Files are retained for three years after the debarment action is final and then transferred to the Federal Records Center, and destroyed thirty years after the debarment action is final. Where the period of exclusion is defined as a set period of time, the file will be retained two years after the period of exclusion expires (or the individual is otherwise reinstated), then transferred to the Federal Records Center, and destroyed thirty years after the debarment action is final.

SYSTEM MANAGER(S) AND ADDRESS:

Director for Longshore and Harbor Workers' Compensation Act, Office of Workers' Compensation Programs, 200 Constitution Avenue NW., Washington, DC 20210, and District Directors in the district offices set forth in the Appendix to this document.

NOTIFICATION PROCEDURE:

Inquiries should be mailed to the System Manager or submitted in such other manner as directed by OWCP.

RECORD ACCESS PROCEDURE:

A request for access should be mailed to the System Manager or submitted in such other manner as directed by OWCP.

CONTESTING RECORD PROCEDURE:

A petition for amendment should be mailed to the System Manager or submitted in such other manner as directed by OWCP.

RECORD SOURCE CATEGORIES:

Information contained in this system is obtained from Federal, state or local government agencies, state licensing boards, professional organizations, claimants, patients, employers, insurance companies, any other entities or individuals, public documents, and newspapers, as well as from other Department of Labor systems of records.

SYSTEM EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/OWCP-8

SYSTEM NAME:

Office of Workers' Compensation Programs, Physicians and Health Care Providers Excluded under the Federal Employees' Compensation Act.

SECURITY CLASSIFICATION:

None.

SYSTEM LOCATION:

The Division of Federal Employees' Compensation, Office of Workers' Compensation Programs, Washington, DC 20210, and district offices of the Office of Workers' Compensation Programs set forth in the Appendix to this document.

CATEGORIES OF INDIVIDUALS COVERED BY THE SYSTEM:

Providers of medical goods and services, including physicians, hospitals, and providers of medical support services or supplies excluded or considered for exclusion from payment under the Federal Employees' Compensation Act for fraud or abuse (20 CFR 10.815-826).

CATEGORIES OF RECORDS IN THE SYSTEM:

Copies of letters, lists and documents from Federal and state agencies concerning the administrative debarment of providers from participation in programs providing benefits similar to those of the Federal Employees' Compensation Act and their reinstatement; materials concerning possible fraud or abuse which could lead to exclusion of a provider; documents relative to reinstatement of providers, materials concerning the conviction of providers for fraudulent activities in connection with any Federal or state program for which payments are made to providers for similar medical services; all letters, memoranda, and other documents regarding the consideration of a provider's exclusion, the actual exclusion, or reinstatement under the provisions of 20 CFR 10.815-826; copies of all documents in a claim file relating to medical care and/or treatment including bills for such services, as well as letters, memoranda, and other documents obtained during investigations, hearings and other administrative proceedings concerning exclusion for fraud or abuse, as well as reinstatement, along with recommendations and decisions; lists of excluded providers released by the OWCP.

AUTHORITY FOR MAINTENANCE OF THE SYSTEM:

Federal Employees' Compensation Act (5 U.S.C. 8101 et seq.), and Title 20 CFR part 10.

PURPOSE(S):

To maintain records to determine the propriety of instituting debarment actions under the Federal Employees' Compensation Act. These records also provide information on treatment, billing and other aspects of a medical provider's actions, and/or documentation relating to the debarment of the medical care provider under another Federal or state program.

ROUTINE USES OF RECORDS MAINTAINED IN THE SYSTEM, INCLUDING CATEGORIES OF USERS AND THE PURPOSE OF SUCH USES:

In addition to those universal routine uses listed in the General Prefatory Statement to this document, disclosure of information from this system of records may be made to the following individuals and entities for the purposes noted when the purpose of the disclosure is compatible with the purpose for which the information is collected:

a. Federal, state or local government agencies, state licensing boards, professional organizations, claimants, patients, employers, insurance companies, and any other entities or individuals, for the purpose of identifying an excluded or reinstated provider, to ensure that authorization is not issued nor payment made to an excluded provider, and for the purpose of providing notice that a formerly excluded provider has been reinstated.

b. Federal, state or local government agencies, state licensing boards, professional organizations, claimants, patients, employers, insurance companies, and any other entities or individuals, for the purpose of obtaining information necessary to ensure that the list of excluded providers is correct, useful, and updated, as appropriate, and for the purpose of obtaining information relevant to a Departmental decision regarding a debarment action. This routine use encompasses the disclosure of such information that will enable the Department to properly verify the identity of a provider, to identify the nature of a violation, and the penalty imposed for such violation.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

Note: Pursuant to 5 U.S.C. 552a(b)(1), information from this system of records is disclosed to members and staff of the Employees' Compensation Appeals Board, the Office of Administrative Law Judges, the Office of the Solicitor and other components of the Department who have a need for the record in the performance of their duties.

DISCLOSURE TO CONSUMER REPORTING AGENCIES:

None.

POLICIES AND PROCEDURES FOR STORING, RETRIEVING, ACCESSING, RETAINING, AND DISPOSING OF RECORDS IN THIS SYSTEM:

STORAGE:

Files are stored electronically and/or on paper.

RETRIEVABILITY:

Files are retrieved by the name of the provider, a case citation, or date of release.

SAFEGUARDS:

Access by authorized personnel only. Computer security safeguards are used for electronically stored data and locked locations for paper files.

RETENTION AND DISPOSAL:

Files are retained for three years after the debarment action is final and then transferred to the Federal Records Center, and destroyed thirty years after the debarment action is final. Where the period of exclusion is defined as a set period of time, the file will be retained two years after the period of exclusion expires (or the individual is otherwise reinstated), then transferred to the Federal Records Center, and destroyed thirty years after the debarment action is final.

SYSTEM MANAGER(S) AND ADDRESS:

Director for Federal Employees' Compensation, Office of Workers' Compensation Programs, 200 Constitution Avenue NW., Washington, DC 20210, and the District Directors of the district offices set forth in the Appendix to this document.

NOTIFICATION PROCEDURE:

Inquiries should be mailed to the System Manager. In order for the record to be located, the individual must provide his or her full name, date of birth, and signature.

RECORD ACCESS PROCEDURE:

A request for access should be mailed to the System Manager. In order for the record to be located, the individual must provide his or her full name, date of birth, and signature.

CONTESTING RECORD PROCEDURE:

Specific materials in this system have been exempted from certain Privacy Act provisions regarding the amendment of records. The section of this notice Entitled “Systems Exempted from Certain Provisions of the Act” indicates the kind of materials exempted, and the reasons for exempting them. Any individual requesting amendment of non-exempt records should contact the appropriate the system manager. Individuals requesting amendment of records must comply with the Department's Privacy Act regulations at 29 CFR 71.1 and 71.9.

RECORD SOURCE CATEGORIES:

Information contained in this system is obtained from Federal, state or local government agencies, state licensing boards, professional organizations, claimants, patients, employers, insurance companies, any other entities or individuals, public documents, and newspapers, as well as from other Department of Labor systems of records.

SYSTEM EXEMPTED FROM CERTAIN PROVISIONS OF THE ACT:

In accordance with 5 U.S.C. 552a(k)(2), investigatory material compiled for law enforcement purposes which is maintained in the investigation files of the Office of Workers' Compensation Programs, is exempt from subsections (c)(3), (d), (e)(1), (e)(4)(G), (H), and (I), and (f) of 5 U.S.C. 552a. The disclosure of information contained in civil investigative files, including the names of persons and agencies to which the information has been transmitted, would substantially compromise the effectiveness of the investigation. Knowledge of such investigations would enable subjects to take such action as is necessary to prevent detection of illegal activities, conceal evidence or otherwise escape civil enforcement action. Disclosure of this information could lead to the intimidation of, or harm to, informants and witnesses, and their respective families, and the wellbeing of investigative personnel and their families.

OWCP-9

SYSTEM NAME:

Office of Workers' Compensation Programs, Black Lung Automated Support Package.

SECURITY CLASSIFICATION:

None.

SYSTEM LOCATION:

Office of Workers' Compensation Programs, Division of Coal Mine Workers' Compensation, U.S. Department of Labor Building, 200 Constitution Ave. NW., Washington, DC 20210, and district offices (see addresses in the Appendix to this document).

CATEGORIES OF INDIVIDUALS COVERED BY THE SYSTEM:

Individuals filing claims for black lung benefits; claimants receiving benefits; dependents of claimants and beneficiaries; medical providers; attorneys representing claimants; coal mine operators; workers' compensation insurance carriers.

CATEGORIES OF RECORDS IN THE SYSTEM:

Records included are personal (name, date of birth, SSN, claim type, miner's date of death); demographic (state, county, city, congressional district, zip code); mine employment history; medical records; initial determination; conference results; hearing results; medical and disability payment history; accounting information including data on debts owed to the United States; Social Security Administration black lung benefits data; state workers' compensation claim and benefits data; coal mine operator names, addresses, states of operation and histories of insurance coverage; and medical service providers' names, addresses, license numbers, medical specialties, tax identifications and payment histories.

AUTHORITY FOR MAINTENANCE OF THE SYSTEM:

30 U.S.C. 901 et seq., 20 CFR 725.1 et seq.

PURPOSE(S):

To maintain data on claimants, beneficiaries and their dependents; attorneys representing claimants; medical service providers; coal mine operators and insurance carriers. Provide means of automated payment of medical and disability benefits. Maintain a history of medical bills submitted by beneficiaries and medical service providers. Maintain a history of disability benefit payments made to beneficiaries and medical benefit payments made to beneficiaries and medical service providers. Maintain program accounting information including information on debts owed to the United States. Provide a means for the automatic recoupment of overpayments made to beneficiaries and medical service providers.

ROUTINE USES OF RECORDS MAINTAINED IN THE SYSTEM, INCLUDING CATEGORIES OF USERS AND THE PURPOSES OF SUCH USES:

In addition to those universal routine uses listed in the General Prefatory Statement to this document, disclosure of relevant and necessary information may be made to the following:

a. Mine operators (and/or any party providing the operator with workers' compensation insurance) who have been determined potentially liable for the claim at any time after the filing of a notice of injury or claim related to such injury or occupational illness, for the purpose of determining liability for payment.

b. State workers' compensation agencies and the Social Security Administration for the purpose of determining offsets as specified under the Act.

c. Doctors and medical services providers for the purpose of obtaining medical evaluations, physical rehabilitation or other services.

d. Other Federal agencies conducting scientific research concerning the incidence and prevention of black lung disease.

e. Legal representatives, or person authorized to act on behalf of the claimant, responsible operator and program representation on contested issues.

f. Labor unions and other voluntary employee associations of which the claimant is a member for the purpose of exercising an interest in claims of members as part of their service to the members.

g. Contractors providing automated data processing services to the Department of Labor, or to any agency or entity to whom release is authorized, where the contractor is providing a service relating to the purpose for which the information can be released.

h. Federal, state or local agencies if necessary to obtain information relevant to a determination of initial or continuing eligibility for program benefits, whether benefits have been or are being paid improperly, including whether dual benefits prohibited under any federal or state law are being paid; and salary offset and debt collection procedures, including any action required by the Debt Collection Act of 1982, 31 U.S.C. 3711.

i. Debt collection agency that DOL has contracted for collection services to recover indebtedness owed to the United States.

j. Internal Revenue Service for the purpose of obtaining taxpayer mailing addresses in order to locate taxpayers to collect, compromise, or write-off a Federal claim against the taxpayer; discharging an indebtedness owed by an individual.

k. Credit Bureaus for the purpose of receiving consumer credit reports identifying the assets, liabilities, income and expenses of a debtor to ascertain the debtor's ability to pay a debt and to establish a payment schedule.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

DISCLOSURE TO CONSUMER REPORTING AGENCIES:

The amount, status and history of overdue debts; the name and address, taxpayer identification (SSAN), and other information necessary to establish the identity of a debtor, the agency and program under which the claim arose, are disclosed pursuant to 5 U.S.C. 552a(b)(12) to consumer reporting agencies as defined by section 603(f) of the Fair Credit Reporting Act (15 U.S.C. 1681a(f); or in accordance with section 3(d)(4)(A)(ii) of the Federal Claims Collection Act of 1966 as amended (31 U.S.C. 3711(f) for the purpose of encouraging the repayment of an overdue debt.

POLICIES AND PRACTICES FOR STORING, RETRIEVING, ACCESSING, RETAINING, AND DISPOSING OF RECORDS IN THE SYSTEM:

STORAGE:

Files are stored electronically and/or on paper.

RETRIEVABILITY:

Files are retrieved by coal miner's name and social security number; medical provider number; coal mine operator number; insurance carrier number.

SAFEGUARDS:

Access by authorized personnel only. Computer security safeguards are used for electronically stored data and locked locations for paper files.

RETENTION AND DISPOSAL:

Electronic file data has permanent retention. Claimant and benefit master file data will be transferred to magnetic tape and transmitted to NARA every ten years. This data (which includes both open and closed cases) will not be made available to the public until ninty years after transfer to NARA due to Privacy Act restrictions.

SYSTEM MANAGER(S) AND ADDRESS:

Director, Division of Coal Mine Workers' Compensation, U.S. Department of Labor, Room C-3520, 200 Constitution Ave. NW., Washington, DC 20210, and district office director (see addresses in The Appendix to this document).

NOTIFICATION PROCEDURE:

Inquiries should be mailed to the System Manager or submitted in such other manner as directed by OWCP.

RECORD ACCESS PROCEDURES:

A request for access should be mailed to the System Manager or submitted in such other manner as directed by OWCP.

CONTESTING RECORD PROCEDURES:

A petition for amendment should be mailed to the System Manager or submitted in such other manner as directed by OWCP.

RECORD SOURCE CATEGORIES:

Information contained in this system is obtained from individuals and organizations.

SYSTEMS EXEMPTED FROM CERTAIN PROVISIONS OF THE ACT:

Investigatory portion of system exempted from certain provisions of the Act: In accordance with paragraph 3(k)(2) of the Privacy Act, investigatory material compiled for civil law enforcement purposes, which is maintained in this system's files of the Office of Workers' Compensation Programs of the Employment Standards Administration, is exempt from paragraphs (c)(3), (d), (e)(1), (e)(4)(G), (H), and (I), and paragraph (f) of 5 U.S.C. 552a. The disclosure of civil investigatory information, if any, contained in this system's files, including the names of persons and agencies to whom the information has been transmitted, would substantially compromise the effectiveness of investigations. Knowledge of such investigations would enable subjects to take such action as is necessary to prevent detection of illegal activities, conceal evidence, or otherwise escape civil enforcement action. Disclosure of this information could lead to the intimidation of, or harm to informants, witnesses, and their respective families, and in addition, could jeopardize the safety and well-being of investigative personnel and their families.

DOL/OWCP-10

SYSTEM NAME:

Office of Workers' Compensation Programs, Federal Employees' Compensation Act (FEC) and Longshore and Harbor Workers' Compensation Act Rehabilitation Counselor Case Assignment, Contract Management and Performance Files and FEC Field Nurses.

SECURITY CLASSIFICATION:

None.

SYSTEM LOCATION:

Files concerning rehabilitation counselors are located in the Federal Employees' Compensation (FEC) and Longshore and Harbor Workers' Compensation (Longshore) District Offices where the counselor is certified. Files for FEC field nurses are found in FEC district offices. See the Appendix to this document for District Office addresses.

CATEGORIES OF INDIVIDUALS COVERED BY THE SYSTEM:

The rehabilitation counselor/nurse files cover individuals who have entered into a contract with the Office of Workers' Compensation Programs to provide rehabilitation counselor or nursing services under the Federal Employees' Compensation Act (FECA) and/or the Longshore and Harbor Workers' Compensation Act (LHWCA).

CATEGORIES OF RECORDS IN THE SYSTEM:

Names, addresses and information on qualifications of rehabilitation counselors/nurses certified by and under contract with OWCP to provide rehabilitation services to injured workers under the FECA and LHWCA or field nurse services under FECA. In addition there are records compiled and maintained by the rehabilitation specialist or the OWCP staff nurse, concerning the assignment of rehabilitation/field nurse cases to the counselor/nurse and the performance of the counselor/nurse in fulfilling the duties under the contract with OWCP.

AUTHORITY FOR MAINTENANCE OF THE SYSTEM:

33 U.S.C. 939(c)(2); 5 U.S.C. 8101 et seq.

PURPOSE(S):

These records are maintained to provide information about the rehabilitation counselor or field nurse, including the name, address, telephone number, counselor/nurse status, skill codes, number of referrals, status of referrals and notes. These notes can include evaluation of performance and other matters concerning performance of the contract.

ROUTINE USES OF RECORDS MAINTAINED IN THE SYSTEM, INCLUDING CATEGORIES OF USERS AND THE PURPOSES OF SUCH USES:

None, except for those universal routine uses listed in the General Prefatory Statement to this document.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

Note: Pursuant to 5 U.S.C. 552a(b)(1), information from this system of records may be disclosed to members and staff of the Benefits Review Board, the Employees' Compensation Appeals Board, the Office of Administrative Law Judges, the Office of the Solicitor and other components of the Department who have a need for the record in the performance of their duties.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by the name of the counselor/nurse through the database and/or files maintained in the appropriate OWCP district office.

SAFEGUARDS:

Access by authorized personnel only. Computer security safeguards are used for electronically stored data and locked locations for paper files.

RETENTION AND DISPOSAL:

Records are retained for two years after the rehabilitation counselor or field nurse have stopped providing services to OWCP.

SYSTEM MANAGER(S) AND ADDRESS:

Director for Longshore and Harbor Workers' Compensation, U.S. Department of Labor, 200 Constitution Avenue NW., Washington, DC 20210; and District Directors at the FECA district offices set forth in the Appendix.

NOTIFICATION PROCEDURE:

Inquiries should be mailed to the System Manager or submitted in such other manner as directed by OWCP.

RECORD ACCESS PROCEDURE:

A request for access should be mailed to the System Manager or submitted in such other manner as directed by OWCP.

CONTESTING RECORD PROCEDURES:

A petition for amendment should be mailed to the System Manager or submitted in such other manner as directed by OWCP.

RECORD SOURCE CATEGORIES:

Information contained in this system is obtained from rehabilitation counselors, field nurses, other individuals, correspondence, investigative reports, Federal and state agency records, any other record or document pertaining to a contract.

SYSTEM EXEMPTED FROM CERTAIN PROVISIONS OF THE ACT:

None.

DOL/OWCP-11

SYSTEM NAME:

Office of Workers' Compensation Programs, Energy Employees Occupational Illness Compensation Program Act File.

SECURITY CLASSIFICATION:

Most files and data are unclassified. Files and data in certain cases have Top Secret classification, but the rules concerning their maintenance and disclosure are determined by the agency that has classified the information.

SYSTEM LOCATION:

At component agency national, district, and contractor offices.

CATEGORIES OF INDIVIDUALS COVERED BY THE SYSTEM:

Individuals or their survivors who claim benefits under the Energy Employees Occupational Illness Compensation Program Act (EEOICPA). These individuals include, but are not limited to, Federal employees or survivors of Federal employees; and employees or survivors of employees of the United States Department of Energy, its predecessor agencies, and their contractors and subcontractors.

CATEGORIES OF RECORDS IN THE SYSTEM:

This system may contain the following kinds of records: Claim forms filed by or on behalf of individuals with illnesses or their survivors seeking benefits under the EEOICPA; reports by the employee and/or the United States Department of Energy; employment records; exposure records; safety records or other incident reports; dose reconstruction records; workers' or family members' contemporaneous diaries, journals, or other notes; forms authorizing medical care and treatment; other medical records and reports; bills and other payment records; compensation payment records; formal orders for or against the payment of benefits; transcripts of hearings conducted; and any other medical, employment, or personal information submitted or gathered in connection with a claim. The system may also contain information relating to dates of birth, marriage, divorce, and death; notes of telephone conversations conducted in connection with a claim; information relating to medical rehabilitation plans and progress reports; records relating to court proceedings, insurance, banking and employment; articles from newspapers and other publications; information relating to other benefits (financial and otherwise) that an employee and/or survivor may be entitled to, including previously filed claims; and information received from various investigative agencies concerning possible violations of Federal civil or criminal law.

The system may also contain consumer credit reports on individuals indebted to the United States, information relating to the debtor's assets, liabilities, income and expenses, personal financial statements, correspondence to and from the debtor, information relating to the location of the debtor, and other records an reports relating to the implementation of the Federal Claims Collection Act (as amended), including investigative reports or administrative review matters. Individual records listed here are included in a claim file only insofar as they may be pertinent or applicable to the individual claiming benefits.

AUTHORITY FOR MAINTENANCE OF THE SYSTEM:

Energy Employees Occupational Illness Compensation Program Act of 2000, Title XXXVI of Public Law 106-398, October 30, 2000, 114 Stat. 1654, and as amended.

PURPOSE(S):

To maintain records on individuals who file claims with the Department under EEOICPA, which establishes a program for compensating certain individuals for covered illnesses related to exposure to beryllium, radiation, silica, and other toxic substances. These records provide information and verification about individual claimants' covered illnesses that may be used to determine entitlement to medical treatment, compensation, and survivors' benefits under EEOICPA.

ROUTINE USES OF RECORDS MAINTAINED IN THE SYSTEM, INCLUDING CATEGORIES OF USERS AND THE PURPOSES OF SUCH USES:

In addition to those universal routine uses listed in the General Prefatory Statement to this document, disclosure of information from this system of records may be made to the following individuals and entities for the purposes noted when the purpose of the disclosure is both relevant and necessary and is compatible with the purpose for which the information was collected:

a. To any attorney or other representative of an EEOICPA beneficiary for the purpose of assisting in a claim or litigation against a third party or parties potentially liable to pay damages as a result of the beneficiary's compensable condition, and for the purpose of administering the provisions of §§ 3641-3642 of the EEOICPA. Any such third party, or a representative acting on that third party's behalf, may be provided with information or documents concerning the existence of a record and the amount and nature of compensation paid to or on behalf of the beneficiary for the purpose of assisting in the resolution of the claim or litigation against that party or administering the provisions of §§ 3641-3642 of the EEOICPA.

b. To the United States Department of Energy, its contractors and subcontractors, and the Federal agency that employed the employee at the time of the alleged exposure, as well as to other entities that may possess relevant information, to assist in administering the EEOICPA, to answer questions about the status of the claim, to consider other actions the agency or entity may be required to take with regard to the claim, or to permit the agency or entity to evaluate its safety and health program. Disclosure to other Federal agencies, including the Department of Justice, may be made when OWCP determines that such disclosure is relevant and necessary for the purpose of providing assistance in regard to asserting a defense based upon the EEOICPA's exclusive remedy provision to an administrative claim or to litigation filed under the Federal Tort Claims Act.

c. To the personnel, contractors, grantees, and cooperative agreement holders of the Department of Energy, the Department of Health and Human Services, the Department of Justice, and other Federal agencies designated by the President to implement the Federal compensation program established by the EEOICPA, for the purpose of assisting in the adjudication or processing of a claim under that Act.

d. To physicians, pharmacies, and other health care providers for their use in treating the claimant, conducting an examination, preparing an evaluation on behalf of OWCP, and for other purposes relating to the medical management of the claim including evaluation of a payment for charges of medical and related services and supplies.

e. To medical insurance or health and welfare plans (or their designees) that cover the claimant in instances where OWCP had paid for treatment of a medical condition that is not compensable under the EEOICPA, or where a medical insurance plan or health and welfare plan has paid for treatment of a medical condition that may be compensable under the EEOICPA, for the purpose of resolving the appropriate source of payment in such circumstances.

f. To a Federal, State or local agency for the purpose of obtaining information relevant to a determination concerning initial or continuing eligibility for EEOICPA benefits, and for a determination concerning whether benefits have been or are being properly paid, including whether dual benefits that are prohibited under any applicable Federal or State statute are being paid. In addition, for the purpose of utilizing salary offset and debt collection procedures, including those actions required by the Debt Collection Act of 1982, to collect debts arising as a result of overpayments of EEOICPA compensation and debts otherwise related to the payment of EEOICPA benefits.

g. To the Internal Revenue Service (IRS) in order to obtain taxpayer mailing addresses for the purposes of locating a taxpayer to collect, compromise, or write-off a Federal claim against such taxpayer; and informing the IRS of the discharge of a debt owed by an individual. Records from this system of records may also be disclosed to the IRS for the purpose of offsetting a Federal claim from any income tax refund that may be due to the debtor.

h. Where an investigation, settlement of claims, or the preparation and conduct of litigation is undertaken, a record may be disclosed to (1.) a person representing the United States or the Department in the investigation, settlement or litigation, and to individuals assisting in such representation; (2.) others involved in the investigation, settlement, and litigation, and their representatives and assistants; and (3.) a witness, potential witness, or their representatives and assistants, and to any other person who possesses information pertaining to the matter, when such disclosure is necessary for the conduct of the investigation, settlement, or litigation, or is necessary to obtain information or testimony relevant to the matter.

i. To the Defense Manpower Data Center—Department of Defense and the United States Postal Service to conduct computer matching programs for the purpose of identifying and locating individuals who are receiving Federal salaries or benefit payments and are delinquent in their repayment of debts owed to the United States under programs administered by the Department in order to collect the debts under the provisions of the Debt Collection Act of 1982 (Pub. L. 97-365) by voluntary repayment, or by salary or administrative offset procedures.

j. To a credit bureau for the purpose of obtaining consumer credit reports identifying the assets, liabilities, expenses, and income of a debtor in order to ascertain the debtor's ability to repay a debt incurred under EEOICPA, to collect the debt, or to establish a payment schedule.

k. The amount, status and history of overdue debts, the name and address, taxpayer identification (SSN), and other information necessary to establish the identity of a debtor, the agency and program under which the claim arose, may be disclosed pursuant to 5 U.S.C. 552a(b)(12) to consumer reporting agencies as defined by section 603(f) of the Fair Credit Reporting Act (15 U.S.C. 1681a(f)) or in accordance with section 3(d)(4)(A)(ii) of the Federal Claims Collection Act of 1966 as amended (31 U.S.C. 3711(f)) for the purpose of encouraging the repayment of an overdue debt.

l. To individuals, and their attorneys and other representatives, and government agencies, seeking to enforce a legal obligation on behalf of such individual or agency, to pay alimony and/or child support for the purpose of enforcing such an obligation, pursuant to an order of a state or local court of competent jurisdiction, including Indian tribal courts, within any State, territory, or possession of the United States, or the District of Columbia or to an order of a State agency authorized to issue income withholding notices pursuant to State or local law or pursuant to the requirements of § 666(b) of title 42, U.S.C., or for the purpose of denying the existence of funds subject to such legal obligation.

m. To the spouse, children, parents, grandchildren, or grandparents of deceased employees who may be covered under the EEOICPA to enable them to assess their eligibility for benefits under the EEOICPA, and to inform them of decisions regarding benefit eligibility, so that they have the opportunity to take action to protect any rights they may have as potentially eligible beneficiaries.

n. To a Member of Congress or to a Congressional Staff Member in response to an inquiry made by an individual seeking assistance who is the subject of the record being disclosed for the purpose of providing such assistance.

Note: Disclosure of information contained in this system of records to the subject of the record, a person who is duly authorized to act on his or her behalf, or to others to whom disclosure is authorized by these routine uses, may be made over the telephone or by electronic means. Disclosure over the telephone or by electronic means will only be done where the requestor provides appropriate identifying information. Telephonic or electronic disclosure of information is essential to permit efficient administration and adjudication of claims under EEOICPA.

DISCLOSURE TO CONSUMER REPORTING AGENCIES:

The amount, status and history of overdue debts, the name and address, taxpayer identification (SSN), and other information necessary to establish the identity of a debtor, the agency and program under which the claim arose, may be disclosed pursuant to 5 U.S.C. 552a(b)(12) to consumer reporting agencies as defined by section 603(f) of the Fair Credit Reporting Act (15 U.S.C. 1681a(f)) or in accordance with section 3(d)(4)(A)(ii) of the Federal Claims Collection Act of 1966 as amended (31 U.S.C. 3711(f)) for the purpose of encouraging the repayment of an overdue debt.

POLICIES AND PRACTICES FOR STORING, RETRIEVING, ACCESSING, RETAINING, AND DISPOSING OF RECORDS IN THE SYSTEM:

STORAGE:

Records are stored in electronic and/or paper form.

RETRIEVABILITY:

Files, electronic records, and automated data are retrieved after identification by coded file number and/or Social Security Number which is cross-referenced to employee by name, employer and/or contractor, and nature of the illness.

SAFEGUARDS:

Access by authorized personnel only. Computer security safeguards are used for electronically stored data and locked locations for paper files.

RETENTION AND DISPOSAL:

Case files are considered closed when no activity has taken place for two years (after date of final action). The closed files are to be held in the district offices for three years, then transferred to Federal Records Center and destroyed twenty years after the date of the final decision. Electronic records and reports are to be destroyed when the information is no longer needed. Output, master file and documentation pertaining to the master file are replaced or destroyed when no longer needed.

SYSTEM MANAGER(S) AND ADDRESS:

Director for Energy Employees Occupational Illness Compensation, Office of Workers' Compensation Programs, 200 Constitution Avenue NW., Washington, DC 20210.

NOTIFICATION PROCEDURE:

An individual wishing to inquire whether this system of records contains information about him/her may write or telephone the OWCP district office that services the State in which the individual resided or worked at the time he or she believes a claim was filed. In order for the record to be located, the individual must provide his or her full name, OWCP claim number (if known), and date of birth.

RECORD ACCESS PROCEDURE:

Any individual seeking access to non-exempt information about a case in which he/she is a party in interest may write or telephone the OWCP district office where the case is located, or may contact the systems manager.

CONTESTING RECORD PROCEDURES:

Any individual requesting amendment of non-exempt records should contact the appropriate OWCP district office, or the system manager. Individuals requesting amendment of records must comply with the Department's Privacy Act regulations at 29 CFR 71.1 and 71.9.

RECORD SOURCE CATEGORIES:

Employees who are the subject of the record and their family members; employing Federal agencies; current and former Federal contractors and subcontractors and their family members; State governments, State agencies, and other Federal agencies; State and Federal workers' compensation offices; physicians and other medical professionals; hospitals; clinics; medical laboratories; suppliers of health care products and services and their agents and representatives; educational institutions; attorneys; Members of Congress; OWCP field investigations; consumer credit reports; investigative reports; correspondence with the debtor including personal financial statements; records relating to hearings on the debt; and other Department systems of records.

SYSTEMS EXEMPTED FROM CERTAIN PROVISIONS OF THE ACT:

In accordance with 5 U.S.C. 552a(k)(2), investigative material in this system of records compiled for law enforcement purposes is exempt from subsections (c)(3), (d), (e)(1), (e)(4)(G), (H) and (I), and (f) of 5 U.S.C. 552a, provided, however, that if any individual is denied any right, privilege, or benefit that he or she would otherwise be entitled to by Federal law, or for which he or she would otherwise be eligible, as a result of the maintenance of those records, such material shall be provided to the individual, except to the extent that the disclosure of the material would reveal the identity of a source who furnished information to the Government under an express promise that the identity of the source would be held in confidence, or prior to January 1, 1975, under an implied promise that the identity of the source would be held in confidence.

DOL/OWCP-12

SYSTEM NAME:

Office of Workers' Compensation Programs, Physicians and Health Care Providers Excluded under the Energy Employees Occupational Illness Compensation Program Act.

SECURITY CLASSIFICATION:

None.

SYSTEM LOCATION:

At component agency national, district, and contractor offices.

CATEGORIES OF INDIVIDUALS COVERED BY THE SYSTEM:

Providers of medical goods and services, including physicians, hospitals, and providers of medical support services or supplies excluded or considered for exclusion from payment under the Energy Employees Occupational Illness Compensation Program Act (EEOICPA) for fraud or abuse (20 CFR 30.715-30.726, or as updated).

CATEGORIES OF RECORDS IN THE SYSTEM:

Copies of letters, lists and documents from Federal and State agencies concerning the administrative debarment of providers from participation in programs providing benefits similar to those of the EEOICPA and their reinstatement; material concerning possible fraud or abuse which could lead to exclusion of a provider; documents relative to reinstatement of providers, materials concerning the conviction of providers for fraudulent activities in connection with any Federal or State program for which payments are made to providers for similar medical services; all letters, memoranda, and other documents regarding the consideration of a provider's exclusion, the actual exclusion, or reinstatement under the provisions of 20 CFR 30.715-30.726 (or as updated); copies of all documents in a claim file relating to medical care and/or treatment including bills for such services, as well as letters, memoranda, and other documents obtained during investigations, hearings and other administrative proceedings concerning exclusion for fraud or abuse, as well as reinstatement, along with recommendations and decisions; lists of excluded providers released by OWCP.

AUTHORITY FOR MAINTENANCE OF THE SYSTEM:

Energy Employees Occupational Illness Compensation Program Act of 2000, Title XXXVI of Public Law 106-398, October 30, 2000, 114 Stat. 1654, and as amended.

PURPOSE(S):

To maintain records in order to determine the propriety of instituting debarment actions under EEOICPA. These records also provide information regarding treatment, billing and other aspects of a medical provider's actions, and/or documentation relating to the debarment of the medical care provider under another Federal or State program.

ROUTINE USES OF RECORDS MAINTAINED IN THE SYSTEM, INCLUDING CATEGORIES OF USERS AND THE PURPOSES OF SUCH USES:

In addition to the universal routine uses listed in the General Prefatory Statement to this document, the disclosure of information from this system of records may be made to the following individuals and entities for the purposes noted when the purpose of the disclosure is compatible with the purpose for which the information is collected:

a. Federal, State or local government agencies, State licensing boards, professional organizations, claimants, patients, employers, insurance companies, and any other entities or individuals, for the purpose of identifying an excluded or reinstated provider to ensure that authorization is not issued nor payment made to an excluded provider, and for the purpose of providing notice that a formerly excluded provider has been reinstated.

b. Federal, State or local government agencies, State licensing boards, professional organizations, claimants, patients, employers, insurance companies, and any other entities or individuals, for the purpose of obtaining information necessary to ensure that the list of excluded providers is correct, useful, and updated, as appropriate, and for the purpose of obtaining information relevant to a Departmental decision regarding a debarment action. This routine use encompasses the disclosure of such information that will enable the Department to properly verify the identity of a provider, to identify the nature of a violation, and the penalty imposed for such violation.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or in paper form.

RETRIEVABILITY:

Files are retrieved either by the name of the provider, case citation, or date of release.

SAFEGUARDS:

Access by authorized personnel only. Computer security safeguards are used for electronically stored data and locked locations for paper files.

RETENTION AND DISPOSAL:

Specific electronic data tables received from the Department of Health and Human Services (HHS) should be deleted from the server when HHS advises that the period of exclusion has expired due to reinstatement. The Master file is maintained in a separate file on the National Office server and they are to be destroyed when they are no longer needed. Hard copies of reports are to be destroyed when new reports are generated. In-house exclusions and correspondence files are retained until debarment action is finalized and then transferred to the Federal Records Center at the end of the fiscal/annual year, and destroyed 30 years after the date of final debarment action. Documentation relating to a master file, database and other electronic records are destroyed or deleted upon authorized deletion of the related electronic records or upon the destruction of the output of the system if the output is needed to protect legal rights, whichever is later.

SYSTEM MANAGER(S) AND ADDRESS:

Director for Energy Employees Occupational Illness Compensation, Office of Workers' Compensation Programs, 200 Constitution Avenue NW., Washington, DC 20210.

NOTIFICATION PROCEDURE:

An individual wishing to inquire whether this system of records contains information about him/her may write to the system manager at the address above. In order for the record to be located, the individual must provide his or her full name, date of birth, and signature.

RECORD ACCESS PROCEDURES:

Any individual seeking access to non-exempt information about a record within this system of records may write the system manager, and arrangements will be made to provide review of the file. In order for the record to be located, the individual must provide his or her full name, date of birth, and signature.

CONTESTING RECORD PROCEDURES:

A petition for amendment should be mailed to the System Manager.

RECORD SOURCE CATEGORIES:

Information in this system is obtained from Federal, State or local government agencies, state licensing boards, professional organizations, claimants, patients, employers, insurance companies, any other entities or individuals, public documents, and newspapers, as well as from other Department systems of records.

SYSTEMS EXEMPTED FROM CERTAIN PROVISIONS OF THE ACT:

In accordance with 5 U.S.C. 552a(k)(2), investigatory material compiled for law enforcement purposes which is maintained in the investigation files of OWCP, is exempt from subsections (c)(3), (d), (e)(1), (e)(4)(G), (H), and (I), and (f) of 5 U.S.C. 552a. The disclosure of information contained in civil investigative files, including the names of persons and agencies to which the information has been transmitted, would substantially compromise the effectiveness of the investigation. Knowledge of such investigations would enable subjects to take such action as is necessary to prevent detection of illegal activities, conceal evidence or otherwise escape civil enforcement action. Disclosure of this information could lead to the intimidation of, or harm to, informants and witnesses, and their respective families, and the wellbeing of investigative personnel and their families.

SOL—DOL Office of the Solicitor Systems of Records

DOL/SOL-3

SYSTEM NAME:

Tort Claim Files.

SECURITY CLASSIFICATION:

None.

SYSTEM LOCATION:

Office of the Solicitor, Division of Federal Employees' and Energy Workers' Compensation, 200 Constitution Avenue NW., Washington, DC 20210-0002; Offices of the Regional Solicitors and Associate Regional Solicitors at various field locations set forth in the Appendix.

CATEGORIES OF INDIVIDUALS COVERED BY THE SYSTEM:

Individuals filing claims for damages under the Federal Tort Claims Act.

CATEGORIES OF RECORDS IN THE SYSTEM:

Federal Tort Claim Act files, including claims forms and supporting documents filed by claimants, agency records, administrative reports and supporting documents prepared by the agency involved, internal memoranda, legal pleadings, decisions, and other documents received in connection with Federal Tort Claims Act administrative claims and litigation.

AUTHORITY FOR MAINTENANCE OF THE SYSTEM:

28 U.S.C. 2671 et seq.; 29 CFR part 15.

PURPOSE(S):

To maintain records necessary for adjudication of claims and defense of litigation filed under the Federal Tort Claims Act.

ROUTINE USES OF RECORDS MAINTAINED IN THE SYSTEM, INCLUDING CATEGORIES OF USERS AND THE PURPOSES OF SUCH USES:

In addition to those universal routine uses contained in the General Prefatory Statement to this document, where an administrative claim or litigation under the Federal Tort Claims Act is filed with or involves allegations concerning more than one federal agency, relevant information in this system of records, including documents submitted in support of the administrative claim, may be disclosed to the relevant agency or agencies for their input and independent adjudication of the claim.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Files are retrieved by the name of claimant.

SAFEGUARDS:

Access by authorized personnel only. Computer security safeguards are used for electronically stored data and locked locations for paper files.

RETENTION AND DISPOSAL:

Records are retained for as long as a case file remains open. Upon conclusion of the matter, files are retained for two years then transferred to the Federal Records Center for two years and, thereafter, destroyed, in accordance with DOL/SOL Records Schedule Number DAA-0174-0006.

SYSTEM MANAGER(S) AND ADDRESS:

Associate Solicitor for Federal Employees' and Energy Workers' Compensation in Washington, DC, and Regional Solicitors and Associate Regional Solicitors in various locations in the field.

NOTIFICATION PROCEDURE:

Inquiries should be mailed to the appropriate System Managers.

RECORD ACCESS PROCEDURE:

A request for access should be mailed to the appropriate System Manager.

CONTESTING RECORD PROCEDURES:

A petition for amendment should be mailed to the appropriate System Manager.

RECORDS SOURCE CATEGORIES:

Information contained in this system is obtained from claimants, current and former employers, witnesses, physicians and/or medical providers, insurance companies, attorneys, police, hospitals, and other persons.

SYSTEMS EXEMPTED FROM CERTAIN PROVISIONS OF THE ACT:

None.

DOL/SOL-5

SYSTEM NAME:

Workforce Investment Act Tort Claim Files.

SECURITY CLASSIFICATION:

None.

SYSTEM LOCATION:

Offices of the Regional Solicitors, U.S. Department of Labor.

CATEGORIES OF INDIVIDUALS COVERED BY THE SYSTEM:

Claimants.

CATEGORIES OF RECORDS IN THE SYSTEM:

Tort claims, including negligence, medical, personnel and legal reports, summaries, correspondence, and memoranda.

AUTHORITY FOR MAINTENANCE OF THE SYSTEM:

29 U.S.C. 1501 et seq. and the Workforce Investment Act, 29 U.S.C. 2801 et seq.; the Workforce Innovation and Opportunity Act, 29 U.S.C. 3101 et seq.; 29 CFR part 15.

PURPOSE(S):

To allow adjudication of claims filed under the Workforce Investment Act and Workforce Innovation and Opportunity Act.

ROUTINE USES OF RECORDS MAINTAINED IN THE SYSTEM, INCLUDING CATEGORIES OF USERS AND THE PURPOSES OF SUCH USES:

None, except for those universal routine uses contained in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by the name of claimant.

SAFEGUARDS:

Access by authorized personnel only. Computer security safeguards are used for electronically stored data and locked locations for paper files.

RETENTION AND DISPOSAL:

Records are retained until completion of a case. Thereafter, the files are retained in the Office of the Solicitor for two years, then retired to the appropriate Federal Records Center for three years and then destroyed in accordance with DOL/SOL Records Schedule Number DAA-0174-0006.

SYSTEM MANAGER(S) AND ADDRESS:

Regional Solicitors and Associate Regional Solicitors, U.S. Department of Labor. See the Appendix of this document for the regional addresses.

NOTIFICATION PROCEDURE:

Inquiries should be mailed to the appropriate System Manager.

RECORD ACCESS PROCEDURES:

A request for access should be mailed to the System Manager.

CONTESTING RECORD PROCEDURES:

A petition for amendment should be mailed to the System Manager.

RECORD SOURCE CATEGORIES:

Information contained in this system is obtained from claimants, current and former employers, witnesses, physicians, insurance companies, attorneys, police, hospitals, and other individuals.

SYSTEMS EXEMPTED FROM CERTAIN PROVISIONS OF THE ACT:

None.

DOL/SOL-6

SYSTEM NAME:

Military Personnel and Civilian Employees' Claims.

SECURITY CLASSIFICATION:

None.

SYSTEM LOCATION:

Office of the Solicitor, Division of Federal Employees' and Energy Workers' Compensation, 200 Constitution Avenue NW., Washington, DC 20210-0002; Offices of the Regional Solicitors and Associate Regional Solicitors at various regional locations set forth in the Appendix to this document.

CATEGORIES OF INDIVIDUALS COVERED BY THE SYSTEM:

Current or former employees of the Department of Labor filing claims under the Military Personnel and Civilian Employees' Claims Act to recover for the loss of or damage to personal property incident to their service.

CATEGORIES OF RECORDS IN THE SYSTEM:

Claim files, including claim forms, accident, investigative, medical or personnel reports, witness statements, summaries, correspondence and memoranda.

AUTHORITY FOR MAINTENANCE OF THE SYSTEM:

31 U.S.C. 3721; 29 CFR part 15.

PURPOSE(S):

To maintain records necessary for adjudication of claims filed under the Military Personnel and Civilian Employees' Claims Act.

ROUTINE USES OF RECORDS MAINTAINED IN THE SYSTEM, INCLUDING CATEGORIES OF USERS AND THE PURPOSES OF SUCH USES:

None, except for those universal routine uses contained in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Files are stored electronically and/or on paper.

RETRIEVABILITY:

Files are retrieved by the name of claimant.

SAFEGUARDS:

Access by authorized personnel only. Computer security safeguards are used for electronically stored data and locked locations for paper files.

RETENTION AND DISPOSAL:

Records are retained for as long as the case is open in the office handling the claim. Upon conclusion of the matter, files are retained for two years and then transferred to the Federal Records Center for three years and then destroyed in accordance with DOL/SOL Records Schedule Number DAA-0174-0006.

SYSTEM MANAGER(S) AND ADDRESS:

Associate Solicitor for Federal Employees' and Energy Workers' Compensation in Washington, DC, and Regional Solicitors and Associate Regional Solicitors at various regional locations set forth in the Appendix to this document.

NOTIFICATION PROCEDURES:

Inquiries should be mailed to the appropriate System Manager.

RECORD ACCESS PROCEDURES:

A request for access should be mailed to the appropriate System Manager.

CONTESTING RECORD PROCEDURE:

A petition for amendment should be mailed to the appropriate System Manger.

RECORDS SOURCE CATEGORIES:

Information contained in this system is obtained from claimants, current and former employers, witnesses, physicians and/or medical providers, insurance companies, attorneys, police, hospitals, and other persons.

SYSTEMS EXEMPTED FROM CERTAIN PROVISIONS OF THE ACT:

None.

DOL/SOL-9

SYSTEM NAME:

Freedom of Information Act and Privacy Act Appeal Files.

SECURITY CLASSIFICATION:

None.

SYSTEM LOCATION:

Office of the Solicitor, Division of Legislation and Legal Counsel, U.S. Department of Labor, 200 Constitution Avenue NW., Washington, DC 20210.

CATEGORIES OF INDIVIDUALS COVERED BY THE SYSTEM:

This system encompasses all individuals who submit administrative appeals under the Freedom of Information and Privacy Acts.

CATEGORIES OF RECORDS IN THE SYSTEM:

Each file generally contains the appeal letter, the initial request, the initial agency determination, and other records necessary to make a determination on the appeal, including copies of unsanitized records responsive to the request. When a determination is made on the appeal, the determination letter is added to the file.

AUTHORITY FOR MAINTENANCE OF THE SYSTEM:

The Freedom of Information Act (5 U.S.C. 552); the Privacy Act of 1974 (5 U.S.C. 552a); and 5 U.S.C. 301.

PURPOSE(S):

These records are maintained to process an individual's administrative appeal made under the provisions of the Freedom of Information and the Privacy Acts. The records are also used to prepare the Department's annual reports to OMB and Congress required by the Privacy and the Freedom of Information Acts.

ROUTINE USES OF RECORDS MAINTAINED IN THE SYSTEM INCLUDING CATEGORIES OF USERS AND THE PURPOSES OF SUCH USES:

These records, and information in these records, that is relevant and necessary may be used:

a. To disclose information to Federal agencies (e.g., Department of Justice) in order to obtain advice and recommendations concerning matters on which the agency has specialized experience or competence, for use by the Office of the Solicitor in making required appeal determinations and related dispositions under the Freedom of Information Act or the Privacy Act of 1974.

b. To disclose information to any source from which additional information is requested (to the extent necessary to identify the individual, inform the source of the purpose of the appeal, and to identify the type of information involved in an appeal), where necessary to obtain information relative to a decision concerning a Freedom of Information or Privacy Act appeal.

c. To disclose, in response to a request for discovery or for appearance of a witness, information that is relevant to the subject matter involved in a pending judicial or administrative proceeding.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by the name of the individual making the appeal. Electronic records are retrieved by the name of the appellant, the appellant's law firm, the original requester, the subject, the denying officer, the disposition date, and the case number.

SAFEGUARDS:

Access by authorized personnel only. Computer security safeguards are used for electronically stored data and locked locations for paper files.

RETENTION AND DISPOSAL:

Records are retained for six years until after final agency determination or three years after final court adjudication, whichever is later.

SYSTEM MANAGER(S) AND ADDRESS:

Solicitor of Labor, U.S. Department of Labor, Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from:

a. The individual who is the subject of the records;

b. Official personnel documents of the agency, including records from any other agency system or records included in this notice;

c. Agency officials who responded initially to the Freedom of Information and Privacy Act requests;

d. Other sources whom the agency believes have information pertinent to an agency decision on a Freedom of Information or Privacy Act appeal.

SYSTEMS EXEMPTED FROM CERTAIN PROVISIONS OF THE ACT:

The Department of Labor has claimed exemptions for several of its other systems of records under 5 U.S.C. 552a(k)(1), (2), (3), (5), and (6). During the course of processing a Freedom of Information or Privacy Act appeal, exempt materials from those other systems may become part of the case record in this system. To the extent that copies of exempt records from those other systems are entered into these Freedom of Information and Privacy Act appeals files, the Department has claimed the same exemptions for the records as they have in the original primary system or records of which they are a part.

DOL/SOL-15

SYSTEM NAME:

Solicitor's Office Litigation Files.

SECURITY CLASSIFICATION:

None.

SYSTEM LOCATION:

National and regional locations of the Office of the Solicitor; and offices of the Department of Labor's Human Resources Center and personnel offices in Washington, DC, and regional locations.

CATEGORIES OF INDIVIDUALS COVERED BY THE SYSTEM:

Plaintiffs, defendants, respondents, witnesses and other individuals who may have provided information relating to, or who may have been involved in matters that are part of litigation in which the Department is involved.

CATEGORIES OF RECORDS IN THE SYSTEM:

The system contains records, including settlement agreements, gathered by the various Offices of the Solicitor. The records may be derived from materials filed with the Department, court records, pleadings, statements of witnesses, information received from Federal, State, local and foreign regulatory organizations and from other sources. The system also contains records that incorporate the work product of the various Solicitor offices and other privileged documents.

AUTHORITY FOR MAINTENANCE OF THE SYSTEM:

5 U.S.C. 301.

PURPOSE(S):

These records are maintained for the purpose of prosecuting violations of labor laws, for defending lawsuits and claims brought against the Department, and for otherwise representing the Department in litigation matters.

ROUTINE USES OF RECORDS MAINTAINED IN THE SYSTEM, INCLUDING CATEGORIES OF USERS AND THE PURPOSES OF SUCH USE:

None, except for those universal routine uses listed in the General Prefatory Statement to this document.

POLICIES AND PRACTICES FOR STORING, RETRIEVING, ACCESSING, RETAINING, AND DISPOSING OF RECORDS IN THE SYSTEM:

STORAGE:

Files are stored electronically and/or on paper.

RETRIEVABILITY:

By name.

SAFEGUARDS:

Access by authorized personnel only. Computer security safeguards are used for electronically stored data and locked locations for paper files.

RETENTION AND DISPOSAL:

Retention and disposal of the records will be governed in accordance with the applicable disposition instruction in the DOL/SOL Records Schedule DAA-0174-0006.

SYSTEM MANAGER(S) AND ADDRESS:

The appropriate Associate Solicitor, Regional Solicitor, or Associate Regional Solicitor, Office of the Solicitor, U.S. Department of Labor, 200 Constitution Avenue NW., Washington, DC 20210 and regional offices.

NOTIFICATION PROCEDURE:

Inquiries should be mailed or presented to the appropriate System Manager at the address listed above.

RECORD ACCESS PROCEDURES:

A request for access shall be addressed to the System Manager at the address listed above.

CONTESTING RECORD PROCEDURES:

A petition for amendments shall be addressed to the appropriate System Manager and must meet the requirements of 29 CFR 71.9.

RECORD SOURCE CATEGORIES:

Component agency investigative files; investigators; other law enforcement personnel; attorneys; witnesses; informants; other individuals; Federal, State and local agencies; opinion files; miscellaneous files.

SYSTEMS EXEMPTED FROM CERTAIN PROVISIONS OF THE ACT:

Under the specific exemption authority provided by 5 U.S.C. 552a(k)(2), this system is exempt from the following provisions of the Privacy Act: 5 U.S.C. 552a(c)(3), (d), (e)(l), (e)(4)(G), (H), (I), and (f) of the Act. Disclosure of the information contained in this system to the subject of the record could enable the subject of the record to take action to escape prosecution and could avail the subject greater access to information than that already provided under rules of discovery. In addition, disclosure of information might lead to intimidation of witnesses, informants, or their families, and impair future investigations by making it more difficult to collect similar information.

DOL/SOL-18

SYSTEM NAME:

Matter Management System (MMS).

SECURITY CLASSIFICATION:

None.

SYSTEM LOCATION:

Silver Spring Data Center, 12401 Prosperity Drive, Silver Spring, MD 20904.

CATEGORIES OF INDIVIDUALS COVERED BY THE SYSTEM:

Attorneys and paralegal specialists, individuals and/or parties involved in pending and active litigation, opinion and advice, and regulation review legal services.

CATEGORIES OF RECORDS IN THE SYSTEM:

Records which identify pending and active litigation, opinion and advice, and regulation review legal services provided to support DOL and its component agencies and the time spent by attorneys providing legal services.

AUTHORITY FOR MAINTENANCE OF THE SYSTEM:

5 U.S.C. 301; 5 U.S.C. 552; and 5 U.S.C. 552a.

PURPOSE(S):

To provide information to manage resources, monitor operational performance and support budget activities.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, SECURING, RETAINING, AND DISPOSING OF RECORDS IN THE SYSTEM:

STORAGE:

Files are stored electronically and/or on paper.

RETRIEVABILITY:

Files are retrieved by name of the attorney, paralegal specialist, and matter name which includes the name of individuals and/or parties involved in cases and other legal matters.

SAFEGUARDS:

Access by authorized personnel only. Computer security safeguards are used for electronically stored data and locked locations for paper files.

RETENTION AND DISPOSAL:

Retention and disposal of the records will be governed in accordance with the applicable disposition instruction in the DOL/SOL Records Schedule DAA-0174-0006.

SYSTEM MANAGER(S) AND ADDRESS:

Department of Labor, Associate Solicitor, Office of Management and Administrative Legal Services, Office of the Solicitor, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from litigation case files, opinion and advice files, and regulation review files.

SYSTEMS EXEMPTED FROM CERTAIN PROVISIONS OF THE PRIVACY ACT:

The Department of Labor has claimed exemptions for several of its other systems of records under 5 U.S.C. 552a(k)(1), (2), (3), (5), and (6). During the course of processing a Freedom of Information or Privacy Act appeal, exempt materials from those other systems may become part of the case record in this system. To the extent that copies of exempt records from those other systems are entered into the Freedom of Information and Privacy Act appeals files, the Department has claimed the same exemptions for the records as they have in the original primary system or records of which they are a part.

DOL/SOL-19

SYSTEM NAME:

Evidence Management System (EMS).

SECURITY CLASSIFICATION:

None.

SYSTEM LOCATION:

Contractor-based Data Centers, including one presently located at 13640 Briarwick Drive, Austin, Texas 78729, and the Data Center maintained by the U.S. Department of Labor, 200 Constitution Ave. NW., Washington, DC.

CATEGORIES OF INDIVIDUALS COVERED BY THE SYSTEM:

Attorneys and paralegal specialists; contractors and other staff employed or retained by SOL; individuals, entities and/or parties involved in pending and active litigation, investigation or facilitated resolution matters.

CATEGORIES OF RECORDS IN THE SYSTEM:

The system contains documents and records received from individuals and private parties as well as federal, state, local and foreign governments and organizations, as well as additional analysis derived from these documents. These materials also include documents filed with or obtained by the Department of Labor, such as court records, pleadings, and witness statements. The system also contains records that incorporate the work product of the various SOL offices and other privileged documents.

AUTHORITY FOR MAINTENANCE OF THE SYSTEM:

5 U.S.C. 301, 5 U.S.C. 552, and 5 U.S.C. 552a.

PURPOSE(S):

These records are maintained for the purpose of investigating and/or initiating enforcement actions involving alleged violations of federal labor laws, developing administrative regulations, and defending law suits and claims brought against the Department of Labor.

ROUTINE USES OF RECORDS MAINTAINED IN THE SYSTEM INCLUDING CATEGORIES OF USERS AND THE PURPOSES OF SUCH USE:

None, except for those universal routine uses listed in the General Prefatory Statement to this document.

DISCLOSURE TO CONSUMER REPORTING AGENCIES:

None.

POLICIES AND PRACTICES FOR STORING, RETRIEVING, SECURING, RETAINING, AND DISPOSING OF RECORDS IN THE SYSTEM:

STORAGE:

Files are stored electronically; source materials from which electronic files are derived may originate in hardcopy form.

RETRIEVABILITY:

Files are retrieved by plaintiff's name, defendant's name, case identification number, or other identifying information of individuals, entities and/or parties involved in pending and active litigation, investigation or facilitated resolution matters.

SAFEGUARDS:

Access by authorized personnel only. Computer security safeguards are used for electronically stored data and locked locations for associated paper files.

RETENTION AND DISPOSAL:

Retention and disposal of the records will be governed in accordance with the applicable disposition instruction in the DOL/SOL Records Schedule DAA-0174-0006.

SYSTEM MANAGER(S) AND ADDRESS:

Department of Labor, Associate Solicitor, Office of Management and Administrative Legal Services, Office of the Solicitor, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to System Manager.

RECORD SOURCE CATEGORIES:

Information contained in this system is obtained from DOL employees, individuals, entities and other private parties as well as federal, state, local and foreign governments and organizations involved in pending and active litigation, investigation, oversight, or facilitated resolution matters.

SYSTEMS EXEMPTED FROM CERTAIN PROVISIONS OF THE PRIVACY ACT:

The Department of Labor has claimed exemptions for several of its other systems of records under 5 U.S.C. 552a(k)(1), (2), (3), (5), and (6). During the course of processing a Freedom of Information or Privacy Act appeal, exempt materials from those other systems may become part of the case record in this system. To the extent that copies of exempt records from those other systems are entered into the Freedom of Information and Privacy Act appeals files, the Department has claimed the same exemptions for the records as they have in the original primary system or records of which they are a part.

Under the specific exemption authority provided by 5 U.S.C. 552a(k)(2), this system is exempt from the following provisions of the Privacy Act: 5 U.S.C. 552a(c)(3), (d), (e)(1), (e)(4)(G), (H), (I), and (f) of the Act. Disclosure of information could enable the subject of the record to take action to escape prosecution and could avail the subject greater access to information than that already provided under rules of discovery. In addition, disclosure of information might lead to intimidation of witnesses, informants, or their families, and impair future investigations by making it more difficult to collect similar information.

VETS—DOL Veterans' Employment and Training Service Systems of Records

DOL/VETS-1

SYSTEM NAME:

Uniformed Services Employment and Reemployment Rights Act (USERRA) Complaint File.

SECURITY CLASSIFICATION:

None.

SYSTEM LOCATION:

Veterans' Employment and Training Service (VETS') State Offices, Regional Offices, and National Office.

CATEGORIES OF INDIVIDUALS COVERED BY THE SYSTEM:

Complainants who are veterans, enlistees, examinees, reservists or members of the National Guard of the U.S. Armed Forces on active or reserve service or training duty, and other complainants.

CATEGORIES OF RECORDS IN THE SYSTEM:

The system of records contains data related to civil investigations which include: Initial investigative complaint form, background, investigators' fact finding records, witness statements, supporting documents provided by claimants and employers, other information relevant to a determination of veterans reemployment rights.

AUTHORITY FOR MAINTENANCE OF THE SYSTEM:

38 U.S.C. 4301 et seq.

PURPOSE:

Records are maintained for enforcement of federal laws pertaining to rights of veterans, reservists and members of the National Guard upon their return to pre-military civilian employment following periods of active and inactive military duty and related to non-discrimination based on such service or periods of duty.

ROUTINE USES OF RECORDS MAINTAINED IN THE SYSTEM, INCLUDING CATEGORIES OF USERS AND THE PURPOSES OF SUCH USES:

In addition to those universal routine uses listed in the General Prefatory Statement, relevant records and information may be disclosed to the employer against whom a complaint has been made so that the complaint can proceed to a resolution. Disclosure may also be made when relevant and necessary to the Department of Veterans Affairs, to the Department of Defense, to the Department of Justice, and to the Office of Special Counsel when complaints have proceeded to an advanced stage.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name of complainant, name of employer, or assigned case number.

SAFEGUARDS:

Access by authorized personnel only. Computer security safeguards are used for electronically stored data and locked locations for paper files.

RETENTION AND DISPOSAL:

Records are retained until litigation is completed, then transferred to Federal Records Center two years after cutoff. Records are destroyed when they are ten years old, except in case files involving pensions in which the claimant was not in retired status from his/her civilian employer at the time of cutoff; these will be retained for fifty years after cutoff (N1-174-88-1) and Veterans' Employment and Training Service Director's Memorandum 1-01 (Change-1). Limited electronic information is retained indefinitely.

SYSTEM MANAGER(S) AND ADDRESS:

Chief of Investigations and Compliance, United States Department of Labor, Veterans' Employment and Training Service, 200 Constitution Avenue NW., Washington, DC 20210.

NOTIFICATION PROCEDURES:

Inquiries should be mailed to the System Manager.

RECORD ACCESS PROCEDURES:

A request for access should be mailed to the Systems Manager.

CONTESTING RECORD PROCEDURES:

A petition for amendment should be mailed to the System Manager.

RECORD SOURCE CATEGORIES:

Veterans, Reserve and National Guard members, employees, employers, former employees, Departments of Defense, Department of Veterans Affairs, physicians, union officers and maybe the public.

SYSTEMS EXEMPTIONS FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/VETS-2

SYSTEM NAME:

Veterans' Preference Complaint File under the Veterans Equal Opportunities Act of 1998 (VEOA).

SECURITY CLASSIFICATION:

None.

SYSTEM LOCATION:

Veterans' Employment and Training Service (VETS') State Offices, Regional Offices, and National Office.

CATEGORIES OF INDIVIDUALS COVERED BY THE SYSTEM:

Veterans of the U.S. Armed Forces who believe that they have been denied veterans preference or other special considerations provided by law(s).

CATEGORIES OF RECORDS IN THE SYSTEM:

The system of records contains materials related to civil investigations which include: Initial investigative complaint form, background, investigators' fact finding records, witness statements, supporting documents provided by claimants and employers, other information relevant to a determination of veterans preference consideration related to employment with Federal agencies.

AUTHORITY FOR MAINTENANCE OF THE SYSTEM:

5 U.S.C. 3330a.

PURPOSE:

Records are maintained for investigation of possible violations of federal laws pertaining to veterans' preference and other special consideration related to employment with Federal agencies.

ROUTINE USES OF RECORDS MAINTAINED IN THE SYSTEM, INCLUDING CATEGORIES OF USERS AND THE PURPOSE OF SUCH USERS:

In addition to those universal routine uses listed in the General Prefatory Statement, records and information may be disclosed to the Federal employing agency against whom a complaint has been made so that the complaint can proceed to a conclusion. Disclosure of information that is relevant and necessary may also be made to the Office of Personnel Management and to the Merit Systems Protection Board.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by name of complainant or name of Federal agency.

SAFEGUARDS:

Access by authorized personnel only. Computer security safeguards are used for electronically stored data and locked locations for paper files.

RETENTION AND DISPOSAL:

Records are retained until the litigation is completed. The files are then transferred to Federal Records Center two years after cutoff. Records are destroyed when they are ten years old. [N1-174-88-1]. Limited electronic information is retained indefinitely.

SYSTEM MANAGER(S) AND ADDRESS:

Chief of Investigations and Compliance, United States Department of Labor, Veterans' Employment and Training Service, 200 Constitution Avenue NW., Washington, DC 20210.

NOTIFICATION PROCEDURES:

Inquiries should be mailed to the System Manager.

RECORD ACCESS PROCEDURES:

A request for access should be mailed to the Systems Manager.

CONTESTING RECORD PROCEDURES:

A petition for amendment should be mailed to the System Manager.

RECORD SOURCE CATEGORIES:

Veterans, Federal employment applicants or employing Federal agencies, former agency employees, Department of Defense, Department of Veterans Affairs, Office of Personnel Management, union officers and members of the public.

SYSTEMS EXEMPTIONS FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/VETS-5

SYSTEM NAME:

Veterans' Data Exchange Initiative (VDEI)

SYSTEM CLASSIFICATION:

None.

SYSTEM LOCATION:

The VDEI servers are located at the ByteGrid Data Center 12401 Prosperity Drive, Silver Spring Maryland, 20904.

CATEGORIES OF INDIVIDUALS COVERED BY THE SYSTEM:

Exiting Service Members (ESMs) participating in the United States Department of Defense (DOD) Pre-separation Counseling of the Transition Assistance Program (TAP) who complete documentation.

CATEGORIES OF RECORDS IN THE SYSTEM:

The records in the system are for ESMs who participated in this program. Records contain the following personally identifiable information (PII) data for ESMs:

1. Branch

2. Name

3. Rank

4. SSN

5. Gender

6. Race

7. Basic Active Service Date

8. Expiration Service Date

9. Level of Education

10. Guard/Reserve Status

11. Date of Birth

12. Military Occupational Specialty

13. Type of Discharge

14. EDIPI (DOD Electronic Data Interchange Person Identifier)

15. Marital Status

16. Home of Record State Code

17. Home of Record Country Code

18. Citizenship

19. Email Address

20. Mailing Address Street Address

21. Mailing Address City

22. Mailing Address State Code

23. Mailing Address Zip Code

24. Date Began the Department of Labor Employment Workshop (DOL EW) During TAP

25. Date End DOL EW During TAP

26. Location DOL EW During TAP

27. Number of Dependents Under Eighteen

28. Armed Services Vocational Aptitude Battery (ASVAB)/Armed Forces Qualification Test (AFQT) Score

29. Medical Discharge.

AUTHORITY FOR MAINTENANCE OF THE SYSTEM:

DMDC 01, Defense Manpower Data Center Data Base, November 23, 2011, 76 FR 72391; 38 U.S.C. 4102, Job Counseling, Training, and Placement Service for Veterans; and 10 U.S.C. 1142, Pre-separation Counselling; E.O. 9397.

PURPOSE(S):

To provide services to ESMs in areas of employment and training.

ROUTINE USES OF RECORDS MAINTAINED IN THE SYSTEM, INCLUDING CATEGORIES OF USERS AND THE PURPOSES OF SUCH USES:

The record is utilized by Department of Labor (DOL). DOL Veterans' Employment and Training Services (VETS) will be establishing an electronic connection to the TAP Data Retrieval Web Service (TDRWS) for the purposes of analyzing and evaluating veterans' data for gaining greater insight to facilitate a more comprehensive understanding of the veteran population; analyze and evaluate veterans' data (both aggregate and individual veterans' data) to enhance decision making within DOL on veteran programs and initiatives while also enhancing DOL's recommendations on veteran related issues; and to provide information that can support future DOL initiatives related to veterans, including enhanced outreach.

DISCLOSURE TO CONSUMER REPORTING AGENCIES:

None.

POLICIES AND PRACTICES FOR STORING, RETRIEVING, ACCESSING, RETAINING, AND DISPOSING OF RECORDS IN THE SYSTEM:

STORAGE:

Files are stored electronically.

RETRIEVABILITY:

Files are retrieved by:

a. Branch, Race, Level of Education, Length of Service, Military Occupational Specialty (MOS), Length of Service (Basic Active Service Date and Expiration Service Date), Marital Status, Gender, Medical Discharge, Number of Dependents Under 18 and Type of Discharge; or

b. EDIPI, Rank, Mailing Address Street Address, Mailing Address City, Mailing Address State Code, Mailing Address Zip Code, Mailing Address, Home of Record State Code, Home of Record Country Code, Length of TAP (Date Begun DOL EW TAP and Date End DOL EW TAP), Location of the DOL EW during TAP, Citizenship, Guard/Reserve status, and ASVAB score/AFQT score.

SAFEGUARDS:

Access by authorized personnel only. Computer security safeguards are used for electronically stored data.

RETENTION AND DISPOSAL:

Records are retained indefinitely.

SYSTEM MANAGER(S) AND ADDRESS:

Director, Office of Agency Management and Budget United States Department of Labor Veterans' Employment and Training Service 200 Constitution Avenue NW., Washington, DC 20210.

NOTIFICATION PROCEDURE:

Inquiries should be mailed to the System Manager.

RECORD ACCESS PROCEDURE:

A request for access should be mailed to the System Manager.

CONTESTING RECORD PROCEDURES:

A petition for amendment should be mailed to the System Manager.

RECORD SOURCE CATEGORIES:

Information contained within this system is obtained from the DOD/DMDC.

SYSTEMS EXEMPTED FROM CERTAIN PROVISIONS OF THE ACT:

None.

DOL/VETS-6

SYSTEM NAME:

Veterans' Case Management System (VCMS)

SYSTEM CLASSIFICATION:

None.

SYSTEM LOCATION:

The VCMS servers will be located at the ByteGrid Data Center 12401 Prosperity Drive, Silver Spring Maryland, 20904.

CATEGORIES OF INDIVIDUALS COVERED BY THE SYSTEM:

Public users initiating a USERRA or Veterans' Preference claim, VETS grantees, Federal staff.

CATEGORIES OF RECORDS IN THE SYSTEM:

Will maintain USERRA and Veterans' Preference investigations, Transition Assistant Program—Employment Workshop contract information and course participation and evaluation information.

AUTHORITY FOR MAINTENANCE OF THE SYSTEM:

PURPOSE:

Records are maintained for investigation of possible violations of federal laws pertaining to veterans' preference, USERRA, and other special consideration related to employment with Federal agencies. Records are also maintained for analysis and reporting of the TAP Employment Workshop.

ROUTINE USES OF RECORDS MAINTAINED IN THE SYSTEM, INCLUDING CATEGORIES OF USERS AND THE PURPOSE OF SUCH USERS:

In addition to those universal routine uses listed in the General Prefatory Statement, records and information may be disclosed to the Federal or private employing agency against whom a complaint has been made so that the complaint can proceed to a conclusion. Disclosure of information that is relevant and necessary may also be made to the Office of Personnel Management and to the Merit Systems Protection Board. The TAP Employment Workshop records will be used for analysis and reporting.

DISCLOSURE TO CONSUMER REPORTING AGENCIES:

None.

POLICIES AND PRACTICES FOR STORING, RETRIEVING, ACCESSING, RETAINING, AND DISPOSING OF RECORDS IN THE SYSTEM:

STORAGE:

Files are stored electronically.

RETRIEVABILITY:

Files are retrieved by name of complainant or name of private or Federal agency. For TAP Employment Workshop documents, the files will be retrieved via workshop site.

SAFEGUARDS:

Access by authorized personnel only. Computer security safeguards are used for electronically stored data.

WHD—DOL Wage and Hour Division Systems of Records

DOL/WHD-1

SYSTEM NAME:

“Time Report” Component of the Wage and Hour Investigative Support and Reporting Database (WHISARD).

SECURITY CLASSIFICATION:

None.

SYSTEM LOCATION:

Wage and Hour National Office (NO), Regional Offices (RO), and District Offices (DO). See the Appendix to this document for the addresses.

CATEGORIES OF INDIVIDUALS COVERED BY THE SYSTEM:

Wage and Hour Division Investigators, Assistants, and Supervisors.

CATEGORIES OF RECORDS IN THE SYSTEM:

Records include listing of hours worked distributed among the various programs Activities; leave records.

AUTHORITY FOR MAINTENANCE OF THE SYSTEM:

5 U.S.C. 301.

PURPOSE(S):

To provide Wage and Hour District Directors a method of monitoring the activities of Investigators by providing a daily record of Investigator activities including expenditure of hours by case, Act, non-case activity, and a record of leave taken.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by name of the investigator, assistant, and supervisor.

SAFEGUARDS:

Accessed by authorized personnel only. Computer security safeguards are used for electronically stored data and locked locations for paper files.

RETENTION AND DISPOSAL:

Printed forms generated by the WHISARD system will be retained by Wage and Hour in accordance with records disposal schedule N1-155-11-0003, Item 3. Database information will be deleted 12 years after final action.

SYSTEM MANAGER(S) AND ADDRESS:

Administrator, Wage and Hour Division, Frances Perkins Building, 200 Constitution Avenue NW., Washington, DC 20210; Regional Administrators Wage and Hour Division.

NOTIFICATION PROCEDURE:

Inquiries should be mailed to the System Manager.

RECORD ACCESS PROCEDURES:

A request for access should be mailed to the System Manager.

CONTESTING RECORD PROCEDURES:

A petition for amendment should be addressed to the System Manager.

RECORD SOURCE CATEGORIES:

Records contained in this system include investigators, assistants and supervisors working in District Offices.

SYSTEMS EXEMPTED FROM CERTAIN PROVISIONS OF THE ACT:

None.

DOL/WHD-2

SYSTEM NAME:

MSPA Civil Money Penalties in the Wage Hour Investigative Support and Reporting Database (WHISARD).

SECURITY CLASSIFICATION:

None.

SYSTEM LOCATION:

Wage and Hour National Office (NO), Regional Offices (RO) and District Offices (DO), see The Appendix of this document for addresses.

CATEGORIES OF INDIVIDUALS COVERED BY THE SYSTEM:

All persons investigated and assessed civil money penalties (CMPs) under the Migrant and Seasonal Agricultural Worker Protection Act (MSPA).

CATEGORIES OF RECORDS IN THE SYSTEM:

Records contained in this system include names, addresses, Social Security numbers, complaint information, employer information, employer/employee interviews, payroll information, housing and/or vehicle inspection reports, outcome of investigation, notification of determination to assess a CMP, hearing requests and/or subsequent legal documents.

AUTHORITY FOR MAINTENANCE OF THE SYSTEM:

5 U.S.C. 301; Migrant and Seasonal Agricultural Worker Protection Act, as amended (MSPA), 29 U.S.C. 1801 et seq.

PURPOSE(S):

To maintain records on persons assessed MSPA CMPs and all actions connected therewith.

ROUTINE USES OF RECORDS MAINTAINED IN THE SYSTEM, INCLUDING CATEGORIES OF USERS AND THE PURPOSES OF SUCH USES:

None, except for those routine uses listed in the General Prefatory Statement to this document.

DISCLOSURE OF CONSUMER REPORT AGENCIES:

None.

POLICIES AND PRACTICES FOR STORING, RETRIEVING, ACCESSING, RETAINING AND DISPOSING OF RECORDS IN THE SYSTEM:

STORAGE:

Files are stored electronically and/or on paper.

RETRIEVABILITY:

Records are retrieved by employer name, Employer Identification Number, case file number or Act violated.

SAFEGUARDS:

Accessed by authorized personnel only. Computer security safeguards are used for electronically stored data and locked locations for paper files.

RETENTION AND DISPOSAL:

Records in this system are retained for 12 years, and then disposed of in accordance with Records Schedule N1-155-11-003, Item 3.

SYSTEM MANAGER(S) AND ADDRESS:

Administrator, Wage and Hour Division, Room S-3502, Frances Perkins Building, 200 Constitution Avenue NW., Washington, DC 20210.

NOTIFICATION PROCEDURES:

Inquiries should be mailed to the System Manager.

RECORD ACCESS PROCEDURES:

A request for access should be mailed to the System Manager.

CONTESTING RECORD PROCEDURES:

A petition for amendment should be mailed to the System Manager.

RECORD SOURCE CATEGORIES:

Records in this system include information regarding the subject of the investigation, employer(s), employee(s) (present and/or former), insurance companies, other government agencies, court documents, and previous investigations (if applicable).

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence.

DOL/WHD-3

SYSTEM NAME:

MSPA Public Central Registry Records File.

SECURITY CLASSIFICATION:

None.

SYSTEM LOCATION:

Wage and Hour National Office (NO), Regional Offices (RO) and District Offices (DO), see the Appendix for addresses. This system is also available online at http://www.dol.gov/whd/regs/statutes/FLCList.htm.

CATEGORIES OF INDIVIDUALS COVERED BY THE SYSTEM:

Holders of Farm Labor Contractor and Farm Labor Contractor Employee Certificates of Registration.

CATEGORIES OF RECORDS IN THE SYSTEM:

Records which contain the name, address, certificate of registration number, authorization to transport, house, or drive (if any), and effective and expiration dates of holders of Farm Labor Contractor and Farm Labor Contractor Employee Certificates of Registration.

AUTHORITY FOR MAINTENANCE OF THE SYSTEM:

5 U.S.C. 301; Migrant and Seasonal Agricultural Worker Protection Act, as amended (MSPA), 29 U.S.C. 1801 et seq.

PURPOSE(S):

To maintain a record of holders of Farm Labor Contractor and Farm Labor Contractor Employee Certificates of Registration.

ROUTINE USES OF RECORDS MAINTAINED IN THE SYSTEM, INCLUDING CATEGORIES OF USERS AND THE PURPOSES OF SUCH USES:

In addition to the routine uses listed in the General Prefatory Statement to this document, a public central registry of all persons issued certificates of registration is maintained by name and address which is available to anyone, upon request, as required by the Migrant and Seasonal Agricultural Worker Protection Act (MSPA), as amended (Section 402). This registry is also electronically available through the Wage and Hour public Web site. Alternatively, section 500.170 of 29 CFR part 500 provides that requests for registry information may be made by telephone by calling a toll-free number (listed). This registry is the source for providing that information.

DISCLOSURE OF CONSUMER REPORT AGENCIES:

None.

POLICIES AND PRACTICES FOR STORING, RETRIEVING, ACCESSING, RETAINING AND DISPOSING OF RECORDS IN THE SYSTEM:

STORAGE:

Files are stored electronically and/or on paper.

RETRIEVABILITY:

Records are retrieved by name, Social Security Number (or Employer Identification Number), or Farm Labor Contractor Registration Number.

SAFEGUARDS:

Access by authorized personnel only. Computer security safeguards are used for electronically stored data and locked locations for paper files.

RETENTION AND DISPOSAL:

Records are retained for five years from the date of the last certificate action (approval, denial, or revocation) in accordance with Records Schedule N1-155-11-003, Item 2a.

SYSTEM MANAGER(S) AND ADDRESS:

Administrator, Wage and Hour Division, Frances Perkins Building, 200 Constitution Avenue NW., Washington, DC 20210.

NOTIFICATION PROCEDURES:

Inquiries should be mailed to the System Manager.

RECORD ACCESS PROCEDURES:

A request for access should be mailed to the System Manager.

CONTESTING RECORD PROCEDURES:

A petition for amendment should be mailed to the System Manager.

RECORD SOURCE CATEGORIES:

Records contained in this system include farm labor contractor and farm labor contractor employee applications and required documentation, certificates of registration, and determination letters.

SYSTEMS EXEMPTED FROM CERTAIN PROVISIONS OF THE ACT:

None.

DOL/WHD-4

SYSTEM NAME:

Wage and Hour Clearance List—MSPA Registration.

SECURITY CLASSIFICATION:

None.

SYSTEM LOCATION:

Wage and Hour National Office (NO), Regional Offices (RO) and District Offices (DO), see the Appendix for addresses.

CATEGORIES OF INDIVIDUALS COVERED BY THE SYSTEM:

Farm labor contractors and farm labor contractor employees who may not currently meet eligibility requirements, as stated in the Migrant and Seasonal Agricultural Worker Protection Act (MSPA) for issuance of a certificate of registration.

CATEGORIES OF RECORDS IN THE SYSTEM:

Records containing names, addresses, and social security numbers, outstanding unpaid CMPs under MSPA, injunctions, convictions, deportations, and previous actions to deny or revoke a certificate of registration.

AUTHORITY FOR MAINTENANCE OF THE SYSTEM:

5 U.S.C. 301; Migrant and Seasonal Agricultural Worker Protection Act, as amended (MSPA), 29 U.S.C. 1801 et seq.

PURPOSE(S):

To provide a list of persons who may not meet eligibility requirements for issuance of a farm labor contractor or farm labor contractor employee Certificate of Registration to be used as a reference document for screening incoming applications by Wage and Hour Regional Offices and to provide historical and current compliance information to Wage and Hour National, Regional, and District Offices.

ROUTINE USES OF RECORDS MAINTAINED IN THE SYSTEM, INCLUDING CATEGORIES OF USERS AND THE PURPOSES OF SUCH USES:

None except for those universal routine uses listed in the General Prefatory Statement to this document.

DISCLOSURE OF CONSUMER REPORT AGENCIES:

None.

POLICIES AND PRACTICES FOR STORING, RETRIEVING, ACCESSING, RETAINING AND DISPOSING OF RECORDS IN THE SYSTEM:

STORAGE:

Files are stored electronically and/or on paper.

RETRIEVABILITY:

Records are retrieved by name or Social Security number (or Employer Identification Number).

SAFEGUARDS:

Access by authorized personnel only. Computer security safeguards are used for electronically stored data and locked locations for paper files.

RETENTION AND DISPOSAL:

Records are retained for five years from the date of the last certificate action (approval, denial, or revocation) in accordance with Records Schedule N1-155-11-003, Item 2.

SYSTEM MANAGER(S) AND ADDRESS:

Administrator, Wage and Hour Division, Frances Perkins Building, 200 Constitution Avenue NW., Washington, DC 20210.

NOTIFICATION PROCEDURES:

Inquiries should be mailed to the System Manager.

RECORD ACCESS PROCEDURES:

A request for access should be mailed to the System Manager.

CONTESTING RECORD PROCEDURES:

A petition for amendment should be mailed to the System Manager.

RECORD SOURCE CATEGORIES:

Records contained in this system include insurance companies, FBI, court and police records, previous actions to deny or revoke certificates of registration, and from investigations conducted by DOL and subsequent legal documents following such investigations.

SYSTEMS EXEMPTED FROM CERTAIN PROVISIONS OF THE ACT:

None.

DOL/WHD-5

SYSTEM NAME:

MSPA Certificate Action Record Files.

SECURITY CLASSIFICATION:

None.

SYSTEM LOCATION:

Wage and Hour National Office and Regional Offices.

CATEGORIES OF INDIVIDUALS COVERED BY THE SYSTEM:

Applicants for and holders of Farm Labor Contractor/Farm Labor Contractor Employee Certificates of Registration.

CATEGORIES OF RECORDS IN THE SYSTEM:

Names, addresses, Social Security numbers, fingerprints, FBI records, insurance records, court and police records.

AUTHORITY FOR MAINTENANCE OF THE SYSTEM:

5 U.S.C. 301; Migrant and Seasonal Agricultural Worker Protection Act, as amended (MSPA), 29 U.S.C. 1801 et seq.

PURPOSE:

To maintain a record of persons whose applications for or previously issued Farm Labor Contractor/Farm Labor Contractor Employee Certificates of Registration have been denied or revoked and all subsequent actions connected therewith.

ROUTINE USES OF RECORDS MAINTAINED IN THE SYSTEM, INCLUDING CATEGORIES OF USERS AND THE PURPOSE OF SUCH USES:

None except for these routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by the name of the applicant/holder.

SAFEGUARDS:

Access by authorized personnel only. Computer security safeguards are used for electronically stored data and locked locations for paper files.

RETENTION AND DISPOSAL:

Records are retained for five years from the date of the last certificate action (approval, denial, or revocation) in accordance with Records Schedule N1-155-11-003, Item 2.

SYSTEM MANAGER(S) AND ADDRESS:

Administrator, Wage and Hour Division, 200 Constitution Avenue NW., Washington, DC 20210.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Records contained in this system include applicants, individuals, insurance companies, FBI, court and police records, and from investigations conducted by DOL.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence.

DOL/WHD-6

SYSTEM NAME:

Case Registration/Investigator Assignment Form in the Wage and Hour Investigative Support and Reporting Database (WHISARD).

SECURITY CLASSIFICATION:

None.

SYSTEM LOCATION:

Wage and Hour National Office (NO), Regional Offices (RO), and District Offices (DO); see the Appendix of this document for addresses.

CATEGORIES OF INDIVIDUALS COVERED BY THE SYSTEM:

Wage and Hour Investigators.

CATEGORIES OF RECORDS IN THE SYSTEM:

Records containing name and address, case investigation number, investigation program, investigating office, prior history of investigations, and investigating officer.

AUTHORITY FOR MAINTENANCE OF THE SYSTEM:

5 U.S.C. 301.

PURPOSE(S):

To provide Wage and Hour DOs with a record of employers currently undergoing investigation by Wage and Hour within the jurisdiction of that particular DO. Used to record the initial scheduling of an investigation, assignment to an Investigator and subsequent actions.

ROUTINE USES OF RECORDS MAINTAINED IN THE SYSTEM, INCLUDING CATEGORIES OF USERS AND THE PURPOSES OF SUCH USES:

None, except for those universal routine uses listed in the General Prefatory Statement to this document.

DISCLOSURE OF CONSUMER REPORT AGENCIES:

None.

POLICIES AND PRACTICES FOR STORING, RETRIEVING, ACCESSING, RETAINING AND DISPOSING OF RECORDS IN THE SYSTEM:

STORAGE:

Files are stored electronically and/or on paper.

RETRIEVABILITY:

Records are retrieved by name of employer, by North American Industrial Code (NAIC) and/or Employer Identification Number (EIN).

SAFEGUARDS:

Access by authorized personnel only. Computer security safeguards are used for electronically stored data and locked locations for paper files.

RETENTION AND DISPOSAL:

Printed forms generated by the WHISARD system will be retained by Wage and Hour in accordance with records disposal schedule N1-155-11-0003, Item 3. Database information will be deleted 12 years after final action.

SYSTEM MANAGER(S) AND ADDRESS:

Administrator, Wage and Hour Division, Room S-3502, Frances Perkins Building, 200 Constitution Avenue NW., Washington, DC 20210.

NOTIFICATION PROCEDURES:

Inquiries should be mailed to the System Manager.

RECORD ACCESS PROCEDURES:

A request for access should be mailed to the System Manager.

CONTESTING RECORD PROCEDURES:

A petition for amendment should be mailed to the System Manager.

RECORD SOURCE CATEGORIES:

Records in this system are obtained from complainants, employers, and Wage and Hour personnel.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence.

DOL/WHD-7

SYSTEM NAME:

Migrant and Seasonal Agricultural Worker Protection Act (MSPA) Ineligible Farm Labor Contractors.

SECURITY CLASSIFICATION:

None.

SYSTEM LOCATION:

This list is available online to the public at http://www.dol.gov/whd/regs/statutes/mspa_debar.htm. It is also available at the Wage and Hour National Office.

CATEGORIES OF INDIVIDUALS COVERED BY THE SYSTEM:

Persons whose Farm Labor Contractor or Farm Labor Contractor Employee Certificate of Registration has been revoked or whose application for such certificate has been denied and such action has become a final and un-appealable Order of the Secretary of Labor.

CATEGORIES OF RECORDS IN THE SYSTEM:

Records containing the names and addresses of persons whose certificates of registration have been revoked or application for a certificate of registration have been denied in which the complete administrative process has become final.

AUTHORITY FOR MAINTENANCE OF THE SYSTEM:

Migrant and Seasonal Agricultural Worker Protection Act, as amended (MSPA), 29 U.S.C. 1801 et seq.

PURPOSE:

To provide a written listing of individuals who may not legally engage in any activity as a farm labor contractor or farm labor contractor employee.

ROUTINE USES OF RECORDS MAINTAINED IN THE SYSTEM, INCLUDING CATEGORIES OF USERS AND THE PURPOSE OF SUCH USES:

Information contained in this system is available to the public on the DOL.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Records are retrieved by name.

SAFEGUARDS:

Access by authorized personnel only. Computer security safeguards are used for electronically stored data and locked locations for paper files.

RETENTION AND DISPOSAL:

Records are retained for five years from the date of the last certificate action (approval, denial, or revocation) in accordance with Records Schedule N1-155-11-003, Item 2a.

SYSTEM MANAGER(S) AND ADDRESS:

Administrator, Wage and Hour Division, 200 Constitution Avenue NW., Washington, DC 20210, and Regional Administrator for Wage and Hour of relevant Regional Offices.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Records in the system include information furnished by the applicant.

SYSTEMS EXEMPTED FROM CERTAIN PROVISIONS OF THE ACT:

None.

DOL/WHD-8

SYSTEM NAME:

Customer Service Component of the Wage Hour Investigative Support and Reporting Database (WHISARD).

SECURITY CLASSIFICATION:

None.

SYSTEM LOCATION:

Wage and Hour National Office (NO), Regional Offices (RO) and District Offices (DO), see The Appendix of this document for addresses.

CATEGORIES OF INDIVIDUALS COVERED BY THE SYSTEM:

Individuals who contact the Wage and Hour Division for technical assistance or to file a complaint.

CATEGORIES OF RECORDS IN THE SYSTEM:

“Browse Customer List” records containing last name, first name, phone number, address, city, complaint status, case identification number, WH employee name, and contact priority.

“Employee Contact Information” records containing home address, phone numbers, fax number, email address and certain information about the individual's complaint.

“Employee Work Information” records containing certain employment and payroll information about the individual's complaint.

AUTHORITY FOR MAINTENANCE OF THE SYSTEM:

5 U.S.C. 301; 29 U.S.C. 201 et seq.

PURPOSE(S):

To provide Wage and Hour NO, ROS and DOs with an index of individuals who contact the Wage and Hour Division. This information may be used to provide assistance or facilitate the processing of a complaint.

ROUTINE USES OF RECORDS MAINTAINED IN THE SYSTEM, INCLUDING CATEGORIES OF USERS AND THE PURPOSES OF SUCH USES:

In addition to the routine uses listed in the General Prefatory Statement to this document, relevant information may be provided to other government agencies for law enforcement purposes.

DISCLOSURE OF CONSUMER REPORT AGENCIES:

None.

POLICIES AND PRACTICES FOR STORING, RETRIEVING, ACCESSING, RETAINING AND DISPOSING OF RECORDS IN THE SYSTEM:

STORAGE:

Files are stored electronically and/or on paper.

RETRIEVABILITY:

Records are retrieved by the name of the individual.

SAFEGUARDS:

Access by authorized personnel only. Computer security safeguards are used for electronically stored data and locked locations for paper files.

RETENTION AND DISPOSAL:

Printed forms generated by the WHISARD system will be retained by Wage and Hour in accordance with records disposal schedule N1-155-11-0003, Item 3. Database information will be deleted 12 years after final action.

SYSTEM MANAGER(S) AND ADDRESS:

Administrator, Wage and Hour Division, Room S-3502, Frances Perkins Building, 200 Constitution Avenue NW., Washington, DC 20210.

NOTIFICATION PROCEDURES:

Individuals wishing to make inquiries regarding this system should contact the system manager, or the regional office servicing the state where they are employed (see list of the regional office addresses in the Appendix of this document).

RECORD ACCESS PROCEDURES:

Individuals wishing to request access to these records should contact the appropriate office listed in the Appendix.

CONTESTING RECORD PROCEDURES:

Individuals wishing to contest or amend any records should direct their request to the appropriate system manager. In addition, the request should state clearly and concisely what information is being contested, the reason for contesting it, and the proposed amendment sought for the information.

RECORD SOURCE CATEGORIES:

Complainants, employers, and Wage and Hour personnel.

SYSTEMS EXEMPTED FROM CERTAIN PROVISIONS OF THE ACT:

None.

DOL/WHD-9

SYSTEM NAME:

Farm Labor Contractor Registration File.

SECURITY CLASSIFICATION:

None.

SYSTEM LOCATION:

All Wage and Hour Regional Offices and the Florida Department of Labor andand Employment Security, Agricultural Programs Section located in Tallahassee, Florida.

CATEGORIES OF INDIVIDUALS COVERED BY THE SYSTEM:

Applicants for and holders of Farm Labor Contractor Certificates of Registration.

CATEGORIES OF RECORDS IN THE SYSTEM:

Records, which contain personal identification, fingerprints, FBI records, insurance records, court and police records.

AUTHORITY FOR MAINTENANCE OF THE SYSTEM:

5 U.S.C. 301; Migrant and Seasonal Agricultural Worker Protection Act, as amended (MSPA), 29 U.S.C. 1801 et seq.

PURPOSE:

To maintain a record of applicants for and holders of Farm Labor Contractor Certificates of Registration. Records are used to determine eligibility for issuance of a certificate of registration and for determining compliance with MSPA.

ROUTINE USES OF RECORDS MAINTAINED IN THE SYSTEM, INCLUDING CATEGORIES OF USERS AND THE PURPOSES OF SUCH USES:

In addition to those universal routine uses listed in the General Prefatory Statement to this document, relevant and necessary information may be disclosed to the Wage and Hour National Office, Regional Offices, and District Offices for determining compliance with MSPA, and to the system manager of DOL/WHD-3, MSPA Public Central Register Records File, for the purpose of preparing its list.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by the name of the applicant/holder.

SAFEGUARDS:

Access by authorized personnel only. Computer security safeguards are used for electronically stored data and locked locations for paper files.

RETENTION AND DISPOSAL:

Records are retained for five years, and then disposed of in accordance with Records Schedule N1-155-11-003, Item 2a.

SYSTEM MANAGER(S) AND ADDRESS:

Administrator, Wage and Hour Division, 200 Constitution Avenue NW., Washington, DC 20210, and Regional Administrator for Wage and Hour of relevant Regional Offices.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from the applicant, insurance companies, FBI, court and police records, and from investigations conducted by DOL.

SYSTEMS EXEMPTED FROM CERTAIN PROVISIONS OF THE ACT:

None.

DOL/WHD-10

SYSTEM NAME:

Farm Labor Contractor Employee Registration File.

SECURITY CLASSIFICATION:

None.

SYSTEM LOCATION:

All Wage and Hour Regional Offices and the Florida Department of Labor and Employment Security, Agricultural Programs Section located in Tallahassee, Florida.

CATEGORIES OF INDIVIDUALS COVERED BY THE SYSTEM:

Applicants for and holders of Farm Labor Contractor Employee Certificates of Registration.

CATEGORIES OF RECORDS IN THE SYSTEM:

Records which contain personal identification, fingerprints, FBI records, insurance records, court and police records.

AUTHORITY FOR MAINTENANCE OF THE SYSTEM:

5 U.S.C. 301; Migrant and Seasonal Agricultural Worker Protection Act, as amended (MSPA), 29 U.S.C. 1801 et seq.

PURPOSE:

To maintain a record of applicants for and holders of Farm Labor Contractor Employee Certificates of Registration. Records are used to determine eligibility for issuance of a certificate of registration and for determining compliance with MSPA.

ROUTINE USES OF RECORDS MAINTAINED IN THE SYSTEM, INCLUDING CATEGORIES OF USERS AND THE PURPOSE OF SUCH USES:

In addition to those universal routine uses listed in the General Prefatory Statement to this document, relevant and necessary information may be disclosed to the Wage and Hour National Office, Regional Offices, and District Offices for determining compliance with MSPA, and to the system manager of DOL/WHD-3, MSPA Public Central Register Records File, for the purpose of preparing its list.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

Files are retrieved by the name of the applicant/holder.

SAFEGUARDS:

Access by authorized personnel only. Computer security safeguards are used for electronically stored data and locked location for paper files.

RETENTION AND DISPOSAL:

Records are retained for five years, and then disposed of in accordance with Records Schedule N1-155-11-003, Item 2a.

SYSTEM MANAGER(S) AND ADDRESS:

Administrator, Wage and Hour Division, 200 Constitution Avenue NW., Washington, DC 20210, and Regional Administrator for Wage and Hour of relevant Regional Offices.

NOTIFICATION PROCEDURE:

Inquiries should be mailed to the System Manager.

RECORD ACCESS PROCEDURES:

A request for access should be mailed to the System Manager.

CONTESTING RECORD PROCEDURES:

A petition for amendment should be mailed to the System Manager.

RECORD SOURCE CATEGORIES:

Information contained in this system is obtained from the applicant, insurance companies, FBI, court and police records, and from investigations conducted by DOL.

SYSTEMS EXEMPTED FROM CERTAIN PROVISIONS OF THE ACT:

None.

E. The Department of Labor's Decommissioned System of Records

The systems of records listed in the chart below are obsolete and, thus are being decommissioned.

DOL/BLS-6 | Applicant Race and National Origin (ARNO) System, Form E 618.
DOL/BLS-7 | BLS Employee Conduct Investigation.
DOL/BLS-12 | Employee Acknowledgement Letter Control System.
DOL/ESA-32 | Employee Conduct Investigation.
DOL/ESA-39 | State Employment Service Clearance List—MSPA Registration.
DOL/ESA-40 | MSPA Tracer List.
DOL/ESA-43 | Office of Workers' Compensation Programs, Federal Employees Compensation Act and Longshore and Harbor Workers' Compensation Act Rehabilitation Files.
DOL/ESA-47 | Youth Peddler Bulletin Board.
DOL/ESA-52 | Wage-Hour Financial Accounting System (WFAS).
DOL/ETA-15 | DOL/ETA Evaluation, Research Pilot or Demonstration Contractors' Project Files.
DOL/ETA-22 | ETA Employee Conduct Investigations.
DOL/ETA-25 | DOL/ETA Evaluation, Research Project of the Unemployment Compensation System.
DOL/ETA-26 | Standardized Program Information Report (SPIR).
DOL/ETA-27 | Youth Opportunity Grant Program Information Files.
DOL/ETA-28 | Senior Community Service Employment Program Information Files.
DOL/MSHA-3 | Metal and Nonmetal Mine Safety and Health Management Information System.
DOL/MSHA-10 | Discrimination Investigations.
DOL/MSHA-13 | Coal Mine Respirable Dust Program.
DOL/MSHA-15 | Health and Safety Training and Examination Records.
DOL/MSHA-18 | Coal Mine Safety and Health Management Information System.
DOL/MSHA-19 | Employee Conduct Investigations.
DOL/MSHA-20 | Civil/Criminal Investigations.
DOL/MSHA-21 | Assessment and Civil Penalty Debt Collection Activity and Reporting System.
DOL/MSHA-24 | Radon Daughter Exposure.
DOL/OALJ-3 | Contract List.
DOL/OALJ-4 | Notification List.
DOL/OASAM-23 | Travel Management Center.
DOL/OASAM-24 | Privacy Act/Freedom of Information Act Requests File System.
DOL/OASAM-33 | Entity Database.
DOL/OASAM-36 | People Power.
DOL/OCFO-1 | Attendance, Leave, and Payroll File.
DOL/OIG-1 | Investigative Files, Case Tracking System, Analysis, Complaints and Evaluation Files, USDOL/OIG.
DOL/OIG-2 | Investigative Case Files, Case Development and Intelligence Records.
DOL/OIG-3 | Investigative Case Files, Case Development and Intelligence Records.
DOL/OSBP-1 | Office of Small Business Programs, Small Entity Inquiry and Complaint Tracking System.
DOL/OSBP-2 | Department of Labor Advisory Committee Members File.
DOL/OSHA-12 | OSHA Employee Conduct Investigations.
DOL/OSHA-13 | OSHA Office of Training and Education Automated Registration System.
DOL/PWBA-2 | PWBA Investigation Management Files.
DOL/PWBA-7 | Employee Conduct Investigations.
DOL/PWBA-10 | PWBA Civil Litigation Case Information System.
DOL/PWBA-11 | PWBA Criminal Case Information System.
DOL/PWBA-12 | Publication Hotline Requests.
DOL/PWBA-14 | Investment Advisor Registration Database.
DOL/PWBA-15 | PWBA Inventory Management Database.
DOL/SOL-7 | Solicitor's Legal Activity Recordkeeping System.
DOL/SOL-13 | Employee Conduct Investigations.
DOL/SOL-17 | Solicitor's Office Equipment Files.
DOL/VETS-4 | VETS Employee Conduct Investigations.
DOL/VETS-3 | Transition Assistance Program.

Editorial Note: The Federal Register received this notice on April 20, 2016.

[FR Doc. 2016-09510 Filed 4-28-16; 8:45 am]

BILLING CODE 4510-HL-P